DEPARTMENT OF TRANSPORTATION

Office of the Secretary

Privacy Act of 1974: Systems of Records

AGENCY: Operating Administrations, DOT.

ACTION: Notice to amend and delete systems of records.

SUMMARY: The United States Department of Transportation is publishing its Privacy Act System of Records notices subject to the Privacy Act of 1974 (5 USC 552a) in their entirety. This notice incorporates a Purpose statement and makes any other minor changes or deletions to existing notices.

EFFECTIVE DATE: April 11, 2000.

ADDRESSES: Send comments to the Privacy Act Officer, United States Department of Transportation, 400 7th St., SW., Washington DC 20590.

FOR FURTHER INFORMATION CONTACT: Vanester M. Williams at (202) 366-1771.

SUPPLEMENTARY INFORMATION: These minor changes are not within the purview of subsection (r) of the Privacy Act of 1974, as amended, which requires the submission of a new or altered systems report. In addition, several departmental systems of records are being deleted as they are either covered by another system of record or are no longer in use.

Table of Contents
Appendix Prefatory Statement of General Routine Uses
DOT/ALL 1—DOT Grievance Records Files.
DOT/ALL 5 Employee Counseling Services Program Records.
DOT/ALL 6 Workers' Compensation Information System.
DOT/ALL 7 Departmental Accounting and Financial Information System, DAFIS.
DOT/ALL 8 Employee Transportation Facilitation.
DOT/ALL 9 Identification Media Record System.
DOT/ALL 10 Debt Collection File.
DOT/ALL 11 Integrated Personnel and Payroll System, IPPS.
DOT/ALL 12 DOT Mentoring Program Records System.
DOT/CG 501 Auxiliary Management Information System, AUXMIS.
DOT/CG 503 Motorboat Registration.
DOT/CG 505 Recreational Boating Law Enforcement Case Files.
DOT/CG 507 Coast Guard Supplement to the Manual of Courts Martial Investigations.
DOT/CG 508 Claims and Litigation.
DOT/CG 509 Non-Judicial Punishment Report.
DOT/CG 510 Records of Trial: Special, General and Summary Courts-Martial.
DOT/CG 511 Legal Assistance Case File System.
DOT/CG 526 Adjudication and Settlement of Claims System.
DOT/CG 528 Centralized Reserve Pay and Retirement System.
DOT/CG 533 Retired Pay and Personnel System.
DOT/CG 534 Travel and Transportation of Household Effects.
DOT/CG 535 Coast Guard Exchange System, CGES, and Moral, Welfare and Recreation, MWR, Program.
DOT/CG 536 Contract and Real Property File System.
DOT/CG 537 FHA Mortgage Insurance for Servicemen.
DOT/CG 571 Disability Separation System.
DOT/CG 572 USCG Military Personnel Health Record System.
DOT/CG 573 United States Public Health Services, PHS, Commissioned Officer Corps Staffing and Recruitment Files.
DOT/CG 576 USCG Non-Federal Invoice Processing System, NIPS.
DOT/CG 577 USCG Federal Medical Care Recovery Act, FMCRA, Record System.
DOT/CG 586 Chemical Transportation Industry Advisory Committee.
DOT/CG 588 Marine Safety Information System, MSIS.
DOT/CG 589 United States Merchant Seamen's Records.
DOT/CG 590 Vessel Identification System, VIS.
DOT/CG 591 Merchant Vessel Documentation System (Manual and Automated).
DOT/CG 592 Registered/Applicant Pilot Eligibility Folder.
DOT/CG 611 Investigative Case System.
DOT/CG 612 Port Security Card System.
DOT/CG 622 Military Training and Education Records.
DOT/CG 623 Military Pay and Personnel System.
DOT/CG 624 Personnel Management Information System, PMIS.
DOT/CG 625 Officer Selection and Appointment System.
DOT/CG 626 Official Officer Service Records.
DOT/CG 627 Enlisted Recruiting Selection Record System.
DOT/CG 628 Officer, Enlisted, and Recruiter Selection Test File.
DOT/CG 629 Enlisted Personnel Record System.
DOT/CG 630 Coast Guard Family Housing.
DOT/CG 631 Family Advocacy Case Record System.
DOT/CG 632 Uniformed Services Identification and Privilege Card Record System.
DOT/CG 633 Coast Guard Civilian Personnel Security Program.
DOT/CG 634 Child Care Program Record System.
DOT/CG 636 Personal Affairs Record System Coast Guard Military Personnel.
DOT/CG 637 Appointment of Trustee or Guardian for Mentally Incompetent Personnel.
DOT/CG 638 USCG Alcohol Abuse Prevention Program Record System.
DOT/CG 639 Request for Remission of Indebtedness.
DOT/CG 640 Outside Employment of Active Duty Coast Guard Personnel.
DOT/CG 641 Coast Guard Special Needs Program.
DOT/CG 642 Joint Maritime Information Element, JMIE, Support System, JSS.
DOT/CG 671 Biographical Statement.
DOT/CG 676 Official Coast Guard Reserve Service Record.
DOT/CG 677 Coast Guard Reserve Personnel Mobilization System.
DOT/CG 678 Reserve Personnel Management Information System (Automated).
DOT/FAA 801 Aircraft Registration System.
DOT/FAA 807 Police Warrant File and Central Files.
DOT/FAA 811 Employee Health Record System.
DOT/FAA 813 Civil Aviation Security System.
DOT/FAA 815 Investigative Record System.
DOT/FAA 816 Tort Claims and Personal Property Claims Record System.
DOT/FAA 821 Litigation and Claims Files with Docket Sheet and Card Catalogue Index for Cross Reference.
DOT/FAA 822 Aviation Medical Examiner System.
DOT/FAA 825 Petitions for Rulemaking Public Dockets.
DOT/FAA 826 Petitions for Exemption (Other than Medical Exemption) Public Dockets.
DOT/FAA 827 Environmental Litigation Files.
DOT/FAA 828 Physiological Training System.
DOT/FAA 830 Representatives of the Administrator.
DOT/FAA 832 Pilot, Crewmember and Aircraft Rental Flight Record System.
DOT/FAA 833 Housing Management Monthly Report.
DOT/FAA 837 Photographs and Biographical Information.
DOT/FAA 845 Correspondence Control and Information System.
DOT/FAA 847 General Air Transportation Records on Individuals.
DOT/FAA 851 Administration and Compliance Tracking in an Integrated Office Network.
DOT/FHWA 204 FHWA Motor Carrier Safety Proposed Civil and Criminal Enforcement Cases.
DOT/FHWA 213 Driver Waiver File.
DOT/FHWA 215 Travel Advance File.
DOT/FHWA 216 Travel Voucher Change of Duty Station.
DOT/FHWA 217 Accounts Receivable.
DOT/FRA 106 Occupational Safety and Health Reporting System.
DOT/FRA 130 Office of Chief Counsel Individual Enforcement Case System.
DOT/FTA 177 FTA-Sponsored Reports Author File.
DOT/FTA 194 Litigation and Claims Files.
DOT/MA 001 Attendance, Leave and Payroll Records of Employees and Certain Other Persons.
DOT/MA 002 Accounts Receivable.
DOT/MA 003 Freedom of Information and Privacy Request Records.
DOT/MA 004 Visitor Logs and Permits for Facilities Under Department Control.
DOT/MA 005 Travel Records (Domestic and Foreign) of Employees and Certain Other Persons.
DOT/MA 006 Executive Correspondence Files.
DOT/MA 007 Litigation, Claims, and Administrative Proceeding Records.
DOT/MA 008 Property Accountability Files.
DOT/MA 009 Records of Cash Receipts.
DOT/MA 010 Employees Personnel Files Not Covered by Notices of Other Agencies.
DOT/MA 011 Biographical Files.
DOT/MA 012 Applications to United States Merchant Marine Academy, USMMA.
DOT/MA 013 Cadet Files, State Maritime Academies.
DOT/MA 014 Citizenship Statements and Affidavits.
DOT/MA 015 General Agent's Protection and Indemnity and Second Seaman's Insurance; WSA and NSA.
DOT/MA 016 Marine Training School Registrants.
DOT/MA 017 Waivers of Liability to Board Reserve Fleet Vessels and Other Craft Located at United States Merchant Marine Academy.
DOT/MA 018 National Defense Executive Reserve.
DOT/MA 020 Seamen's Awards for Service, Valor, etc.
DOT/MA 021 Seaman's Employment Analysis Records.
DOT/MA 022 Seaman's Unclaimed Wages (Vietnam Conflict).
DOT/MA 024 USMMA Non-Appropriated Fund Employees.
DOT/MA 025 USMMA Graduates.
DOT/MA 026 USMMA Midshipmen Deposit Account Records.
DOT/MA 027 USMMA Midshipman Grade Transcripts.
DOT/MA 028 USMMA Midshipman Medical Files.
DOT/MA 029 USMMA Midshipman Personnel Records.
DOT/NHTSA 401 Docket System.
DOT/NHTSA 402 Highway Safety Literature Personal Author File.
DOT/NHTSA 409 Federal Motor Vehicle Safety Standards, FMVSS, Compliance.
DOT/NHTSA 411 General Public Correspondence System.
DOT/NHTSA 413 Odometer Fraud Data Files System.
DOT/NHTSA 415 Office of Defects Investigation/Defects Information Management System, ODI/DIMS.
DOT/NHTSA 417 National Driver Register, NDR.
DOT/NHTSA 422 Temporary Exemption Petitions.
DOT/NHTSA 431 Civil Penalty Enforcement Files.
DOT/NHTSA 436 Contract Grievance Records.
DOT/NHTSA 463 Motor Vehicle and Motor Vehicle Equipment Import.
DOT/OST 003 Allegations of Infringement of United States Patents.
DOT/OST 004 Board for Correction of Military Records, BCMR.
DOT/OST 012 Files Relating to Personnel Hearings.
DOT/OST 016 General Investigations Record System.
DOT/OST 019 Individual Personal Interests in Intellectual Property.
DOT/OST 035 Personnel Security Record System.
DOT/OST 037 Records of Confirmation Proceeding Requirements for Proposed Executive Appointments to the Department of Transportation.
DOT/OST 041 Correspondence Control Mail, CCM.
DOT/OST 045 Unsolicited Contract or Research and Development Proposals Embodying Claims of Proprietary Rights.
DOT/OST 046 Visit Control Records System.
DOT/OST 056 Garnishment Files.
DOT/OST 057 Honors Attorney Recruitment Files.
DOT/OST 059 Files of the Board for Correction of Military Records, BCMR for The Coast Guard.
DOT/OST 100 Investigative Record System.
DOT/OST 101 Inspector General Reporting System, TIGR.
DOT/RSPA 02 National Defense Executive Reserve, NDER, File.
DOT/RSPA 04 Transportation Research Activities Information Service, TRAIS.
DOT/RSPA 05 Transportation Research Information Service on line, TRIS-On-Line.
DOT/RSPA 06 Emergency Alerting Schedules.
DOT/RSPA 08 Technical Pipeline Safety Standards Committee.
DOT/RSPA 09 Hazardous Materials Incident Telephonic Report System.
DOT/RSPA 10 Hazardous Materials Incident Written Report System.
DOT/RSPA 11 Hazardous Materials Information Requests System.
DOT/SLS 151 Claimants under Federal Tort Claims Act.
DOT/SLS 152 Data Automation Program Records.
DOT/TSC 700 Automated Management Information System.
DOT/TSC 702 Legal Counsel Information Files.
DOT/TSC 703 Occupational Safety & Health Reporting System.
DOT/TSC 704 Stand-By Personnel Information.
DOT/TSC 707 Automated Manpower Distribution System.
DOT/TSC 712 Automated Payroll/Personnel/Communications/Security System.
DOT/TSC 714 Health Unit Employee Medical Records.

Notice of Systems of Records

The identification of the operating unit or units within the Department to which the particular system of records pertains appears as ‘DOT’ followed by a designating abbreviation. The abbreviations and their meanings are as follows:

OST—Office of the Secretary of Transportation.
CG—United States Coast Guard.
FAA—Federal Aviation Administration.
FHWA—Federal Highway Administration.
FRA—Federal Railroad Administration.
MARAD—Maritime Administration.
NHTSA—National Highway Traffic Safety Administration.
RSPA—Research and Special Programs Administration.
SLS—Saint Lawrence Seaway Development Corporation.
TSC—Transportation Systems Center.
FTA—Federal Transit Administration.

General Routine Uses Under the Privacy Act of 1974

The following routine uses apply, except where otherwise noted or where obviously not appropriate, to each system of records maintained by the Department of Transportation, DOT.

1. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

2. A record from this system of records may be disclosed, as a routine use, to a Federal, State, or local agency maintaining civil, criminal, or other relevant enforcement information or other pertinent information, such as current licenses, if necessary to obtain information relevant to a DOT decision concerning the hiring or retention of an employee, the issuance of a security clearance, the letting of a contract, or the issuance of a license, grant or other benefit.

3. A record from this system of records may be disclosed, as a routine use, to a federal agency, in response to its request, in connection with the hiring or retention of an employee, the issuance of a security clearance, the reporting of an investigation of an employee, the letting of a contract, or the issuance of a license, grant, or other benefit by the requesting agency, to the extent that the information is relevant and necessary to the requesting agency's decision on the matter.

4a. Routine Use for Disclosure for Use in Litigation. It shall be a routine use of the records in this system of records to disclose them to the Department of Justice or other Federal agency conducting litigation when

(a) DOT, or any agency thereof, or

(b) Any employee of DOT or any agency thereof (including a member of the Coast Guard), in his/her official capacity, or

(c) Any employee of DOT or any agency thereof (including a member of the Coast Guard), in his/her individual capacity where the Department of Justice has agreed to represent the employee, or

(d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

4b. Routine Use for Agency Disclosure in Other Proceedings. It shall be a routine use of records in this system to disclose them in proceedings before any court or adjudicative or administrative body before which DOT or any agency thereof, appears, when

(a) DOT, or any agency thereof, or

(b) Any employee of DOT or any agency thereof (including a member of the Coast Guard) in his/her official capacity, or

(c) Any employee of DOT or any agency thereof (including a member of the Coast Guard) in his/her individual capacity where DOT has agreed to represent the employee, or (d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

5. The information contained in this system of records will be disclosed to the Office of Management and Budget, OMB in connection with the review of private relief legislation as set forth in OMB Circular No. A-19 at any stage of the legislative coordination and clearance process as set forth in that Circular.

6. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

7. One or more records from a system of records may be disclosed routinely to the National Archives and Records Administration in records management inspections being conducted under the authority of 44 USC 2904 and 2906.

8. [Reserved]

9. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress and the public, published by the Director, OMB, dated September 20, 1989.

10. It shall be a routine use of the information in any DOT system of records to provide to the Attorney General of the United States, or his/her designee, information indicating that a person meets any of the disqualifications for receipt, possession, shipment, or transport of a firearm under the Brady Handgun Violence Prevention Act. In case of a dispute concerning the validity of the information provided by DOT to the Attorney General, or his/her designee, it shall be a routine use of the information in any DOT system of records to make any disclosures of such information to the National Background Information Check System, established by the Brady Handgun Violence Prevention Act, as may be necessary to resolve such dispute.

Appendix I—Location of CG Districts and Headquarters Units

1. Commander, 1st Coast Guard District, 408 Atlantic Avenue, Boston, MA 02110-3350.

2. Commander, 5th Coast Guard District, Federal Building, 431 Crawford Street, Portsmouth, VA 23704-5004.

3. Commander, 7th Coast Guard District, 909 SE First Ave., Brickell Plaza Federal Bldg., Miami, FL 33131-3050.

4. Commander, 8th Coast Guard District, Hale Boggs Federal Building, 500 Camp Street, New Orleans, LA 70130-3396.

5. Commander, 9th Coast Guard District, 1240 East 9th St., Cleveland, OH 44199-2060.

6. Commander, 11th Coast Guard District, Coast Guard Island, Alameda, CA 94501-5100.

7. Commander, 13th Coast Guard District, Jackson Federal Bldg, 915 Second Ave., Seattle, WA 98174-1067.

8. Commander, 14th Coast Guard District, Prince Kalanianaole, Federal Building, 300 Ala Moana Blvd., 9th Floor, Honolulu, HI 96580-4982.

9. Commander, 17th Coast Guard District, PO Box 25517, Juneau, Alaska 99802-5517.

10. Superintendent, United States Coast Guard Academy, 15 Mogehan Ave., New London, CT 06320-8100.

11. Commanding Officer, United States Coast Guard Yard, 2401 Hawkins Point Road, Bldg. 1, Baltimore, MD 21226-1797.

12. Commanding Officer, United States Coast Guard Training Center, 1 Munro Avenue, Cape May, NJ 08204.

13. Commanding Officer, United States Coast Guard Institute, 5900 SW 64th Street, Room 235, Oklahoma City, OK 73169-6990.

14. Commanding Officer, U.S Coast Guard, Aircraft Repair & Supply Center, Elizabeth City, NC 27909-5001.

15. Commanding Officer, United States Coast Guard Aviation, 8501 Tanner Williams Road, Mobile, AL 36608-8322.

16. Commanding Officer, United States Coast Guard, 7323 Telegraph Rd., Alexandria, VA 22315-3940.

17. Commanding Officer, United States Coast Guard Reserve, Training Center, Yorktown, VA 23690-5000.

18. Commanding Officer, United States Coast Guard, Training Center, 599 Tomales Road, Petaluma, CA 94952-5000.

19. Commanding Officer, United States Coast Guard Aviation, Technical Training Center, Elizabeth City, NC 27909-5003.

20. Commanding Officer, U.S. Coast Guard, Research and Development Center, 1082 Shennecossett Road, Groton, CT 06340-6096.

21. Commanding Officer, U.S. Coast Guard, Human Resources Services and Information Center, Federal Bldg., 444 SE Quincy St., Topeka, KS 66683-3591.

DOT/ALL 1

System name:

DOT Grievance Records Files.

Security classification:

Unclassified, sensitive.

System location:

Records are maintained in the personnel office that services the aggrieved employee if the grievance was processed under Departmental Personnel Manual, DPM 771-1, Agency Administrative Grievance System, pursuant to 5 CFR part 771. If processed under a negotiated grievance procedure from an approved labor agreement on behalf of a member, of a group of members, of a recognized collective bargaining unit, or if processed by the union, the grievance record is maintained in the office of the official administering the labor agreement pertaining to the collective bargaining unit. Addresses of servicing personnel offices are as follows: USCG Civilian Personnel Office, CGPC-CPM, 2100 2nd Street SW., Room 6224, Washington, DC 20593-00001; Federal Highway Administration, Office of Human Resources, 400 7th Street, SW., Room 4317,Washington, DC 20590; Federal Railroad Administration, Office of Human Resources, 1120 Vermont Ave, NW, RAD-10, Stop 30, Washington, DC 20005; Federal Transit Administration, Office of Human Resources, TAD-30, Room 9113, Washington, DC 20590; Office of Inspector General, Office of Human Resources, JM-20, Room 7107, Washington, DC 20590; Maritime Administration, Office of Personnel, MAR-360, Room 8101, Washington, DC 20590; National Highway Traffic Safety Administration, Office of Human Resources, NAD-20, Room 5306, Washington, DC 20590; Departmental Office of Human Resource Management, Departmental Director, M-10, Room 7411,Washington, DC 20590; Transportation Administrative Service Center, Human Resource Services, SVC-190, Room 2225, Washington, DC 20590; Research and Special Programs Administration, Office of Human Resources Management, DMA-40, Room 7108, Washington, DC 20590; Research and Special Programs Administration, VOLPE National Transportation Systems Center, Human Resources Management Division, DTS-84, Room 2-122, 55 Broadway, Cambridge, MS 02142-1093; Saint Lawrence Seaway Development Corporation, Office of Administration, PO Box 520, 180 Andrews Street, Massena, NY 13662-0520; Surface Transportation Board, 1925 K Street, NW., Suite 880, Washington, DC 20423; Federal Aviation Administration, National Headquarters, Office of Personnel, AHP-1, Room 500E, 800 Independence Avenue, SW., Washington, DC 20591; Federal Aviation Administration, Alaskan Region, 222 West 7th Avenue, PO Box 14, Anchorage, AK 99513-7587; Federal Aviation Administration, Western Pacific Region, PO Box 92007, World Postal Center, Los Angeles, CA 90009; Federal Aviation Administration, Southern Region, PO Box 20636, Atlanta, GA 30320; Federal Aviation Administration, Great Lakes Region, O'Hare Lake Office Center, 2300 East Devon Avenue, Des Plaines, IL 60018; Federal Aviation Administration, New England Region; 12 New England Executive Park, Burlington, MA 01803; Federal Aviation Administration, Central Region, 601 East 12th Street, Kansas City, MO 64106; Federal Aviation Administration, Eastern Region, Fitzgerald Federal Building, JFK International Airport, Jamaica, NY 11430; Federal Aviation Administration, Southwest Region, 2601 Meacham Blvd., Fort Worth, TX 76137-4298; Federal Aviation Administration, Northwest Mountain Region, 1601 Lind Avenue SW., Renton, WA 98055-4056; Federal Aviation Administration, William J. Hughes, Technical Center, Atlantic City Intl Airport, Atlantic City, NJ 08405; Federal Aviation Administration; Mike Monroney Aeronautical Center, PO Box 25082, Oklahoma City, OK 73125.

Categories of individuals covered by the system:

Current and former DOT employees who have submitted grievances with their respective administrations under OPM Letter 771-1, or grievances pertaining to members of DOT Collective Bargaining Units which were submitted in accordance with negotiated grievance procedures.

Categories of records in the system:

The system contains records relating to grievances filed by or on behalf of DOT: statements of employees, witnesses, reports of interviews and hearings, fact-finders and/or arbitrator's findings and recommendations, copies of decisions and correspondence and exhibits.

Authority for maintenance of the system:

5 U.S.C. 7121; 5 CFR part 771.

Purpose(s):

Determine validity of grievance.

Routine uses of records maintained in the system, including categories of users and the purposes of such uses:

Disclose information to officials of the Merit Systems Protection Board, including the Office of the Special Counsel; the Federal Labor Relations Authority and its General Counsel; or the Equal Employment Opportunity Commission when requested in performance of their authorized duties. Provide information to officials of labor organizations recognized under the Civil Service Reform Act when relevant and necessary to their duties of exclusive representation concerning personnel policies, practices, and matters affecting work conditions.

Disclosure to consumer reporting agencies:

None.

Policies and practices for storing, retrieving, accessing, retaining, and disposing of records in the system:

Storage:

File folders.

Retrievability:

Names of the individuals on whom they are maintained, or by names and local identification of unions.

Safeguards:

These records are maintained in lockable metal filing cabinets to which only authorized personnel have access.

Retention and disposal:

These records may be disposed of 3 years after closing of the case. Disposal is by shredding or burning.

System manager(s) and address:

Director of Human Resource Management, M-10, United States Department of Transportation, 400 7th Street, SW., Room 7411, Washington, DC 20590

Notification procedure:

Same as “System Manager.”

Record access procedures:

Same as “System Manager.”

Contesting record procedures:

Same as “System Manager.”

Record source categories:

Individual on whom the records is maintained. Testimony of witnesses. Agency officials. Related correspondence from organization or persons.

Exemptions claimed for the system:

None.

DOT/ALL 5

System name:

Employee Counseling Services Program Records.

Security classification:

Unclassified, sensitive.

System location:

Employee Counseling Service, which provides counseling to the employee. Other Federal, state, or local government, or private sector agency or institution providing counseling services.

Categories of individuals covered by the system:

Current and former DOT employees who have been counseled or otherwise treated regarding alcohol or drug abuse or for personal or emotional health problems.

Categories of records in the system:

Documentation of visits to employee counselors (Federal, state, local government, or private) and the diagnosis, recommended treatment, results of treatment, and other notes or records of discussions held with the employee made by the counselor. Documentation of treatment by a private therapist or a therapist at a Federal, state, local government, or private institution.

Authority for maintenance of the system:

5 U.S.C. 3301 and 7901, 21 U.S.C. 1101, 42 U.S.C. 4541 and 4561, and 44 U.S.C. 3101.

Purpose(s):

Document the nature of the individual's problem and progress made and to record an individual's participation in and the results of community or private sector treatment or rehabilitation programs.

Routine uses of records maintained in the system, including categories of users and the purposes of such uses:

Disclose information to qualified personnel for the purpose of conducting scientific research, management audits, financial audits, or program evaluation, but such personnel may not identify, directly or indirectly, any individual patient in any report or otherwise disclose patient identities in any manner (when such records are provided to qualified researchers employed by DOT, all patient identifying information shall be removed). Disclose information, when an individual to whom a record pertains is mentally incompetent or under legal disability, to any person who is responsible for the care of the individual. DOT's General Routine Uses do not apply to this system. Whenever possible, a partial disclosure will be made or a summary of the contents of the record will be disclosed.

Disclosure to consumer reporting agencies:

None.

Policies and practices for storing, retrieving, accessing, retaining, and disposing of records in the system:

Storage:

These records are maintained in file folders.

Retrievability:

These records are retrieved by the name or social security number of the individual on whom they are maintained or by a unique case file identifier.

Safeguards:

These records are maintained in locked file cabinets with regular access strictly limited to employees directly involved in the DOT's Employee Counseling Services Program.

Retention and disposal:

Records are maintained for three to six years after the employee's last contact with DOT's Employee Counseling Services Program.

System manager(s) and address:

Director of Personnel, Office of the Secretary, M-10, Department of Transportation, Room 7411, 400 7th Street, SW., Washington, DC 20590.

Notification procedure:

Contact the DOT Employee Counseling Services Program coordinator who arranged for counseling or treatment.

Record access procedures:

Same as “Notification Procedure.”

Contesting record procedures:

Same as “Notification Procedure.”

Record source categories:

Individual to whom it applies, the supervisor of the individual if the individual was referred by the Supervisor, the Employee Counseling Service Program staff member who records the counseling session, and therapists or institutions providing treatment.

Exemptions claimed for the system:

None.

DOT/ALL 6

System name:

Workers' Compensation Information System.

Security classification:

Sensitive, unclassified.

System location:

These records are maintained at the Departmental Office of Human Resource Management, Office of the Secretary, in Washington, DC; at the operating administration human resource management offices in Washington, DC, and in their in regional offices and centers; and at the Departmental Personnel and Policy Division at the Mike Monroney Aeronautical Center in Oklahoma City, Oklahoma.

Categories of individuals covered by the system:

All current and former DOT employees who file (d) claims for Federal Employees' Compensation, FEC, or report work-related injuries or occupational health-related illnesses.

Categories of records in the system:

The system consists of information that is derived from DOT personnel and payroll records, and from Federal Employees' Compensation claims records maintained by the Department of Labor/Office of Workers' Compensation Programs, OWCP. OWCP records include information regarding claims filed by DOT employees, members of the US Coast Guard Auxiliary, and students at the US Merchant Marine Academy.

Authority for maintenance of the system:

5 U.S.C. Chapter 8101 et seq., 20 CFR 1.1 et seq., 5 U.S.C. 552a, and Department of Labor and DOT implementing regulations.

Purpose(s):

The purpose of this system of records is to establish and maintain an automated data/information base that is used to improve claims management of the Federal Employees Compensation program within the Department; develop policy guidance; and promote training programs.

Routine uses of records maintained in the system, including categories of users and the purposes of such uses:

These records are maintained in accordance with law and regulation in order to ensure proper and efficient management of the Federal Employees Compensation program within DOT. These records are required to assure compliance with the law and regulations and for maintaining program cost analysis and comparison information. These records provide occupation-related data including personnel data for the purpose of determining patterns of injury or illness and determining case disposition information. They are a source of information for purposes of controverting claims when appropriate, monitoring recovery of injured employees and offering of light duty assignments. Records in this system may also be integrated with other DOT program-related personnel information as required for the sound policy or fiscal management of the program and the agency's mission, or in response to legislative and/or administrative initiatives or requirements. These records may be used as a source of information for the development of policy guidance and/or training programs, for program review and evaluation purposes, and for the provision of management information on an as required or ad hoc basis. Users include DOT human resource management officials, safety and health officials, supervisors, and managers.

These records are to be held in confidence and no information shall be disclosed except:

a. To the Department of Labor, OWCP, OSHA, the DOT Office of Inspector General, and/or OPM for review of appropriate case and/or investigative actions in collaboration with them.

b. Also, see the Prefatory Statement of General Routine Uses.

Disclosure to consumer reporting agencies:

Not applicable.

Policies and practices for storing, retrieving, accessing, retaining, and disposing of records in the system:

Storage:

These records are maintained in file folders, magnetic tape and disk. Storage is at the geographic location of the servicing human resource management offices, the Headquarters human resource management policy offices, and the Departmental Personnel and Payroll Division at the Mike Monroney Aeronautical Center in Oklahoma City, Oklahoma.

Retrievability:

Records are maintained by employee name, social security and FEC case numbers, and regional/location identifiers.

Safeguards:

Access to and use of these records are limited to those persons whose official duties require such access. Direct access to the automated database must be authorized by the Departmental Manager, Department of Transportation Workers' Compensation Program.

Retention and disposal:

These records are maintained and disposed of in accordance FPMR 101 0911.4, General Records Schedules.

System manager(s) and address:

Departmental Manager, Department of Transportation Workers' Compensation Program, Office of the Secretary, Departmental Office of Human Resource Management, 400 Seventh Street SW., Washington, DC 20590.

Office of Labor and Employee Relations, Federal Aviation Administration, 800 Independence Avenue SW., Washington, DC 20591.

Chief, Office of Civilian Personnel, United States Coast Guard, 200 Second Street SW., Washington, DC 20593.

Director, Office of Human Resources, Federal Highway Administration, 400 Seventh Street SW., Washington, DC 20590.

Director, Office of Personnel, Federal Railroad Administration, 1120 Vermont Avenue NW, Washington, DC 20005.

Director, Office of Human Resources, National Highway Traffic Safety Administration, 400 Seventh Street SW., Washington, DC 20590.

Director, Office of Human Resources, Federal Transit Administration, 400 Seventh Street SW., Washington, DC 20590.

Director, Office of Personnel, Maritime Administration, 400 Seventh Street SW., Washington, DC 20590.

Director, Office of Human Resource Management, Research and Special Programs Administration, 400 Seventh Street SW., Washington, DC 20590.

Principal, Human Resource Services, Transportation Administrative Service Center, 400 Seventh Street SW., Washington, DC 20590.

Director, Office of Human Resources, Office of Inspector General, 400 Seventh Street SW., Washington, DC 20590.

Director, Office of Administration, Saint Lawrence Seaway Development Corporation, 180 Andrews Street, Massena, NY 13662-1763.

Department of Transportation, Regional Human Resource Management Officers.

Notification procedure:

Individuals wishing to know if their records appear in this system of records may inquire in person or writing to the system manager.

Record access procedures:

Individuals who desire information about themselves contained in this system of records should contact or address their inquiries to the system manager.

Contesting record procedures:

Individuals who desire to contest records about themselves contained in this system should contact or address their inquiries to the system manager.

Record source categories:

Information contained in this system is received from DOT records or OWCP records received from and maintained on DOT and its employees, members of the US Coast Guard Auxiliary, and students at the US Merchant Marine Academy.

Exemptions claimed for the system:

None.

DOT/ALL 7

System name:

Departmental Accounting and Financial Information System, DAFIS.

Security classification:

Unclassified, sensitive.

System location:

The system is located in Department of Transportation, DOT Accounting offices and selected program, policy, and budget Offices. These offices are located within the Office of the Secretary, OST, the Research and Special Programs Administration, RSPA, the Federal Aviation Administration, FAA, the United States Coast Guard, USCG, the Federal Highway Administration, FHWA, the National Highway Traffic Safety Administration, NHTSA, the Federal Transit Administration, FTA, the Maritime Administration, MARAD, and the Federal Railroad Administration, FRA. These offices exercise systems and operational control over applicable records within the system. The system software is centrally maintained by the Federal Aviation Administration's Mike Monroney Aeronautical Center, Oklahoma City, Oklahoma. Some centralized reporting functions are performed at Oklahoma City.

Categories of individuals covered by the system:

The system will cover: All civilian employees of the FAA, USCG, NHTSA, FHWA, OST, RSPA, FRA, FTA, and MARAD; and, the military employees of USCG as their Operating Administrations are implemented on the system.

Categories of records in the system:

Categories include payment records for non-payroll related expenses, payment records for payroll made off-line, collection records for payroll offsets, and labor cost records.

Authority for maintenance of the system:

5 U.S.C. 301.

Purpose(s):

The purpose for collecting the data in the DAFIS System of Records is to control and facilitate the accounting and reporting of financial transactions for DOT.

Routine uses of records maintained in the system, including categories of users and the purposes of such uses:

Accounting office personnel use these records to: Provide employees with off-line paychecks, travel advances, travel reimbursements, and other official reimbursements; Facilitate the distribution of labor charges for costing purposes; Track outstanding travel advances, receivables, and other non-payroll amounts paid to employees, etc; and, Clear advances that were made through the system in the form of off-line paychecks, payments for excess household goods made on behalf of the employee, garnishments, overdue travel advances, etc. See Prefatory Statement of General Routine Uses.

Disclosures to consumer reporting agencies:

Disclosures pursuant to 5 U.S.C. 552a(b)(12): Disclosures may be made from this system to “consumer reporting agencies” as defined in the Fair Credit Reporting Act (15 U.S.C. 1681a(f)) or the Federal Claims Collection Act of 1982 (31 U.S.C. 3701(a)(3)).

Policies and practices for storing, retrieving, accessing, retaining, and disposing of records in the system:

Storage:

Records are stored on magnetic tape, magnetic disk, microforms, and in file folders. Storage of file folders and microforms is at the geographic location of the servicing accounting office. Magnetic tape and disk records are maintained at the central maintenance site in Oklahoma City.

Retrievability:

Records are retrieved by employee social security number. Retrieval is accomplished by use of telecommunications.

Safeguards:

Access to magnetic tape and disk records is limited to authorized agency personnel through password security. Hardcopy files are accessible to authorized personnel and are kept in locked file cabinets during non-duty hours.

Retention and disposal:

Original payment vouchers and supporting documentation are retained on site at the accounting office for a period of three years. Certain transportation documents are forwarded to the General Service Administration for audit during that period. After three years, records are sent to GSA's Records Centers for storage. Records are destroyed after ten years and three months.

System manager(s) and address:

DAFIS Accounting Manager (B-30), Office of the Secretary, Office of Financial Management, 400 Seventh Street SW., Washington, DC 20590.

Notification procedure:

Inquiries should be directed to the manager of the accounting Office supporting the employee's agency. Agency accounting Managers will contact the DAFIS System Managers listed above if any centralized support is required for responses.

Record access procedures:

Same as “Notification procedure.”

Contesting record procedures:

Same as “Notification procedure.”

Record source categories:

Information is provided by the employee directly or through the DOT Consolidated Uniform Payroll System.

Exemption claimed for the system:

None.

DOT/ALL 8

System name:

Employee Transportation Facilitation.

Security classification:

Unclassified, sensitive.

System location:

Department of Transportation, Transportation Administrative Service Center, TASC, Facilities Service Center, Parking Management Office, 400 Seventh Street, SW., Room P2-0327, Washington, DC 20590. Field installations.

Categories of individuals covered by the system:

Holders of parking permits and members of carpools and vanpools. Applicants for ridesharing information. Recipients of match letters for carpooling. Applicants and recipients of fare subsidies issued by DOT.

Categories of records in the system:

Records of holders of parking permits and records of carpool and vanpool members. Records and reports of status of rideshare applications. Copies of applications and match letters received by rideshare applicants. Applications and certifications of fare subsidy recipients. Records and reports of disbursements to fare subsidy recipients. Information on local public mass transit facilities and fare subsidy programs.

Authority for maintenance of the system:

5 U.S.C. 301; 49 U.S.C. 322.

Purpose(s):

Parking management and fare subsidy management.

Routine uses of records maintained in the system, including categories of users and the purposes of such uses:

Carpool listing produced for use in creating or enlarging carpools or vanpools. Used for production of listings and reports. Used for periodic review or revalidation. Used as part of a program designed to ensure eligibility for, and receipt of, fare subsidy. See Prefatory Statement of General Routine Uses.

Disclosures to consumer reporting agencies:

Disclosures pursuant to 5 U.S.C. 552a(b)(12). Disclosures may be made from this system to consumer reporting agencies (collecting on behalf of the United States Government) as defined in the Fair Credit Reporting Act (15 U.S.C. 1681a(f)) or the Federal Claims Collection Act of 1982 (31 U.S.C. 3701(a)(3)).

Policies and practices for storing, retrieving, accessing, retaining, and disposing of records in the system:

Storage:

Records are stored in hard copy or electronically, depending on the number of entries at each installation. Storage is at the geographic location of the servicing office.

Retrievability:

Records can be retrieved by name or by ZIP code of residence.

Safeguards:

Except for carpool listings, access is accorded only to parking and fare subsidy management offices. Printout of carpool listing used in matching program has name, agency, DOT permit number, and work telephone number only and is available upon request.

Retention and disposal:

Data are deleted and not retained on ADP once the individual leaves the system for any reason (i.e., is no longer on the ridesharing listing, is no longer a member of a carpool or vanpool, or no longer receives a fare subsidy). Record copies of monthly reports and listings are retained at each installation, headquarters and field, for three years, forwarded to the Federal Records Center for two more years, and then destroyed. Consolidated reports of all installations are retained at headquarters for three years, forwarded to the Federal Records Center for two more years, and then destroyed.

System manager(s) and address:

Chief, Transportation Services Section, TASC Facilities Services Center, Department of Transportation, 400 Seventh Street, SW., Room P2-0327, Washington, DC 20590. Field installations.

Notification procedures:

Same as System manager.

Record access procedures:

Same as System manager.

Contesting record procedures:

Same as System manager.

Record source categories:

Applications submitted by individuals for parking permits, carpool and vanpool membership, ridesharing information, and fare subsidies; from notifications from other Federal agencies in the program; and from periodic certifications and reports regarding fare subsidies.

Exemptions claimed for the system:

None.

DOT/ALL 9

System name:

Identification Media Record Systems.

Security classification:

Unclassified.

System location:

Department of Transportation, DOT.

a. TASC Security Operations, SVC-150, 400 7th Street, SW., Washington, DC 20590; (for OST and all DOT Operating Administrations except those below).

b. Commandant, G-CAS, United States Coast Guard Headquarters, G-0, Washington, DC 20591 and District and Area Offices.

c. Federal Aviation Administration, Office of Civil Aviation Security, 800 Independence Avenue, SW., Washington, DC 20591; and each FAA Regional and Center Civil Aviation Security Divisions/Staff.

d. Federal Highway Administration, Operations and Services Divisions, 400 7th Street, SW., Washington, DC 20590, and all FHWA Regional Offices.

Categories of individuals covered by the system:

Present and former employees and contractor employees in the Office of the Secretary, United States Coast Guard, Federal Aviation Administration, Federal Highway Administration, Federal Transit Administration, Federal Railroad Administration, National Highway Traffic Safety Administration, St. Lawrence Seaway Development Corporation, Research and Special Programs Administration, Bureau of Transportation Statistics, Maritime Administration, and Transportation Administrative Service Center.

Categories of records in the system:

Applications, photographs, receipts for DOT identification cards and official credentials, temporary building passes, security badges, and applications for other identification needed for official duties.

Authority for maintenance of the system:

5 U.S.C. 301; 49 U.S.C. 322.

Purpose(s):

To provide a ready concentration of employee personal data to facilitate issuance, accountability, and recovery of required identification media issued to employees and contractors.

Routine uses of records maintained in the system, including categories of users and the purposes of such uses:

Records are maintained for control and accountability of DOT identification cards, credentials, and security badges issued to DOT employees, former employees, and contractors for identification purposes and admittance to the DOT facilities or for other official duties. See Preparatory Statement of General Routine Uses.

Disclosure to consumer reporting agencies:

None.

Policies and practices for storing, retrieving, accessing, retaining, and disposing of records in the system:

Storage:

The storage is on computer disks, magnetic tape, and paper forms in file folders.

Retrievability:

Retrieval from the system is by name, social security number, date of birth, or identification card number and can be accessed by authorized individuals.

Safeguards:

Computers provide privacy and access limitations by requiring a user name and password match. Access to decentralized segments are similarly controlled. Only those personnel with a need to have access to the system are given user names and passwords. Data are manually and/or electronically stored in a locked room with limited access.

Retention and disposal:

Information including applications, photographs and identification media, will be destroyed within one year of termination of employment.

System manager(s) and address:

a. Principal, TASC Security Operations, SVC-150, Department of Transportation, 400 7th Street, SW., Washington, DC 20590 (address for OST and all DOT operating administrations except those below).

b. For USCG: Commandant, G-0, United States Coast Guard, Washington, DC 20593.

c. For FAA: Director, Civil Aviation Security, Federal Aviation Administration, and 800 Independence Avenue, SW., Washington, DC 20591.

d. For FHWA: Chief, Operations and Services Division, Federal Highway Administration, 400 7th Street, SW., Washington, DC 20590.

Notification procedure:

Same as System Manager, except that for USCG, notification should be given to Commandant, G-TIS.

Record access procedures:

Same as Notification procedure.

Contesting record procedures:

Same as Notification procedure. Correspondence contesting records must include the full name and social security number of the individual concerned and documentation justifying the claim.

Records source categories:

Individuals on whom the record is maintained.

Exemptions claimed for the system:

None.

DOT/ALL 10

System name:

Debt Collection File.

Security classification:

Sensitive, unclassified.

System location:

Federal Aviation Administration, General Ledger Branch, Mike Monroney Aeronautical Center, and 6500 S. MacArthur Blvd., Oklahoma City, OK 73125.

Categories of individuals covered by the system:

Persons currently or formerly associated with the Department of Transportation, DOT who are financially indebted to the United States Government under some particular service or program of the DOT other than under a contract. Individuals may include current, retired, or formerly employed DOT personnel or personnel from other Federal agencies.

Categories of records in the system:

Information varies depending on the individual debtor, and includes the history of debt collection activity on the individual. Normally, the name, Social Security Number, SSN, address, amount of debt or delinquent amount, basis of the debt, date debt arose, office referring debt, collection efforts, credit reports, debt collection letters and correspondence to or from the debtor relating to the debt. Correspondence with employing agencies of debtors or Office of Personnel Management or Department of Defense, as appropriate, requesting that action begin to collect the delinquent debt through voluntary or involuntary offset procedures against the employee's salary or compensation due a retiree.

Authority for maintenance of the system:

Federal Claims Collection Act of 1966 (Pub.L. 89-508), 31 U.S.C. Chapter 37, Subchapter I, General, and Subchapter II, Claims of the United States Government; Debt Collection Act of 1982, Pub.L. 97-365; 5 U.S.C. 5514, Installment Deduction for Indebtedness (salary offset); section 206 of Executive Order 11222; Executive Order 9397; and 49 CFR part 92, Salary Offset, DOT.

Purpose(s):

For the administrative management and collection of all delinquent debts, including past due loan payments, overpayments, fines, penalties, fees, damages, interest, leases, sales of real or personal property, etc., due to the DOT and debts due to other Federal departments and agencies that may be referred to the DOT for collection to the extent DOT controls funds due the debtor. This system provides for the implementation of the salary-offset provisions of 5 U.S.C. 5514, the administrative offset provisions of 31 U.S.C. 3716 and the provisions of the Federal Claims Collection Standards, FCCS. It applies to personal rather than contract debts. Guidance regarding contract debts is contained in the Federal Acquisition Regulation. Records in this record system are subject to use in authorized and approved computer matching programs regulated under the Privacy Act of 1974 (5 U.S.C. 552a), as amended, for debt collection purposes.

Routine uses of records maintained in the system, including categories of users and the purposes of such uses:

To the United States General Accounting Office, GAO, Department of Justice, United States Attorney, or other Federal agencies for further collection action on any delinquent account when circumstances warrant. To a debt collection agency for the purpose of collection administered by the DOT. Debtor's name, Social Security Number, the amount of debt, and the history of the debt may be disclosed to any Federal agency where the individual debtor is employed or receiving some form of remuneration for the purpose of enabling that agency to collect a debt owed the United States Government on DOT's behalf by counseling the debtor for voluntary repayment or by initiating administrative or salary offset procedures under the provisions services to recover monies owed to the United States Government under certain programs or services of the Debt Collection Act of 1982 (Pub.L. 97-365). To the Internal Revenue Service, IRS, by computer matching to obtain the mailing address of a taxpayer for the purpose of locating such taxpayer to collect or to compromise a Federal claim by DOT against the taxpayer pursuant to 26 U.S.C. 6103(m)(2) and in accordance with 31 U.S.C. 3711, 3217, and 3718. Note: Redisclosure of a mailing address from the IRS may be made only for the purpose of debt collection, including to a debt collection agency in order to facilitate the collection or compromise of a Federal claim under the Debt Collection Act of 1982, except that a mailing address to a consumer reporting agency is for the limited purpose of obtaining a commercial credit report on the particular taxpayer. Any such address information obtained from the IRS will not be used or shared for any other DOT purpose or disclosed to another Federal, state, or local agency which seeks to locate the same individual for its own debt collection purpose. Data base information consisting of debtor's name, Social Security Number, and amount owed may be disclosed to the Defense Manpower Data Center, DMDC, Department of Defense, the United States Postal Service or to any other Federal, state, or local agency for the purpose of conducting an authorized computer matching program in compliance with the Privacy Act of 1974 (5 U.S.C. 552a), as amended, so as to identify and locate delinquent debtors in order to start a recoupment process on an individual basis of any debt owed DOT by the debtor arising out of any administrative or program activities or services administered by DOT. Disclosure of personal and financial information from this system on current, retired, or former employees of DOT or United States Coast Guard members may be made to any creditor Federal agency seeking assistance for the purpose of that agency requesting voluntary repayment or implementing administrative or salary offset procedures in the collection of unpaid financial obligations owed the United States Government from an individual affiliated with the DOT. An exception to this routine use is an individual's mailing address obtained from the IRS pursuant to 26 U.S.C. 6103(m)(2).

Disclosure to consumer reporting agencies:

Disclosure pursuant to 5 U.S.C. 552a(b)(12) may be made from this record system to consumer reporting agencies as defined in the Fair Credit Reporting Act (15 U.S.C. 1681a(f)) or the Federal Claims Collection Act of 1966 (31 U.S.C. 3701(a)(3)). The disclosure, once determined to be valid and overdue, is limited to information necessary to establish the identity of the individual, including name, address, and taxpayer identification number, (Social Security Number; the amount, status, and history of the claim; and the agency or program under which the claim arose for the sole purpose of allowing the consumer reporting agency to prepare a commercial credit report.

Policies and practices for storing, retrieving, accessing, retaining, and disposing of records in the system:

Storage:

The storage for records on personal computers is kept on floppy disks. Storage on microcomputers is first downloaded onto a floppy disk and then locked in a file cabinet. Data kept in paper file folders are locked in file cabinets.

Retrievability:

Records are retrieved by name or Social Security Number.

Safeguards:

Computers provide privacy and access limitation by requiring a user name and password match. These records are available only to those persons whose official duties require such access. Records are kept in limited access areas during duty hours and in locked cabinets at all other times.

Retention and disposal:

Records are disposed of when ten years old except documents needed for an ongoing investigation in which case the record will be retained until no longer needed for the investigation. Data tracks on floppy disks are overwritten a minimum of three times.

System manager(s) and address:

Department of Transportation, Director, Office of Financial Management, B-30, 400 Seventh Street, SW., Washington, DC 20590.

Notification procedure:

Individuals seeking to determine whether information about themselves is contained in this system should address written inquiries to the particular DOT operating administration or component in care of the System location above. Individual should furnish full name, Social Security Number, current address and telephone number.

Record access procedures:

Same as above.

Contesting record procedures:

Same as above.

Record source categories:

Information in this system of records is obtained from the individual, creditor agencies, Federal employing agency of debtor, collection agencies, Federal, state or local agencies furnishing identifying information and/or address of debtor, as well as other internal DOT records such as payroll information.

Exemptions claimed for the system:

None.

DOT/ALL 11

System name:

Integrated Personnel and Payroll System, IPPS.

Security classification:

Unclassified, sensitive.

System location:

United States Department of Transportation, DOT, Office of the Secretary, OST, 400 7th Street, SW., Washington, DC 20590. Working copies of certain records are held by OST, all DOT Operating Administrations, Office of the Inspector General, OIG, and the National Transportation Safety Board, NTSB. DOT provides personnel and payroll services to NTSB on a reimbursable basis, although NTSB is not a DOT entity. This is done for economy and convenience since both organizations' missions are transportation oriented and located in the same geographic areas.).

Categories of individuals covered by the system:

Prospective, present, and former employees in the Office of the Secretary of Transportation, OST, Bureau of Transportation Statistics, BTS, Federal Aviation Administration, FAA, Federal Highway Administration, FHWA, Federal Railroad Administration, FRA, Federal Transit Administration, FTA, Maritime Administration, MARAD, National Highway Traffic Safety Administration, NHTSA, Office of the Inspector General, OIG, Research and Special Programs Administration, RSPA, St. Lawrence Seaway Development Corporation, SLSDC, Transportation Administrative Service Center, TASC, National Transportation Safety Board, NTSB, and civilian employees of the United States Coast Guard, USCG.

Categories of records in the system:

This system contains those records required to insure that an employee receives his or her pay and personnel benefits as required by law. It includes, as appropriate: Service Record, Employee Record, Position Identification Strip, Claim for 10-Point Veteran Preference, Request for Referral Eligibles, Request and Justification for Selective Factors and Quality Ranking Factors, Certification of Insured Employee's Retired Status, Federal Employees' Group Life Insurance, FEGLI, Notification of Personnel Action, Notice of Short-Term Employment, Request for Insurance, FEGLI, Designation of Beneficiary, FEGLI, Notice of Conversion Privilege, Agency Certification of Insurance Status, FEGLI, Request for Approval of Non-Competitive Action, Appointment Affidavits, Declaration of Appointee, Agency Request to Pass Over a Preference Eligible or Object to an Eligible, Official Personnel Folder, Official Personnel Folder Tab Insert, Incentive Awards Program Annual Report, Application for Leave, Monthly Report of Federal Civilian Employment, Payroll Report of Federal Civilian Employment, Semi-annual Report of Federal Participation in Enrollee Programs, Request for Official Personnel Folder (Separated Employee), Statement of Prior Federal Civilian and Military Service, Personal Qualifications Statement, Continuation Sheet for Standard Form 171 “Personal Qualifications Statement”, amendment to Personal Qualifications Statement, Job Qualifications Statement, Statement of Physical Ability for Light Duty Work, Request, Authorization, Agreement and Certification for Training, United States Government Payroll Savings Plan-Consolidated Quarterly Report, financial Disclosure Report, Information Sheet Financial Disclosure-Report, Payroll for Personal Services, Pay Receipt for Cash Payment to Transferable, Payroll Change Slip, Payroll for Personal Service payroll Certification and Summary—Memorandum, Record of Leave Data, Designation of Beneficiary—Unpaid Compensation of Deceased Civilian Employee, United States Savings Bond Issue File Action Request, Subscriber List for Issuance of United States Savings Bonds, Request for Payroll Deductions for Labor Organization Dues, Revocation of Voluntary Authorization for Allotment of Compensation for Payment of Labor Organization dues, Request by Employee for Payment of Salaries or Wages by Credit to Account at a Financial Organization, Designation of Beneficiary— Unpaid Compensation of Deceased Civilian Employee, United States Savings Bond Issue File Action Request, Authorization for Purchase and Request for Change: United States Series EE Savings Bond, Request by Employee for Allotment of Pay for Credit to Savings Accounts with a Financial Organization, Application for Death Benefits—Civil Service Retirement System, Application for Retirement—Civil Service Retirement System, Superior Officer's Statement in Connection with Disability Retirement, Physician's Statement for Employee Disability Retirement Purposes, Transmittal of Medical and Related Documents for Employee Disability Retirement, Request for Medical Records (To Hospital or Institution) in Connection with Disability Retirement, Application for Refund of Retirement Deductions, Application to Make Deposit or Redeposit, Application to Make Voluntary Contribution, Request for Recovery of Debt Due the United States (Civil Service Retirement System), Register of Separations and Transfers—Civil Service Retirement System, Register of Adjustments—Civil Service Retirement System, Annual Summary Retirement Fund Transactions, Designation of Beneficiary Civil Service Retirement System, Health Benefits Registration Form—Federal Employees Health Benefits Program, Notice of Change in Health Benefits Enrollment, Transmittal and Summary Report to Carrier Federal Employees Health Benefits Program, Report of Withholding and Contributions for Health Benefits, Group Life Insurance, and Civil Service Retirement, Report of Withholdings and Contributions, Employee Service Statement, Election of Coverage and Benefits, Designation of Beneficiary, Position Description, Inquiry for United States Government Use Only, Application for Retirement—Foreign Service Retire System, Designation of Beneficiary, Application for Refund of Retirement Contributions (Foreign Service Retirement System), Election to Receive Extra Service Credit Towards Retirement (or Revocation Thereof), Application for Service Credit, Employee Suggestion Form, Meritorious Service Increase Certificate, Foreign Service Emergency Locator Information, Labor Distribution Data, Leave Record, Leave Summary, Individual Pay Card, Time and Attendance Report, Time and Attendance Report (For Use Abroad).

Authority for maintenance of the system:

49 U.S.C. 322.

Purpose(s):

The purpose for collecting the data in the IPPS System of Records is to control and facilitate payment of salaries to DOT civilian employees.

Routine uses of records maintained in the system including categories of users and the purposes of such uses:

1. Records are maintained for control and accountability of: Pay and allowances; permanent and temporary pay changes; pay adjustments; travel advances and allowances; leave balances for employees; earnings and deductions by pay periods, and pay and earning statements for employees; management information as required on an ad hoc basis; payroll checks and bond history; union dues; withholdings to financial institutions, charitable organizations and professional associations; summary of earnings and deductions; claims for reimbursement sent to the General Accounting Office, GAO; federal, state, and local taxes withholdings; and list of FICA employees for management reporting. 2. To the Office of Child Support Enforcement, Administration for Children and Families, Department of Health and Human Services Federal Parent Locator System, FPLS and Federal Tax Offset System for use in locating individuals and identifying their income sources to establish paternity, establish and modify orders of support and for enforcement action. 3. To the Office of Child Support Enforcement for release to the Social Security Administration for verifying social security numbers in connection with the operation of the FPLS by the Office of Child Support Enforcement. 4. To Office of Child Support Enforcement for release to the Department of Treasury for purposes of administering the Earned Income Tax Credit Program (Section 32, Internal Revenue Code of 1986) and verifying a claim with respect to employment in a tax return.

Disclosure to consumer reporting agencies:

Disclosures pursuant to 5 U.S.C. 552a(b)(12): Disclosures may be made from this system to “consumer reporting agencies” as defined in the Fair Credit Reporting Act (15 U.S.C. 1681a(f)) or the Federal Claims Collection Act of 1982 (31 U.S.C. 3701(a)(3)).

Policies and practices for storing, retrieving, accessing, retaining, and disposing of records in the system:

Storage:

Storage is on magnetic disks, magnetic tape, microforms, and paper forms in file folders.

Retrievability:

Retrieval from the system is by social security number, employee number, organization code, or home address; these can be accessed only by individuals authorized such access.

Safeguards:

Computers provide privacy and access limitations by requiring a user name and password match. Access to decentralized segments is similarly controlled. Only those personnel with a need to have access to the system are given user names and passwords. Data are manually and/or electronically stored in locked rooms with limited access.

Retention and disposal:

The IPPS records are retained and disposed in compliance with the General Records Schedules, National Archives and Records Administration, Washington, DC 20408. The following schedules apply: General Records Schedule 1, Civilian Personnel Records, Pages 1 thru 22, Items 1 through 39; and General Records Schedule 2, Payrolling and Pay Administration Records, Pages 1 thru 6, Items 1 thru 28.

System manager(s) and address:

Contact Chief, Financial Management IT Deployment Staff (B-35) at the United States Department of Transportation, Office of the Secretary, 400 Seventh Street SW., Washington, DC 20590.

Notification procedure:

Individuals wishing to know if their records appear in this system of records may inquire in person or in writing to the system manager.

Record access procedures:

Same as “System manager.”

Contesting record procedures:

Same as “System manager.” Correspondence contesting records must include the full name and social security number of the individual concerned and documentation justifying the claims.

Record source categories:

Data are collected from the individual employees, time and attendance clerks, supervisors, official personnel records, personal financial statements, correspondence with the debtor, records relating to hearings on the debt, and from the Departmental Accounting and Financial Information system of records.

Exemptions claimed for the system:

None.

DOT/ALL 12

System name:

DOT Mentoring Records System.

Security Classification:

Sensitive.

System location:

Department of Transportation, DOT TASC Computer Center, 400 7th Street, SW., Washington, DC 20590-0001

Categories of individuals covered by the system:

a. All DOT personnel registering to become mentors.

b. All DOT personnel registering to be mentees.

Categories of records in the system:

All categories of records are electronic and/or paper, and may include identifying information, such as name, office routing symbol, office phone and fax numbers, e-mail address, last four digits of the social security number, grade, and employing administration. All records reflect:

a. Name.

b. Operating Administration.

c. Last four digits of social security number.

d. Routing Symbol.

e. State employed.

f. Age range.

g. Pay plan.

h. Series.

i. Civilian or Military grade.

j Work phone.

k. Work Fax.

l. Work e-mail address.

m. Work skills (Optional narrative).

n. Interests (Optional narrative).

o. Hobbies (Optional narrative).

Records for employees of the United States Coast Guard, both military and civilian may also include:

1. Collateral duties.

2. Coast Guard training Received.

3. Coast Guard qualification codes.

4. Commissioning source.

5. Education level/Type of degree.

6. Ethnicity.

7. Marital status.

8. Current OPFAC.

This information is optional for USCG employees only.

Authority for maintenance of system:

5 U.S.C. 4103.

Purpose(s):

This system will be used to match prospective DOT mentors with employees interested in becoming mentees. The system will also be used to monitor the number of employees participating in the DOT Mentoring Program, store participants pass words, contact participants for survey purposes, provide mentor names to senior departmental and human resource management officials, and measure the success of cross modal mentoring.

Routine use of records maintained in the system, including categories of users and the purposes of such uses:

a. To DOT HRM personnel to evaluate interest in the program.

b. To DOT HRM personnel to transmit survey instruments to participants.

c. To DOT HRM personnel to determine the amount of cross modal participation.

d. To Senior Management Officials for review.

Also, see the prefatory statement of General Routine Uses.

Disclosure to consumer reporting agencies:

None.

Policies and practices for storing, retrieving, accessing, retaining, and disposing of records in the system:

Storage:

The storage is on a DOT server, with restricted access.

Retrievability:

Retrieval from the system is by category (mentor/mentee), and can be accessed by the administrators of the DOT mentoring program database.

Safeguards:

Computers provide privacy and access limitations by requiring a user name and password match. Access to decentralized segments is similarly controlled. Only those personnel administering the DOT Mentoring Program database are given user names and passwords.

Retention and disposal:

Records disposition schedule as developed by the National Archives and Records Administration.

System manager(s) and address:

Jan B. Karicher, Departmental Office of Human Resources Management, M-13, Department of Transportation 400 Seventh Street, SW., Washington, DC, 20590-0001.

Notification procedure:

Inquiries should be directed to: United States Department of Transportation, Departmental Director of Human Resource Management (M-10), 400 7th Street, SW., Washington, DC 20590-001.

Record access procedures:

Individuals may access their own data through Internet, to the DOT HRM Home Page.

Contesting record procedures:

NA.

Record source categories:

Individual registrants.

Exemptions claimed for the system:

None.

DOT/CG 501

System name:

Auxiliary Management Information System, AUXMIS.

Security classification:

Unclassified—sensitive.

System location:

U.S. Coast Guard Operations System Center, G-OPB, 600 Coast Guard Dr., Kearneysville, WV 25430.

Categories of individuals covered by the system:

All present Coast Guard Auxiliarists. All Auxiliarists disenrolled since 1996.

Categories of records in the system:

Personal information (name, address, birth date, Social Security Number, SSN, phone number). Auxiliary qualifications information (Instructor, Examiner, Specialty). Auxiliary activities information (patrols conducted, classes taught). Information on facilities—boats, radio stations or aircraft—owned by Auxiliarists.

Authority for maintenance of the system:

5 U.S.C. 301; 14 U.S.C. 632, 830, 831; 49 CFR 1.45, 1.46; COMDTINST M16790.1E.

Purpose(s):

Primary management tool for the Coast Guard Auxiliary program.

Routine uses of records maintained in the system, including categories of users and the purposes of such uses:

Cumulative unit and individual activity summaries for use as a management tool by Coast Guard District, Area and Headquarters program managers, Coast Guard field units, Coast Guard District Directors of Auxiliary, DIRAUX all Auxiliary units. Identification of all Auxiliary members. Alphabetical nationwide cross-reference listing for use by headquarters and district office staffs. Mailing labels for national, district and program specific mailings to auxiliary membership. An annual summary of all member specific information is mailed directly to respective members. Used by: Chief, Office of Auxiliary and staff; Coast Guard Groups and commands; District Directors of Auxiliary, DIRAUX and staff; Various elected and appointed office holders of the Auxiliary. See Prefatory Statement of General Routine Uses.

Disclosure to consumer reporting agencies:

None.

Policies and practices for storing, retrieving, accessing, retaining and disposing of records in the system:

Storage:

AUXMIS II master records contain personal and activity information concerning USCG Auxiliary members. The approximately 40,000 records presently in the system are stored in a Progress Relation Database Management System on DLT tapes using Net Backup and are stored off-site.

Retrievability:

The current AUXMIS II master file resides on a HP-755 hardware suite with a Unix 10.2 operating system. Information is retrieved by number and name of the individual and can be accessed by those DIRAUX and other designated users with access to the database through CGDN or modem connection at anytime.

Safeguards:

The master files cannot be accessed without the proper user identification and password. Eight user access levels have delimiters to restrict the domains in which a user can view and/or change member information.

Retention and disposal:

Retention of weekly tape files is 180 days, then erased. Retention of disk files is 1 week, and then updated. Retention of the year-end tape file is permanent.

System manager(s) and address:

United States Coast Guard, Office of Command and Control Architecture, Commandant, G-OCC, U.S. Coast Guard, 2100 2nd Street, SW., Washington, DC 20593-0001. U.S. Coast Guard, Office of Auxiliary, Commandant, G-OCX, U.S. Coast Guard, 2100 Second Street SW., Washington, DC 20593-0001.

Notification procedure:

Commandant, G-SII-2, United States Coast Guard Headquarters, Office of Information Management, 2100 2nd Street, SW., Washington, DC 20593-0001.

Record access procedures:

Individual Auxiliary members can view their AUXMIS II record through a designated person with restricted domain user access from their Flotilla or Division. At any time, members of the Auxiliary can request access to their personal, hardcopy “member jacket” file located at their respective DIRAUX office.

Contesting record procedures:

Record content can be contested at any time and, if error is found, all DIRAUX level users have the access to correct individual records. Restricted domain user access provides members the means to correct their own address, name and phone numbers.

Record source categories:

All records pertaining to Auxiliary members are derived from forms filled out by the individuals involved on a voluntary basis.

Exemptions claimed for the system:

None.

DOT/CG 503

System name:

Motorboat Registration.

Security classification:

Unclassified—sensitive.

System location:

Department of Transportation, Commandant, G-OPB, United States Coast Guard, CG, 2100 2nd Street, SW., Washington, DC 20593-0001.

Categories of Individuals covered by the system:

Boat owner registering for the issuance of boat identification numbers for boats recorded in the State of Alaska.

Categories of records in the system:

Boat owner name, address, and boat information.

Authority for maintenance of the system:

5 U.S.C. 301; 14 U.S.C. 632, 46 U.S.C. 2301; 49 CFR 145, 146

Purpose(s):

Administer the Coast Guard's boating safety program.

Routine uses of records maintained the system, including categories of users and the purposes of such uses:

See Prefatory Statement of General Routine Uses.

Disclosure to consumer reporting agencies:

None.

Policies and practices for storing, retrieving, accessing, retaining, and disposing of records in the system:

Storage:

All records are maintained in file cabinets.

Retrievability:

By name/number.

Safeguards:

Only authorized office personnel have access to subject files. All personnel screened prior to allowing access. Building secured and guarded after duty hours.

Retention and disposal:

Records are retained permanently.

System manager(s) and address:

Commandant, United States Coast Guard, Office of Boating Safety, G-OPB, Department of Transportation, United States Coast Guard Headquarters, 2100 2nd Street, SW., Washington, DC 20593-0001.

Notification procedure:

Department of Transportation, United States Coast Guard Headquarters, Commandant, G-SII, 2100 2nd Street, SW., Washington, DC 20593-0001.

Record access procedures:

Department of Transportation, United States Coast Guard Headquarters, Commandant, G-SII-2, 2100 2nd Street, SW., Washington, DC 20593-0001.

Contesting record procedures:

Same as “Record access procedures”

Record Source Categories:

Individual applicant.

Exemptions claimed for the system:

None.

DOT/CG 505

System name:

Recreational Boating Law Enforcement Case Files.

Security classification:

Unclassified—sensitive.

System location:

Department of Transportation, United States Coast Guard,CG, Coast Guard District Offices and Headquarters unit offices for records of incidents in their localities.

Categories of individuals covered by the system:

Owners/operators of vessels found in violation of Federal recreational boating laws or regulations.

Categories of records in the system:

Case files containing names of violators, their addresses and social security numbers, together with descriptions of boats and notations of the alleged violations of Federal boating laws, and copies of correspondence relating to the disposition of any penalty involved.

Authority for maintenance of the system:

(5 U.S.C. 301; 14 U.S.C. 89a, 93(a)&(c), 632; 16 U.S.C. 1431; 49 CFR 1.45, 1.46)

Purpose(s):

Determine enforcement action to be taken by the Coast Guard.

Routine uses of records maintained in the system, including categories of users and the purposes of such uses:

See Prefatory Statement of General Routine Uses.

Disclosure to consumer reporting agencies:

Disclosures pursuant to 5 U.S.C. 552(b)(12). Disclosures may be made from this system to consumer reporting agencies (collecting on behalf of the U. S. Government) as defined in the Fair Credit Reporting Act (15 U.S.C. 1681a(f)) or the Federal Claims Collection Act of 1982 (31 U.S.C. 3701(a)(3)).

Policies and practices for storing, retrieving, accessing, retaining, and disposing of records in the system:

Storage:

Index cards, logbooks, and file folders.

Retrievability:

Name of individual in alphabetical file, or by civil penalty case number.

Safeguards:

Information available only to authorized personnel. Files maintained in office in building that is secured during non-working hours and has a roving guard patrol.

Retention and disposal:

Records in system maintained for three years before disposal by mutilation or burning. Records on reported warnings are destroyed after 1 year (paper files).

System manager(s) and address:

Commandant, G-OPB, Chief, Office of Boating Safety, Department of Transportation, United States Coast Guard Headquarters, 2100 2nd Street, SW., Washington, DC 20593-0001.

Notification procedure:

Department of Transportation, Commandant,G-SII, United States Coast Guard Headquarters, 2100 2nd Street, SW., Washington, DC 20593-0001.

Record access procedures:

Procedures may be obtained by writing to or visiting the local Coast Guard District or Unit where incident occurred. Proof of identity will be required prior to release of records. A military identification card, driver's license or similar document is considered suitable identification.

Contesting record procedures:

Same as “Notification procedure.”

Record source categories:

Reports of Coast Guard boarding officers and marine safety investigations as well as from reports by.

Exemptions claimed for the system:

Portions of this system may be exempt from disclosure under the provisions of 5 U.S.C. 552a (k)(2) which provide in part, that investigatory material complied for law enforcement purposes may be withheld from disclosure to the extent that the identity of the source of the information would be revealed by disclosing the investigatory record, and the source has received an express guarantee that his identity would be held in confidence, or prior to December 31, 1974, if the source received an implied promise that his identity would be held in confidence.

DOT/CG 507

System name:

Coast Guard Supplement to the Manual of Courts Martial Investigations.

Security classification:

Unclassified—sensitive.

System location:

Department of Transportation, Commandant, G-L United States Coast, CG, Office of the Chief Counsel, 2100 2nd Street, SW., Washington, DC 20593-0001.

Categories of individuals covered by the system:

Military and civilian employees of the Coast Guard and other individuals who may be involved in any Coast Guard investigation.

Categories of records in the system:

Investigations into injuries to Coast Guard personnel, mishaps involving vessels, aircraft and vehicles. Incidents involving, explosions, for loss or destruction of classified material. Circumstances involving equipment failures and property damage, loss or destruction. Circumstances involving violation of standards of conduct personnel.

Authority for maintenance of the system:

(5 U.S.C. 301; 14 U.S.C. 93(e), 632; 49 CFR 1.45, 1.46).

Purpose(s):

Resolution of claims against the Coast Guard as well as claims asserted by the government.

Routine uses of records maintained in the system including categories of users and the purposes of such uses

Reports are transmitted to the Veterans Administration to assist that agency in determining entitlement to benefits administered by it. See Prefatory Statement of General Routine Uses.

Disclosure to consumer reporting agencies:

None.

Policy and practices for storing, retrieving, accessing, retaining, and disposing of records in the system:

Storage:

Storage cabinets.

Retrievability:

Name of person, vessel or other facility involved in investigation.

Safeguards:

Authorized personnel are granted access to these records in connection with the performance of their official duties.

Retention and disposal:

Records are maintained in division files for three years and then forwarded to Federal Records Depository.

Systems manager(s) and address:

Department of Transportation, Commandant,G-L, U.S. Coast Guard, Office of the Chief Counsel, 2100 2nd Street, SW., Washington, DC 20593-0001.

Notification procedure:

Department of Transportation, Commandant, G-SII-2 United States Coast Guard Headquarters, 2100 2nd Street, SW., Washington, DC 20593-0001.

Record access procedures:

Same as “Notification procedure”.

Contesting record procedures:

Same as “Notification procedure”.

Record source categories:

Coast Guard investigating officers, military and civilian personnel.

Exemptions claimed for the system:

None.

DOT/CG 508

System name:

Claims and Litigation.

Security classification:

Unclassified—sensitive.

System location:

Department of Transportation, Commandant (G-L), United States Coast Guard (CG), 2100 2nd Street, SW., Washington, DC 20593-0001.

Categories of individuals covered by the system:

Persons in litigation with the Coast Guard.

Categories of records in the system:

Suits and claims for and against the Coast Guard.

Authority for maintenance of the system:

(5 U.S.C. 301; 5 U.S.C. 3301; 14 U.S.C. 1.45, 33 U.S.C. 2712(e); 33 CFR 133.21; 49 CFR 1.45, 1.46; E. O. 12777; COMDTINST M5890.9)

Purpose(s):

Determination of claims.

Routine uses of records maintained in the system, including categories of users and the purposes of such uses:

See Prefatory Statement of General Routine Uses.

Disclosure to consumer reporting agencies:

None.

Policies and practices for storing, retrieving, accessing, retaining, and disposing of records in the system:

Storage:

File cabinets.

Retrievability:

Two card index files, one alphabetic and one numeric, maintained for cross reference.

Safeguards:

Access is regularly limited to Coast Guard and civilian employees of the Claims and Litigation Division granted in connection with official duties.

Retention and disposal:

Maintained for five years and then forwarded to the Federal Records Center. Card index files retained indefinitely.

System manager(s) and address:

Commandant, G-L, United States Coast Guard Headquarters, 2100 2nd Street, SW., Washington, DC 20593-0001.

Notification procedure:

Department of Transportation, Commandant, G-SII-2, United States Coast Guard Headquarters, 2100 2nd Street, SW., Washington, DC 20593-0001.

Record access procedures:

Same as “Notification Procedure”.

Contesting record procedures:

Same as “Notification Procedure”.

Record source categories:

Coast Guard military and civilian personnel, members of the public, and Coast Guard investigating officers.

Exemptions claimed for the system:

None.

DOT/CG 509

System name:

Non-Judicial Punishment Report.

Security classification:

Unclassified—sensitive.

System location:

Department of Transportation, Commandant, G-L, United States Coast Guard, CG, 2100 2nd Street, SW., Washington, DC 20593-0001.

Categories of individuals covered by the system:

Coast Guard military personnel who have been subject to non-judicial punishment proceedings under Article 15, Uniform Code of Military Justice.

Categories of records in the system:

Records of Proceedings under Article 15, Uniform Code of Military Justice.

Authority for maintenance of the system:

(5 U.S.C. 301, 10 U.S.C. 815; 14 U.S.C. 632; 49 CFR 1.45, 1.46.)

Purpose(s):

Military justice administration.

Routine uses of records maintained in the system, including categories of users and the purposes of such uses:

Records provide statistical data concerning the number of proceedings held, units holding proceedings, offenses committed, punishments imposed, and background data of individuals concerned. See Prefatory Statement of General Routine Uses.

Disclosure to consumer reporting agencies:

None.

Policies and practices for storing, retrieving, accessing, retaining, and disposing of records in the system:

Storage:

File cabinets.

Retrievability:

By name.

Safeguards:

Records are made available to authorized personnel. Records are maintained in building with limited access during non-working hours and with roving security patrol.

Retention and disposal:

Disposal procedures not as yet established. Back-up material disposed of after introduction into system.

System manager(s) and address:

Commandant, G-L, United States Coast Guard Headquarters, 2100 2nd Street, SW., Washington, DC 20593-0001.

Notification procedure:

Department of Transportation, Commandant, G-SII-2, United States Coast Guard Headquarters, 2100 2nd Street, SW., Washington, DC 20593-0001.

Record access procedures:

Same as “Notification procedure”.

Contesting record procedures:

Same as “Notification procedure”.

Record source categories:

Individual service records and from proceedings conducted.

Exemptions claimed for the system:

None.

DOT/CG 510

System name:

Records of trial: Special, General and Summary Courts Martial.

Security classification:

Unclassified—sensitive.

System location:

Department of Transportation, Commandant, G-L, United States Coast Guard, CG, 2100 2nd Street, SW., Washington, DC 20593-0001.

Categories of individuals covered by the system:

Any individual who is tried by court martial in the Coast Guard.

Categories of records in the system:

Records of trial.

Authority for maintenance of the system:

5 U.S.C. 301, 10 U.S.C. 865; 14 U.S.C. 632; 49 CFR 1.45, 1.46; E.O. 11835 (January 27, 1975, paragraph 94b).

Purpose(s):

Documentation of Coast Guard courts martial.

Routine uses of records maintained in the system, including categories of users and the purposes of such uses:

See Prefatory Statement of General Routine Uses.

Disclosure to consumer reporting agencies:

None.

Policies and practices for storing, retrieving, accessing, retaining, and disposing of records in the system:

Storage:

Maintained in file cabinets.

Retrievability:

Alphabetically by name of individual.

Safeguards:

Maintained in file cabinets in building with limited access during non-working hours and with roving security patrol.

Retention and disposal:

Retained permanently. Maintained for two years, reviewed by System Manager and then transferred to Federal Records Center.

System manager(s) and address:

Department of Transportation, Commandant, G-L, Office of the Chief Counsel, United States Coast Guard Headquarters, 2100 2nd Street, SW., Washington, DC 20593-0001.

Notification procedure:

Department of Transportation, United States Coast Guard Headquarters, Commandant, G-SII, 2100 2nd Street, SW., Washington, DC 20593-0001.

Record access procedures:

Same as “Notification procedure”.

Contesting record procedures:

Same as “Notification procedure”.

Record Source Categories:

Trial proceedings and subsequent statutory reviews—Court of Military Review, Court of Appeals for the Armed Services, and Chief Counsel of the Coast Guard.

Exemptions claimed for the system:

None.

DOT/CG 511

System name:

Legal Assistance Case File System.

Security classification:

Unclassified, sensitive.

System location:

Department of Transportation, Commandant, G-L, United States Coast Guard, CG, 2100 2nd Street, SW., Washington, DC 20593-0001. United States Coast Guard District Legal Offices and Legal Offices of Coast Guard Units.

Categories of individuals covered by the system:

Coast Guard military members seeking personal legal assistance.

Categories of records in the system:

Information concerning the matters handled by these officers for clients.

Authority for maintenance of the system:

5 U.S.C. 301, 10 U.S.C. 1044, 1054; 14 U.S.C. 632, 44 U.S.C. 3101; 49 CFR 1.45, 1.46

Purpose(s):

Provide legal assistance.

Routine uses of records maintained in the system, including categories of users and the purposes of such uses:

These records are also used to prepare statistical reports concerning a legal officer's time utilization.

The Prefatory Statement of Routine Uses applies to records in this system only to the extent that their disclosure would not constitute a violation of the judicially recognized privilege attaching to attorney-client communications and of the ethical and professional responsibilities of lawyers under the American Bar Association's Code of Professional Responsibility.

Disclosure to consumer reporting agencies:

None.

Policies and practices for storing, retrieving, accessing, retaining, and disposing of records in the system:

Storage:

Normally, written records kept in file folders.

Retrievability:

Alphabetical indexes by name of member.

Safeguards:

Kept in office space or filing cabinets, which are normally locked during non-working hours. Building patrolled by roving security guards after duty hours.

Retention and disposal:

Records retained as long as needed to serve client or as long as deemed necessary by the legal officer. Disposal is by whatever means considered appropriate by the legal officer, depending on contents of the record involved.

System manager(s) and address:

Commandant, G-L, Office of the Chief Counsel, United States Coast Guard Headquarters, 2100 2nd Street, SW., Washington, DC 20593-0001. District or unit legal offices:

Notification procedure:

Commandant, (G-SII-2, United States Coast Guard Headquarters, 2100 2nd Street, SW., Washington, DC 20593-0001.

Record access procedures:

Office of Chief Counsel at Coast Guard Headquarters or within the legal offices in the various Coast Guard districts or units, dependent on where legal assistance was rendered.

Contesting record procedures:

Same as “Record access procedures”.

Record source categories:

Client involved and as a result of any subsequent investigation by the legal officer on behalf of the client.

Exemptions claimed for the system:

None.

DOT/CG 526

System name:

Adjudication and Settlement of Claims System.

Security classification:

Unclassified—sensitive.

System location:

Commandant, G-WP, United States Coast Guard, 2100 2nd Street, SW., Washington, DC 20593-0001. Coast Guard Districts and Units.

Categories of individuals covered by the system:

Active, Reserve, and Retired military members; civilian employees.

Categories of records in the system:

Claims arising out of disputes concerning amounts of pay received.

Authority for maintenance of the system:

5 U.S.C. 301, 5 U.S.C. 5514; 14 U.S.C. 632, 461; 37 U.S.C. 1007; 49 CFR 1.45, 1.46.

Purpose(s):

Determine entitlement of claimants.

Routine uses of records maintained in the system, including categories of users and the purposes of such uses:

To use as precedent setting data in the resolution of similar questions in the future. Used by authorized Coast Guard officials and officials of the IRS, GAO, and the Civil Service Commission, as required. See Prefatory Statement of General Routine Uses.

Disclosure to consumer reporting agencies:

None.

Policies and practices for storing, retrieving, accessing, retaining, and disposing of records in the system:

Storage:

Records are stored manually in file folders.

Retrievability:

Claimant name.

Safeguards:

Access is limited to authorized officials by screening of personnel. Maintained in Government building having roving security guards after duty hours.

Retention and disposal:

After adjudication and settlement, most submissions are retained for precedent setting value, as required.

System manager(s) and address:

Commandant, G-WP, Director, Personnel Management Directorate, United States Coast Guard Headquarters, 2100 2nd Street, SW, Washington, DC 20593-0001.

Notification procedure:

Commandant, G-SII, United States Coast Guard Headquarters, 2100 2nd Street, SW., Washington, DC 20593-0001.

Record access procedures:

Same as “Notification procedure”.

Contesting record procedures:

Same as “Notification procedure”.

Record source categories:

Individual, CG payroll offices, legal staff, investigators, Director of Personnel and Management, Comptroller General, GAO, and congressional correspondence.

Exemptions claimed for the system:

None.

DOT/CG 528

System name:

Centralized Reserve Pay and Retirement System.

Security classification:

Unclassified—sensitive.

System location:

United States Coast Guard, Human Resources Service and Information Center, 444 SE Quincy St., Topeka, KS 66683-3591. District Offices and other Field Units.

Categories of individuals covered by the system:

Coast Guard Reservists.

Categories of records in the system:

Master Pay and Retirement Point Credits Record. Master Personnel Data Accounting Record.

Authority for maintenance of the system:

5 U.S.C. 301, 10 U.S.C. 1331; 10 U.S.C. 12731; 14 U.S.C. 632; 49 CFR 1.45, 1.46

Purpose(s):

Prepare monthly payroll and all associated listings.

Routine uses of records maintained in the system, including categories of users and the purposes of such uses:

Preparation of budgets. Accounting. Compute pay and points. Compilation of data. Report earnings to state and city taxing authorities. Used by authorized Coast Guard, IRS, GAO, and other Agency Officials as required. See Prefatory Statement of General Routine Uses; 3 through 5 do not apply.

Disclosure to consumer reporting agencies:

Disclosures may be made from this system to “Consumer reporting agencies” (collecting on behalf of the United States Government) as defined in the Fair Credit Reporting Act (15 U.S.C. 1681a(f)) or the Federal Claims Collection Act of 1982 (31 U.S.C. 3701(a)(3)).

Policies and practices for storing, retrieving, accessing, retaining, and disposing of records in the system:

Storage:

Microfilm of payroll retained in Reserve Pay Branches and Districts. Records are filed manually in filing cabinets.

Retrievability:

Alphabetically by name of Reservist and CG Unit Number.

Safeguards:

Access is regularly limited to user staff members. Records are stored in secured building after duty hours.

Retention and disposal:

Microfilm and records are retained until member is discharged or retired. Three years subsequent to retirement or discharge, records are transferred to a Federal Records Center.

System manager(s) and address:

Commandant, G-WT, Director, Reserve and Training Directorate, United States Coast Guard, 2100 2nd Street, SW., Washington, DC 20593-0001.

Notification procedure:

Commandant, G-SII, United States Coast Guard Headquarters, 2100 2nd Street, SW., Washington, DC 20593-0001.

Record access procedures:

Same as “Notification procedure”.

Contesting record procedures:

Same as “Notification procedure”.

Record source categories:

District Commander and Office of Reserve, Individual Unit Commanding Officers.

Exemptions claimed for the system:

None.

DOT/CG 533

System name:

Retired Pay and Personnel System.

Security classification:

Unclassified—sensitive.

System location:

United States Coast Guard, CG, Human Resources Service and Information Center, 444 SE. Quincy St., Topeka, KS 66683-3591.

Categories of individuals:

Annuitants. Lighthouse Keeper Retirees. Honorary Retirees. USCG Retirees.

Categories of records in the system:

Pay and Personnel data of military retirees, annuitants, lighthouse keepers and retirees. Personnel data of honorary retirees. Accounts receivable and accounts payable.

Authority for maintenance of the system:

5 U.S.C. 301, 10 U.S.C. 421-424, 1201, 1401; 14 U.S.C. 632; 49 CFR 1.45, 1.46.

Purpose(s):

Make payments.

Routine uses of records maintained in the system, including categories of users and the purposes of such uses:

W-2 wage and federal tax reporting to the Internal Revenue Service. Reports of earnings to State and city taxing authorities. Listing of currently retiring officers, home addresses and mailing labels used by authorized USCG and USCG affiliated organizations. Reports and information exchanged with the Veterans Administration, Office of Personnel Management, Social Security Administration, Department of Defense, and the Red Cross. See Prefatory Statement of General Routine Uses.

Disclosure to consumer reporting agencies:

Disclosures pursuant to 5 U.S.C. 552a(b)(12). Disclosures may be made from this system to “consumer reporting agencies” (collecting on behalf of the United States Government) as defined in the Fair Credit Reporting Act (15 U.S.C. 1681a(f) or the Federal Claims Collection Act of 1982 (31 U.S.C. 3701(a)(3)).

Policies and practices for storing, retrieving, accessing, retaining, and disposing of records in the system:

Storage:

Records are filed manually in file folders. Microfilm is stored in the retired pay branch. Check tapes are filed in tape library.

Retrievability:

Records and microfilm are indexed alphabetically, check tapes are indexed by tape number. Retrieved by name/number.

Safeguards:

Access is regularly limited to user staff members under supervisory control. Stored in government building having roving security guard after duty hours.

Retention and disposal:

Records are retained in the Retired Pay Branch for 3 years subsequent to retiree's or annuitant's death, and then forwarded to a Federal Records Center. Magnetic tapes are retained 18 months, microfilm for 6 years (required by GAO) then destroyed.

System manager(s) and address:

Director, Personnel Management Directorate, United States Coast Guard Headquarters, 2100 2nd Street, SW., Washington, DC 20593-0001. Notification procedure: Department of Transportation, Commandant, G-SII, United States Coast Guard Headquarters, 2100 2nd Street, SW., Washington, DC 20593-0001. Written request must be signed by the individual.

Record access procedures:

Procedure may be obtained by writing to or visiting Commandant, G-SII at the address in “Notification Procedure” or the local Coast Guard District or unit office for the area in which an individual's duty station is located. Proof of identity will be required prior to affording an individual access to records. A military identification card, a driver's license, or similar document will be considered suitable identification.

Contesting record procedures:

Same as “Record access procedures”.

Record source categories:

Individuals, Coast Guard personnel and payroll offices.

Exemptions claimed for the system:

None.

DOT/CG 534

System name:

Travel and Transportation of Household Effects.

Security classification:

Unclassified—sensitive.

System location:

Commandant, G-WP, U.S. Coast Guard Headquarters, Director, Personnel Management Directorate, 2100 2nd Street, SW., Washington, DC 20593-0001. District Office and Headquarters' units.

Categories of individuals covered by the system:

Active duty military members, retired military members, and civilian employees.

Categories of records in the system:

Travel claims, transportation claims, government bills of lading, applications for shipment of household effects.

Authority for maintenance of the system:

5 U.S.C. 301, 10 U.S.C. 1147; 14 U.S.C. 512, 632; 37 U.S.C. 406; 49 CFR 1.45, 1.46

Purpose(s):

Payment of household and transportation claims.

Routine uses of records maintained in the system, including categories of users and the purposes of such uses:

Vouchers submitted for payment of claims, for audit of claims for payment, to account for cost of moving household goods, advice of shipment of household goods for reporting of funds expended, and for payment of claims. Used by General Accounting Office in connection with the performance official duties. See Prefatory Statement of General Routine Uses.

Disclosure to consumer reporting agencies:

None.

Policy and practices for storing, retrieving, accessing, retaining, and disposing of records in the system:

Storage:

Filed manually in file folders.

Retrievability:

Schedule numbers and/or individual name.

Safeguards:

Access is regularly limited to user staff members. Stored in a building secured after duty hours.

Retention and disposal:

Records are kept for 3 years, and then transferred to a Federal Records Center. Exception: Schedule 98-Ts (Freight and Transportation) are forwarded to General Accounting Office, GAO after 3 months.

System manager(s) and address:

Commandant, G-WP, Director, Personnel Management Directorate, United States Coast Guard Headquarters, 2100 2nd Street, SW., Washington, DC 20593-0001.

Notification procedure:

Commandant, G-SII, United States Coast Guard Headquarters, 2100 2nd Street, SW., Washington, DC 20593-0001. Written request must be signed by the individual.

Record access procedures:

Procedure may be obtained by writing to or visiting Commandant, G-SII) at the address in “Notification procedure” or the local Coast Guard District or unit office for the area in which an individual's duty station is located. Proof of identity will be required prior to affording an individual access to records. A military identification card, a driver's license, or similar document will be considered suitable identification.

Contesting record procedures:

Same as “Record access procedure”.

Record source categories:

Individual subject of the record. Ground freight and transportation carriers and agents. Airline companies. Personnel offices. Other responsible agencies.

Exemptions claimed for the system:

None.

DOT/CG 535

System name:

Coast Guard Exchange System, CGES and Morale, Welfare and Recreation, MWR Program.

System classification:

Unclassified—sensitive.

System location:

Commandant, G-WP, United States Coast Guard Headquarters, Director, Personnel Management Directorate, 2100 2nd Street, SW., Washington, DC 20593-0001. CG Districts, Maintenance and Logistics Commands and Headquarters Units.

Categories of individuals covered by the system:

Civilian employees. Active duty and retired military members. Military dependents.

Categories of records in the system:

Payroll records. Accounting records for CGES/MWR loans. Listing of bad checks. Job applications. Correspondence. Membership applications. Accounts receivable. Investigatory reports involving abuse of facilities. Accounting records for CGES/MWR.

Authority for maintenance of the system:

5 U.S.C. 301; 5 U.S.C. 2105; 10 U.S.C. 1059, 1146, 1587; 14 U.S.C. 632; 49 CFR 1.45, 1.46.

Purpose(s):

Maintain financial and personnel records for Coast Guard non-appropriated fund entities.

Routine uses of records maintained in the system, including categories of users and the purposes of such uses:

Payroll for CGES/MWR employees. Personnel actions. Accounting purposes. Budget and inventory controls. See Prefatory Statement of General Routine Uses.

Disclosure to consumer reporting agencies:

None.

Policies and practices for storing, retrieving, accessing, retaining, and disposing of records in the system:

Storage:

Automated records may be stored on tape, disc, drums and punched cards. Manual records may be stored in file folders and/or credit ledgers, card files, and notebooks.

Retrievability:

Indexed alphabetically.

Safeguards:

Access is regularly limited to authorized personnel. Building is secured after duty hours.

Retention and disposal:

Records are retained until usefulness has expired and then destroyed.

System manager(s) and address:

Commandant, G-WP, Director, Personnel Management Directorate, United States Coast Guard Headquarters, 2100 2nd Street, SW., Washington, DC 20593-0001.

Notification procedure:

Commandant, G-SII, United States Coast Guard Headquarters, 2100 2nd Street, SW., Washington, DC 20593-0001.

Record access procedures:

Same as “Notification procedure”.

Contesting record procedures:

Same as “Notification procedure”.

Record source categories:

Individual record subject. Previous employees. Employment agencies. Civilian and military investigative reports. General correspondence.

Exemptions claimed for the system:

None.

DOT/CG 536

System name:

Contract and Real Property File System.

System classification:

Unclassified—sensitive.

System location:

Commandant, G-CFM, United States Coast Guard Headquarters, Chief of Staff, 2100 2nd Street, SW., Washington, DC 20593-0001. District and Headquarters Units.

Categories of individuals covered by the system:

Individuals doing business with the Coast Guard. Employees of prime and sub-contractors. Individuals requiring use of CG property. Military members and civilian employees.

Categories of records in the system:

Contracts and related files. Real property and leased family housing files. Bidders list. Minority compliance records. Payment schedule files relating to Admiralty and Tort claims. Personnel claims. Collection register. Open purchase order file. Correspondence files and vendor lists. Information on employees of contractors, job level and pay of these employees. Permits, licenses and easement.

Authority for maintenance of the system:

5 U.S.C. 301; 10 U.S.C. 2571; 14 U.S.C. 92(f), 93(o), 632, 666, 685; 49 CFR 1.45, 1.46; COMDTINST 5100.47.

Purpose(s):

Determine compliance of contractors with minimum wages for certain skills and trades on government contracts.

Routine uses of records maintained in the system, including categories of users and the purposes of such uses:

Recordkeeping of payments and collection. Determine potential for contracting with the government. Record issuance of personal property and maintain inventories. Determine contractor responsibilities and liability. Used by the General Accounting Office, GAO in performance of duties. See Prefatory Statement of General Routine Uses.

Disclosure to consumer reporting agencies:

None.

Policies and practices for storing, retrieving, accessing, retaining, and disposing of records in the system:

Storage:

Manually filed in file folders, maintained on tape/card three ring binders, and in hard cover books.

Retrievability:

Retrieved by individual/company name, number, construction job, and/or location.

Safeguards:

Access restricted to authorized personnel only, some records in locked safe and/or filing cabinet. Maintained in building having roving security guard after duty hours.

Retention and disposal:

Some records retained indefinitely; some retained 3, 4 or 6 years, then destroyed or forwarded to a Federal Records Center for an additional 7 years.

System manager(s) and address:

Commandant, G-CFM, United States Coast Guard Headquarters, Chief of Staff, 2100 2nd Street, SW., Washington, DC 20593-0001.

Notification procedure:

Commandant, G-SII, United States Coast Guard Headquarters, 2100 2nd Street, SW., Washington, DC 20593-0001.

Record access procedures:

Same as “Notification procedure”.

Contesting record procedures:

Same as “Notification procedure”.

Record source categories:

Individuals. Contractors. Contract employees. Bidders. Financial institutions. Insurance Companies. Community associations. Other agencies.

Exemptions claimed for the system:

None.

DOT/CG 537

System name:

FHA Mortgage Insurance for Servicemen.

Security classification:

Unclassified—sensitive.

System location:

Commandant, G-WP, United States Coast Guard Headquarters, Director, Personnel Management Directorate, 2100 2nd Street, SW., Washington, DC 20593-0001.

Categories of individuals covered by the system:

Coast Guard Military Personnel who have applied for Federal Housing Administration Mortgage Insurance.

Categories of records in the system:

Selected aspects of FHA Mortgage Insurance Records for military personnel, including copies of Form DD-802, “Request for and Certificate of Eligibility” and Form DD-803, “Certificate of Termination.”

Authority for maintenance of the system:

5 U.S.C. 301; 14 U.S.C. 632, 680-689; 49 CFR 1.45, 1.46

Purpose(s):

Enroll, terminate, and verify eligibility of members in FHA 222 Program.

Routine uses of records maintained in the system, including categories of users and the purposes of such uses:

Verify that billings from HUD are correct, and payable from Coast Guard funds.

Disclosure to consumer reporting agencies:

None.

Policies and practices for storing retrieving, accessing, retaining, and disposing of records in the system:

Storage:

Manually in closed file cases.

Retrievability:

By named individual, alphabetically.

Safeguards:

Access is regularly limited to user staff members. After duty hours, the building is patrolled by roving security guards.

Retention and disposal:

Files are maintained as long as a member is covered by an insured mortgage loan; 3 years after, files are forwarded to Federal Records Center. Destroyed 4 years after case files are closed.

System manager(s) and address:

Commandant, G-WP, Director, Personnel Management Directorate, United States Coast Guard Headquarters, 2100 2nd Street, SW., Washington, DC 20593-0001.

Notification procedure:

Commandant, G-SII, United States Coast Guard Headquarters, 2100 2nd Street SW., Washington, DC 20593-0001. The written request should include the requester's name in full and signature.

Record access procedures:

Procedures may be obtained by writing Commandant, G-SII, at the address above, or by visiting the Coast Guard Headquarters, 2100 2nd Street, SW., Washington, DC 20593-0001. Proof of identity will be required prior to affording an individual access to his records. A military identification card, a driver's license, or similar document will be considered suitable identification.

Contesting record procedures:

Same as “Record access procedures”.

Record source categories:

Individual concerned and the Federal Housing Administration.

Exemptions claimed for the system:

None.

DOT/CG 571

System name:

Physical Disability Separation System.

Security classification:

Unclassified—sensitive.

System location:

Commander, U.S. Coast Guard Personnel Command, 2100 2nd St., SW., Rm. 1504, Washington, DC 20593-0001.

Categories of individuals covered by the system:

USCG active duty personnel, USCG Reserve personnel on active duty orders for periods greater than 29 days, and USCG personnel separated or retired for physical disability.

Categories of records in the system:

Central Physical Evaluation Board files. Formal Physical Evaluation Board files. Physical Review Council files. Physical Disability Appeal Board files.

Authority for maintenance of the system:

5 U.S.C. 301; 10 U.S.C. 1216, 14 U.S.C. 366, 632; 49 CFR 1.45, 1.46.

Purpose(s):

Physical disability separation and retirement proceedings.

Routine uses of records maintained in the system, including categories of users and the purposes of such uses:

Department of Veteran Affairs for assistance in determining the eligibility of individuals for benefits administered by that agency and available to USPHS or DOD medical personnel in connection with the performance of their official duties. See Prefatory Statement of General Routine Uses.

Disclosure to consumer reporting agencies:

None.

Policies and practices for storing, retrieving, accessing, retaining, and disposing of records in the system:

Storage:

File folders, microfilm, magnetic tape, punched cards, machine lists, discs, and other computerized or machine readable media.

Retrievability:

Name, social security number, and the diagnosis or International Classification of Diseases, ICD code.

Safeguards:

Records are maintained in locked filing equipment in controlled access rooms. Records are accessible only to authorized personnel. Computer terminals are located in supervised areas, with access controlled by password or other user code system.

Retention and disposal:

Retained two years after disposition then transferred to Federal Records Center, St. Louis, MO.

System manager(s) and address:

Commander, U.S. Coast Guard, Personnel Command, 2100 2nd St., SW., Rm. 1504, Washington, DC 20593-0001.

Notification procedure:

Notarized written requests should contain the full name and social security number of the member and be addressed to: Commandant, G-SII-2, United States Coast Guard Headquarters, 2100 2nd Street, SW., Washington, DC 20593-0001.

Record access procedures:

Same as “Notification procedure”.

Contesting record procedures:

Same as “Notification procedure”.

Record source categories:

Information in records developed through proceedings of administrative bodies listed in “Categories of records” above.

Exemptions claimed for the system:

None.

DOT/CG 572

System name:

USCG Military Personnel Health Record System.

Security classification:

Unclassified—sensitive.

System location:

Member's unit or the Coast Guard health care facilities at which the member or dependents receive treatment.

Categories of individuals covered by the system:

Active duty, reserve, and retired members of the uniformed services and their dependents.

Categories of records in the system:

Records of medical and dental treatment, including x-rays. Physical Examinations. ADP Records containing due date for physical/dental and eye examinations, inoculations, screening tests and results of actions required by Coast “Guard or other federal state or local government or agency. Records concerning line of duty determination and eligibility for disability benefits.

Authority for maintenance of the system:

5 U.S.C. 301; 10 U.S.C. 1071-1107; 14 U.S.C. 632; 49 CFR 1.45, 1.46

Purpose(s):

Determine suitability of members for overseas assignments and to develop automated information relating to medical readiness in wartime and contingence operations.

Routine uses of records maintained in the system, including categories of users and the purposes of such uses:

a. Provided to federal, state, or local governments and agencies to compile statistical data for research and auditing; to provide quality assurance; to report medical conditions and other data required by law; to aid in preventive health and communicable disease control programs.

b. Provided to the Joint Commission on Accreditation of Healthcare Organizations to evaluate health care provided, personnel and facilities for professional certification and hospital accreditation; to provide quality services.

c. Records of communicable disease are provided to the Department of Defense to analyze the results, to ensure uniformity of record keeping, and to centralize production of reports for all uniformed services.

d. Provided to the Department of Defense or other federal, state, or local governments and agencies for casualty identification purposes.

e. Provided to the Social Security Administration and Veterans Administration for use in determining an individual's entitlement to benefits administered by those agencies.

f. Provided to the Public Health Service, Department of Defense, or Veterans Administration medical personnel or to personnel or facilities providing care to eligible beneficiaries under contract in connection with medical treatment of individuals.

Records are provided to the Department of Health and Human Services for purposes of the Federal Medical Care recovery set. Records are available to the Public Health Service or DOD medical personnel in connection with medical treatment of individuals at USPHS or DOD facilities. See Prefatory Statement of General Routine Uses.

Disclosure to consumer reporting agencies:

None.

Policies and practices for storing, retrieving, accessing, retaining, and disposing of records in the system:

Storage:

Individual files are in folders. Portions of records are automated at some units.

Retrievability:

Name or social security number of member or dependents.

Safeguards:

Room or cabinets in which records are located are locked when unattended. Access limited to these records at all times by personnel screening.

Retention and disposal:

a. Active Duty Personnel: Individual medical files are retained at the members' unit or medical administration office for so long as individual is assigned to the particular area. When the member is reassigned, the individual medical file is transferred to the new duty station upon reassignment of member. Upon separation or retirement, the individual medical file is incorporated into the Official Officer Service Records System, DOT/CG 626, or Enlisted Personnel Records System, DOT/CG 629, as appropriate.

b. Retired Personnel: Individual medical files are retained at the medical facility for a period of 4 years from date of last activity. Transferred to National Personnel Records Center (Military Personnel Records). 9700 Page Blvd, St. Louis, MO 63132, 4 years after last report.

c. Dependents: Individual medical files are retained at the medical treatment facility for period of 4 years from date of last activity. Transferred to new duty station of sponsor upon written request of dependent. Records not transferred are forwarded to National Personnel Records Center, CPR, 111 Winnebago Street, St. Louis, MO 63118, and 4 years after last activity.

d. Reserve Personnel: Individual medical files are retained in custody of the reserve group or unit, or district commander(s) for so long as the reservist is assigned to the particular area. When the member is reassigned, the individual medical file is transferred to the new reserve group or unit or district commander as appropriate. Upon separation or retirement, the individual medical file is incorporated into Official Coast Guard Reserve Service Record System, DOT/CG 676

System manager(s) and address:

Commandant, G-WK, United States Coast Guard Headquarters, Director, Health and Safety Directorate, 2100 2nd Street, SW., Washington, DC 20593-0001.

Notification procedure:

Commandant, G-SII-2, United States Coast Guard Headquarters, 2100 2nd Street, SW., Washington, DC 20593-0001.

Record access procedures:

a. Active Duty personnel: Health care facility where the record is located, or see “Notification Procedure”.

b. Retired Personnel and all Dependents: Health care facility where the record is/was located, or: (Retired) National Personnel Records Center, (Military Personnel Records) 9700 Page Blvd., St. Louis, MO 63132; (Dependents) National Personnel Records Center, CPR, 111 Winnebago Street, St. Louis, MO 63118

Reserve Personnel: Reserve group or unit or district commander of the district where command is located, or see “Notification Procedure”.

The decision to release medical records directly to the individual shall be made by medical practitioner per 49 CFR 10.35(c).

Contesting record procedures:

Same as “Notification procedure.”

Record source categories:

Medical facilities where beneficiaries treated or examined. Investigations resulting from illness or injury. The individual.

Exemptions claimed for the system:

None.

DOT/CG 573

System name:

United States Public Health Services, PHS Commissioned Officer Corps Staffing and Recruitment Files.

Security classification:

Unclassified—sensitive.

System location:

Commandant, G-WK, United States Coast Guard Headquarters, Director, Health and Safety Directorate, 2100 2nd Street, SW., Washington, DC 20593-0001.

Categories of individuals covered by the system:

PHS commissioned officers assigned to duty with the Coast Guard.

Categories of records in the system:

Personnel records, assignment preference, reference questionnaires, background information.

Authority for maintenance of the system:

5 U.S.C. 301; 10 U.S.C. 1043, 14 U.S.C. 93(r), 632, 645; 42 U.S.C. 213, 253; 49 CFR 1.45, 1.46.

Purpose(s):

Assist administrators in assigning personnel to area requiring their specific skills.

Routine uses of records maintained in the system, including categories of users and the purposes of such uses:

Monitor career development of personnel assigned to program. See Prefatory Statement of General Routine Uses.

Disclosure to consumer reporting agencies:

None.

Policies and practices for storing, retrieving, accessing, retaining, and disposing of records in the system:

Storage:

File folders.

Retrievability:

By name of individuals.

Safeguards:

During working hours access is controlled by office personnel, during non-working hours building is patrolled by roving security patrol.

Retention and disposal:

Records are retained during period of an individual's assignment to the Coast Guard. Thereafter, records are destroyed by shredding.

System manager(s) and address:

Commandant, G-WK, Director, Health and Safety Directorate, United States Coast Guard Headquarters, 2100 2nd Street, SW., Washington, DC 20593-0001.

Notification procedure:

Commandant, G-SII-2, United States Coast Guard Headquarters, 2100 2nd Street, SW., Washington, DC 20593-0001. Written request must be signed by the individual.

Record access procedures:

Procedures may be obtained by writing to or visiting Commandant, G-SII-2 at the address in “Notification procedures”. Proof of identity will be required prior to release of records. A military identification card, driver's license or similar document will be considered suitable identification

Contesting record procedures:

See “Record access procedures”.

Record source categories:

Previous employers, educational institutions, references, Coast Guard Medical Administrators and the individual.

Exemptions claimed for the system:

None.

DOT/CG 576

System name:

USCG Non-Federal Invoice Processing System, NIPS.

Security classification:

Unclassified—sensitive.

System location:

Commandant, G-WK, United States Coast Guard, 2100 Second Street, SW., Washington, DC 20593-0001. Commander, Maintenance and Logistics Command Atlantic, Health Services Division, Governor's Island Building 400, New York, NY 10004-5100. Commander, Maintenance and Logistics Command Pacific, Health Services Division, Coast Guard Island, Alameda, CA 94501-5100.

Categories of individuals covered by the system:

Active duty, reserve, and retired members of the uniformed services and their eligible dependents, and non-Federal health care providers that have rendered services to eligible beneficiaries.

Categories of records in the system:

Correspondence, memoranda, and related documents concerning potential and actual health care invoices for processing by NIPS. Medical and dental treatment records provided to the individual that are the subject of an invoice for non-federal health care provided to an eligible beneficiary. Automated data processing, ADP records containing identifying data on individuals including: Units of assignment and address, home address, and information necessary to process and monitor bills for payment.

Authority for maintenance of the system:

5 U.S.C. 301; 10 U.S.C. 1091, 14 U.S.C. 93(r), 632; 49 CFR 1.45, 1.46.

Purpose(s):

Review of cost data and appropriateness of care.

Routine uses of records maintained in the system, including categories of users and the purposes of such uses:

Medical information, including records of health care and medical invoices may be disclosed to health care professionals, auditing, utilization and peer review organizations to support a government claim. See Prefatory Statement of General routine Uses.

Disclosure to consumer reporting agencies:

None.

Policies and practices for storing, retrieving, accessing, retaining, and disposing of records in the system:

Storage:

Storage of individual files is in folders. Portions of records are extracted in an ADP data base. ADP data is maintained in hard disk and magnetic tape storage.

Retrievability:

Name or Social Security Number of member or dependents sponsor. Name of Member's Unit. Name or tax identification number of non-Federal health care providers.

Safeguards:

Room and cabinets in which records are located are locked when unattended. There are roving guard patrols during non-duty hours. Access to records is regularly limited to those directly involved in managing claims. Records in the ADP database are retrievable only by those with authorized access to ADP equipment and the database is protected by standard ADP security measures including the use of passwords.

Retention and disposal:

Retained for 1 year; transferred to a Federal Record Storage Facility and retained for an additional 5 years 3 months, and destroyed thereafter.

System manager:

Commandant, G-WK, Director, Health and Safety Directorate, United States Coast Guard Headquarters, 2100 Second Street, SW., Washington, DC 20593-0001.

Notification procedure:

Send a written request with patient's name, sponsor's name and social security number, to the System Location for the MLC where care was rendered. The request must be signed by the individual, or if a minor dependent, by the parent or guardian. Commander, Maintenance and Logistics Command Atlantic, Health Services Division, Governor's Island, New York, NY 10004-5100, or Commander, Maintenance and Logistics Command Pacific, Health Services Division, Coast Guard Island, Alameda, CA 94501-5100, as appropriate.

Record access procedures:

Write or visit the appropriate Commander, MLC at the address given in “Notification procedure.” Responsible for where the care was received.

Contesting record procedures:

Same as “Record access procedures.”

Record source categories:

From the individual, individual's spouse, parent or guardian. Medical facilities (United States Coast Guard, Department of Defense, uniformed Services Treatment Facility, or non-Federal, provider) where beneficiaries are treated. For Active Duty personnel—the Official Officer Service Records System, DOT/CG 626, and the Enlisted Personnel Record System; DOT/CG 629. For Reserve personnel—the Official Coast Guard Reserve Service Record System, DOT/CG 676. Investigations resulting from illness or injury.

Exemptions claimed for the system:

None.

DOT/CG 577

System name:

USCG Federal Medical Care Recovery Act, FMCRA Record System.

Security classification:

Unclassified—sensitive.

System location:

U.S. Coast Guard, Health and Safety Directorate, 2100 2nd Street, SW., Washington, DC 20593-0001.

Categories of individuals covered by the system:

Active duty, reserve, and retired members of the uniformed services and their eligible dependents.

Categories of records in the system:

Correspondence, memoranda, and related documents concerning potential ad actual FMCRA claims, and copies of medical and dental treatment provided to the individual subject of the claim, and copies of medical bills associated with civilian care provided at government expense. Automated data processing, ADP records containing identifying data on individuals, unit of assignment and address, home address, the amount of the claim, the amount paid to the government on the claim, dates of correspondence sent, due dates of reply, claim number, date claim opened, and date claim closed.

Authority for maintenance of the system:

5 U.S.C. 301; 14 U.S.C. 632; 42 U.S.C. 2651-2653; 49 CFR 1.45, 1.46.

Purpose(s):

Managing, processing, and collecting claims for the government.

Routine uses of records maintained in the system, including categories of users and the purposes of such uses:

Information may be disclosed to attorneys and insurance companies involved in settling and litigating claims. See Prefatory Statement of General Routine Uses.

Disclosure to consumer reporting agencies:

None.

Policies and practices for storing, retrieving, accessing, retaining, and disposing of records in the system:

Storage:

Storage of individual files is in folders. Portions of records are extracted in ADP database. ADP database will be maintained in hard disk and magnetic tape storage.

Retrievability:

Name or social security number of member, retiree or dependent.

Safeguards:

Room and cabinets in which records are located are locked when unattended. Roving guard patrol during non-duty hours. Access to records limited to those directly involved in managing claims with a need to know. Records in ADP database retrievable only to those with authorized access to ADP equipment and database is protected by standard ADP.

Retention and disposal:

Records are retained at USCG Headquarters for 1 year; transferred to a Federal Records Storage Facility and retained for an additional 5 years, 3 months for a total of 6 years, 3 months and destroyed thereafter.

System manager(s) and address:

Health and Safety Directorate, United States Coast Guard, Headquarters, 2100 2nd Street, SW., Washington, DC 20593-0001.

Notification procedure:

Send a written request with the client's name, sponsor's name and social security number to the system manager. The request must be signed by the individual, or if a minor dependent, by the parent or guardian.

Record access procedures:

Write or visit: Commandant, G-WK, U.S. Coast Guard, Attn: FMCRA Section, 2100 Second Street, SW., Washington, DC 20593-0001.

Contesting record procedures:

Same as “Record access procedures.”

Record source categories:

From the individual, or if a minor, the parent or guardian. Medical facilities (U.S. Coast Guard, Department of Defense, Uniformed Services Treatment Facility, or Civilian Facility) where beneficiaries are treated. Injury investigations. Attorneys and insurance companies involved in the claim. For Active Duty personnel—the Official Officer Service Records System; DOT/CG 626, and the Enlisted Personnel Records System; DOT/CG 629. For reserve personnel—the Official Coast Guard Reserve Service Record System, DOT/CG 676.

Exemptions claimed for the system:

None.

DOT/CG 586

System name:

Chemical Transportation Industry Advisory Committee.

Security classification:

Unclassified-sensitive.

System location:

Commandant, G-M, United States Coast Guard, 2100 2nd Street, SW., Washington, DC 20593-0001.

Categories of individuals covered by the system:

Committee members.

Categories of records in the system:

Address, phone number. Biographical sketch. Committee information. Minutes of meetings.

Authority for maintenance of the system:

5 U.S.C. 301; 14 U.S.C. 632; 49 CFR 1.45, 1.46.

Purpose(s):

Arranging meetings, keeping records of committee business, determine committee membership.

Routine uses of records maintained in the system, including categories of users and the purposes of such uses:

See Prefatory Statement of General Routine Uses.

Disclosure to consumer reporting agencies:

None.

Policies and practices for storing, retrieving, accessing, retaining, and disposing of records in the system:

Storage:

File folders.

Retrievability:

By committee name/individual name.

Safeguards:

Personnel screening prior to granting access. Building has roving security after hours.

Retention and disposal:

Permanently retained.

System manager(s) and address:

Commandant (G-M), United States Coast Guard Headquarters, Chief, Marine Safety and Environmental Protection, 2100 2nd Street, SW., Washington, DC 20593-0001.

Notification procedure:

Commandant, G-SII-2, United States Coast Guard Headquarters, 2100 2nd Street, SW., Washington, DC 20593-0001. Written request must be signed by the individual.

Record access procedures:

Procedures may be obtained by writing to or visiting Commandant, G-SII-2, at the address in “Notification Procedure.” Proof of identity will be required prior to granting access. A military identification card, driver's license or similar document is considered suitable identification.

Contesting record procedures:

Same as “Record access procedures'.

Record source categories:

From the individual of record.

Exemptions claimed for the system:

None.

DOT/CG 588

System name:

Marine Safety Information System, MSIS.

Security classification:

Unclassified—sensitive.

System location:

United States Coast Guard (USCG), Operations Systems Center, 175 Murall Drive, Martinsburg, WV 25401.

Categories of individuals covered by the system:

Individuals with established relationship(s) associates to maritime vessels that are included in the Marine Safety Information System, MSIS. Specifically, information on vessel owners, operators, masters, crew and/or agents can be stored in MSIS.

Categories of records in the system:

Information on maritime vessels and vessel characteristics including: Vessel identification data, registration data, port visits, inspection data, documentation data, port safety boardings, casualties, pollution incidents, and civil violations if applicable and associated information (data pertaining to people or organizations associated with vessels) for owners, operators, agents, and possibly crew members. Statements submitted by Coast Guard relating to boardings, investigations as a result of a pollution and/or casualty incident, as well as any violations of United States law, along with civil penalty actions taken as a result of such violations. Such reports could contain names of passengers on vessels, as well as witnesses to such violations.

Authority for maintenance of the system:

5 U.S.C. 301; 14 U.S.C. 632; 33 U.S.C. 1228; 46 U.S.C. 2102, 3301, 3714, 3717, 6101, 6102, 6307(c)”, 6301, 7101, 7309; 49 CFR 1.45, 1.46.

Purpose(s):

Build a safety performance history of vessels, their owners, operators and facilities, thereby enhancing safety.

Routine uses of records maintained in the system, including categories of users and the purposes of such uses:

MSIS primarily supports operational decision making in implementing and enforcing marine safety and environmental programs. In addition, the system is used by field units for the issuance of Certificates of Documentation, Certificates of Inspections, port safety boardings, monitoring cargo transfers, capturing data on pollution incidents and casualties, and for reporting of violations resulting from these incidents. MSIS Records may be disclosed to the following United States Government entities.

(1) United States Department of Commerce, National Technical Information Service, NTIS: Characteristics of vessels documented by the USCG and owner information. This information is the same as that published in the annual publication “Merchant Vessels of the United States,” CG-408 (also known as “the blue book”). This information is distributed on tape and is sold to the public.

(2) United States Customs Service, USCS: Characteristics of vessel, United States ports visited and owner information. USCG information is compared to USCS vessel and/or owner information.

(3) Military Sealift Command (MSC): Characteristics of vessels. USCG information is compared to MSC vessel information.

See Prefatory Statement of General Routine Uses.

Disclosure to consumer reporting agencies:

None.

Policies and practices for storing, retrieving, accessing, retaining, and disposing of records in the system:

Storage:

Storage of all records is in an ADP data base operated and maintained by the United States Coast Guard. All data is retained indefinitely.

Retrievability:

Records are retrieved by:

a. Vessel name or vessel identification number, VIN.

b. Facility name or facility identifying number, FIN.

c. Involved parties name, IPN, (owner, operators, agent, etc.).

d. Casualty case number.

e. Pollution incident case number.

Safeguards:

The MSIS falls under the guidelines of the Operations System Center in Martinsburg, WV. This computer facility has its own approved System Security Plan which provides that:

a. The system be maintained in a secure computer room with access restricted to authorized personnel only.

b. Access to the building must be authorized and is limited. A Sensitive Application Certification (SAC) has been approved for the MSIS.

The United States Coast Guard will operate the MSIS in consonance with Federal security regulations, policy, procedures, standards and guidance for implementing the Automated Information Systems Security Program.

c. Only authorized Department of Transportation personnel, and authorized United States Government contractors conducting system maintenance may access MSIS records.

d. Access to records password protected and the scope of access for each password is limited to the official need of each individual authorized access.

e. Additional protection is afforded by the use of two password security.

Retention and disposal:

Record retention is indefinite.

System manager(s) and address:

United States Coast Guard, Information Management Division, ­G-MIR-2, 2100 2nd Street, SW, Washington, DC 20593-0001. Notification Procedure: Submit a written request noting the information desired and for what purpose the information will be used. A first party request should be specifically noted. The request must be signed by the individual, or his/her legal representative. Send the request to: Commandant, G-SII, United States Coast Guard Headquarters, 2100 Second Street, SW., Washington, DC 20593-0001

Record access procedures:

Same as Notification procedures.

Contesting record procedures:

Same as Notification procedures.

Record source categories:

All information entered into the MSIS is gathered from boardings, inspections, and Documentation offices in the course of normal routine business. This information is gathered from the owners, operators, crew members, agents, passengers, witnesses, United States Coast Guard personnel.

Exemptions claimed for the system:

Portions of this system of records may be exempt from disclosure under the provisions of 5 U.S.C. 552a (k)(2). However, in specific cases where maintenance of information results in the denial of a right, privileges or benefits to which the individual is entitled, the information will be released in accordance with section (k)(2). This provides in part that investigatory material compiled for law enforcement purposes may be withheld from disclosure to the extent the identity of the source of the information would be revealed by disclosing the investigatory record, and the source has received an express promise that his/her identity would be held in confidence.

DOT/CG 589

System name:

United States Merchant Seamen's Records.

Security classification:

Unclassified—sensitive.

System location:

Commandant, G-M, United States Coast Guard, CG, 2100 2nd Street, SW., Washington, DC. 20593-0001. Marine Inspection Office or the Marine Safety Office where the seaman was documented.

Categories of individuals:

United States Merchant Seamen.

Categories of records in the system:

Personnel File. Shipping Articles. Locator List. Log Books. Seamen's License Records. Fingerprint Records. Disciplinary Records. Security Records.

Authority for maintenance of the system:

5 U.S.C 301; 14 U.S.C. 632; 46 U.S.C. 2103, 7319, 7701, 8701; 14 CFR 12.02-25; 49 CFR 1.45, 1.46.

Purpose(s):

Administering the Commercial Vessel Safety Program to determine domestic and international qualifications for the issuance of licenses, documents and staff officer certifications.

Routine uses of the records maintained in the system, including categories of users and the purposes of such uses:

Provide information to other Federal Agencies, such as the Veterans' Administration, the Social Security Administration, etc. in connection with benefits and services administered by those agencies; to provide information to private organizations when considered beneficial to the seaman. See Prefatory Statement of General Routine Use.

Disclosure to consumer reporting agencies:

Disclosures pursuant to 5 U.S.C. 552a(b)(12). Disclosures may be made from this system to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Paper files are stored at a secure, controlled access site managed by contract personnel; on-site government oversight is provided by the Coast Guard's National Maritime Center. Electronic records are stored on a secure database server at the Coast Guard Operations Systems Center.

Retrievability:

Alphabetical order by last name, first name, middle name. Retrieval is made by name and cross-indexed by identifying number (e.g. Social Security Number, “Z” number, or Continuous Discharge Book number).

Safeguards:

The active personnel records are stored in a locked room at a contractor's site. Access to the room is regularly limited to trained employees of the contractor and to National Maritime Center personnel. National Maritime Center personnel provide full time oversight. Computer records are retrievable only by approved Coast Guard and contractor personnel. Passwords are required by all personnel who access the system and the system records the name of the user each time a record is accessed. Each user's access is limited to only that portion of the overall file that has previously been determined to the user's needs.

Retention and disposal:

Paper personnel files are held at the contractor's site for five years past the last activity with the file. They are then transferred to the Federal Records Center in Suitland, MD. Disciplinary Records are maintained in paper form. Administrative Law Judge's Decisions and Orders and Appeal File are transferred to a Federal Records Center after 5 years. Commandant's Decision on Appeal and National Transportation Safety Board Decisions and Orders are retained. Disciplinary Record Cards are destroyed upon notice of death.

System manager(s) and address:

Assistant Commandant, G-M, United States Coast Guard Headquarters, Marine Safety and Environmental Protection, 2100 2nd Street, SW., Washington, DC 20593-0001.

Notification procedure:

United States Coast Guard Headquarters, Commandant, G-SII, 2100 2nd Street, SW., Washington, DC 20593-0001.

Record access procedures:

Same as “Notification procedure” or the Marine Inspection Office or Marine Safety Office where the document was issued locally.

Contesting record procedures:

Same as “Record access procedures.”

Record source categories:

Personnel File—seamen, United States Coast Guard officials, other Federal Agencies and employer. Shipping Articles Vessels' operators, seamen, masters of vessels, State Department, and Coast Guard officials. Disciplinary Records—Investigating Officers at the various Marine Inspection and Marine Safety Offices.

Exemptions claimed for the system:

Portions of this system of records may be exempt from disclosure under the provisions of 5 USC 552a (k)(2).

DOT/CG 590

System name:

Vessel Identification System, VIS.

Security classification:

Unclassified—sensitive.

System location:

United States Coast Guard, USCG, Operations Systems Center, 600 Coast Guard Drive, Kearneysville, WV 25430-3000.

Categories of individuals covered by the system:

Individuals with established relationship(s)/association to vessels that are state-numbered and/or titled and United States Coast Guard-documented, and that are included in the Vessel Identification System, VIS. Specifically, owners, or agents of such vessels, as well as lienholders.

Categories of records in the system:

Vessel identification information and vessel characteristics on state-numbered and/or titled vessels or Coast Guard-documented vessels. Personal information including: Name of each owner, address of principal place of residence of at least one owner, mailing address if different than the principal place of residence, and either an owner's social security number, date of birth and driver's license number, or other identifier. Records containing lienholder and insurance information including: Name of lienholder, and city and state of principal place of residence or business of each lienholder. Law enforcement status code (stolen, recovered, lost, destroyed, or abandoned), law enforcement hold, reporting agency, originating case number, National Crime Information Center, NCIC, number, VIS user identification, incident location, last sighted date/time/location, law enforcement contact and phone number, and hours of operations. Records containing vessel registration information including: registration and, if applicable title number including effective and expiration date, issuing authority, and, for Coast Guard documented vessels, the official number.

Authority for maintenance of the system:

5 U.S.C. 301; 14 U.S.C. 632; 46 U.S.C. 12501-12507; 49 CFR 1.45, 1.46

Purpose(s):

Provide a nationwide pool of state-numbered and/or titled and United States Coast Guard-documented vessels that will assist in identification and recovery of stolen vessels, deter vessel theft and fraud, and other purposes relating to the ownership of vessels.

Routine uses of records maintained in the system, including categories of users and the purposes of such uses:

Federal and state numbering and titling officials for the purposes of tracking, registering and titling vessels. See Prefatory Statement of General Routine Uses.

Disclosure to consumer reporting agencies:

None.

Policies and practices for storing, retrieving, accessing, retaining, and disposing of records in the system:

Storage:

Automated data processing (ADP) database operated and maintained by the United States Coast Guard.

Retrievability:

Vessel owner or business name; Vessel owner's social security number or alternate identifier (e.g. DOB, driver's license number, or taxpayer identification number); vessel hull identification number, HIN; State certificate of number; title number.; United States Coast Guard official number; USCG vessel name and hailing port.

Safeguards:

The VIS falls under the guidelines of the United States Coast Guard Operations System Center, OSC in Martinsburg, WV. This computer facility has its own approved System Security Plan.

Retention and disposal:

Records of active cases are retained until they become inactive; inactive cases are archived and retained for 50 years. Records will be selected to be archived into an off-line file for any vessel that has been inactive for a period of 10 years. Copies of backups are stored at an off-site location.

System manager (s) and address:

Information Resource Division, System Development Division, G-MRI-3, United States Coast Guard Headquarters, 2100 2nd Street, SW., Washington, DC 20593-0001.

Notification procedure:

Commandant, G-SII, USCG Headquarters, 2100 2nd Street, SW., Washington, DC 20593-0001.

Record access procedures:

Same as “Notification procedure”.

Contesting record procedures:

Same as “Notification procedure”.

Record source categories:

Participating States and the National Crime Information Center, NCIC.

Exemptions claimed for the system:

Portions of this system of records may be exempt from disclosure under the provisions of 5 U.S.C. 552a (k)(2).

DOT/CG 591

System name:

Merchant Vessel Documentation System, Manual.

Security classification:

Unclassified—sensitive.

System location:

Automated: United States Coast Guard, USCG, Operations Systems Center, 600 Coast Guard Drive, Kearneysville, WV 25430-3000. Manual: United States Coast Guard, USCG, National Vessel Documentation Center, 2039 Stonewall Jackson Drive, Falling Waters, WV 25419-9502.

Categories of individuals covered by the system:

Vessel owners. Mortgagees. Vessel buyers and sellers. Lien claimants. Vessel builders.

Categories of records in the system:

Vessel owner information. Vessel information. Instruments of record (bills of sale, mortgages, etc.).

Authority for maintenance of the system:

5 U.S.C. 301; 14 U.S.C. 632; 46 U.S.C. 12119, 12502, 46 CFR part 67; 49 CFR 1.45, 1.46

Purpose(s):

Establish the eligibility of vessels for documentation, record and track documented vessels, issue marine documents and record instruments of record (bills of sale, mortgages, etc.).

Routine uses of records maintained in the system, including categories of users and the purposes of such uses:

Publication of the annual MERCHANT VESSELS OF THE UNITED STATES. See Prefatory Statement of General Routine Uses.

Disclosure to consumer reporting agencies:

None.

Policies and practices for storing, retrieving, accessing, retaining, and disposing of records in the system:

Storage:

Index of owners maintained by Commandant, G-MVD. All other records maintained at home port of vessel by vessel name.

Retrievability:

Name of vessel owner.

Safeguards:

Personnel screening.

Retention and disposal:

Listings of vessel owners constantly updated by additions and deletions (automated). Field office vessel folders transferred to FRC two years after change of vessel's home port or 2 years after removal of vessel from documentation (manual).

System manager(s) and address:

Commandant, G-M, Chief, Marine Safety and Environmental Protection, United States Coast Guard Headquarters, 2100 2nd Street, SW., Washington, DC 20593-0001.

Notification procedure:

Commandant, G-SII, United States Coast Guard Headquarters, 2100 2nd Street, SW., Washington, DC 20593-0001.

Record access procedures:

Same as “Notification procedure” or the local Coast Guard District Office.

Contesting record procedures:

Same as “Record Access Procedures.”

Record source categories:

Vessel owners, Mortgagees, lien claimants, vessel sellers and buyers, Coast Guard admeasures, and vessel builders.

Exemptions claimed for the system:

None.

DOT/CG 592

System name:

Registered/Applicant Pilot Eligibility Folder.

Security classification:

Unclassified—sensitive.

System location:

Commander, Ninth Coast Guard District, Great Lakes Pilotage Staff, 1240 East Ninth St., Cleveland, OH 44199-2060.

Categories of individuals covered by the system:

United States registered pilots and applicant pilots suitable registered to perform pilotage duties aboard foreign vessels on the Great Lakes.

Categories of records in the system:

Application for registration, renewal of registration, annual report of physical examination, Coast Guard license data, and examination for registration.

Authority for maintenance of the system:

5 U.S.C. 301; 14 U.S.C. 632, 709; 49 CFR 1.45, 1.46.

Purpose(s):

Document pilot registration.

Routine uses of records maintained in the system, including categories of users and the purposes of such uses:

Training program needs, retirements, statistical compilations, and negotiations with Canadian authorities to assure equitable participation by U.S. registered pilots with Canadian registered pilots. See Prefatory Statement of General Uses.

Disclosure to consumer reporting agencies:

None.

Policies and practices for storing, retrieving, accessing, retaining, and disposing of records in the system:

Storage:

Stored in file folders.

Retrievability:

Name and pilot registration number.

Safeguards:

Screened by office personnel prior to use. Locked in cabinets during non-working hours.

Retention and disposal:

Records are maintained permanently.

System manager(s) and address:

Commander, Ninth Coast Guard District, Great Lakes Pilotage Staff, 1240 East Ninth Street, Cleveland, OH 44199-2060.

Notification procedure:

Same as “System manager”.

Record access procedures:

Same as “System manager”.

Contesting record procedures:

Same as “System manager”.

Record source categories:

Individual's original application for U.S. Pilot's registration and individual's yearly report of medical examination.

Exemptions claimed for the system:

None.

DOT/CG 611

System name:

Investigative Case System.

Security classification:

Unclassified—sensitive.

System location:

Commandant, G-O-CGIS, United States Coast Guard, CG, 2100 2nd Street, SW., Washington, DC 20593-0001. Coast Guard District Offices.

Categories of individuals covered by the system:

United States Coast Guard military personnel, merchant marine personnel, port and dock workers, and persons under investigation for violations of laws and regulations administered by the Coast Guard.

Categories of records in the system:

Personnel security investigations, national agency check results, criminal investigation, counterintelligence investigations, computerized case control system.

Authority for maintenance of the system:

5 U.S.C. 301; 14 U.S.C. 2, 89a, 93(e), 632; 33 U.S.C. 1221; 14 U.S.C. 632; COMDTINST 5830.1

Purpose(s):

Security clearances.

Routine uses of records maintained in the system, including categories of users and the purposes of such uses:

Actions by commanders under the Uniform Code of Military Justice. Career advancement of United States Coast Guard military personnel. Approval of merchant seamen documents. Access of individuals to port facilities. See Prefatory Statement of General Routine Uses.

Disclosure to consumer reporting agencies:

None.

Policies and practices for storing, retrieving, accessing, retaining, and disposing of records in the system:

Storage:

Investigative dossiers and 3x5 card retrieval system.

Retrievability:

By name and/or case number.

Safeguards:

Alarm controlled spaces, locked and/or limited access file cabinets and office spaces. Using receipt control, automatic data processing, ADP system cannot be penetrated for data through terminals, or otherwise, located outside the United States Coast Guard computer center without use of proper administrative controls. Release of dossiers to accredited personnel on “need-to-know' basis only.

Retention and disposal:

Dossiers retained 50 years from date of birth. Deceased, retirees and others separated are held one year from separation. Dossiers are retired to the Washington National Federal Records Center for further retention of 30 years. 3x5 Cards are annotated to recall retired dossiers if necessary. Computer printouts are retained for 10 years then destroyed.

System manager(s) and address:

Chief, Operations, G-O, United States Coast Guard Headquarters, 2100 2nd Street, SW., Washington, DC 20593-0001.

Notification procedure:

Commandant, G-SII, United States Coast Guard Headquarters, 2100 2nd Street, SW., Washington, DC 20593-0001.

Record access procedures:

Same as “Notification procedure” or the local Coast Guard District Office.

Contesting record procedures:

Same as “Record access procedures.”

Record source categories:

National Agency Checks, background investigations, criminal investigations, interviews, records checks, observations, statements.

Exemptions claimed for the system:

Portions of this system of records may be exempt from disclosure under the provisions of 5 U.S.C. 552a (k)(2), (5), and (7).

DOT/CG 612

System name:

Port Security Card System.

Security classification:

Unclassified—sensitive.

System location:

Commandant, G-O-CGIS, United States Coast Guard Headquarters, CG, 2100 2nd Street, SW., Washington, DC 20593-0001. District Offices.

Categories of individuals covered by the system:

Persons regularly employed on vessels and water front facilities, or persons having regular public or private business with the operation, maintenance, or administration of vessels and cargoes or waterfront facilities.

Categories of records in the system:

Applications for port security cards awaiting processing. Processed applications indicating those granted or denied port security cards.

Authority for maintenance of the system:

5 U.S.C. 301; 14 U.S.C. 2, 91, 632; 33 CFR 125; 49 CFR 1.45, 1.46.

Purpose(s):

Determine eligibility for issuance of Port Security Cards.

Routine uses of records maintained in the system, including categories of users and the purposes of such uses:

See Prefatory Statement of General Routine Uses.

Disclosure to consumer reporting agencies:

None.

Policies and practices for storing, retrieving, accessing, retaining, and disposing of records in the system:

Storage:

Paper files, 3x5 cards.

Retrievability:

By name.

Safeguards:

Maintained in file cabinets in secure areas. Personnel are screened prior to granting access.

Retention and disposal:

Retained for 8 years, then destroyed by mutilating, shredding or burning.

System manager(s) and address:

Commandant, G-O, Chief, Operations, United States Coast Guard Headquarters, 2100 2nd Street, SW., Washington, DC 20593-0001.

Notification procedure:

Commandant, G-SII, United States Coast Guard Headquarters, 2100 2nd Street, SW., Washington, DC 20593-0001.

Record access procedures:

Same as ‘Notification Procedure’ or the local Coast Guard District or unit office.

Contesting record procedures:

Same as “Record access procedures.”

Record source categories:

Individual applications. National Agency checks. Other records already at Coast Guard Headquarters, if any.

Exemptions claimed for the system:

Portions of this system of records may be exempt from disclosure under the provisions of 5 U.S.C. 552a(k)(2).

DOT/CG 622

System name:

Military Training and Education Records.

Security classification:

Unclassified—sensitive.

System location:

Director, Reserve and Training Directorate, G-WT, United States Coast Guard Headquarters, 2100 2nd Street, SW., Washington, DC 20593-0001. District and Headquarters Units.

Categories of individuals covered by the system:

Coast Guard Military Personnel (Commissioned Officers, Commissioned Warrant Officers, Cadets, and Enlisted Personnel).

Categories of records in the system:

General Service Correspondence Course. Off-Duty Education Records. Professional Training Records. Non-traditional Educational Support Records. Achievement and Aptitude Test Results. Academic Performance Records. Correspondence Course Rate Advancement Records. Military Performance Records. Admissions Processing Records. Grade Reporting Records. Cadet Academic Status Records. Transcript Maintenance Records. Cadet Discipline Status Records. Military Personnel Records. Military Training Schedules Records.

Authority for maintenance of the system:

5 U.S.C. 301; 14 U.S.C. 93(g), 632; 49 CFR 1.45, 1.46.

Purpose(s):

Evaluation and measurement of training performance.

Routine uses of records maintained in the system, including categories of users and the purposes of such uses:

Statistical summaries. Input to personnel records. Partial criteria for selection and admission to service/professional schools. Partial criteria for selection to postgraduate education programs. Criteria for admission to the Coast Guard. Criteria for retention in service Schools. Criteria for promotion. See Prefatory Statement of General Routine Uses, 3 through 5 do not apply.

Disclosure to consumer reporting agencies:

None.

Policies and practices for storing, retrieving, accessing, retaining, and disposing of records in the system:

Storage:

File folders stored in file cabinets. Portions are stored on ADP equipment.

Retrievability:

Name, rate, class number, cadet code number, and Social Security Number.

Safeguards:

Records are kept in file cabinets in offices that are locked during off-duty hours. Those records stored in ADP equipment may only be accessed through use of a user access code.

Retention and disposal:

Personal History, Service History and School Conduct and Military Performance records are kept for one year. Academic and Correspondence Course records are kept for five years. Aptitude and Achievement Test results, as a part of Training and Education records, are kept for five years. Records are destroyed by mutilating, shredding or burning.

System manager(s) and address:

Director, Reserve and Training Directorate, G-WT, United States Coast Guard Headquarters, 2100 2nd Street, SW., Washington, DC 20593-0001.

Notification procedure:

United States Coast Guard, Headquarters, Commandant, G-SII, 2100 2nd Street, SW., Washington, DC 20593-0001.

Record access procedures:

Same as ‘Notification Procedure’ or the local Coast Guard activity where assigned for training.

Contesting record procedures:

Same as “Record Access Procedures.”

Record source categories:

Official military personnel records, test results, instructors and supervisors.

Exemptions claimed for the system:

Portions of this system of records may be exempt under 5 U.S.C. 552a(k)(5), (6), and (7).

DOT/CG 623

System name:

Military Pay and Personnel System.

Security classification:

Unclassified—sensitive.

System location:

United States Coast Guard, CG, Department of Transportation Computer Center, 400 7th Street, SW., Washington, DC 20590-0001. United States Coast Guard Human Resources Service and Information Center, 444 SE. Quincy Street, Topeka, KS 66683-3591. United States Coast Guard, 2100 2nd Street, SW., Washington, DC 20593-0001. Unit maintaining the individual's pay and personnel record and permanent duty unit.

Categories of individuals covered by the system:

All Coast Guard military personnel, active duty and reserve. Retired reserve Coast Guard military personnel waiting for pay at age 60. Active duty National Oceanic and Atmospheric Administration, NOAA officers. Personnel separated from service in all the preceding categories.

Categories of records in the system:

Identifying information, such as name(s), date of birth, home residence, mailing address, social security number, payroll information, and home telephone number. Work experience, educational level achieved, and specialized education or training obtained in and outside of military service. Military duty assignments, ranks held, pay and allowances, personnel actions such as promotions, demotions, or separations. Enrollment or declination of enrollment in insurance programs. Performance evaluation. Individual's desires for future assignments, training requested, and notations by assignment officers. Information for determinations of waivers and remissions of indebtedness to the United States Government. Information for the purpose of validating legal requirements for garnishment of wages.

Authority for maintenance of system:

5 U.S.C. 301; 14 U.S.C. 92(I), 632; 5 U.S.C. 5501-5597; 49 CFR 1.45, 1.46.

Purpose(s):

Administer the Coast Guard pay and personnel system.

Routine use of records maintained in the system, including categories of users and the purposes of such uses:

To the Department of Treasury for the purpose of disbursement of salary, United States Savings Bonds, allotments, or travel claim payments. To government agencies to disclose earnings and tax information. To the Department of Defense and Veterans Administration for determinations of benefit eligibility for military members and their dependents. To contractors to manage payment and collection of benefit claims. To the Department of Defense for manpower and readiness planning. To the Comptroller General for the purpose of processing waivers and remissions. To contractors for the purpose of system enhancement, maintenance, and operations. To federal, state, and local agencies for determination of eligibility for benefits connected with the Federal Housing Administration programs. To provide an official of another federal agency information needed in the performance of official duties to reconcile or reconstruct data files in support of functions for which the records were collected and maintained. To an individual's spouse, or person responsible for the care of the individual concerned when the individual to whom the record pertains is mentally incompetent, critically ill or under other legal disability for the purpose of assuring the individual is receiving benefits or compensation they are entitled to receive. To a requesting government agency, organization, or individual the home address and other relevant information on those individuals who, it is reasonably believed, might have contracted an illness, been exposed to, or suffered from a health hazard while a member of government service. To businesses for the purpose of electronic fund transfers or allotted pay transactions authorized by the individual concerned. To credit agencies and financial institutions for the purpose of processing credit arrangements authorized by the individual concerned. To other government agencies for the purpose of earnings garnishment. To prepare the Officer Register and Reserve Officer Register which is provided to all Coast Guard officers and the Department of Defense. To other federal agencies and collection agencies for the collection of indebtedness and outstanding travel advances to the federal government. The home mailing addresses and telephone numbers of members and their dependent/s to duly appointed Family Ombudsman and personnel within the Coast Guard for the purpose of providing entitlement information to members or their dependents.

See Prefatory Statement of General Routine Uses, 3 and 5 do not apply.

Disclosure to consumer reporting agencies:

None.

Policies and practices for storing, retrieving, accessing, retaining, and disposing of records in the system:

Storage:

Computer disks, magnetic tape microfilm, and paper forms in file folders.

Retrievability:

Name or social security number.

Safeguards:

Computers provide privacy and access limitations by requiring a user name and password match. Access to decentralized segments are similarly controlled. Only those personnel with a need to have access to the system are given user names and passwords. The magnetic tape backups have limited access in that users must justify the need and obtain tape numbers and volume identifiers from a central source before they are provided data tapes. Paper record and microfilm records are in limited access areas in locking storage cabinets.

Retention and disposal:

Leave and Earnings Statements, and pay records are microfilmed and retained on site four years, then archived at the Federal Record Center, and destroyed when 50 years old. The official copy of the personnel record is maintained in the Official Officer Service Records, DOT/CG 626 for active duty officers, the Enlisted Personnel Record System, DOT/CG 629 for active duty enlisted personnel or the Official Coast Guard Reserve Service Record, DOT/CG 576 for inactive duty reservists. Duplicate magnetic copies of the pay and personnel record are retained at an off site facility for a useful life of seven years. Paper records for waivers and remissions are retained on site six years three months after the determination and then destroyed. Paper records to determine legal sufficiency for garnishment are retained on site six years three months after the member separates from the service or the garnishment is terminated and then destroyed.

System manager(s) and address:

For active duty members of the Coast Guard: Chief, Office of Personnel, United States Coast Guard Headquarters, 2100 2nd Street, SW., Washington, DC 20593-0001. For Coast Guard inactive duty reserve members and retired Coast Guard reservists awaiting pay at age 60: Chief, Office of Reserve Affairs, United States Coast Guard Headquarters, 2100 2nd Street, SW., Washington, DC 20593-0001. For Coast Guard Waivers and Remissions: Chief, Personnel Services Division, G-PMP, Office of Personnel, United States Coast Guard Headquarters, 2100 2nd Street, SW., Washington, DC 20590-0001. For records used to determine legal sufficiency for garnishment of wages and pay records: Commanding Officer, LGL, United States Coast Guard Human Resources Service and Information Center, 444 SE. Quincy Street, Topeka, KS 66683-3591. For data added to the decentralized data segment the commanding officer, officer-in-charge of the unit handling the individual's pay and personnel record, or Chief, Administrative Services Division for individuals whose records are handled by Coast Guard Headquarters. For NOAA members: National Oceanic and Atmospheric Administration, Commissioned Personnel Division, 11400 Rockville Pike, Rockville, MD 20852.

Notification procedure:

For all information on Coast Guard members other than below: United States Coast Guard Headquarters, G-SII, 2100 2nd Street, SW., Washington, DC 20593-0001. For records used to determine legal sufficiency for garnishment of wages and pay records: Commanding Officer, United States Coast Guard Human Resources Service and Information Center, 444 S.E. Quincy Street, Topeka, KS 66683-3591. For data added to the decentralized data segment the commanding officer, officer-in-charge of the unit handling the individual's pay and personnel record, or Chief, Administrative Services Division for individuals whose records are handled by Coast Guard Headquarters. Addresses for the units handling the individual's pay and personnel record are available from the individual's commanding officer. For all information on NOAA members: National Oceanic and Atmospheric Administration, Commissioned Personnel Division, 11400 Rockville Pike, Rockville, MD 20852.

Record access procedures:

Same as “Notification procedure”.

Contesting record procedures:

Same as “Notification procedure”.

Record source categories:

Official Officer Service Records, DOT/CG 626. Enlisted Personnel Record System, DOT/CG 629. Official Coast Guard Reserve Service Record, DOT/CG 676. Individual, Coast Guard personnel officials, National Oceanic and Atmospheric Administration personnel officials, and the Department of Defense.

Exemptions claimed for the system:

None.

DOT/CG 624

System name:

Personnel Management Information System, PMIS.

Security classification:

Unclassified—sensitive.

System location:

United States Coast Guard, Commanding Officer Human Resources Service and Information Center, 444 SE Quincy St., Topeka, KS 66683-3591.

Categories of individuals covered by the system:

All regular Coast Guard personnel on active duty. All reserve Coast Guard personnel on extended active duty and Reserve personnel on initial active duty for training.

Categories of records in the system:

A single computer record that currently contains about 450 data elements on each member. Some data elements are used only for enlisted, others only for officers. The file contains personal information such as name, place of birth, rank, location, etc. The file also contains pay date elements which will form the basis for deriving pay entitlements for Coast Guard military personnel under the Joint Uniform Military Pay System, JUMPS.

Authority for maintenance of the system:

5 U.S.C. 301; 14 U.S.C. 92(I), 632; 49 CFR 1.45, 1.46.

Purpose(s):

Produce a number of personnel reports used throughout the Coast Guard.

Routine uses of records maintained in the system, including categories of users and the purposes of such uses:

See Prefatory Statement of General Routine Uses, 3 through 5 do not apply.

Disclosure to consumer reporting agencies:

Disclosures pursuant to 5 U.S.C. 552a(b)(12): Disclosures may be made from this systems to 'consumer reporting agencies' (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

The storage is on computer disks with tape backups. The file is updated once a week. Once a month the file is dumped to a tape file for historical purposes.

Retrievability:

Name or Social Security Number or a combination of personal and non-personal characteristics.

Safeguards:

The computer provides privacy and access limitations by requiring a user name and password match. In addition each element of the file has its own level of accessibility which must be held by the user. Only those staff components at Headquarters with a need to have access to the file are given user names and passwords. Access to the “Time Share” extract is similarly controlled. The backup tapes and monthly dumps also have limited access in that users must justify the need before they are provided the tape numbers.

Retention and disposal:

End-of-Year system backup tapes and day-to-day transaction tapes are retained indefinitely. Statistical and other report extract tapes are recycled into the system and consequently destroyed. Paper working files are disposed of in accordance with current record disposal instructions.

System manager(s) and address:

Commandant, G-WP, United States Coast Guard Headquarters, Director, Personnel Management Directorate, 2100 2nd Street, SW., Washington, DC 20593-0001.

Notification procedure:

Commandant, G-SII, United States Coast Guard Headquarters, 2100 2nd Street, SW., Washington, DC 20593-0001.

Record access procedures:

Same as “Notification procedure”.

Contesting record procedures:

Same as “Notification procedure”.

Record source categories:

Official service record entries prepared by field units.

Exemptions claimed for the system:

None.

DOT/CG 625

System name:

Officer Selection and Appointment System.

Security classification:

Unclassified—sensitive.

System location:

Department of Transportation, DOT, Commander, United States Coast Guard, Personnel Command, 2100 2nd St., SW., Rm. 1422, Washington, DC 20593-0001.

Records are also located at Director, Coast Guard Recruiting Center, 4200 Wilson Blvd., Suite 450, Arlington, VA 22203 and individual recruiting offices.

Use Appendix I for locations.

Categories of individuals covered by the system:

Applicants for Coast Guard Officer Candidate School or direct commission programs of the Coast Guard.

Categories of records in the system:

Information in the system is supplied by applicants and also by persons, other than the applicants, who submit information pertinent to the suitability of the applicants for commissioned service in the Coast Guard.

Authority for maintenance of the system:

5 U.S.C. 301; 10 U.S.C. 591, 12201, 14 U.S.C. 211-295, 632; 49 CFR 1.45, 1.46.

Purpose(s):

The primary purpose is to aid officials and employees of the Coast Guard in the performance of their duties in managing and contributing to the recruitment and appointment of men and women for officer programs in the regular and reserve components of the Coast Guard.

Routine uses of records maintained in the system, including categories of users and the purposes of such uses:

The Attorney General of the United States or his authorized representatives in connection with litigation, fraudulent enlistment or other matters under the jurisdiction of such agencies. Official employees of the Veterans Administration and Selective Service Administration in the performance of their official duties related to enlistment and reenlistment eligibility and related benefits. The Senate or the House of Representatives of the United States or any committee or subcommittee on matters within their jurisdiction requiring disclosure of files or records of personnel covered by this system.

See Prefatory Statement of General Routine Uses, 3 through 5 do not apply.

Disclosure to consumer reporting agencies:

N/A.

Policies and practices for storing, retrieving, accessing, retaining, and disposing of records in the system:

Storage:

Paper records are stored in file folders.

Retrievability:

The system is indexed alphabetically by name of applicant and is retrieved by name.

Safeguards:

Records kept in file cabinets locked after working hours. Buildings have 24-hour security guards and limited access.

Retention and disposal:

Application files for non-selected officer candidate applicants are destroyed after six months and non-selected applicants for direct commission are destroyed after one year. Files for all selected applicants are placed in the selectee's officer personnel folder.

System manager(s) and address:

Department of Transportation , Commander, U. S. Coast Guard Personnel Command, 2100 2nd St., SW., Rm. 1422, Washington, DC 20593-0001.

Notification procedure:

Department of Transportation, United States Coast Guard Headquarters, Commandant, G-SII, 2100 2nd Street, SW., Washington, DC 20593-0001.

Record access procedures:

Procedure may be obtained by writing to or visiting Commandant, G-SII at the address in “Notification Procedure” or to the applicable Coast Guard District Office. A letter request should contain full name, address, social security number, approximate date of application, and signature. Proof of identification will consist of military identification card, driver's license or other official identification.

Contesting record procedures:

Same as “Record access procedures.”

Record source categories:

Coast Guard recruiting personnel and employee processing application. Medical personnel conducting physical examination and private physicians providing consultations or patient history. Character and employer references named by applicants. Educational institutions, staff and faculty members. Selective Service Commission. Local state and Federal law enforcement agencies. Prior or current military service record. Commanding officer of Coast Guard unit, if active duty. Coast Guard offices charged with personnel security clearance functions.

Other Coast Guard officials and employees in the performance of their official duties and as specified by current instructions and regulations promulgated by competent authority.

Exemptions claimed for the system:

Portions of this system of records may be exempt from disclosure under the provisions of 5 U.S.C. 552a(k)(5), which provide, in part, that investigatory material compiled solely for the purpose of determining suitability, eligibility, or qualifications for Federal civilian employment, military service, Federal contracts, or access to classified information may be withheld from disclosure but only to the extent that the disclosure of such material would reveal the identity of a source who furnished information to the Government under an express promise that the identity of the source would be held in confidence, or, prior to December 31, 1974, under an implied promise that the identity of the source would be held in confidence. Portions of this system of records may be exempt from disclosure under the provisions of 5 U.S.C. 552a(k)(7), which provide, in part, that evaluation material used to determine potential for promotion in the armed services may be withheld from disclosure but only to the extent that the disclosure of such material would reveal the identity of a source who furnished information to the Government under an express promise that the identity of a source would be held in confidence, or, prior to December 31, 1974, under an implied promise that the identity of the source would be held in confidence.

DOT/CG 626

System name:

Official Officer Service Records.

Security classification:

Unclassified—sensitive.

System location:

Commander, U.S. Coast Guard Personnel Command, 2100 2nd St., SW., Rm. 1422, Washington, DC 20593-0001. National Personnel Records Center, 9700 Page Boulevard, St. Louis, MO 63112. Individual officer's unit.

Categories of individuals covered by the system:

All Commissioned officers of the Coast Guard on active duty, permanent or disability retired lists. Regular officers who resign and do not accept a Reserve commission.

Categories of records in the system:

General file & service record card. Fitness File & Officer Summary Records. Medical File. Medical History for officers on the Temporary Disability Retired List.

Authority for maintenance of the system:

5 U.S.C. 301; 14 U.S.C. 93®, 632; 10 U.S.C. 1071-1107, 1475-1480, 14 U.S.C. 251-295; 49 CFR 1.45, 1.46.

Purpose(s):

Normal administrative procedures, including assignment, promotion, training, special recognition, etc.

Routine uses of records maintained in the system, including categories of users and the purposes of such uses:

Physical Evaluation Boards. Board for Correction of Military Records. Answering of Congressional and personal inquiries initiated by the individual whose record is concerned. Preparation of forms, statements compilations, and computations necessary in the daily personnel administration of each individual entering reentering or leaving the Coast Guard. (Routine personnel administration requires copies of this and other service record material to be included in administrative files physically separated from the record; however, the original of this material will be included in the official service record maintained at Coast Guard Headquarters). Furnishing of information (authorized and specified by the individual concerned) normally concerned with employment, educational or veteran benefits, claims or applications. Furnishing specified material in an officer's service record pursuant to the order of a court of competent jurisdiction. Personnel from other Federal Agencies in the conduct of official business, as authorized by the Chief, Officer Personnel Management Division or Chief, Reserve Personnel Management Division, or their designated representative. See Prefatory Statement of General Routine Uses, 3 through 5 do not apply.

Disclosure to consumer reporting agencies:

Disclosures may be made from this systems to “consumer reporting agencies” (collecting on behalf of the United States Government) as defined in the Fair Credit Reporting Act (15 U.S.C. 1681a(f) or the Federal Claims Collection Act of 1982 (31 U.S.C. 3701(a)(3)).

Policies and practices for storing, retrieving, accessing, retaining, and disposing of records in the system:

Storage:

Records are maintained on paper and in digitized form. The paper records are stored in files in a controlled access area. The digitized records are stored on hard drives accessed via password by designated Coast Guard personnel.

Retrievability:

Individual records are indexed and retrievable by name and/or last four digits of member's service number.

Safeguards:

During working hours physical access to records is controlled by the Personnel Command, CGPC. Records are maintained in a central storage area locked behind two separate doors during non-working hours in the building, which has roving and static security patrols.

Retention and disposal:

Each individual record is maintained at Coast Guard Headquarters until three months after retirement/resignation, after which is shipped to the National Personnel Records Center (Military Personnel Records), 9700 Page Boulevard, St. Louis, MO 63132. After the separation documents are received, records of Reserve Officers released from active duty and Regular Officers who resign and accept Reserve Commissions are sent to the United States Coast Guard Headquarters, 2100 2nd Street, SW., Washington, DC 20593-0001.

System manager(s) and address:

Commander, U.S. Coast Guard, Personnel Command, 2100 2nd St., SW., Rm. 1422, Washington, DC 20593-0001.

Notification procedure:

Commandant, G-SII, United States Coast Guard Headquarters, 2100 2nd Street, SW., Washington, DC 20593-0001.

Record access procedures:

Same as “Notification procedure”.

Contesting record procedures:

Same as “Notification procedure”.

Record source categories:

Personal interview and voluntary submissions by individuals. Training/Educational Reports. Fitness Reports. USCG District Offices and other operating units of the Coast Guard.

Exemptions claimed for the system:

Portions of this system of records may be exempt from disclosure under the provisions of 5 U.S.C. 552a(k)(5), which provide, in part, that investigatory material compiled solely for the purpose of determining suitability, eligibility, or qualifications for Federal civilian employment, military service, Federal contracts, or access to classified information may be withheld from disclosure, but only to the extent that the disclosure of such material would reveal the identity of a source who furnished information to the Government under an express promise that the identity of the source would be held in confidence, or, prior to December 31, 1974, under an implied promise that the identity of the source would be held in confidence. Portions of this system of records may be exempt from disclosure under the provisions of 5 U.S.C. 552a(k)(7), which provide, in part, that evaluation material used to determine potential for promotion in the armed services may be withheld from disclosure but only to the extent that the disclosure of such material would reveal the identity of a source who furnished information to the government under an express promise that the identity of the source would be held in confidence, or, prior to December 31, 1974, under an implied promise that the identity of the source would be held in confidence.

DOT/CG 627

System name:

Enlisted Recruiting Selection Record System.

Security classification:

Unclassified—sensitive.

System location:

Commander, U. S. Coast Guard Personnel Command, 2100 2nd St., SW., Rm. 1422, Washington, DC 20593-0001. Director, Coast Guard Recruiting Center, 4200 Wilson Blvd., Suite 450, Arlington, VA 22203 and Coast Guard recruiting offices.

Categories of individuals covered by the system:

Records and correspondence pertaining to prospective applicants, applicants for regular and reserve enlisted programs, and any other individuals who have initiated correspondence pertaining to enlistment in the United States Coast Guard.

Categories of records in the system:

Records and correspondence in both automated and non-automated forms concerning personal history, education, professional qualifications, mental aptitude, physical qualifications, character and interview appraisals, National Agency Checks and certifications, service performance and congressional or special interests.

Authority for maintenance of the system:

5 U.S.C. 301; 10 U.S.C. 503, 504, 1168, 1169, 1475-1480; 14 U.S.C. 350-373, 632; 49 CFR 1.45, 1.46.

Purpose(s):

The primary purpose is to serve for officials and employees of the United States Coast Guard, in the performance of their duties in managing and contributing to the recruitment program of the Coast Guard and Coast Guard Reserves.

Routine uses of records maintained in the system, including categories of users and the purposes of such uses:

The Comptroller General or any of his authorized representatives, upon request, in the course of the performance of duties of the General Accounting Office relating to the management or quality of military recruitment. Officials and employees of other Departments and agencies of the Executive Branch of government, upon request, in the performance of their official duties related to the management or quality of military recruitment. Officials and employees of the Veterans Administration and Selective Service System in the performance of their official duties related to enlistment and reenlistment eligibility and related benefits. Such contractors and their employees as are or may be operating in accordance with an approved official contract with the United States Government. See Prefatory Statement of General Routine Uses; 3 through 5 do not apply.

Disclosure to consumer reporting agencies:

None.

Policies and practices for storing, retrieving, accessing, retaining, and disposing of records in the system:

Storage:

Automated records are stored on magnetic tape. Paper records are stored in file folders.

Retrievability:

Alphabetically by name of subject and social security number.

Safeguards:

Records are accessible only to authorized personnel within the Coast Guard recruiting organization and are handled with security procedures appropriate for documents marked “For Official Use Only.”

Retention and disposal:

Records are normally maintained for two years and then disposed of by mutilating, shredding, or burning.

System manager(s) and address:

Commander, U. S. Coast Guard, Personnel Command, 2100 2nd St., SW., Rm. 1422, Washington, DC 20593-0001.

Notification procedure:

Commandant,G-SII-2, United States Coast Guard Headquarters, 2100 2nd Street, SW., Washington, DC 20593-0001.

Record access procedures:

Same as “Notification procedure”.

Contesting record procedures:

Same as “Notification procedure”.

Record source categories:

Coast Guard recruiting personnel and administrative staff. Medical personnel or private physicians providing consultations or patient history. Character and employer references. Educational institutions, staff and faculty members. Selective Service System. Local, State, and Federal law enforcement agencies. Prior or current military service records. Members of Congress. Other officials and employees of the Coast Guard, Department of Defense and components thereof, in the performance of their duties and as specified by current instructions and regulations promulgated by competent authority.

Exemptions claimed for the system:

Portions of this system of records may be exempt from disclosure under the provisions of 5 U.S.C. 552a(k)(5), which provide, in part, that investigatory material compiled solely for the purpose of determining suitability, eligibility, or qualification of Federal civilian employment, military service, Federal contracts, or access to classified information may be withheld from disclosure but only to the extent that the disclosure of such material would reveal the identity of a source who furnished information to the Government under an express promise that the identity of the source would be held in confidence or, prior to December 31, 1974, under an implied promise that the identity of the source would be held in confidence. Portions of this system of records may be exempt from disclosure under the provisions of 5 U.S.C. 552a(k)(7), which provide, in part, that evaluation material used to determine for promotion in the armed services may be withheld from disclosure but only to the extent that the disclosure of such material would reveal the identity of a source who furnished information to the Government under an express promise that the identity of a source would be held in confidence, or, prior to December 31, 1974, under an implied promise that the identity of the source would be held in confidence.

DOT/CG 628

System name:

Officer, Enlisted, and Recruiter Selection System File.

Security classification:

Unclassified—sensitive.

System location:

Commander, U.S. Coast Guard, Personnel Command, 2100 2nd St., SW., Rm. 1422, Washington, DC 20593-0001.

Categories of individuals covered by the system:

Civilian or military personnel who have taken the following tests: United States Navy Officer Qualification Test, OQT; United States Navy and United States Marine Corps Aviation Selection Test (AST); United States Navy Basic Test Battery, BTB (retests); the Cooperative Tests for Advanced Electronic Training, AET TESTS; the 16 Personality Factor Test used for screening of enlisted personnel for recruiting duty; Professional Examination for Merchant Mariners.

Categories of records in the system:

Answer sheets, electronic files.

Authority for maintenance of the system:

5 U.S.C. 301; 14 U.S.C. 632; 46 U.S.C. 7306, 7313, 7316; 49 CFR 1.45, 1.46.

Purpose(s):

Provide test results if an applicant (military or civilian) applies for an officer program or is already in the military and interested in a certain training program.

Routine uses of records maintained in the system, including categories of users and the purposes of such uses:

See Prefatory Statement of General Routine Uses: 3 through 5 do not apply.

Disclosure to consumer reporting agencies:

None.

Policies and practices for storing, retrieving, accessing, retaining, and disposing of records in the system:

Storage:

File folders, case files, and electronic media.

Retrievability:

By name or electronically by social security number.

Safeguards:

Combination-type safe, locked files. Test results are given only on a need to know basis to authorized personnel. Only custodian of safes and alternate custodian have access.

Retention and disposal:

Test answer sheets are destroyed after 2 years. Card file—destroyed after 4 years.

System manager(s) and address:

Commander, U.S. Coast Guard, Personnel Command, 2100 2nd St., SW., Rm. 1422, Washington, DC 20593-0001.

Notification procedure:

Commandant, G-SII, United States Coast Guard Headquarters, 2100 2nd Street, SW., Washington, DC 20593-0001.

Record access procedures:

Same as “Notification procedure.”

Contesting record procedures:

Same as “Notification procedure.”

Record source categories:

Individuals concerned and United States Coast Guard recruiting officials. United States Marine Corps officials. United States Navy Recruiting officials, United States Navy Bureau of Medicine Surgery officials.

Exemptions claimed for the system:

Portions of this system are exempt under the provisions of 5 U.S.C. 552a(k)(5), (6), and (7).

DOT/CG 629

System name:

Enlisted Personnel Record System.

Security classification:

Unclassified—sensitive.

System location:

Commander, U.S. Coast Guard Personnel Command, 2100 2nd St., SW., Rm. 1422, Washington, DC 20593-0001. District offices and Headquarters Units.

Categories of individuals covered by the system:

All enlisted members of the Coast Guard now serving on active duty (including enlisted members of the Reserve on extended active duty), and members who have been temporarily or permanently retired or discharged.

Categories of records in the system:

Enlisted contract package, record of emergency, data, leave records, performance ratings, administrative remarks, medical records. All other requisite Coast Guard personnel forms, and pertinent miscellaneous correspondence.

Authority for maintenance of the system:

5 U.S.C. 301; 10 U.S.C. 1071-1107, 12201, 14 U.S.C. 350-373, 632; 49 CFR 1.45, 1.46.

Purpose(s):

Normal administrative procedures, including assignment, promotion, training, special recognition, etc.

Routine uses of records maintained in the system, including categories of users and the purposes of such uses:

Data are provided to the Veterans Administration for determination of an individual's eligibility for benefits administered by that agency, and to medical facilities maintained by the Department of Health, Education and Welfare in conjunction with medical treatment afforded an individual. See Prefatory Statement of General Routine Uses: 3 through 5 do not apply.

Disclosure to consumer reporting agencies:

Disclosures may be made from this systems to “consumer reporting agencies” (collecting on behalf of the United States Government) as defined in the Fair Credit Reporting Act (15 U.S.C. 1681a(f) or the Federal Claims Collection Act of 1982 (31 U.S.C. 3701(a)(3)).

Policies and practices for storing, retrieving, accessing, retaining, and disposing of records in the system:

Storage:

Paper records are stored in files in a room with controlled access. Digitized records are stored on hard drives accessed via password by designated Coast Guard personnel.

Retrievability:

Name of individual or the last three digits of individual's social security number.

Safeguards:

Records maintained at Coast Guard Headquarters are located in a central storage area, locked behind two separate doors during non-working hours, in a building with a roving security patrol. Records at field units are maintained in Government office buildings with off-duty hours security. During working hours, access to records is controlled by office personnel.

Retention and disposal:

Maintained at CGPC until three months after an enlisted member is discharged, permanently retired for physical disability, or retired for years of service, after which records are transmitted for permanent storage to National Personnel Records Center, (Military Personnel Records), GSA, 9700 Page Boulevard, St. Louis, MO. 63132. In the case of members transferred to the Reserve, their records are sent to Commandant (G-WT) after separation documents are received.

System manager(s) and address:

Commander, U.S. Coast Guard, Personnel Command, 2100 2nd St., SW., Rm. 1422, Washington, DC 20593-0001.

Notification procedure:

Commandant, G-SII, United States Coast Guard Headquarters, 2100 2nd Street, SW., Washington, DC 20593-0001.

Record access procedures:

Same as “Notification procedure” or the local Coast Guard District or unit administrative officer for the area in which an individual's duty station is located.

Contesting record procedures:

Same as “Record access procedures.”

Record source categories:

Information is obtained from the individual, and Coast Guard Officials.

Exemptions claimed for the system:

Portions of this system may be exempt under the provisions of 5 U.S.C. 552a(k)(5) and (7).

DOT/CG 630

System name:

Coast Guard Family Housing.

Security classification:

Unclassified—sensitive.

System location:

Commandant, G-WP, United States Coast Guard Headquarters, 2100 2nd Street, SW., Washington, DC 20593-0001. Each Integrated Support Command and Headquarters Unit.

Categories of individuals covered by the system:

Military and civilian personnel of all pay grades who made application for government and/or government leased housing. Military personnel who make applications in locating community housing. Certain government employees occupying government housing. Military or civilian personnel who have corresponded with the President, a Congressman, or the Commandant concerning family housing.

Categories of records in the system:

Applicants name, pay grade, marital status, current address and dependent information maintained for the Coast Guard Housing System. Includes housing survey; computer data summaries are maintained for the family housing survey. Copies of correspondence from individual to the President, a Congressman or the Commandant, inquiry sheets, and replies maintained for Congressional correspondence files.

Authority for maintenance of the system:

5 U.S.C. 301; 14 U.S.C. 475, 620, 632, 681, 687; 49 CFR 1.45, 1.46.

Purpose(s):

Placing the applicant in government owned or leased housing or community housing.

Routine uses of records maintained in the system, including categories of users and the purposes of such uses:

Assessing housing needs of District and Headquarters Units. Answering inquiries from individuals, Congressmen or the Commandant concerning family housing. Preparing Budgets. See Prefatory Statement of General Routine Uses.

Disclosure to consumer reporting agencies:

None.

Policies and practices for storing, retrieving, accessing, retaining, and disposing of records in the system:

Storage:

File Folder.

Retrievability:

Name of individual, Coast Guard command, and date received.

Safeguards:

Maintained in locked file cabinets and desk file drawers.

Retention and disposal:

Maintained until applicant is placed in housing, then destroyed. Records concerning Congressional correspondence are maintained indefinitely.

System manager(s) and address:

Commandant, G-WP, Director, Personnel Management Directorate, United States Coast Guard Headquarters, 2100 2nd Street, SW., Washington, DC 20593-0001.

Notification procedure:

Commandant, G-SII, United States Coast Guard Headquarters, 2100 2nd Street, SW., Washington, DC 20593-0001.

Record access procedures:

Same as “Notification procedure” or the local Coast Guard District Office.

Contesting record procedures:

Same as “Record access procedures.”

Record source categories:

Applicant, individuals who complete family housing survey forms, initiate correspondence concerning family housing, and Coast Guard Officials.

Exemptions claimed for the system:

None.

DOT/CG 631

System name:

Family Advocacy Case Record System.

Security classification:

Unclassified—sensitive.

System location:

Commandant, G-WP, U.S. Coast Guard Headquarters, 2100 2nd St. SW., Washington, DC 20593-0001. District, Maintenance and Logistics Command, MLC, or Headquarters Unit Social Worker's office, at the duty station of the sponsor, and at selected medical facilities. District, MLC, or Headquarters Unit Family Advocacy Representative, FAR under whose jurisdiction an incident occurred.

Categories of individuals covered by the system:

Active duty, reserve and retired personnel and dependents entitled to care at Coast Guard or any other military medical and dental facility whose abuse or neglect is brought to the attention of appropriate authorities, and persons suspected of abusing or neglecting such beneficiaries.

Categories of records in the system:

Medical records of suspected and confirmed cases of family member abuse or neglect, investigative reports, correspondence, family advocacy committee reports, follow up and evaluation reports, and any other supportive data assembled relevant to individual family advocacy program files.

Authority for maintenance of the system:

5 U.S.C. 301; 14 U.S.C. 632, 42 U.S.C. 5101, 5102; 49 CFR 1.45, 1.46.

Purpose(s):

Coordination of the Coast Guard's Family Advocacy program.

Routine uses of records maintained in the system, including categories of users and the purposes of such uses:

To Federal, State and Local government or private agencies for coordination of family advocacy programs, medical care, mental health treatment, civil or criminal law enforcement, and research into the causes and prevention of family domestic violence. To individuals or organizations providing family support program care under contract to the Federal Government. See Prefatory Statement of General Routine Uses.

Disclosure to consumer reporting agencies:

None.

Policies and practices for storing, retrieving, accessing, retaining, and disposing of records in the system:

Storage:

File folders, microfilm, magnetic tape, punched cards, machine lists, discs, and other computerized or machine readable media.

Retrievability:

Name, social security number, types of incidents, etc.

Safeguards:

Maintained in various kinds of locked filing equipment in specified monitored or controlled access rooms or areas. Records are accessible only to authorized personnel. Computer terminals are located in supervised areas, with access controlled by password or other user code system.

Retention and disposal:

Records will be maintained at a decentralized location until the case is closed or the sponsor is separated. Upon case closure or separation of the sponsor, the record will be transferred to Commandant, G-WPW. The record will be retained for 5 years from case closure or date of last action. At the end of 5 years the record will be destroyed, except for information concerning certain minor Coast Guard dependents who were victims or suspected victims of child abuse, neglect or sexual abuse will be retained until the dependent attains majority.

System manager(s) and address:

Commandant, G-WP, Director, Personnel Management Directorate, United States Coast Guard Headquarters, 2100 2nd Street, SW., Washington, DC 20593-0001.

Notification procedure:

Commandant, G-SII, United States Coast Guard Headquarters, 2100 2nd Street, SW., Washington, DC 20593-0001. MLC, district, or unit where the individual is assigned.

Record access procedures:

Same as “Notification procedure.”

Contesting record procedures:

Same as “Notification procedure.”

Record source categories:

Reports from medical personnel, educational institutions, law enforcement agencies, public and private health and welfare agencies, Coast Guard personnel and private individuals.

Exemptions claimed for the system:

Part of this system may be exempt under 5 U.S.C. 552a(k)(2) and (5).

DOT/CG 632

System name:

Uniformed Services Identification and Privilege Card Record System.

Security classification:

Unclassified—sensitive.

System location:

Commandant, G-WP, United States Coast Guard Headquarters, 2100 2nd Street, SW., Washington, DC 20593-0001.

Categories of individuals covered by the system:

Dependents of United States Coast Guard personnel (active, retired, reserve and deceased). Former Coast Guard personnel who have been rated by the Veterans Administration as one-hundred percent disabled and their eligible dependents.

Categories of records in the system:

Applications for Uniformed Service Identification and Privilege Card, DD-1172. Verification for eligibility to possess the Identification and Privilege Card, DD-1173. Pertinent miscellaneous correspondence.

Authority for maintenance of the system:

5 U.S.C. 301; 14 U.S.C. 632, 49 CFR 1.45, 1.46; E.O. 9397; COMDTINST 5512.1.

Purpose(s):

Verify that an applicant is entitled to be issued an Identification and Privilege Card.

Routine uses of records maintained in the system, including categories of users and the purposes of such uses:

Verification provided to other Armed Forces authorized personnel as required. See Prefatory Statement of General Routine Uses.

Disclosure to consumer reporting agencies:

None.

Policies and practices for storing, retrieving, accessing, retaining, and disposing of records in the system:

Storage:

Maintained in file folders.

Retrievability:

Alphabetical by name.

Safeguards:

Maintained in file cabinets. During working hours access to records is controlled by office personnel. During non-working hours building is patrolled by roving security guards.

Retention and disposal:

Retained for 10 years, then destroyed.

System manager(s) and address:

Director, Personnel Management Directorate, G-WP, United States Coast Guard Headquarters, 2100 2nd Street, SW., Washington, DC 20593-0001.

Notification procedure:

Commandant, G-SII, United States Coast Guard Headquarters, 2100 2nd Street, SW., Washington, DC 20593-0001.

Record access procedures:

Same as “Notification procedure.”

Contesting record procedures:

Same as “Notification procedure.”

Record Source Categories:

Sponsor and/or dependents.

Exemptions claimed for the system:

None.

DOT/CG 633

System name:

Coast Guard Civilian Personnel Security Program.

Security classification:

Unclassified—sensitive.

System location:

Commandant, G-WP, United States Coast Guard Headquarters, 2100 2nd Street, SW., Washington, DC 20593-0001. Each District Office and Headquarters Unit.

Categories of individuals covered by the system:

Coast Guard Civilian Personnel. Applicants for civilian positions.

Categories of records in the system:

Records of civilian security clearance granted. Correspondence and requests concerning civilian personnel security actions.

Authority for maintenance of the system:

5 U.S.C. 301, 5102, 14 U.S.C. 632; 49 CFR 1.45, 1.46.

Purpose(s):

Determine eligibility for access to classified information under Executive Order 11652.

Routine uses of records maintained in the system, including categories of users and the purposes of such uses:

Suitability for sensitive positions. See Prefatory Statement of General Routine Uses; 3 through 5 do not apply.

Disclosure to consumer reporting agencies:

None.

Policies and practices for storing, retrieving, accessing, retaining, and disposing of records in the system:

Storage:

File folder—3x5 Index cards.

Retrievability:

By name of individual.

Safeguards:

Kept in locked cabinets and safes. Individual identification is required for users of records.

Retention and disposal:

Upon termination of employment investigative files for civilians, which serve as a basis for security clearances, are returned to the Office of Personnel Management. A name record of type of investigation is kept for 5 years and then destroyed by burning.

System manager(s) and address:

Director, Personnel Management Directorate, G-WP, United States Coast Guard Headquarters, 2100 2nd Street, SW., Washington, DC 20593-0001.

Notification procedure:

Commandant, G-SII, United States Coast Guard, Headquarters, 2100 2nd Street, SW., Washington, DC 20593-0001.

Record access procedures:

Same as “Notification procedure” or the local office or unit.

Contesting record procedures:

Same as “Record access procedures.”

Record source categories:

Civil Service Investigative Reports, Personnel Security Clearance requests and forms SF-85, SF-86 and SF-171.

Exemptions claimed for the system:

Portions of this system of records may be exempt from disclosure under the provisions of 5 U.S.C. 552a(k)(5) and (7).

DOT/CG 634

System name:

Child Care Program Record System.

Security classification:

Unclassified—sensitive.

System location:

At the facility where the care was provided or is being provided.

Categories of individuals covered by system:

Children enrolled in a U.S. Coast Guard child care program. Children being cared for in U.S. Coast Guard family quarters. Eligible children of active duty members of the Uniformed Services and children of Federal employees.

Categories of records in the system:

Information about the family; medical history of child; authorization for emergency medical care; permission for field trips; authorization to release child to someone other than parent; establishment of eligibility for participation in State or Federally sponsored programs; communication between the care provider and parents about child; and other necessary records to protect health and safety of children.

Authority for maintenance of the system:

5 U.S.C. 301; 14 U.S.C. 515, 632; 49 CFR 1.45, 1.46; COMDTINST 1754.15.

Purpose(s):

Administer the Coast Guard's Child Care Program.

Routine uses of records maintained in the system, including categories of users and the purposes of such uses:

Provided to Federal, State, or local governments and agencies to report medical conditions and other data required by law; to aid in preventive health and communicable disease control problems. Provided to Department of Agriculture for use in determining eligibility to participate in the Child Care Food Program. See Prefatory Statement of General Routine Uses.

Disclosure to consumer reporting agencies:

None.

Policies and practices for storing, retrieving, accessing, retaining, and disposing of records in the system:

Storage:

Maintained on forms in file folders or in computer file.

Retrievability:

Name of child.

Safeguards:

Files are maintained in a secured filing cabinet. Access is regularly limited to authorized center staff. Files for child care in U.S. Coast Guard family quarters are maintained in a cabinet or drawer in the quarters.

Retention and disposal:

Child's record file is destroyed 3 years after date of last action. Registration/medical forms may be sent to another facility if child transfers. CCFP eligibility records are transferred to an audit file at the end of each year where they are not retrieved by child's name. Audit records are destroyed after 3 years or after audited, whichever is sooner.

System manager(s) and address:

Director, Personnel Management Directorate, G-WP, United States Coast Guard Headquarters, Washington, DC 20593-0001.

Notification procedure:

Commandant, G-SII, United States Coast Guard Headquarters, 2100 2nd Street, SW., Washington, DC 20593-0001. Child care facility that provided care.

Record access procedures:

Same as “Notification procedure.”

Contesting record procedures:

Same as “Notification procedure.”

Record source categories:

Parents or medical personnel familiar with the child's medical history.

Exemptions claimed for the system:

None.

DOT/CG 636

System name:

Personal Affairs Record System Coast Guard Military Personnel.

Security classification:

Unclassified—sensitive.

System location:

Commandant, G-WK, United States Coast Guard Headquarters, 2100 2nd Street, SW., Washington, DC 20593-0001. Each District and Headquarters Unit. See Appendix I for locations.

Categories of individuals covered by the system:

Active duty and retired Coast Guard military personnel who have been subject to damage arising out of domestic relations disputes, alleged personal indebtedness, and claims of alleged paternity.

Categories of individuals covered by the system:

Case files containing complaint concerning alleged personal indebtedness, complaints arising out of domestic relations disputes, claims of alleged paternity. Files contain correspondence including investigative steps, response to complaints and follow up correspondence on recurring complaints. Index card files contain summary of material contained in case file for each reference.

Authority for maintenance of the system:

5 U.S.C. 301; 10 U.S.C. 1058; 14 U.S.C. 632; 42 U.S.C. 666; 49 CFR 1.45, 1.46.

Purpose(s):

Resolve complaints in an expeditious manner.

Routine uses of records maintained in the system, including categories of users and the purposes of such uses:

For reference in development of future policy. See Prefatory Statement of General Routine Uses; 3 through 5 do not apply.

Disclosure to consumer reporting agencies:

None.

Policies and practices for storing, retrieving, accessing, retaining, and disposing of records in the system:

Storage:

Case file and card index file.

Retrievability:

Alphabetical listing.

Safeguards:

Kept in locked filing cabinet. Personnel are screened prior to granting access.

Retention and disposal:

Maintained for 5 years after action completed and then destroyed.

System manager(s) and address:

Director, Personnel Management Directorate, G-WK, United States Coast Guard Headquarters, 2100 2nd Street, SW., Washington, DC 20593-0001.

Notification Procedure:

Commandant, G-SII, United States Coast Guard Headquarters, 2100 2nd Street, SW., Washington, DC 20593-0001.

Record access procedures:

Same as “Notification procedure” or the local Coast Guard District Office or unit for the area in which an individual's duty station is located.

Contesting record procedures:

Same as “Record access procedures.”

Record source categories:

Complainants, their legal representatives, and Coast Guard officials.

Exemptions claimed for the system:

None.

DOT/CG 637

System name:

Appointment of Trustee or Guardian for Mentally Incompetent Personnel.

Security classification:

Unclassified—sensitive.

System location:

Commandant, G-WP, United States Coast Guard Headquarters, 2100 2nd Street, SW., Washington, DC 20593-0001. Each District and Headquarters Unit.

Categories of individuals covered by the system:

Active duty and retired Coast Guard military personnel.

Categories of records in the system:

Information relating to the mental incompetency of certain Coast Guard personnel. Records used to assist Coast Guard Officials in appointing trustees for mentally incompetent Coast Guard persons.

Authority for maintenance of the system:

5 U.S.C. 301; 10 U.S.C. 1443, 1448, 1449; 14 U.S.C. 632; 37 U.S.C. 601-604; 33 CFR 49.05; 49 CFR 1.45, 1.46.

Purpose(s):

Maintain information to determine eligibility for VA benefits.

Routine uses of records maintained in the system, including categories of users and the purposes of such uses:

Information to prospective appointees, including but not limited to relatives, lawyers, physicians or other designated representatives; and Department of Veterans Affairs upon request for the determination of eligibility for benefits administered by that agency. See Prefatory Statement of General Routine Uses; 3 through 5 do not apply.

Disclosure to consumer reporting agencies:

None.

Policies and practices for storing, retrieving, accessing, retaining, and disposing of records in the system:

Storage:

Locked file cabinet.

Retrievability:

Alphabetical listing.

Safeguards:

Stored in locked file cabinets. Access restricted to representatives of incompetent.

Retention and Disposal:

Maintained for 5 years after action is complete then destroyed.

System manager(s) and address:

Director, Personnel Management Directorate, G-WP, United States Coast Guard Headquarters, 2100 2nd Street, SW., Washington, DC 20593-0001.

Notification procedure:

Commandant, G-SII, United States Coast Guard Headquarters, 2100 2nd Street, SW., Washington, DC 20593-0001.

Record access procedures:

Same as “Notification procedure” or the local Coast Guard District office or unit having custody of the records.

Contesting record procedures:

Same as “Record access procedures.”

Record source categories:

Coast Guard officials, legal representatives of individuals and/or individuals concerned and complainants.

Exemptions claimed for the system:

None.

DOT/CG 638

System name:

U.S.C.G Alcohol Abuse Prevention Program Record System.

Security classification:

Unclassified—sensitive.

System location:

Commander, Atlantic Area, United States Coast Guard, 431 Crawford Street, Portsmouth, VA 23704. Commander, Pacific Area, United States Coast Guard, Coast Guard Island, Alameda, CA 94501-5100.

Categories of individuals covered by the system:

Active duty Coast Guard personnel receiving alcohol rehabilitation treatment.

Categories of records in the system:

Name, Social Security Number, Prior Service, Rate/Rank, Date of Birth, History of Alcohol Abuse, Treatment Center, Dates of Treatment, Notes on Aftercare, and Final Disposition and Type.

Authority for maintenance of the system:

5 U.S.C. 301; 5 U.S.C. 7901; 14 U.S.C. 632; 42 U.S.C. 4541; 49 CFR 1.45, 1.46; COMDTINST M6330.1.

Purpose(s):

Administer the Coast Guard Alcohol Abuse Prevention program.

Routine uses of records maintained in the system, including categories of users and the purposes of such uses:

See Prefatory Statement of General Routine Uses; 3 through 5 do not apply.

Disclosure to consumer reporting agencies:

None.

Policies and practices for storing, retrieving, accessing, retaining, and disposing of records in the system:

Storage:

Maintained on file cards (3″ × 5″) and/or a computer data base.

Retrievability:

By the name of the individual.

Safeguards:

Maintained in locked filing cabinets. The computer database is protected by password access limited to Alcohol Program Managers.

Retention and disposal:

Destroyed three years after last activity.

System manager(s) and address:

Commandant, G-WK, United States Coast Guard Headquarters, 2100 2nd Street, SW., Washington, DC 20593-0001-0001.

Notification procedure:

Same as “System location”.

Record access procedures:

Same as “System location”.

Contesting record procedures:

Same as “System location”.

Record source categories:

Personnel records. Medical records. Security records. Treatment facility reports. Post treatment aftercare reports.

Exemptions claimed for the system:

None.

DOT/CG 639

System name:

Request for Remission of Indebtedness.

Security classification:

Unclassified—sensitive.

System location:

Commandant, G-WP, United States Coast Guard Headquarters, 2100 2nd Street, SW., Washington, DC 20593-0001. Each District and Headquarters Unit.

Categories of individuals covered by the system:

Active Duty Enlisted Coast Guard Personnel.

Categories of records in the system:

Correspondence, requests with endorsements, research material, paneling action, Commandant's decisions.

Authority for maintenance of the system:

5 U.S.C. 301; 14 U.S.C. 461, 632; 49 CFR 1.45, 1.46.

Purpose(s):

Aid in making determinations based on the best interests of the individual and the Government.

Routine uses of records maintained in the system, including categories of users and the purposes of such uses:

See Prefatory Statement of General Routine Uses: 3 through 5 do not apply.

Disclosure to consumer reporting agencies:

None.

Policies and practices for storing, retrieving, accessing, retaining, and disposing of records in the system:

Storage:

Locked filing cabinets.

Retrievability:

Alphabetical listing.

Safeguards:

Locked filing cabinets.

Retention and disposal:

Retained for 5 years after decision is made, then destroyed.

System manager(s) and address:

Director, Personnel Management Directorate, G-WP, United States Coast Guard Headquarters, 2100 2nd Street, SW., Washington, DC 20593-0001.

Notification procedure:

Commandant, G-SII, United States Coast Guard Headquarters, 2100 2nd Street, SW., Washington, DC 20593-0001.

Record access procedures:

Same as “Notification procedure”, or the local Coast Guard District or unit for the area in which an individual's duty station is located.

Contesting record procedures:

Same as “Record access procedures.”

Record source categories:

Individual, and Coast Guard Officials.

Exemptions claimed for the system:

None.

DOT/CG 640

System name:

Outside Employment of Active Duty Coast Guard Personnel.

Security classification:

Unclassified—sensitive.

System location:

Commandant (G-WP), United States Coast Guard Headquarters, 2100 2nd Street, SW., Washington, DC 20593-0001. Each District Office and Headquarters Unit.

Categories of individuals covered by the system:

Active Duty and Reserve Coast Guard Personnel.

Categories of records in the system:

Correspondence relating to individual's request for part time employment.

Authority for maintenance of the system:

5 U.S.C. 301; 14 U.S.C. 92(I), 632; 49 CFR 1.45, 1.46; COMDTINST 1000.6A

Purpose(s):

Determine suitability for off duty employment for Coast Guard members.

Routine uses of records maintained in the system, including categories of users and the purposes of such uses:

See Prefatory Statement of General Routine Uses; 3 through 5 do not apply.

Disclosure to consumer reporting agencies:

None.

Policies and practices for storing, retrieving, accessing, retaining, and disposing of records in the system:

Storage:

Locked filing cabinets.

Retrievability:

Alphabetical listing.

Safeguards:

Kept in locked filing cabinet. Access restricted to individuals who request outside employment, and authorized Coast Guard officials. Proper identification required.

Retention and disposal:

Retained indefinitely.

System manager(s) and address:

Director, Personnel Management Directorate (G-WP), United States Coast Guard Headquarters, 2100 2nd Street, SW., Washington, DC 20593-0001.

Record access procedures:

Same as “Notification procedure” or the local Coast Guard District Office or unit for the area in which an individual's duty station is located.

Contesting Record Procedures:

Same as “Record access procedures.

Record source categories:

Individual, and Coast Guard officials.

Exemptions claimed for the system:

None.

DOT/CG 641

System name:

Coast Guard Special Needs Program.

Security classification:

Unclassified—sensitive.

System location:

Commandant, G-WP, United States Coast Guard Headquarters, 2100 2nd Street, SW., Washington, DC 20593-0001. District, Maintenance and Logistics Command (MLC), or Headquarters Unit Social Worker's Office, Headquarters Unit Family Advocacy Representative, FAR, at the duty station of the sponsor, and at selected medical facilities.

Categories of individuals covered by the system:

Active duty and retired Coast Guard personnel and their dependents who have diagnosed medical, physical, psychological, or educational need which constitutes a developmental disability or handicapped condition. Active duty Coast Guard personnel and their dependents considered for overseas assignment.

Categories of records in the system:

Extracts or copies of medical, educational and psychological records of member and/or dependents with special needs, follow-up and evaluation reports, and any other data relevant to individual special needs program files or overseas screening.

Authority for maintenance of the system:

5 U.S.C. 301; 14 U.S.C. 335, 632; 49 CFR 1.45, 1.46; COMDTINST 1754.7A.

Purpose(s):

Provide for Federal Government agency coordination of special needs programs, medical care, mental health treatment, and monitoring and tracking special needs families.

Routine use of records maintained in the system, including categories of users and the purposes of such uses:

See Prefatory Statement of General Routine Uses.

Disclosure to consumer reporting agencies:

None.

Policies and practices for storing, retrieving, accessing, retaining, and disposing of records in the system:

Storage:

File folder, microfilm, magnetic tape, punched cards, machine lists, discs, and other computerized or machine readable media.

Retrievability:

Name, social security number and the diagnosis or International Classification of Diseases, ICD, code of the special needs condition.

Safeguards:

Various kinds of locked filing equipment in specified monitored or controlled access rooms or areas. Records are accessible only to authorized personnel. Computer terminals are located in supervised areas, with access controlled by password or other user code system.

Retention and disposal:

Maintained at a decentralized location until the sponsor is separated or the dependent is no longer diagnosed as having special needs. Upon separation of the sponsor or when the dependent is no longer diagnosed as having special needs, the record will be transferred to Commandant, G-WPW. After a 3-year retention, the record is destroyed.

System manager(s) and address:

Chief, Office of Personnel and Training, G-WP, United States Coast Guard, Washington, DC 20593-0001.

Notification procedure:

Commandant, G-SII, United States Coast Guard, Washington, DC 20593-0001. MLC, district, or unit where the individual is assigned.

Record access procedures:

Same as “Notification procedure”.

Contesting record procedures:

Same as “Notification procedure”.

Record source categories:

Medical personnel, mental health and educational institutions, public and private health and welfare agencies and Coast Guard personnel and private individuals.

Exemptions claimed for the system:

None.

DOT/CG 642

System Name:

Joint Maritime Information Element, JMIE, Support System, JSS.

Security classification:

Classified.

System location:

United States Coast Guard, Operations Systems Center, Martinsburg, WV 25401.

Categories of individuals covered by the system:

Individuals with established relationship(s)/association(s) to maritime vessels that are included in the Joint Maritime Information Element, JMIE, Support System, JSS: Ship owners, passengers and crew.

Categories of records in the system:

Maritime vessels and vessel characteristics including: Performance data, vessel identification data, registration data, movements, reported locations, activity and associate information (data pertaining to people or organizations associated with vessels) for owners, passengers, and crew members. Reports submitted by Coast Guard crews relating to boardings and/or overflights, as well as any violations of United States law, along with enforcement actions taken during boarding. Such reports could contain names of passengers on vessels, as well as owners and crew members. Vessels and associates known, suspected or alleged to be involved in contraband trafficking. Within the JMIE Support System, contraband is meant to refer to any item that is illegally imported/exported to/from the United States via maritime activity.

Authority for maintenance of the system:

United States Coast Guard, 14 U.S.C. 89. United States Customs Service, 19 U.S.C. 1589A(2). Drug Enforcement Administration, 21 U.S.C. 800—900. Immigration and Naturalization Service, 8 U.S.C. 1551.

Purpose(s):

Maintaining suspect lists, enforcing United States laws dealing with items such as counter narcotics, fisheries, and boating safety.

Routine uses of records maintained in the system, including categories of users and the purposes of such uses:

Ship location and associated information such as declared cargo, ownership, crew members, passengers, reported historical profiles relating to travel, cargo and ports of call may be reported to federal, state, and/or local law enforcement officials for purposes of intercepting ships and inspecting cargo and ship structures. See Prefatory Statement of General Routine Uses.

Disclosure to consumer reporting agencies:

None.

Policies and practices for storing, retrieving, accessing, retaining, and disposing of records in the system:

Storage:

Storage of all records is in an ADP database operated and maintained by the United States Coast Guard. Privacy Act data are stored and controlled separately from other information in the database. Classified and non-classified information from consortium members and other sources is merged into a classified database. Dynamic information on vessel location and movements is obtained daily and stored on-line (disk resident) for a period of two (2) years. Other information such as characteristics, identification status and associate records is updated at prescribed intervals of three (3) months to one year to remain current and is retained indefinitely. Classified information, downloaded from the host and then extracted from the PC workstations and recorded on paper (or magnetic media), may be stored at user sites in classified storage containers or on secured magnetic media. Unclassified information is stored in accordance with each user sites' handling procedures. All records provided to a JSS subscriber in response to a “specific name” query, will be kept in an audit record and retained for a minimum of five (5) years or the life of the system, whichever is longer.

Retrievability:

Matching individual name, Social Security Number, passport number, or the individual's relationship to the vessel (e.g., owner, shipper, consignee, crew member, passenger, etc.). Controls have been installed to ensure information on individuals is not retrievable or accessed by members of the intelligence community.

Safeguards:

JMIE has its own approved System Security Plan.

Retention and disposal:

Records relating to ship characteristics are retained indefinitely. Records of a transitory nature (relative to ship locations, and individuals identified as passengers or crew, etc.) are maintained on line for a minimum of two (2) years, then purged per General Records Schedule 23. Audit records, maintained to document JSS user access to information relating to specific individuals, are maintained for five (5) years, or the life of the system, whichever is longer. Access to audit records will only be granted to authorized personnel approved by the Executive Agent. Information retrieved from the host and stored at user sites will be disposed of in accordance with the requirements for classified and sensitive information.

System manager and address:

Chief, Office of Law Enforcement and Defense Operations, United States Coast Guard, 2100 Second Street, SW., Washington, DC 20593-0001 ATTN: JMIE Program Manager.

Notification procedure:

Commanding Officer, United States Coast Guard Operations Systems Center, Martinsburg, WV 25401.

Record access procedure:

Same as “Notification procedure”.

Contesting record procedures:

Same as record access procedure.

Record source categories:

Federal, State and local law enforcement agencies, other Federal agencies.

Exemptions claimed for the system:

Under subsections (j)(2) and (k)(1) and (2) of the Privacy Act (5 U.S.C. 552a), portions of this system of records are exempt.

DOT/CG 671

System name:

Biographical Statement.

Security classification:

Unclassified—sensitive.

System location:

Commandant, G-CP, United States Coast Guard Headquarters, 2100 2nd Street, SW., Washington, DC 20593-0001.

Categories of individuals covered by the system:

Key DOT officials, USCG flag officers.

Categories of records in the system:

Individual biographical data.

Authority for maintenance of the system:

5 U.S.C. 301, 302; 14 U.S.C. 632; 49 CFR 1.45, 1.46.

Purpose(s):

For Public Affairs Staff to use as records for publicity.

Routine uses of records maintained in the system, including categories of users and the purposes of such uses:

Personnel Office—uses records for promotion. See Prefatory Statement of General Routine Uses.

Disclosure to consumer reporting agencies:

None.

Policies and practices for storing, retrieving, accessing, retaining, and disposing of records in the system:

Storage:

Paper forms and correspondence are stored in filing cabinets.

Retrievability:

By name.

Safeguards:

Stored in building having roving security guards during non-working hours. Personnel are screened prior to granting access.

Retention and disposal:

Transferred to historical file upon termination of active duty.

System manager(s) and address:

Commandant, G-CP, United States Coast Guard Headquarters, 2100 2nd Street, SW., Washington, DC 20593-0001.

Notification procedure:

Commandant, G-SII, United States Coast Guard Headquarters, 2100 2nd Street, SW., Washington, DC 20593-0001.

Record access procedures:

Same as “Notification procedure.”

Contesting record procedures:

Same as “Notification procedure.”

Record source categories:

Individual named in file.

Exemptions claimed for the system:

None.

DOT/CG 676

System name:

Official Coast Guard Reserve Service Record.

Security classification:

Unclassified—sensitive.

System location:

United States Coast Guard, CG, Commandant, G-WT, 2100 2nd Street, SW., Washington, DC 20593-0001. Each Coast Guard District Reserve office (for District records). For official records on discharged, retired, and separated former members: General Services Administration (GSA), National Personnel Records Center (Military Personnel Records), 9700 Page Boulevard, St. Louis, MO 63132.

Categories of individuals covered by the system:

Reserve officer and enlisted personnel (not on extended active duty) in an active, inactive, retired, discharged, separated or former member status; including those Reservists released from extended active duty to fulfill a specified term of obligated inactive reserve service. Enrolled and disenrolled members of the Temporary Coast Guard Reserve.

Categories of records in the system:

Official career history of each Reservist.

Authority for maintenance of the system:

5 U.S.C. 301; 10 U.S.C. 1209, 10147, 12102, 12735, 14 U.S.C. 251-295, 632; 49 CFR 1.45, 1.46.

Purpose(s):

Ensure fulfillment of normal administrative personnel procedures, including examining and screening for completeness and accuracy of records correspondence.

Routine uses of records maintained in the system, including categories of users and the purposes of such uses:

Screening of service records for advancement, promotion, or retention of individual Reservists by various Reserve. Furnishing of information (authorized and specified by the individual concerned) to other agencies or individuals (specified by the individual concerned) normally concerned with employment, educational or Veteran's benefits, claims, or applications. Furnishing specified material in a Reservist's service record pursuant to the order of a court of competent jurisdiction. See Prefatory Statement of General Routine Uses.

Disclosure to consumer reporting agencies:

Disclosures may be made from this systems to “consumer reporting agencies” (collecting on behalf of the United States govt.) as defined in the Fair Credit Reporting Act (15 (U.S.C. 1681a(f)) or the Federal Claims Collecting Act of 1982 (31 U.S.C. 3701(a)(3)).

Policies and practices for storing, retrieving, accessing, retaining, and disposing of records in the system:

Storage:

Records maintained on paper assembled and filed in one official service record per member.

Retrievability:

Name and/or triple terminal digit of member's service number.

Safeguards:

Service records are maintained in a central storage area locked behind two separate doors. During non-working hours the building security consists of roving and static security patrols. During working hours physical access to records is controlled by Records control Branch personnel.

Retention and disposal:

Individual records are maintained at CG Headquarters until six months after an enlisted member's separation from the service (three months for officers), after which it is transmitted for permanent storage to the Military Personnel Record Center, MPRC, National Personnel Records Center, NPRC, 9700 Page Boulevard, St. Louis, MO 63132. For retired members, the service record is shipped to NPRC upon retirement.

System manager(s) and address:

Commandant, G-WT, Director, Reserve and Training Directorate, United States Coast Guard Headquarters, 2100 2nd Street, SW., Washington, DC 20593-0001.

Notification procedure:

Commandant, G-SII, United States Coast Guard Headquarters, 2100 2nd Street, SW, Washington, DC 20593-0001.

Record access procedures:

Same as “Notification procedure”, or the District Office in which an individual's duty station is located.

Contesting record procedures:

Same as “Record Access Procedures.”

Record source categories:

The individual concerned, CG Headquarters, District offices, and other CG units.

Exemptions claimed for the system:

Portions of this system of records may be exempt from disclosure under the provisions of 5 U.S.C 552a(k)(5), and (6).

DOT/CG 677

System name:

Coast Guard Reserve Personnel Mobilization System

Security classification:

Unclassified—sensitive.

System location:

Commandant, G-WT, United States Coast Guard Headquarters, 2100 2nd Street, SW., Washington, DC 20593-0001. Commander, Reserve in each Coast Guard District Office (except 17th). Each District and Headquarters Unit.

Categories of individuals covered by the system:

Reserve officer and enlisted personnel (not on extended active duty) in an Active or Retired status, including those Reservists released from extended active duty to fulfill a specified term of obligated inactive Reserve service.

Categories of records in the system:

Mobilization and qualification cards and orders. Initial, Annual, and Retired Screening and Qualification Questionnaires.

Authority for maintenance of the system:

5 U.S.C 301; 10 U.S.C 10207, 12301, 12321; 14 U.S.C 632; 49 CFR 1.45, 1.46.

Purpose(s):

Fulfillment of normal administrative procedures including the examining and screening for completeness and accuracy of records, correspondence pertaining thereto as a basis for assignment to active duty for training, special active duty for training or extended active duty and mobilization billets.

Routine uses of records maintained in the system, including categories of users and the purposes of such uses:

See Prefatory Statement of General Routine Uses.

Disclosure to consumer reporting agencies:

None.

Policies and practices for storing, retrieving, accessing, retaining, and disposing of records in the system:

Storage:

Records maintained on paper, punched cards and magnetic tape.

Retrievability:

Name and/or social security account number.

Safeguards:

Safeguards and controls afforded this system of records are similar to those normally employed “For Official Use Only” material, both at Headquarters and District Offices. Records are maintained in locked secure areas when not in use and personnel screening is employed prior to granting access.

Retention and disposal:

The majority of records in this system (in any form) are generally destroyed immediately after the expiration of their useful life, except those retained in the aforementioned “dead files” (which are subsequently destroyed one year after placement in the file). The major exceptions to this policy are the Screening and Qualification Questionnaires, which are filed in the Reservists District Service Record. Records are destroyed by mutilating, shredding or burning.

System manager(s) and address:

Commandant, G-WT, United States Coast Guard Headquarters, Director, Reserve and Training Directorate, 2100 2nd Street, SW., Washington, DC 20593-0001.

Notification procedures:

Commandant, G-SII, United States Coast Guard Headquarters, 2100 2nd Street, SW., Washington, DC 20593-0001.

Records access procedures:

Same as “Notification procedure.”

Contesting record Procedures:

Same as “Notification procedure.”

Record source categories:

The individual, CG Headquarters and CG District Offices.

Exemptions claimed for the system:

None.

DOT/CG 678

System name:

Reserve Personnel Management Information System, Automated.

Security classification:

Unclassified—sensitive.

System location:

Commandant, G-WT, Director, Reserve and Training Directorate, United States Coast Guard Headquarters, 2100 2nd Street, SW., Washington, DC 20593-0001.

Categories of individuals covered by the system:

Reserve officers and enlisted personnel in an active or inactive status, including retired reservist, and those reservists released from extended active duty to fulfill a specific term of inactive obligated service.

Categories of records in the system:

Name, social security number, present and last five grades or rates, educational background, civilian and military, foreign language and proficiency, history of unit assignments and dates assigned, duty status, date of birth, date of enlistment, appointment or extension, AFQT scores, source of entry, date of commission, prior service, date of expiration of obligation, anniversary data on pay base date, aviation pay and administrative pay, training rate, reserve category and class, training/pay category, data on ADT for last five years, number of dependents, Federal withholding exemptions, Selective Service induction certification, date of completion of Ready obligation, officer experience indicator, last screening date and result, civilian occupation, date of last National Agency Check, Background Investigation and security clearance, domestic emergency volunteer, date of last physical and immunization, data on special active duty for training and extended active duty, annual training date, total retirement points and satisfactory years of service for retirement purpose, current year retirement point accounting data, including inactive duty training participation, correspondence course activity, taxable wages paid and withholdings, uniform allowances, Servicemen's Group Life Insurance, SGLI information, mailing address, and work and home phone number.

Authority for maintenance of the system:

5 U.S.C. 301; 10 U.S.C. 12301-12321; 14 U.S.C. 632; 49 CFR 1.45, 1.46.

Purpose(s):

Personnel administration of individual reservists and the overall management of the reserve program.

Routine uses of records maintained in the system, including categories of users and the purposes of such uses:

To the Treasury Department to complete payroll checks. See Prefatory Statement of General Routine Uses.

Disclosure to consumer reporting agencies:

Disclosures may be made from this system to “consumer reporting agencies” collecting on behalf of the United States Govt. as defined in the Fair Credit Reporting Act (15 U.S.C. 1681a(f)) or the Federal Claims Collection Act of 1982 (31 U.S.C. 3701(a)(3)).

Policies and practices for storing, retrieving, accessing, retaining, and disposing of records in the system:

Storage:

The storage is on computer disks with magnetic tape backups. The file is updated weekly.

Retrievability:

By Social Security Number.

Safeguards:

Magnetic tapes are stored in locked storage areas when not in use and are accounted for at all times during actual use. Personnel screening prior to granting access.

Retention and disposal:

Magnetic tapes are used, corrected and updated until the tapes become physically deteriorated after which they are destroyed. A reservist's address is maintained on file for approximately one year after discharge, to allow for processing of annual point statements and W-2 forms. Audit trails are maintained indefinitely and the Master Personnel file and Pay and Points file are continually updated.

System manager(s) and address:

Commandant, G-WT, Director, Reserve and Training Directorate, United States Coast Guard Headquarters, 2100 2nd Street, SW., Washington, DC 20593-0001.

Notification procedure:

Requests to determine if this system contains information on any individual should be made in person or in writing to: Commandant, G-SII, United States Coast Guard Headquarters, 2100 2nd Street, SW., Washington, DC 20593-0001.

Record access procedures:

Same as “Notification procedure.”

Contesting record procedures:

Same as “Notification procedure.”

Record source categories:

The individual, Coast Guard Headquarters and district offices, and the various operating units of the Coast Guard.

Exemptions claimed for the system:

None.

DOT/FAA 801

System name:

Aircraft Registration System.

Security classification:

Unclassified, sensitive.

System location:

Aircraft Registration Branch, Federal Aviation Administration, Mike Monroney Aeronautical Center, Oklahoma City, OK 73125.

Categories of individuals covered by the system:

Aircraft owners, lien holders, and lessees.

Categories of records in the system:

Aircraft types. Current registration status and ownership of aircraft. Aircraft to be registered, or aircraft that have been registered and are now temporarily de-registered. United States Registration Number assignment. Airworthiness of aircraft. Aircraft Registration. Major repair and alteration maintenance inspection forms. Revalidation and use forms. Lien and collateral documents.

Authority for maintenance of the system:

49 U.S.C. 40101, 44103, 44107.

Purpose(s):

Provide a register of United States civil aircraft to aid in the national defense and to support a safe and economically strong civil aviation system. To determine that aircraft are registered in accordance with the provisions of 49 U.S.C. 44103. To serve as a data source for management information for production of summary descriptive statistics and analytical studies in support of agency functions for which the records are collected and maintained. To provide data for internal FAA safety program purposes. To provide data for development of the aircraft registration statistical system.

Routine uses of records maintained in the system, including categories of users and the purposes of such uses:

(a) Support investigative efforts of investigation and law enforcement agencies of Federal, State, and foreign governments. (b) Serve as a repository of legal documents used by individuals and title search companies to determine the legal ownership of an aircraft. (c) Provide aircraft owners and operators information about potential mechanical defects or unsafe conditions of their aircraft in the form of airworthiness directives. (d) Provide supporting information in court cases concerning liability of individuals in lawsuits. (e) Locate specific individuals or specific aircraft for accident investigation, violation, or other safety related requirements. (f) Prepare an Aircraft Registry in magnetic tape and microfiche form as required by ICAO agreement, containing information on aircraft owners by name, address, United States Registration Number, and type of aircraft. Make aircraft registration data available to the public, (g) See Prefatory Statement of General Routine Uses.

Disclosure to consumer reporting agencies:

None.

Policies and practices for storing, retrieving, accessing, retaining, and disposing of records in the system:

Storage:

Records are maintained in file folders, and on digital read-write disks, magnetic tape, microfilm, and microfiche.

Retrievability:

Records are filed by registration number, but may be retrieved by name of the current registered owner.

Safeguards:

Records are stored in areas open only to authorized employees and by special permission.

Retention and disposal:

If records are microfiched: (1) Original Records. Destroy original records after microfiche is determined to be an adequate substitute for paper records; (2) Microfiche of Original Records. Destroy when it is determined that the aircraft is no longer in existence. If records are not microfiched: Destroy when it is determined that the aircraft is no longer in existence.

System manager(s) and address:

Manager, Aircraft Registration Branch, AFS-750, Federal Aviation Administration, Mike Monroney Aeronautical Center, P.O. Box 25082, Oklahoma City, OK 73125.

Notification procedure:

Same as “System manager.”

Record access procedures:

Same as “System manager.”

Contesting record procedures:

Same as “System manager.”

Record source categories:

Individuals, manufacturers of aircraft, maintenance inspectors, mechanics, and FAA officials.

Exemptions claimed for the system:

None.

DOT/FAA 807

System name:

Traffic Control at the Mike Monroney Aeronautical Center (formerly named Law Enforcement Records and Central Files).

Security classification:

Unclassified, sensitive.

System location:

Office of Facility Management, AMP-1, Mike Monroney Aeronautical Center (MMAC), Oklahoma City, OK 73125.

Categories of individuals covered by the system:

MMAC employees, tenants, and visitors, with registered vehicles. Individuals cited for parking and/or traffic violations.

Categories of records in the system:

Vehicle registration and traffic violations files.

Authority for maintenance of the system:

44 U.S.C. 3101.

Purpose:

To carry out such functions as vehicle registration and traffic control; to control access and maintain an orderly traffic flow on a government facility.

Routine uses of records maintained in the system, including categories of users and the purposes of such uses:

See Prefatory Statement of General Routine Uses.

Disclosure to consumer reporting agencies:

None.

Policies and practices for storing, retrieving, accessing, retaining, and disposing of records in the system:

Storage:

Records are maintained in files and containers and in password protected electronic databases located in rooms secured with the FAA locking system.

Retrievability:

Individual name, other personal identifier, and/or registration number.

Safeguards:

Files are retained in a secured work area accessible only by consent of an on duty guard or by Office of Facility Management personnel.

Retention and disposal:

Identification credentials including parking permits: Destroy credentials three months after return to issuing office. Related identification credential papers such as vehicle registrations: Destroy after all listed credentials are accounted for. Reports, statements of witnesses, warning notices, and other papers relating to arrests and traffic violations: Destroy when 2 years old.

System manager(s) and address:

Manager, Office of Facility Management, AMP-1, Federal Aviation Administration, Mike Monroney Aeronautical Center, P.O. Box 25082, Oklahoma City, OK 73125.

Notification procedures:

Same as “System manager.”

Record Access procedures:

Same as “System manager.”

Contesting record procedures:

Same as “System manager.”

Record source categories:

Individuals registering/operating vehicles.

Exemptions claimed for the system:

None.

DOT/FAA 811

System name:

Employee Health Record System.

Security classification:

Unclassified, sensitive.

System location:

FAA Washington, regional, and center medical facilities.

Categories of individuals covered by the system:

FAA employees.

Categories of records in the system:

Basic medical record of an FAA employee, including medical examination reports, laboratory findings, correspondence, health awareness program participation records, and related papers.

Authority for maintenance of the system:

Pub. L. 79-658, Title 5 U.S.C. Section 7901.

Purpose(s):

Document employee health unit visits and nature of complaint or physical examination findings, treatment rendered and case disposition. Prepare analytical and statistical studies and reports.

Routine uses of records maintained in the system, including categories of users and the purposes of such uses:

See Prefatory Statement of General Routine Uses.

Disclosure to consumer reporting agencies:

None.

Policies and practices for storing, retrieving, accessing, retaining, and disposing of records in the system:

Storage:

In approved security files and containers, and in computer databases.

Retrievability:

By name and social security number.

Safeguards:

Access to and use of these records in manual or automated form is protected by being physically located behind locked doors and computer access is password protected. Adding or deleting information to the file is limited to the medical staff, physician, nurse, or occupational health specialists.

Retention and disposal:

These records are destroyed 6 years after the date of last entry.

System manager(s) and address:

Regional Flight Surgeon within region where the clinic is located. Manager, Clinical Specialties Division, AAM-200, Federal Aviation Administration, 800 Independence Avenue, SW., Washington, DC 20591.

Notification procedure:

Same as “System manager.”

Record access procedures:

Same as “System manager.”

Contesting record procedures:

Same as “System manager.”

Record source categories:

Information contained in this system comes from the employee and from attending physicians, nurses, and occupational health specialists, and from associated medical reports.

Exemptions claimed for the system:

None.

DOT/FAA 813

System name:

Civil Aviation Security.

Security classification:

Unclassified, sensitive.

System location:

Office of Associate Administrator for Civil Aviation Security, in Washington, DC; the FAA Regional Civil Aviation Security Divisions; the Civil Aviation Security Division at the Mike Monroney Aeronautical Center in Oklahoma City, Oklahoma; and the Civil Aviation Security Staff at the FAA Technical Center, Atlantic City, New Jersey; and various Federal records Centers located throughout the country.

Categories of individuals covered by the system:

Persons who have been involved or might be involved in crimes against civil aviation or air piracy/sabotage threats, data regarding K-9 handlers, and information regarding Federal Air Marshals, FAM.

Categories of records in the system:

Hijacking or attempted hijacking incidents at airports or aboard civil aviation aircraft; other civil aviation criminal acts; information of K-9 assignments to airports, K-9 handler evaluations; and information necessary to manage the FAM program.

Authority for maintenance of the system:

Title 49 U.S.C., Chapter 449, Air Transportation Security, enacted as Pub. L. 103-272 on July 5, 1994; authority for funding FAA K-9 program is the Omnibus Consolidated Appropriations Act of 1997, Pub. L. 104-208.

Purpose(s):

Prepare alerts, bulletins, summaries, reports, and policy statements of incidents affecting civil aviation security.

Routine uses of records maintained in the system, including categories of users and the purposes of such uses:

Inform airport and air carrier security officials and officers regarding air piracy/civil aviation sabotage threats. Preparation of alerts, bulletins, and summaries of incidents regarding threats to civil aviation for distribution to authorized government and aviation recipients for use in affecting appropriate changes/modifications to civil aviation security. Prepare summaries, reports, and policy statements for development and change of security procedures in civil aviation, which will be distributed to appropriate government, and aviation-oriented organizations, which have direct civil aviation security responsibilities. See Prefatory Statement of General Routine Uses.

Disclosure to consumer reporting agencies:

Not applicable.

Policies and practices for storing, retrieving, accessing, retaining, and disposing of records in the system:

Storage:

Approved security files and containers, in file folders, on lists and forms, and in computer processable storage media.

Retrievability:

By name or other personal identifying symbols.

Safeguards:

Access to and use of these records are limited to those persons whose official duties require such access and use. Appropriate physical, technical, and administrative safeguards as prescribed by FAA security directives applicable to both manual and automated record systems reinforce this record management principle.

Retention and disposal:

These records are destroyed or retired to the area Federal Records Center, FRC, and then destroyed in accordance with current version of FAA Order 1350.15, Records Organization, Transfer and Destruction Standards. The retention and destruction period for each record varies depending on the type of record, category of investigation, or significance of the information contained in the record. All records are destroyed by approved methods.

System manager(s) and address:

For the Washington Metropolitan area, excluding Eastern Region jurisdiction:

Office of the Associate Administrator for Civil Aviation Security, 800 Independence Avenue, SW., Washington, DC 20591. Manager, Civil Aviation Security Division, of the appropriate region. For the jurisdiction of the FAA Technical Center:

Manager, Civil Aviation Security Staff, FAA technical Center, Atlantic City International Airport, Atlantic City, NJ 08405. For the jurisdiction of the Mike Monroney Aeronautical Center:

Manager, Civil Aviation Security Division, Mike Monroney Aeronautical Center, PO Box 25082, Oklahoma City, OK, 73125.

Notification procedure:

Same as “System manager.”

Record access procedures:

Same as “System manager.”

Contesting record procedures:

Same as “System manager.”

Record source categories:

FAA records; Federal, State, or local agencies; foreign sources; public record sources; first party; and third parties.

Exemptions claimed for the system:

Portions of this system are exempt under 5 U.S.C. 552a(k)(1) and (k)(2).

DOT/FAA 815

System name:

Investigative Record System.

Security classification:

Unclassified, sensitive.

System location:

Office of the Associate Administrator for Civil Aviation Security in Washington, DC; the FAA regional Civil Aviation Security Divisions; the Civil Aviation Security Division at the Mike Monroney Aeronautical Center in Oklahoma City, Oklahoma; the Civil Aviation Security Staff at the FAA Technical Center, Atlantic City, New Jersey; and the various Federal Records Centers located throughout the country.

Categories of individuals covered by the system:

Current and former applicants for FAA employment. Current and former FAA employees. Individuals considered for access to classified information or restricted areas and/or security determinations such as current and former contractors, employees of contractors, experts, instructors, and consultants to federal programs. Aircraft owners. Flight instructors. Airport operators. Pilots, mechanics, designated FAA representatives. Other individuals certified by the FAA. Individuals involved in tort claims against the FAA. Employees, grantees, subgrantees, contractors, subcontractors, and applicants for FAA-funded programs. Other individuals who are of investigative interest to the FAA, law enforcement, or investigative agencies.

Categories of records in the system:

Results of investigations and inquiries conducted by the Office of the Associate Administrator for Civil Aviation Security, the FAA regional Civil Aviation Security Divisions, the Mike Monroney Aeronautical Center Civil Aviation Security Division, and the FAA Technical Center, Civil Aviation Security Staff; information received in various formats as the result of investigations conducted by federal, state, local, and foreign investigative or law enforcement agencies, which relate to the mission and function of the Associate Administrator for the Office of Civil Aviation Security and field elements; and information received in various formats as the result of investigations conducted by authorized personnel of the FAA, other federal agencies, state and local drug enforcement agencies regarding the actual or probable violation by pilots, aircraft owners, or aircraft mechanics of civil and criminal laws regulating controlled substances.

Authority for maintenance of the system:

Title 49 U.S.C., chapter 449, Air Transportation Security, enacted as Pub. L. 103-272 on July 5, 1994; Transportation Safety Act of 1974; FAA Drug Enforcement Assistance Act of 1988; Executive Order, E.O., 10450, Security Requirements for government Employment; E.O. 12968, Access to Classified Information; and E.O. 12829, National Industrial Security Program.

Purpose(s):

To maintain in an orderly fashion the categories of records listed above, in order that the FAA may conduct its investigations and personnel security programs in an efficient manner and document official actions taken on the basis of information contained in these records.

Routine uses of records maintained in the system, including categories of users and the purposes of such uses:

(1) To the Department of Justice when: (a) The agency, or any component thereof; or (b) any employee of the agency in his or her official capacity; or (c) any employee of the agency in his or her individual capacity where the Department of Justice has agreed to represent the employee; or, (d) the United States, where the agency determines that litigation is likely to affect the agency or any of its components, is a party to litigation or has an interest in such litigation, and the use of such records by the Department of Justice is deemed by the agency to be relevant and necessary to the litigation, provided, however, that in each case, the agency determines that disclosure of the records to the Department of Justice is a use of the information contained in the records that is compatible with the purpose for which the records were collected. (2) To disclose the records in a proceeding before a court or adjudicative body, including an administrative tribunal or hearing, before which the agency is authorized to appear, when:

(a) The agency, or any component thereof; or (b) any employee of the agency in his or her official capacity; or (c) any employee of the agency in his or her individual capacity where the agency has agreed to represent the employee; or, (d) the United States, where the agency determines the litigation is likely to affect the agency or any of its components, is a party to litigation or has an interest in such litigation, and the agency determines that use of such records to be relevant and necessary to the litigation, provided, however, that in each case, the agency determines that disclosure of the records to the Department of Justice is a use of the information contained in the records that is compatible with the purpose for which the records were collected. (3) To authorized representatives of United States air carriers where air safety might be affected. (4) To authorized representatives of federal, state, local agencies and departments, including the District of Columbia, and foreign governments, who require access to the file pursuant to an investigation or inquiry conducted for use in law enforcement activities, either civil or criminal, or to expose fraudulent claims. (5) See Prefatory Statement of General Routine Uses.

Disclosure to consumer reporting agencies:

None.

Policies and practices for storing, retrieving, accessing, retaining, and disposing of records in the system:

Storage:

These records are stored in approved security file cabinets and containers, in file folders, on lists and forms, and in computer processable storage media.

Retrievability:

These records are retrieved by name or other identifying symbols.

Safeguards:

Access to and use of these records are limited to those persons whose official duties require such access and use. Computer processing of information is conducted within established FAA computer security regulations. A risk assessment of the FAA computer facility used to process this system of records has been accomplished.

Retention and disposal:

These records are destroyed or retired to the area Federal Records Center and then destroyed in accordance with the current version of FAA Order 1350.15, Records Organization, Transfer and Destruction Standards. The retention and destruction period for each record varies depending on the type of record, category of investigation, or significance of the information contained in the record. All records are destroyed by approved methods.

System manager(s) and address:

For the Washington Metropolitan area, excluding Eastern Region jurisdiction: Office of the Associate Administrator for Civil Aviation Security, Federal Aviation Administration, 800 Independence Avenue, SW., Washington, DC 20591. For the geographical area under the jurisdiction of the various regions: Manager, Civil Aviation Security Division, of the appropriate region. (See the FAA Directory for addresses). For the jurisdiction of the FAA Technical Center: Manager, Civil Aviation Security Staff, FAA Technical Center, Atlantic City International Airport, Atlantic City, NJ 08405.

For the jurisdiction of the Mike Monroney Aeronautical Center:

Manager, Civil Aviation Security Division, FAA Aeronautical Center, P.O. Box 25082, Oklahoma City, OK 73125.

Notification procedure:

Same as “System manager.”

Record access procedures:

Same as “System manager.”

Contesting record procedures:

Same as “System manager.”

Record source categories:

Subject individual, interviews, review of records, and other authorized applicable investigative techniques.

Exemptions claimed for the system:

Portions of this system are exempt under 5 U.S.C. 552a(j)(2) and 5 U.S.C. 552a(k)(1), (2) and (5).

DOT/FAA 816

System name:

Tort Claims and Personal Property Claims Record System.

Security classification:

Unclassified, sensitive.

System location:

Office of the Chief Counsel, Litigation Division, AGC-400, Federal Aviation Administration, 400 7th Street, SW., Washington, DC 20590, and in the Office of the Assistant Chief Counsels and the Logistics Divisions in the regions and centers.

Categories of individuals covered by the system:

Tort and property claimants who have filed claims against the Government/FAA.

Categories of records in the system:

Reports, vouchers, witness statements, legal decisions, and related material pertaining to claims by or against the Government resulting from FAA transactions, other than litigation cases.

Authority for maintenance of the system:

Federal Tort Claims Act, 28 U.S.C. 2671, et seq.; Military Personnel and Civilian Employees Claims Act of 1964, 31 U.S.C. 3701, 3721.

Purpose(s):

Permit the administrative settlement of tort and Federal employees personal property claims against the government.

Routine uses of records maintained in the system, including categories of users and the purposes of such uses:

Investigation. Reference. Court action. Doubtful claims are sent by Accounting Division to GAO for adjudication. Some larger claims go to Department of Justice for approval or disapproval. See Prefatory Statement of General Routine Uses.

Disclosure to consumer reporting agencies:

None.

Policies and practices for storing, retrieving, accessing, retaining, and disposing of records in the system:

Storage:

These records are stored in approved file cabinets and containers.

Retrievability:

These records are indexed by name.

Safeguards:

Access to and use of these records are limited to those persons whose official duties require such access. Records are maintained on a computer system. The computer system is password protected.

Retention and disposal:

These records are destroyed 3 years after the final decision is rendered.

System manager(s) and address:

Office of the Assistant Chief Counsel, Litigation Division, Federal Aviation Administration, 400 Seventh Street, SW., Washington, DC, 20590. Regional and center counsels and regional and center Logistics Division Managers.

Notification procedure:

Same as “System manager.”

Record access procedures:

Same as “System manager.”

Contesting record procedures:

Same as “System manager.”

Record source categories:

Claimant, investigation reports, and courts.

Exemptions claimed for the system:

None.

DOT/FAA 821

System name:

Litigation Information Management Systems.

Security classification:

Unclassified, sensitive.

System location:

This system of records is maintained within the Office of the Assistant Chief Counsel for Litigation, FAA, 400 Seventh Street, SW., Washington, DC 20590, and at the Office of Assistant Chief Counsel for each Region and Center.

Categories of individuals covered by the system:

This file contains information on Litigants, Claimants, Decedents, Plaintiff's Attorney, FAA Attorney and Department of Justice Attorney.

Categories of records in the system:

Litigation and claim pleadings, discovery material, related documents (including background data on individual, or decedent involved), memoranda, correspondence, and other material necessary to respond to claims or prepare for litigation or hearings. Types of claims or litigation:

Aircraft accidents, auto accidents, personnel and general litigation.

Authority for maintenance of the system:

Federal Tort Claims Act, 28 U.S.C. 2671, et seq.; Military Personnel and civilian Employees claims Act of 1964, 31 U.S.C. 3701, 3721.

Purpose(s):

Case management/record management.

Routine uses of records maintained in the system, including categories of users and the purposes of such uses:

See Prefatory Statement of General Routine Uses.

Disclosure to consumer reporting agencies:

None.

Policies and practices for storing, retrieving, accessing, retaining, and disposing of records in the system:

Storage:

On computer database and password protected. Also, data are stored in lockable and unlockable file cabinets, individuals' attorneys' offices, binders, index files and in computers.

Retrievability:

Access is by name, location of accident, and/or docket number.

Safeguards:

Data from these files are retrievable only by persons within the Office of the Assistant Chief Counsel for Litigation or Regional Counsels. Access to offices is limited to agency employees and those accompanied by agency employees.

Retention and disposal:

Litigation files are kept for 2 years after case is closed, then sent to the Federal Records Center. All other records in this system are retained indefinitely.

System manager(s) and address:

Assistant Chief Counsel, Litigation Division, AGC-400, Office of Chief Counsel, Federal Aviation Administration, 400 Seventh Street, SW., Washington, DC 20590.

Notification procedure:

Same as “System manager.”

Record access procedures:

Same as “System manager.”

Contesting record procedures:

Same as “System manager.”

Record source categories:

Employees of the Office of Chief Counsel, Federal courts, individuals and their attorney, FAA records, litigation files, etc.

Exemptions claimed for the system:

None.

DOT/FAA 822

System name:

Aviation Medical Examiner System.

Security classification:

Unclassified, sensitive.

System location:

Aeromedical Education Division, AAM-400, FAA Civil Aeromedical Institute, Federal Aviation Administration, Mike Monroney Aeronautical Center, 6500 S. MacArthur Blvd. P.O. Box 25082, Oklahoma City, OK 73125. Regional Flight Surgeons in all regional headquarters.

Categories of individuals covered by the system:

Private civilian physicians (United States and foreign) designated as AMEs. Selected United States military flight surgeons designated as AMEs. Selected United States Federal medical officers designated as AMEs.

Categories of records in the system:

The system includes records necessary to: Determine professional qualifications of physicians designated (initially and subsequently) as AMEs; identify the type and location of AMEs within the AME program; monitor AMEs performance in support of the Medical Certification Program; and monitor AMEs compliance with mandatory training (initial and periodic) and other AME designation requirements.

Authority for maintenance of the system:

49 U.S.C 44702.

Purpose(s):

Determine professional qualifications and designation authorization (initial and subsequent) of AMEs.

Routine uses of records maintained in the system, including categories of users and the purposes of such uses:

Document the necessary information on AMEs whose designation has been revoked or retired. Support effective and efficient communications between the FAA and its designated AMEs. Maintain a database to support the management of the AME program. Provide the public with the names and addresses of AMEs who provide FAA medical certification services. Policy determination regarding the AME program. Locating and obtaining support of qualified AMEs. See Prefatory Statement of General Routine Uses.

Disclosure to consumer reporting agencies:

None.

Policies and practices for storing, retrieving, accessing, retaining, and disposing of records in the system:

Storage:

Computer processable storage media and hard copy files.

Retrievability:

By AME name, AME number, region, state, county, and city.

Safeguards:

File rooms with restricted access by authorized personnel only. Computer processing of AME information is conducted within established FAA computer security regulations.

Retention and disposal:

Hard copy files are retained by the Aeromedical Education Division on all active AMEs (civilian, military, and Federal), and on AMEs who have been inactive for less than 10 years. Hard copy files of AMEs who have been inactive for 10 years or more, but less than 25 years, are stored by the Federal Records Center. Hard copy files of AMEs who have been inactive for 25 or more years are destroyed by the Federal Records Center. Computerized AME records are updated continuously for all active AMEs. Computerized records of AMEs who have been inactive for less than 25 years are maintained in the system; and those AMEs inactive for 25 or more years are deleted. Hard copy files of United States civilian AMEs (excluding foreign civilian, military, and Federal AMEs) are also retained by the Regional Flight Surgeon Offices. When these regional AME files become inactive, they are immediately transferred to the Aeromedical Education Division.

System manager(s) and address:

Manager, Aeromedical Education Division, AAM-400, FAA Civil Aeromedical Institute, Federal Aviation Administration Mike Monroney Aeronautical Center, P.O. Box 25082, Oklahoma City, OK 73125. Regional Flight Surgeons within Region where the AME is designated.

Notification procedure:

Same as “System manager.”

Record access procedures:

Same as “System manager.”

Contesting record procedures:

Same as “System manager.”

Record source categories:

Aviation Medical Examiners. Additional background information on civilian AMEs may be obtained directly from the Federation of State Medical Boards of the United States.

Exemptions claimed for the system:

None.

DOT/FAA 825

System name:

Petitions for Rulemaking—Public Dockets.

Security classification:

Unclassified, sensitive.

System location:

Office of the Chief Counsel, Federal Aviation Administration, AGC-200, Washington, DC 20591.

Categories of individuals covered by the system:

Persons petitioning for a change in the Federal Aviation Regulations.

Categories of records in the system:

Petitions for rulemaking, correspondence, documents showing disposition of the petition, and public comments on any resulting NPRM.

Authority for maintenance of the system:

49 U.S.C. 106(g), 40101, 40103, 40106, 40109, 40113, 44701, 44702, 44711.

Purpose(s):

Make available for public review documents concerning petitions for rulemaking.

Routine uses of records maintained in the system, including categories of users and the purposes of such uses:

See Prefatory Statement of General Routine Uses.

Disclosure to consumer reporting agencies:

None.

Policies and practices for storing, retrieving, accessing, retaining, and disposing of records in the system:

Storage:

Unlocked file cabinets.

Retrievability:

Exemption number, docket number, or alphabetical listing of petitioner names.

Safeguards:

Access through request to Dockets Specialist.

Retention and disposal:

Transferred to Federal Records Center when inactive; destruction not authorized.

System manager(s) and address:

Docket and Regulations Technician, Office of the Chief Counsel, AGC-200, FAA, 800 Independence Avenue, SW., Washington, DC 20591.

Notification procedure:

Same as “System manager.”

Record access procedures:

Same as “System manager.”

Contesting record procedures:

Same as “System manager.”

Record source categories:

Petitions for rulemaking.

Exemptions claimed for the system:

None.

DOT/FAA 826

System name:

Petitions for Exemption, Other than Medical Exemption—Public Dockets.

Security classification:

Unclassified, sensitive.

System location:

Office of the Chief Counsel, AGC-200, Federal Aviation Administration, 800 Independence Ave. SW., Washington, DC.

Categories of individuals covered by the system:

Persons petitioning for an exemption (other than medical) under the Federal Aviation Regulations.

Categories of records in the system:

Petitions for exemptions, supplementary information, correspondence and the grant or denial of the exemption.

Authority for maintenance of the system:

49 U.S.C. 106(g), 40101, 40103, 40106, 40109, 40113, 44701, 44702, 44711.

Purpose(s):

Make available for public review documents concerning petitions for exemption (other than medical exemptions).

Routine uses of records maintained in the system, including categories of users and the purposes of such uses:

See Prefatory Statement of General Routine Uses.

Disclosure to consumer reporting agencies:

None.

Policies and practices for storing, retrieving, accessing, retaining, and disposing of records in the system:

Storage:

Original and copies of records stored in unlocked file cabinets.

Retrievability:

Exemption number, docket number, or alphabetical listing of petitioner names.

Safeguards:

Access through request to Dockets Specialist.

Retention and disposal:

Transferred to Federal Records Center when inactive; destruction not authorized.

System manager(s) and address:

Rules Docket Section, AGC-200, Office of the Chief Counsel, Federal Aviation Administration, 800 Independence Ave. SW., Washington DC 20591.

Notification procedure:

Same as System manager.

Record access procedures:

Same as System manager.

Contesting record procedures:

Same as System manager.

Record source categories:

Petitions for exemptions.

Exemptions claimed for the system:

None.

DOT/FAA 827

System name:

Environmental Litigation Files.

Security classification:

Unclassified, sensitive.

System location:

Office of the Chief Counsel, FAA, Washington, DC, and Regional Counsel and airport divisions.

Categories of individuals covered by the system:

Litigants, witnesses, plaintiff's attorney, FAA attorney, Department of Justice Attorney, etc.

Categories of records in the system:

Information on litigation, pleadings, discovery material, related documents, (including background data on individual involved), memoranda, correspondence, and other material necessary to respond to claim or prepare for litigation or hearings.

Authority for maintenance of the system:

National Environmental Policy Act of 1969, 42 U.S.C. 4321, Airport Environmental requirements, 49 U.S.C. 47106(c), Section 4(f) of the Department of Transportation Act, 49 U.S.C. 303, and other applicable environmental laws, regulations, and Executive Orders.

Purposes(s):

Litigation.

Routine uses of records maintained in the system, including categories of users and the purposes of such uses:

See Prefatory Statement of General Routine Uses.

Policies and practices for storing, retrieving, accessing, retaining, and disposing of records in the system:

Storage:

File folders stored in locked and unlocked file cabinets and individual attorney's offices.

Retrievability:

Caption of the particular litigation, which may include an individual's name or corporation or trade association name.

Safeguards:

Access regularly by Office of Chief Counsel personnel only; material is accessible only in facilities with building access controls and in storage retrieval regularly only by Office of the Chief Counsel personnel.

Retention and disposal:

Files are kept for 2 years after case has been closed and then sent to Records Center.

System manager(s) and address:

Manager, Airports/Environmental Law Division, AGC-600, Office of the Chief Counsel, FAA, 800 Independence Avenue, SW., Washington, DC 20591.

Notification procedure:

Same as “System manager.”

Record access procedures:

Same as “System manager.”

Contesting record procedures:

Same as “System manager.”

Record source categories:

Federal courts, individuals and their attorneys, FAA records, litigation files, etc.

Exemptions claimed for the system:

None.

DOT/FAA 828

System name:

Physiological Training System.

Security classification:

Unclassified, sensitive.

System location:

Aeromedical Education Division, AAM-400, FAA Civil Aeromedical Institute, Mike Monroney Aeronautical Center, 6500 S. MacArthur Blvd., P.O. Box 25082, Oklahoma City, OK 73125.

Categories of individuals covered by the system:

Certificated Airmen.

Categories of records in the system:

Records necessary to establish qualifications of eligibility to receive physiological training, maintain accountability of funds required for training and transfer of funds to involved agencies, and to provide proper evidence of training.

Authority for maintenance of the system:

49 U.S.C. 44703, and 14 CFR 61.31.

Purpose(s):

Maintain appropriate documentation on individuals who apply for and complete physiological training conducted by, or coordinated through the FAA Aeromedical Education Division.

Routine uses of records maintained in the system, including categories of users and the purposes of such uses:

Determine individual training qualifications. Receipt and transfer of training funds. Maintain individual records of training completion. See Prefatory Statement of General Routine Uses.

Policies and practices for storing, retrieving, accessing, retaining, and disposing of records in the system:

Storage:

Hard copy files and computer processable storage media.

Retrievability:

By name and location of training.

Safeguards:

File access is regularly restricted to Aeromedical Education Division personnel. The information is password protected. Passwords are changed every 30 days. The screen automatically closes if the computer is not used within 15 minutes, and would require a password to reopen the file.

Retention and disposal:

Records are destroyed when 5 years old. (Applications, Hold Harmless Statements, Chamber Flight Records)

System manager(s) and address:

Manager, Aeromedical Education Division, AAM-400, FAA Civil Aeromedical Institute, Mike Monroney Aeronautical Center, PO Box 25082, Oklahoma City, OK 73125.

Notification procedure:

Same as “System manager.”

Record access procedures:

Same as “System manager.”

Contesting record procedures:

Same as “System manager.”

Record source categories:

Covered individuals.

Exemptions claimed for the system:

None.

DOT/FAA 830

System name:

Representatives of the Administrator.

Security classification:

Unclassified, sensitive.

System location:

Federal Aviation Administration. Mike Monroney Aeronautical Center, Regulatory Support Division, AFS-600, and Civil Aviation Registry, AFS-700, Oklahoma City, Oklahoma 73125. Federal Aviation Administration, 800 Independence Avenue, SW., Washington, DC 20591. Flight Standards District Offices, FSDO. Manufacturing Inspection District Offices, MIDO. Aircraft Certification Divisions. Flight Standards Divisions. Aircraft Certification Offices, ACO. Air Traffic Headquarters. Regional or field offices that designate Air Traffic control Tower Operator Examiners. International Field Offices, IFO.

Categories of individuals covered by the system:

Designated Pilot Examiners, DPE. Designated Mechanic Examiners, DME. Designated Parachute Rigger Examiners, DPRE. Applicants for the technical personnel examiners for DPEs, DMEs, DPREs. Designated Engineering Representatives. Designated Manufacturing Inspection Representatives. Designated Airworthiness Representatives. Organizational Designated Airworthiness Representatives.

Categories of records in the system:

Name, date of birth, place of residence, company name (when delegated as an organization), mailing address, social security number (if applicable), certificate number, and work and/or home telephone number. Applications for designee. Records of qualification. Certification. Appointment authorization. Training. Dates of renewal and termination. Employment history. Reasons for termination (if applicable).

Authority for maintenance of the system:

49 U.S.C. 40101, 40113, 44701, 44702, and 44703.

Purpose(s):

Required in connection with applications for and issuance of authorizations to be Representatives of the Administrator. Used to identify and maintain a list of applicants for future appointment, as necessary. Used to record validation and approval of new designees. To promote the standardization of designees by tracking training, accomplishments, and the limitations of current designees.

Routine uses of records maintained in the system, including categories of users and the purposes of such uses:

Provide the public with the names and addresses of certain categories of representatives who may provide service to them. See Prefatory Statement of General Routine Uses.

Disclosure to consumer reporting agencies:

None.

Policies and practices for storing, retrieving, accessing, retaining, and disposing of records in the system:

Storage:

File folders, on lists, on forms, and on computer-accessible storage media. Records are also stored in microfiche, microfilm, and electronic optical storage.

Retrievability:

Name, birth date, social security number, or any other identification number of the individual on whom the records are maintained.

Safeguards:

Manual records: Strict information handling procedures have been developed to cover the use, transmission, storage, and destruction of personal data in hard copy form. These procedures are periodically reviewed for compliance. Automated processing Computer processing of personal information is conducted within the guidelines of established FAA computer security regulations. A risk assessment of the FAA computer facility used to process this system of records has been accomplished.

Retention and disposal:

Records destroyed 5 years after designation becomes inactive, or when no longer needed, whichever is sooner.

System manager(s) and address:

Federal Aviation Administration, Manager, Designee Standardization Branch, AFS-640, Mike Monroney Aeronautical Center, P.O. Box 25082, Oklahoma City, Oklahoma 73125. Aircraft Certification Divisions. Aircraft Certification Offices. Manufacturing Inspection District Offices. Flight Standards District Offices. Air Traffic Control Offices.

Notification procedure:

Same as “System manager.”

Record access procedures:

Same as “System manager.”

Contesting record procedures:

Same as “System manager.”

Record source categories:

Individual to whom it applies.

Exemptions claimed for the system:

None.

DOT/FAA 833

System name:

Quarters Management Information System.

Security classification:

Unclassified, sensitive.

System location:

Federal Aviation Administration, Alaskan Region, 222 W. 7th Ave., #14, Anchorage, AK 99513-7587.

Categories of individuals covered by the system:

Employees occupying FAA owned or leased housing. Employees and agencies that lease FAA housing in Alaska.

Categories of records in the system:

Housing records, leases.

Authority for maintenance of the system:

5 U.S.C. 5911(f), OMB Circular A-45.

Purpose(s):

Establish regional rental rates for quarters; maintain status of housing; maintain up-to-date list of persons occupying FAA units.

Routine uses of records maintained in the system, including categories of users and the purposes of such uses:

Establish and terminate payroll deductions for collection of housing rent through request to the appropriate payroll office. See Prefatory Statement of General Routine Uses.

Disclosure to consumer reporting agencies:

None.

Policies and practices for storing, retrieving, accessing, retaining, and disposing of records in the system:

Storage:

Filing cabinet, Real Estate and Utilities Branch AAL-54.

Retrievability:

Station location, unit numbers, name of employee, number of dependents, pay period rental rate.

Safeguards:

Retrieved only by agency personnel and used only in the conduct of official business. Paper copy kept in a locked file cabinet with two people having access to the key. Quarters Management Information System, QMIS, is on only one person's computer and it requires a password to access this computer.

Retention and disposal:

End of year reports are retained for 5 years.

System manager(s) and address:

Federal Aviation Administration, Housing Manager, AAL-50, 222 W. 7th Ave., #14, Anchorage, AK 99513-7587.

Notification procedure:

Same as “System manager.”

Record access procedures:

Same as “System manager.”

Contesting record procedures:

Same as “System manager.”

Record source categories:

FAA Employees. Employees of other agencies that lease housing from FAA.

Exemptions claimed for the system:

None.

DOT/FAA 837

System name:

Newsletter Photographs and Biographical Information.

Security classification:

Unclassified, sensitive.

System location:

Office of Public Affairs, FAA, 800 Independence Avenue, SW., Washington, DC, 20591. Public Affairs Offices at: Aeronautical Center, P.O. Box 25082, Oklahoma City, OK 73125. Eastern Region, Federal Bldg., JFK International Airport, Jamaica, NY 11430. Great Lakes Region, 2300 E. Devon Avenue, Des Plaines, IL 60018. Northwest Mountain Region, 1601 Lind Ave., SW., Renton, WA 98055. Southern Region, P.O. Box 20636, Atlanta, GA 30320. Biographies of key FAA officials are on the FAA web page at HTTP://WWW.FAA.GOV/APA/BIOS.HTM

Categories of individuals covered by the system:

FAA employees and other individuals who may appear with them in candid photographs.

Categories of records in the system:

Biographical data; portrait and candid photographs.

Authority for maintenance of the system:

49 U.S.C. 106(f).

Purpose(s):

Provide information to the public—particularly the news media—and for use in employee publications.

Routine uses of records maintained in the system, including categories of users and the purposes of such uses:

See Prefatory Statement of General Routine Uses.

Disclosure to consumer reporting agencies:

None.

Policies and practices for storing, retrieving, accessing, retaining, and disposing of records in the system:

Storage:

Stored in file cabinets.

Retrievability:

Alphabetically by name, or publication date.

Safeguards:

These records are stored in filing drawers that remain locked at all times. There are two keyholders in the office; therefore, access to these drawers is limited to these employees only on an as-needed basis.

Retention and disposal:

Retained as long as individual or event is newsworthy, following which they are destroyed. In certain cases, material is transferred to the Office of the Historian.

System manager(s) and address:

Same as “System Location.”

Notification procedure:

Same as “System Manager.”

Record access procedures:

Same as “System Manager.”

Contesting record procedures:

Same as “System Manager.”

Record source categories:

FAA employees and other individuals who may appear with them in candid photographs.

Exemptions claimed for the system:

None.

DOT/FAA 845

System name:

Administrators Correspondence Control and Hotline Information System, ACCIS, Administrator's Hotline Information System, AHIS, and Consumer Hotline Information System, CHIS, Formerly Administrators Correspondence Control and Hotline Information System.”

System location:

Correspondence files are located in the Office of the Executive Secretariat, AOA-3, and Hotline files are located in the Hotline Operations Program Office, AOA-20. Both categories of records in the Washington headquarters offices of the Federal Aviation Administration, 800 Independence Ave., SW., Washington, DC 20591.

Security classification:

Unclassified, sensitive.

Categories of individuals covered by the system:

Individuals who write, call (including HOTLINE calls), or are referred in writing by a second party, to the Administrator, to the Deputy Administrator, and their immediate offices; individuals who write, call, or are referred in writing by a second party to the Secretary, to the Deputy Secretary, and their immediate offices and the correspondence which has been referred to the Federal Aviation Administration; individuals who are the subject of an action requiring approval or action by one of the forenamed, such as appeals, actions, training, awards, foreign travel, promotions, selections, grievances, delegations, application of waivers from the Federal Aviation Administration, etc.

Categories of records in the system:

Correspondence files contain correspondence submitted by, or on behalf of, an individual including resumes, letters of reference, etc; responses to such correspondence and calls, staff recommendations on actions requiring approval or action by the Administrator, the Deputy Administrator, the Secretary, and the Deputy Secretary. Hotlines files contain call records, correspondence, reports, and related documents accumulated by the staff in the course of operation.

Authority for maintenance of the system:

44 U.S.C. 3101.

Purpose(s):

Correspondence files: Documentation of the organization, functions, policies, decisions, procedures, and essential transactions of the agency and designed to furnish the information necessary to protect the legal and financial rights of the Government and of persons directly affected by the agency's activities. Hotlines files: Documentation of calls made by agency employees and consumers.

Routine uses of records maintained in the system, including categories of users and the purposes of such uses:

Referral to the appropriate action office within or outside the Department or agency for preparation of a response. Referral, to the appropriate agency for actions involving matters or law, of regulations beyond the responsibility of the agency or Department, such as the Department of Justice in matters of law enforcement. As a data source for management information, such as briefing material on hearings, trend analysis, responsiveness, etc. See Prefatory Statement of General Routine Uses.

Disclosure to consumer reporting agencies:

None.

Policies and practices for storing, retrieving, accessing, retaining, and disposing of records in the system:

Storage:

Computer processable media, microfilm, and hardcopy access to the records will be by means of identification numbers and passwords known only to the user and the system managers.

Retrievability:

Retrieved by control number, suspense date, correspondence date, subject matter, last name and location of originator and addressee, constituent's name, action office, and type.

Safeguards:

Terminal access through the system's software for ACCIS is limited to the Office of the Administrator. Access to the records of the AHIS and CHIS is limited to the staff of the Hotline Operations Program Office. Information is retrieved by means of a user ID and password known only to each user.

Retention and disposal:

The Administrators Correspondence Control and Information System hard copies are destroyed after the material is microfilmed. Microfilm is retained permanently. The Administrator's Hotline hard copies and magnetic records are destroyed after 5 years. The Consumer Hotline hard copies and magnetic records are destroyed after 2 years.

System manager(s) and address:

Administrator's Correspondence control and Information System: Director, Executive Secretariat, Office of the Administrator, AOA-3, Administrator's and Consumer Hotline Systems: Manager, Hotline Operations Program Office, AOA-20, Federal Aviation Administration, 800 Independence Avenue, SW., Washington, DC 20591.

Notification procedure:

Same as “System manager.”

Record access procedures:

Same as “System manager.”

Contesting record procedures:

Same as “System manager.”

Record source categories:

Correspondence, records of calls from individuals, including HOTLINE calls, their representatives, or sponsors. Responses to incoming correspondence and records of calls. Related material for background as appropriate.

Exemptions claimed for the system:

None.

DOT/FAA 847

System name:

Aviation Records on Individuals (Formerly, General Air Transportation Records on Individuals).

Security classification:

Unclassified, sensitive.

System location:

Federal Aviation Administration, FAA, Mike Monroney Aeronautical Center, MMAC, Oklahoma City, Oklahoma 73125: Civil Aeromedical Institute, Aeromedical Certification Division, AAM-300; Regulatory Support Division, AFS-600; Civil Aviation Registry, Airmen Certification Branch, AFS-760. Federal Aviation Administration, 800 Independence Avenue, SW., Washington, DC 20591. Flight Standards District Offices, FSDOs. Certificate Management Offices, CMOs. Certificate Management Field Offices, CMFOs. International Field Offices. Civil Aviation Security Field Offices, CASFO's. FAA regional offices. Electronic enforcement litigation tracking system records are located in the offices of the Regional Counsel, Directorate Counsel and Chief Counsel.

Categories of individuals covered by the system:

Current certificated airmen, airmen whose certificates have expired, airmen who are deceased, airmen rejected for medical certification, airmen with special certification, and others requiring medical certification. Air traffic controllers in air route traffic control centers, terminals, and flight service stations and applicants for these positions. Holders of and applicants for airmen certificates, airmen seeking additional certifications or additional ratings, individuals denied certification, airmen holding inactive certificates, airmen who have had certificates revoked. Persons who are involved in aircraft accidents or incidents; pilots, crewmembers, passengers, persons on the ground, and witnesses. Individuals against whom the Federal Aviation Administration has initiated administrative action or legal enforcement action for violation of certain Federal Aviation Regulations, FAR, or Department of Transportation Hazardous Materials Regulations, HMR.

Categories of records in the system:

Name(s), date of birth, place of residence, mailing address, social security number, and airman certificate number Records that are required to determine the physical condition of an individual with respect to the medical standards established by FAA. Records concerning applications for certification, applications for written examinations, results of written tests, applications for inspection authority, certificates held, ratings, stop orders, and requests for duplicate certificates. Reports of fatal accidents, autopsies, toxicological studies, aviation medical examiner reports, medical record printouts, nonfatal reports, injury reports, accident name cards, magnetic tape records of fatal accidents, physiological autopsy, and consulting pathologist's summary of findings. Records of accident investigations, preliminary notices of accident injury reports, engineering analyses, witness statements, investigators' analyses, pictures of accident scenes. Records concerning safety compliance notices, letters of warning, letters of correction, letters of investigation, letters of proposed legal enforcement action, final action legal documents in enforcement actions, correspondence of Regional Counsels, Office of Chief Counsel, and others in enforcement cases. Also included are electronic enforcement litigation tracking system records located in the Offices of the Regional Counsel, Directorate Counsel and Chief Counsel.

Authority for maintenance of the system:

49 U.S.C. 40101, 40113, 44701, 44703.

Purpose(s):

Issuance of airmen certificates by the Federal Aviation Administration.

Routine uses of records maintained in the system, including categories of users and the purposes of such uses:

(a) Provide basic airmen certification and qualification information to the public upon request. (b) Disclose information to the National Transportation Safety Board, NTSB, in connection with its investigation responsibilities. (c) Provide information about airmen to Federal, state, and local law enforcement agencies when engaged in the investigation and apprehension of drug-law violators. (d) Provide information about enforcement actions arising out of violations of the Federal Aviation Regulations to government agencies, the aviation industry, and the public upon request. (e) Disclose information to another Federal agency, or to a court or an administrative tribunal, when the Government or one of its agencies is a party to a judicial proceeding before the court or involved in administrative proceedings before the tribunal. (f) See Prefatory Statement of General Routine Uses.

Disclosure to consumer reporting agencies:

Disclosures pursuant to 5 U.S.C. 552a(b)(12): Disclosures may be made from these systems to “consumer reporting agencies” (collecting on behalf of the United States Government) as defined in the Fair Credit Reporting Act (15 U.S.C. 1681a(f)) or the Federal Claims Collection Act of 1982 (31 U.S.C. 3701(a)(3)) and to debt collection agencies as defined by inference in the Federal Collection Act of 1966 (31 U.S.C. 3711(f)(1)) as amended.

Policies and practices for storing, retrieving, accessing, retaining, and disposing of records in the system:

Storage:

Maintained in file folders, on lists and forms, and in computer processable storage media. Records are also stored on microfiche and roll microfilm.

Retrievability:

Name, birth date, social security account number, airman certificate number, or other identification number of the individual on whom the records are maintained. Sex. Accident number and/or incident number, and administrative action or legal enforcement numbers.

Safeguards:

Manual records: Strict information handling procedures have been developed to cover the use, transmission, storage, and destination of personal data in hard copy form. These are periodically reviewed for compliance. Automated Processing (FAA Systems): Computer processing of personal information is conducted within established FAA computer security regulations. A risk assessment of the FAA computer facility used to process this system of records has been accomplished. Automated Processing (Commercial Computer Contractor): Computer programs operated on commercial security levels and record element restrictions to prevent release of data to unauthorized parties.

Retention and disposal:

These records are destroyed or retired to the area Federal Records Center and then destroyed in accordance with current version of FAA Order 1350.15, Records Organization, Transfer and Destruction Standards. The retention and destruction period for each record varies depending on the type of record.

System manager(s) and address:

The address for the system managers listed below is: Federal Aviation Administration, Mike Monroney Aeronautical Center, PO Box 25082, 6500 South MacArthur Blvd., Oklahoma City, Oklahoma 73125.

Records concerning aviation medical certification:

Manager, Aeromedical Certification Division, AAM-300, FAA certification records and general airman records: Manager, Airmen Certification Branch, AFS-760, Records concerning aircraft accidents and incidents, Manager, Operational Systems Branch, AFS-620, Records concerning administrative and legal enforcement action: FAA enforcement information system data bases for administrative and legal enforcement actions: Manager, Operational Systems Branch, AFS-620, Official FAA enforcement files: The Office of Chief Counsel, the Office of Regional Counsel, or the investigating FAA field office, as appropriate. The address of the appropriate FAA legal or field office maintaining the official agency enforcement file may be obtained from AFS-620.

Electronic enforcement litigation tracking system records:

Offices of the Regional Flight Counsel, Directorate counsel, and Chief Counsel. Aviation medical certification records from regional files: Regional Flight Surgeon within the region where examination was conducted. Visit or call the local FAA office in the area in which you reside for any proper regional address.

Notification procedure:

Same as “System manager.”

Record access procedures:

Same as “System manager.”

Contesting record procedures:

Same as “System manager.”

Record source categories:

Medical Information: Information is obtained from Aviation Medical Examiners, individuals themselves, consultants, hospitals, treating or examining physicians, and other Government agencies. Airmen Certification Records: Information is obtained from the individual to whom the records pertain, FAA aviation safety inspectors, and FAA designated representatives. Written test scores are derived from answers given by individuals. Actions filed by FAA personnel. General Aviation Accident/Incident Records and Air Carrier Incident Records: Information is obtained from Aviation Medical Examiners, pathologists, accident investigations, medical laboratories, law enforcement officials, and FAA employees. Data are also collected from manufacturers of aircraft, and involved passengers. Administrative Action and Legal Enforcement Records: Information is obtained from witnesses, Regional Counsels, the National Transportation Safety Board, Civil Aviation Security personnel, Flight Standards personnel, Aeronautical Center personnel, and the Office of Chief Counsel.

Systems exempted from certain provisions of the act:

Portions of this system are exempt under 5 U.S.C. 552a(k)(2).

DOT/FAA 851

System name:

Administration and Compliance Tracking in an Integrated Office Network.

Security classification:

Unclassified, sensitive.

System location:

Federal Aviation Administration, FAA, Office of Aviation Medicine, Drug Abatement Division, 800 Independence Avenue, SW., Washington, DC 20591.

Categories of individuals covered by the system:

Medical review officers, company anti-drug program managers, other contact names, and individuals who call the FAA to self-disclose, who are directly involved in the implementation and maintenance of drug and alcohol testing programs in conjunction with the aviation industry.

Categories of records in the system:

Names, company and office telephone numbers of program managers who are in charge of the everyday operation of drug and alcohol testing programs for aviation companies, other persons who are contacts for facilities directly involved in drug and alcohol testing for the aviation industry, medical review officers (physicians) who review test results for the aviation companies, and individuals with company name and telephone numbers who call the FAA to self-disclose non-compliance.

Authority for maintenance of the system:

The Omnibus Transportation Employee Testing Act of 1991 (49 U.S.C. 45101-45106), 14 CFR part 61, et al.

Purpose(s):

Support the information resource, reporting and archival needs of the Drug Abatement Division.

Routine uses of records maintained in the system, including categories of users and the purposes of such uses:

See Prefatory Statement of General Routine Uses.

Disclosure to consumer reporting agencies:

None.

Policies and practices for storing, retrieving, accessing, retaining, and disposing of records in the system:

Storage:

Maintained in an automated information system.

Retrievability:

Name of an individual or by a unique case file identifier.

Safeguards:

Computer processing of information would be conducted within established FAA computer security regulations. A risk assessment of the FAA computer facility used to process this system of records has been accomplished.

Retention and disposal:

The FAA has requested a retention and disposal schedule to destroy 5 years from creation date. That request is pending approval from the National Archives and Records Administration, NARA.

System manager(s) and address:

Manager, Drug Abatement Division, AAM-800, Office of Aviation Medicine, Federal Aviation Administration, 800 Independence Avenue, SW., Washington, DC 20591.

Notification procedure:

Same as “System manager.”

Record access procedures:

Same as “System manager.”

Contesting record procedures:

Same as “System manager.”

Record source categories:

FAA records.

Exemptions claimed for the system:

None.

DOT/FHWA 204

System name:

Federal Highway Administration, FHWA, Motor Carrier Safety Proposed Civil and Criminal Enforcement Cases, DOT/FHWA.

Security classification:

Unclassified—sensitive.

System location:

Office of Motor Carrier Enforcement, HMCE, 400 7th Street, SW., Room 4432A, Washington, DC 20590.

Categories of individuals covered by the system:

Officers, agents or employees of motor carriers, including drivers who have been the subject of investigation for Motor Carrier Safety regulation violations.

Categories of records in the system:

Motor Carrier safety regulation violations and identifying features.

Authority for maintenance of the system:

Motor Carrier Safety Act of 1984, 49 U.S.C. 521(b).

Purpose(s):

Decide enforcement action, and for use as historical documents in case of appeal.

Routine uses of records maintained in the system, including categories of users and the purposes of such uses:

See Prefatory Statement of General Routine Uses. Routine use number 5 does not apply to this system of records.

Disclosure to consumer reporting agencies:

None.

Policies and practices for storing, retrieving, accessing, retaining, and disposing of records in the system:

Storage:

File folders in the Field Legal Services' offices.

Retrievability:

Names of individuals.

Safeguards:

Only Office of Chief Counsel or Field Legal Services employees and Office of Motor Carrier and Highway Safety, OMCHS, employees have regular access to the files.

Retention and disposal:

The records are retained for one year and then are generally sent to the local Federal Records Centers for an additional three-year period.

System manager(s) and address:

FHWA, Office of Chief Counsel, 400 Seventh Street, SW., Room 4224, Washington, DC 20590; FHWA Resource Centers, Field Legal Services.

Notification procedure:

Same as “System manager.”

Record access procedures:

Same as “System manager.”

Contesting record procedures:

Same as “System manager.”

Record source categories:

Individuals, motor carrier files, OMCHS file information as gathered by OMCHS investigators, etc.

Exemptions claimed for the system:

5 U.S.C. 552 (c)(3), (d), (e)(4)(G), (H), and (I), (f) to the extent they contain investigative material compiled for law enforcement purposes in accordance with 5 U.S.C. 552a(k)(2).

DOT/FHWA 213

System name:

Driver Waiver/Exemption File.

Security classification:

Unclassified—sensitive.

System location:

Department of Transportation, Federal Highway Administration, FHWA, Office of Motor Carrier Research and Standards, HMCS, 400 7th Street, SW., Washington, DC 20590; FHWA Resource Centers.

Categories of individuals covered by the system:

Operators of interstate commercial motor vehicles that transport certain commodities.

Categories of records in the system:

Applications for waiver (usually involving physical disability); final disposition of request for waiver; and waiver renewal.

Authority for maintenance of the system:

Motor Carrier Safety Act of 1984 (49 U.S.C. 31136(e) and TEA-21 (49 U.S.C. 31315).

Purpose(s):

Monitor drivers of commercial motor vehicles who operate in interstate commerce and have been identified as physically impaired.

Routine uses of records maintained in the system, including categories of users and the purposes of such uses:

See Prefatory Statement of General Routine Uses. Routine use number 5 is not applicable to this system of records.

Disclosure to consumer reporting agencies:

None.

Policies and practices for storing, retrieving, accessing, retaining, and disposing of records in the system:

Storage:

The records are maintained in file folders in file cabinets.

Retrievability:

The records are filed by driver's name.

Safeguards:

Files are classified as sensitive and are regularly accessible only by designated employees within the Resource Centers and Office of Motor Carrier and Highway Safety.

Retention and disposal:

The files are retained while the driver waivers are active. The inactive driver waiver files are purged every 3 years.

System manager(s) and address:

Department of Transportation, Federal Highway Administration, Office of Motor Carrier Research and Standards, HMCS, 400 Seventh Street, SW., Washington, DC 20590.

Notification procedure:

Same as “System manager.”

Record access procedures:

Same as “System manager.”

Contesting record procedures:

Same as “System manager.”

Record source categories:

Application for Waiver or Waiver Renewal.

Exemptions claimed for the system:

None.

DOT/FHWA 215

System name:

Travel Advance File.

Security classification:

Unclassified—sensitive.

System location:

Department of Transportation, Federal Highway Administration, FHWA, Office of Budget and Finance, 400 Seventh Street, SW., Washington, DC 20590; Federal Aviation Administration, Southern Region, Travel and Transportation Section, ASO-22A, Campus Building, Room C-210E, 1701 Columbia Avenue, College Park, GA 30337; and the FHWA Federal Lands Division Offices (Eastern, Central, and Western).

Categories of individuals covered by the system:

Employees who are not eligible for the contractor-issued credit card and other groups of employees, and first-duty hires.

Categories of records in the system:

Record of travel advances and repayments.

Authority for maintenance of system:

5 U.S.C. 5707; 41 CFR part 301.

Purpose(s):

Controlling the repayments of travel advances to FHWA personnel.

Routine uses of records maintained in the system, including categories of users and the purposes of such uses:

See Prefatory Statement of General Routine Uses.

Disclosure to consumer reporting agencies:

Disclosures pursuant to 5 U.S.C. 552a(b)(12): Disclosures may be made from this system to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Open advances are maintained on a 5 x 8 inch form. In an automated travel management system, no advance is required (i.e., paperless).

Retrievability:

Indexed by name.

Safeguards:

Locked file cabinet.

Retention and disposal:

The files are retained for 6 years and 3 months after period covered by account, pursuant to General Records Schedule 6.

System manager(s) and address:

Department of Transportation, Federal Highway Administration, Office of Budget and Finance, HABF, Team Leader, Travel Policy and Operations, 400 Seventh Street, SW., Washington, DC 20590.

Notification procedure:

Same as “System manager.”

Record access procedures:

Same as “System manager.”

Contesting record procedures:

Same as “System manager.”

Record source categories:

Individuals on whom the records are maintained.

Exemptions claimed for the system:

None.

DOT/FHWA 216

System name:

Travel Authorization and Voucher—Relocation Allowances (First Duty or Permanent Change of Station).

Security classification:

Unclassified—sensitive.

System location:

Department of Transportation, Federal Highway Administration, FHWA, Office of Budget and Finance, HABF, 400 Seventh Street, SW., Washington, DC 20590; Federal Aviation Administration, MMAC Travel and Transportation Branch, AMZ-130, 6500 So. MacArthur Blvd., Oklahoma City, OK 73169.

Categories of individuals covered by the system:

First duty and permanent change of station employees within the FHWA.

Categories of records in the system:

Travel voucher(s), copies of third party payments (i.e., Government Bill of Lading, GBL, carrier bills, contractor invoice(s) for services, Administrative Notices (i.e., adjustment(s) to vouchered claim, taxable and non-taxable income, withholding tax allowance(s), if applicable, taxes withheld), and IRS 4782's (Summary of Calendar Year of All Reimbursements, including taxes withheld).

Authority for maintenance of the system:

5 U.S.C. 5707; 41 CFR part 302.

Purpose(s):

Support the payments to employees and serves as support for updated employee earnings records.

Routine uses of records maintained in the system, including categories of users and the purposes of such uses:

See Prefatory Statement of General Routine Uses.

Disclosure to consumer reporting agencies:

Disclosures pursuant to 5 U.S.C. 552a(b)(12): Disclosures may be made from this systems to “ consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Maintained on an 8 x 10 inch form in file folders.

Retrievability:

The files are indexed by name.

Safeguards:

Supervised by the Team Leader, Travel Policy and Operations in FHWA and the Division Manager, Financial Operations in FAA.

Retention and disposal:

Destroy after 6 years, pursuant to General Records Schedule 9.

System manager(s) and address:

Department of Transportation, Federal Highway Administration, Office of Budget and Finance, HABF, Team Leader, Travel Policy and Operations, 400 Seventh Street, SW., Washington, DC 20590; and Division Manager, MMAC Travel and Transportation Branch, AMZ-130, 6500 MacArthur Blvd., Oklahoma City, OK 73169.

Notification procedure:

Same as “System manager.”

Record access procedures:

Same as “System manager.”

Contesting record procedures:

Same as “System manager.”

Record source categories:

Individuals on whom the records are maintained.

Exemptions claimed for the system:

None.

DOT/FHWA 217

System name:

Accounts Receivable.

Security classification:

Unclassified—sensitive.

System location:

Department of Transportation, Federal Highway Administration, Office of Budget and Finance, HABF, 400 Seventh Street, SW., Washington, DC 20590.

Categories of individuals covered by the system:

Individuals indebted to the Federal Highway Administration.

Categories of records in the system:

Amount of indebtedness.

Authority for maintenance of the system:

5 U.S.C. 301.

Purpose(s):

Monitor and control accounts receivable and support bills of collection issued to debtors of the Federal Highway Administration.

Routine uses of records maintained in the system, including categories of users and the purposes of such uses:

See Prefatory Statement of General Routine Uses.

Disclosure to consumer reporting agencies:

Disclosures pursuant to 5 U.S.C. 552a(b)(12): Disclosures may be made from this systems to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Maintained in file folders and loose-leaf binders.

Retrievability:

Filed by name.

Safeguards:

Supervised by Chief, Accounting Team.

Retention and disposal:

Transfer to the Federal Records Center when 3 years old. Destroy 6 years and 3 months after period covered by the account.

System manager(s) and address:

Department of Transportation, Federal Highway Administration, Office of Budget and Finance, HABF, Chief, Accounting Team, 400 Seventh Street, SW., Washington, DC 20590.

Notification procedure:

Same as “System manager.”

Record access procedures:

Same as “System manager.”

Contesting record procedures:

Same as “System manager.”

Record source categories:

Employer.

Exemptions claimed for the system:

None.

DOT/FRA 106

System name:

Occupational Safety and Health Reporting System.

Security Classification:

Unclassified, Sensitive.

System Location:

Department of Transportation, DOT, Federal Railroad Administration, FRA, Office of Administration, Office of Safety, Office of Safety Assurance and Compliance, RRS-12, 1120 Vermont Avenue, NW., Stop 25 Washington DC 20590-0001

Categories of individuals covered by the system:

FRA employees (injuries and illnesses) FRA employees involved in government property accidents.

Categories of records in the system:

Federal Occupation Injuries and Illnesses Survey (Standard Form OSHA-102) Departmental Accident/Injury Reports DOT Forms 3902 1.

Authority for maintenance of the system:

Occupational Safety and Health Act of Employees, (Executive Order 12196); Basic Program Elements for Federal Employee Occupational Safety and Health Programs and Related Matters, (Title 29 CFR part 1960); Management of Building and Grounds, (Title 41 CFR parts 101-20); and Occupational Safety and Management Program (DOT Order 3902.7A).

Purpose(s):

To track employees injuries, illnesses, and accidents involved in government property to develop causative trends, accident prevention policies, and correct safety items.

Routine uses of records maintained in the system, including categories of users and the purpose of such uses:

Maintain accident records per departmental orders. Provide data to Office of the Secretary. Develop causative trends Use for corrective accident prevention. See Prefatory Statement of General Routine Uses.

Disclosure to consumer reporting agencies:

Disclosures pursuant to 5 U.S.C. 552a(b)(12): Disclosures may be made from this System to Aconsumer reporting agencies (collecting on behalf of the United States Government) as defined in the Fair Credit Reporting Act (15 U.S.C. 1681a(f) or the Federal Claims Collection Act of 1982(31 U.S.C. 3701(a)(3).

Policies and practices for storing, retrieving, accessing, retaining, and disposing of records in the system:

Storage:

Maintained on copies of basic documents.

Retrievability:

By name.

Safeguards:

Physical security consists of file drawer with data; records provide to authorized individuals by FRA Safety Manager after physical Screening.

Retention and disposal:

FRA Safety Manager, Department of Transportation Federal Railroad Administration, Office of Administration, Office of Safety Assurance and Compliance, RRS-12, 1120 Vermont Avenue, NW., Stop 25, Washington DC 20590-0001.

Notification procedure:

Same as “System manager.”

Contesting record procedures:

Same as “System manager.”

Record sources categories:

Documents provided by the individual.

Exemptions claimed for the System:

None.

DOT/FRA 130

System name:

Enforcement Case System.

Security Classification:

Unclassified, sensitive.

System location:

Department of Transportation, DOT, Federal Railroad Administration, Office of the Chief Counsel, Safety Law Division, RCC-10, 1120 Vermont Avenue, NW., Stop 10, Washington, DC 20590-0001. Each Regional Office and Department of Transportation, DOT, Federal Railroad Administration, Office of Safety Assurance and Compliance, RRS-10, 1120 Vermont Avenue, NW., Stop 25, Washington, DC 20590-0001.

Categories of individuals covered by the system:

Individuals that have allegedly failed to comply with certain railroad safety statutes and regulations.

Categories of records in the system:

Facts and circumstances surrounding alleged rail safety violations by individuals; recommendations for enforcement actions; and enforcement cases.

Authority for maintenance of the system:

Hazardous Materials Transportation Act (49 App. U.S.C. 1801 et seq.); Safety Appliance Acts, (45 U.S.C. 1-16); Locomotive Inspection Act, (45 U.S.C. 22-34); Accident Reports Act, (45 U.S.C. 38-43); Hours of Service Act, (45 U.S.C. 61-64a); Signal Inspection Act, (49 App. U.S.C. 26); Federal Railroad Safety Act of 1970 (45 U.S.C. 421 et seq.); 18 U.S.C. 1001; and Rail Safety Improvement Act of 1988 (Pub. L. 100-342).

Purpose(s):

To provide information concerning enforcement actions for violations of safety statutes and regulations to government agencies and the regulated industry in order to provide them with information necessary to carry out their responsibilities, and to the public in order to increase the deterrent effect of the actions and keep the public apprised of how the laws are being enforced. Determine whether cases should be forwarded to the Office of Chief Counsel for prosecution and to otherwise accomplish the mission of the Office of Safety.

Routine uses of records maintained in the system, including categories of users and the purposes of such uses:

Disclose pertinent information to any source from which additional information is requested in the course of conducting an investigation to the extent necessary to identify the purpose(s) of the request and identify the information requested. Provide notice of the investigation and its outcome to the individual's employing railroad or shipper, or other railroad related to the case through joint facilities or trackage rights in order to give those entities information they may need to assist in preventing a recurrence of noncompliance. To be reviewed by the Safety Division and to form the basis, or support for, civil and/or criminal enforcement actions against the individuals involved. The general routine uses in the prefatory statement apply to all of these files.

Disclosure to consumer reporting agencies:

Disclosures pursuant to 5 U.S.C. 552a(b)(12): Disclosures may be made from this systems to A consumer reporting agencies (collecting on behalf of the United States Government) as defined in the Fair Credit Reporting Act (15 U.S.C. 1681a(f)) or the Federal Claims Collection Act of 1982 (31 U.S.C. 3701(a)(3)).

Policies and practices for storing, retrieving, accessing, retaining, and disposing of records in the system:

Storage:

File folders, file cabinets and an automated tracking system.

Retrievability:

Records are retrievable by name of individual and/or his or her employer.

Safeguards:

Access limited to authorized officials. Manual records are maintained in file cabinets that are locked after working hours. Automated records are password protected.

Retention and disposal:

Appropriate records retention schedules will be applied and disposal will be by shredding. Certain automated records will be retained indefinitely to provide complete compliance histories.

System manager(s) and address:

Enforcement Case System Manager, Department of Transportation, Federal Railroad Administration, Office of the Chief Counsel, Safety Law Division, RCC-10, 1120 Vermont Avenue, NW., Stop 10, Washington, DC 20590-0001.

Notification procedure:

Inquiries should be directed to: Federal Railroad Administration, Assistant Chief Counsel, Safety Law Division, Office of the Chief Counsel, 1120 Vermont Avenue, NW., Stop 10, Washington, DC 20590-0001.

Record access procedures:

Contact (202) 493-6053 or write to the System Manager for information on procedures for gaining access to records.

Contesting record procedures:

Same as “record access procedure.”

Record source categories:

Information is obtained directly from the individual or from other persons with personal knowledge of the facts and circumstances involved.

Exemptions:

None.

DOT/MARAD 1

System name:

Attendance, Leave and Payroll Records of Employees and Certain Other Persons.

Security classification:

Unclassified, sensitive.

System location:

Maritime Administration, Division of Accounting Operations, MAR-330, 400 7th Street, SW., Room 7325, Washington, DC 20590.

Categories of individuals covered by the system:

All Maritime Administration employees and certain other employees.

Categories of records in the system:

Name, date of birth, social security number and employee number, service computation date, grade, step, and salary; organization (code), retirement or FICA data, as applicable; federal, state, and local tax deductions, as appropriate; optional Government life insurance deduction(s), health insurance deduction and plan or code; cash award data; jury duty data; military leave data; pay differentials; union dues deductions; allotments, by type and amount; financial institution code and employee account number; leave status and leave data of all types (including annual, compensatory, jury duty, maternity, military retirement advisability, sick, transferred, absence without leave, and without pay); time and attendance records including number of regular, overtime, holiday, Sunday, and other hours worked; pay period number and ending date; cost of living allowances; mailing address; co-owner and/or beneficiary of bonds, marital status and number of dependents; and “Notification of Personnel Action.” The individual records listed herein are included only as pertinent or applicable to the individual employee.

Authority for maintenance of the system:

5 U.S.C. 5101-5115, 31 U.S.C. 3512.

Purpose(s):

Transmittal of data to United States Treasury and employee-designated financial institutions to effect issuance of paycheck to employees and distribution of pay according to employee directions for saving bonds, allotments, and other authorized purposes.

Routine uses of records maintained in the system, including categories of users and the purposes of such uses:

Reporting: Tax withholding to Internal Revenue Service and appropriate state and local taxing authorities; FICA deductions to the Social Security Administration; dues deduction to labor unions; withholding for health and life insurance to the insurance carriers and the United States Office of Personnel Management; charity contribution deductions to agents of charitable institutions; annual W-2 statements to taxing authorities and the individual; wage, employment, and separation information to state unemployment compensation agencies, to the Department of Labor to determine eligibility for unemployment compensation, and to housing authorities for low-cost housing applications; injury compensation claims to Office of Workers Compensation Program at the Department of Labor. See Prefatory Statement of General Routine Uses.

Disclosure to consumer reporting agencies:

Disclosures pursuant to 5 U.S.C. 552a(b)(12): Disclosures may be made from this systems to ‘consumer reporting agencies’ (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Manual and automated.

Retrievability:

By name or social security number.

Safeguards:

Physical, technical, and administrative security is maintained, with all storage equipment and/or rooms locked when not in use. Admittance, when open, is restricted to authorized personnel only. All payroll personnel and computer operators and programmers are instructed and cautioned on the confidentiality of the records.

Retention and disposal:

Retained on site until after GAO audit, then disposed of, or transferred to Federal Records Storage Center in accordance with the fiscal record programs approved by GAO, as appropriate, or General Record Schedules of GSA. Dispose of when 3 years old

System manager(s) and address:

Chief, Division of Accounting Operations, MAR-330, Maritime Administration, 400 7th Street, SW., Washington, DC 20590.

Notification procedure:

Division of General and International Law, Office of the Chief Counsel, MAR-221, Maritime Administration, 400 7th Street, SW., Washington, DC 20590.

Record access procedures:

Same as “Notification procedure.”

Contesting record procedures:

Same as “Notification procedure.”

Record source categories:

The individual. Those authorized by individual to furnish information. Supervisors. Timekeepers. Personnel Offices. IRS.

Exemptions claimed for the system:

None.

DOT/MARAD 2

System name:

Accounts Receivable.

Security classification:

Unclassified, sensitive.

System location:

Maritime Administration, Division of Accounting Operations, MAR-330, 400 7th Street, SW., Washington, DC 20590.

Categories of individuals covered by the system:

Debtors owing money to MARAD, including employees, former employees, business firms, general public and institutions.

Categories of records in the system:

Name and address; amount owed, and service, overpayment or other accounting therefore; invoice number, if any.

Authority for maintenance of the system:

5 U.S.C. 5701-09, Federal Property Management Regulation 101-7, Treasury Fiscal Requirements Manual 31 U.S.C. 3711.

Purpose(s):

Billing debtors, reporting delinquent debts to credit bureaus, referrals to the General Accounting Office and the Department of Justice, reporting to Office of Personnel Management for liquidating debts from retirement and other benefits.

Routine uses of records maintained in the system, including categories of users and the purposes of such uses:

See Prefatory Statement of General Routine Uses.

Disclosure to consumer reporting agencies:

Disclosures pursuant to 5 U.S.C. 552a(b)(12): Disclosures may be made from this systems to ‘consumer reporting agencies’ (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Manual.

Retrievability:

By name, and invoice number as appropriate.

Safeguards:

Physical security; handling by authorized personnel only.

Retention and disposal:

Retained until payment is received and account is audited, and then disposed of in accordance with Records Control Schedule. Disposed of when 3 years old.

System manager(s) and address:

Chief, Division of Accounting Operations, Maritime Administration, 400 7th Street, SW., Washington, DC 20590.

Notification procedure:

Division of General Law and International Law, Office of the Chief Counsel, Maritime Administration, 400 7th Street, SW., Washington, DC 20590.

Record access procedures:

Same as Notification procedure.

Contesting record procedures:

Same as Notification procedure.

Record source categories:

The individual. Those authorized by the individual to furnish information. Contracting officer as appropriate. Accounting records.

Exemptions claimed for the system:

None.

DOT/MARAD 3

System name:

Freedom of Information and Privacy Request Records.

Security classification:

Unclassified, sensitive.

System location:

Division of General Law and International Law, Office of the Chief Counsel; and Office of the Secretary; Maritime Administration, 400 7th Street, SW., Washington, DC 20590.

Categories of individuals covered by the system:

Individuals who have requested records under the Freedom of Information and/or Privacy Acts.

Categories of records in the system:

Incoming requests; correspondence developed during processing of requests; initial and final determination letters; records summarizing pertinent facts about requests and action taken; copy or description of records released; description of records denied. Copies of records denied are often kept with these files.

Authority for maintenance of the system:

5 U.S.C. 552, 552a.

Purpose(s):

Used by DOT and MARAD management and legal personnel to assure that each request receives an appropriate reply and to compile data for the required annual reports on activities under the Acts.

Routine uses of records maintained in the system, including categories of users and the purposes of such uses:

See Prefatory Statement of General Routine Uses.

Disclosure to consumer reporting agencies:

None.

Policies and practices for storing, retrieving, accessing, retaining, and disposing of records in the system:

Storage:

Paper records in file folders.

Retrievability:

Chronologically by date of initial determination. By name of requester and date.

Safeguards:

Privacy Act request records are stored in file cabinets in secured premises with access limited to those whose official duties require access. Freedom of Information Act request records are generally available to the public with the exception of records denied.

Retention and disposal:

Records are disposed of in accordance with the appropriate record disposition authorization approved by the Archivist of the United States.

System manager(s) and address:

Chief, Division of General and International Law, Office of the Chief Counsel, Maritime Administration, 400 7th Street, SW., Washington, DC 20590.

Notification procedure:

Same as “System manager.”

Record access procedures:

Same as “System manager.”

Contesting record procedures:

Same as “System Manager.”

Record source categories:

The individual. Records derived from processing Freedom of Information and Privacy Act requests.

Exemptions claimed for the system:

None.

DOT/MARAD 4

System name:

Visitor Logs and Permits for Facilities Under MARAD Control.

Security classification:

Unclassified, sensitive.

System location:

Department of Administrative Service and Procurement, United States Merchant Marine Academy, Kings Point, NY 11024. James River Reserve Fleet, Drawer “C”, Fort Eustis Virginia 23604; Beaumont Reserve Fleet, PO Box 6355, Beaumont, Texas 77705; Suisun Bay Reserve Fleet, PO Box 318, Benicia, California 94510.

Categories of individuals covered by the system:

Non-Federal visitors, Federal personnel entering facilities after duty hours, and employees seeking parking and firearm permits.

Categories of records in the system:

Name, address, place of birth, citizenship, physical characteristics, type and number of firearms and amount of ammunition, purpose of visit, affiliation, time in and time out, license numbers, and records of violations.

Authority for maintenance of the system:

50 App U.S.C. 1744, 46 App U.S.C. 1111, and 46 App U.S.C. 1114.

Purpose(s):

To keep records of non-Federal visitors, Federal personnel entering facilities after duty hours, and employees seeking parking and firearm permits.

Routine uses of records maintained in the system, including categories of users and the purposes of such uses:

See Prefatory Statement of General Routine Uses.

Disclosure to consumer reporting agencies:

None.

Policies and practices for storing, retrieving, accessing, retaining, and disposing of records in the system:

Storage:

Paper records in file folders.

Retrievability:

Filed alphabetically by name, or date and time.

Safeguards:

Records are located in lockable metal file cabinets or in metal file cabinets in secured rooms or secured premises with access limited to those whose official duties require access.

Retention and disposal:

Retained on site for five years, then disposed of in accordance with unit’s Record Control Schedule. Destroy 5 years after final entry or 5 years after date of document, as appropriate.

System manager(s) and address:

Superintendent of respective Reserve Fleets and Chief, Fire and Security, United States Merchant Marine Academy, Kings Point, New York 11024-1699.

Notification procedure:

Division of General and International Law, Office of the Chief Counsel, Maritime Administration, MARB221, 400 7th Street, SW., Washington, DC 20590.

Record access procedures:

Same as “Notification procedure.”

Contesting record procedures:

Same as “Notification procedure.”

Record source categories:

The individual. Those authorized by the individual to furnish information. Employees.

Exemptions claimed for the system:

None.

DOT/MARAD 5

System name:

Travel Records (Domestic and Foreign) of Employees and Certain Other Persons.

Security classification:

Unclassified, sensitive.

System location:

Division of Accounting Operations, Maritime Administration, MAR-330, 400 7th Street, SW., Washington, DC 20590; United States Merchant Marine Academy Travel Clerk, United States Merchant Marine Academy, Kings Point, New York 11024.

Categories of individuals covered by the system:

Employees, Consultants, Advisory Committee Members, and official requests of the Department.

Categories of records in the system:

Name, address, social security number, destination, itinerary, mode and purpose of travel; dates; expenses including amounts advanced (if any), amounts claimed, and amounts reimbursed; travel orders, travel vouchers, receipts, and passport record card.

Authority for maintenance of the system:

13 U.S.C. 3701(a)(3).

Purpose(s):

Transmittal to United States Treasury for payment, to State Department for passports.

Routine uses of records maintained in the system, including categories of users and the Purposes of such uses:

See Prefatory Statement of General Routine Uses.

Disclosure to consumer reporting agencies:

Disclosures pursuant to 5 U.S.C. 552a(b)(12): Disclosures may be made from this systems to ‘consumer reporting agencies’ (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Manual.

Retrievability:

Filed by name, social security number, or travel order number.

Safeguards:

Records are located in lockable metal file cabinets or in secured rooms or secured premises with access limited to those whose official duties require access.

Retention and disposal:

Retained according to GSA Federal Travel Regulations, and then disposed of according to unit’s Records Control Schedule. Destroy when 3 years old or upon separation of the bearer, whichever is sooner.

System manager(s) and address:

Chief, Division of Accounting Operations, MAR-330, Maritime Administration, 400 7th Street, SW., Washington, DC 20590; United States Merchant Marine Academy Travel Clerk, United States Merchant Marine Academy, Kings Point, NY 11024.

Notification procedure:

Division of General and International Law, Office of the Chief Counsel, Maritime Administration, 400 7th Street, SW., Washington, DC 20590.

Record access procedures:

Same as Notification Procedure.

Contesting record procedures:

Same as Notification Procedure.

Record source categories:

The individual. Those authorized by the individual to furnish information. Supervisors. Finance (or accounting) office standard references.

Exemptions claimed for the system:

None.

DOT/MARAD 6

System name:

Executive Correspondence Files.

Security classification:

Unclassified—Sensitive.

System location:

Office of Maritime Administrator, MAR-100, Maritime Administration, 400 7th Street, SW., Washington, DC 20590.

Categories of individuals covered by the system:

Individuals who correspond with top-level officials in MARAD and express views or seek information or assistance. Freedom of Information Act or Privacy Act requests is not indexed in this system.

Categories of records in the system:

The system may include the name and address of correspondent, summary of subject matter, original correspondence, official response, referral letters, memoranda or notes concerning subject of the correspondence, or copies of any enclosures. The records in the system are arranged chronologically by date of official Agency action, numerically by control number assigned to each items of correspondence and by name of correspondent.

Authority for maintenance of the system:

5 U.S.C. 301; 49 U.S.C. 322.

Purpose(s):

To prepare statistical reports for management on correspondence volume or topics of public interest.

Routine uses of records maintained in the system, including categories of users and the purposes of such uses:

Used by personnel in the Office of the Maritime Administrator and administrative offices to assure that each request receives an appropriate and timely reply. Information from or copies of the records may be provided to the original addresses of the original correspondence. See Prefatory Statement of General Routine Uses.

Disclosure to consumer reporting agencies:

None.

Policies and practices for storing, retrieving, accessing, retaining, and disposing of records in the system:

Storage:

Maintained in paper form.

Retrievability:

By control number, by correspondent's name, by subject, and by date.

Safeguards:

Paper records are stored in file cabinets on secured premises with access limited to personnel whose official duties require access.

Retention and disposal:

Records are disposed in accordance with the appropriate record disposition schedule approved by the Archivist of the United States. Transfer closed files to Records Center when 5 years old. Offer to archivist when the latest records are 20 years old.

System manager(s) and address:

Maritime Administrator, MAR-100, 400 7th Street, SW., Washington, DC 20590.

Notification procedure:

Division of General and International Law, Office of the Chief Counsel, MAR-221, Maritime Administration, 400 7th Street, SW., Washington, DC 20590.

Record access procedures:

Same as Notification Procedure.

Contesting record procedures:

Same as Notification Procedure.

Record source categories:

The correspondent, referral source, Department employees involved in processing the correspondence, and other individuals, as required to prepare an appropriate response.

Exemptions claimed for the system:

None.

DOT/MARAD 7

System name:

Litigation, Claims and Administrative Proceeding Records.

Security classification:

Unclassified, sensitive.

System Location:

Office of Chief Counsel, MAR-220, Maritime Administration, 400 Seventh Street, SW., Washington, DC 20590.

Categories of individuals covered by the system:

Individuals the subject of any litigation which MARAD is involved; individuals who make administrative claims or appeals against MARAD; individuals who are the subjects of claims and administrative actions brought by MARAD; individuals who may have provided statements or other evidence with respect to any of the above.

Categories of records in the system:

Names, addresses, social security account numbers, statements of claims and analysis thereof, investigatory reports, opinion of law, and pleadings, motions, depositions, rulings, opinions citation particulars (description of vehicle, date of birth, physical characteristics, driving permit or license data, vehicle license data, etc.) and other litigation and claims documentation.

Authority for maintenance of the system:

46 app U.S.C. 1114 and 1241a, and 50 app U.S.C. 1291a.

Purpose:

Records of individuals subject of any litigation and claims proceedings.

Routine uses of records maintained in the system, including categories of users and the purposes of such uses:

See Prefatory Statement of General Routine Uses.

Policies and practices for storing, retrieving, accessing, retaining and disposing of records in the system:

Storage:

Paper records in file folders.

Retrievability:

Filed alphabetically by name.

Safeguards:

Records are located in lockable metal file cabinets or in metal file cabinets in secured rooms or secured premises with access limited to those whose official duties require access.

Retention and disposal:

Destroyed 5 years after date of document.

System manager(s) and address:

Chief Counsel, Maritime Administration, MAR-220, 400 Seventh Street, SW., Washington, DC 20590.

Notification procedure:

Division of General and International Law, Office of the Chief Counsel, Maritime Administration, MAR-226, 400 Seventh Street, SW., Washington, DC 20590.

Record access procedures:

Same as “Notification procedure.”

Contesting record procedures:

Same as “Notification Procedure.”

Record source categories:

Subject claimant or plaintiff. Those authorized by the foregoing to furnish information. Whatever other sources are pertinent to the nature of the case.

Systems exempted from certain provisions of the act:

Pursuant to 5 U.S.C. 552a(k)(1), (k)(2) and (k)(5), this system is exempt from portions of the act.

Exemptions claimed for the system:

None.

DOT/MARAD 8

System name:

Property Accountability Files.

Security classification:

Unclassified, sensitive

System location:

Office of Management Services and Procurement Maritime Administration, 400 7th Street, SW., Washington, DC 20590. Department of Administrative Service and Procurement, United States Merchant Marine Academy, Kings Point, NY 11024. Office of Ship Operations, Division of Reserve Fleet, Maritime Administration, MAR-612, 400 7th Street, SW., Washington, DC 20590. James River Reserve Fleet, Drawer “C”, Fort Eustis Virginia 23604; Beaumont Reserve Fleet, P.O. Box 6355, Beaumont, Texas 77705; Suisun Bay Reserve Fleet, P.O. Box 318, Benicia, California 94510; National Maritime Research Center, United States Merchant Marine Academy, Kings Point, NY 11024.

Categories of individuals covered by the system:

Employees, general public, institutions, and anyone who charges out or signs for property or other materials.

Categories of records in the system:

Name; telephone number; identification of property or equipment; home and business address; employee I.D. number; position; job title; grade; organization; explanation for items not accounted for, correspondence; clearances; and key number.

Authority for maintenance of the system:

40 U.S.C. 483(b).

Purpose(s):

Tracking system for anyone who charges out or signs for property or other materials.

Routine uses of records maintained in the system, including categories of users and the purposes of such uses:

See Prefatory Statement of General Routine Uses.

Disclosure to consumer reporting agencies:

Disclosures pursuant to 5 U.S.C. 552a(b)(12): Disclosures may be made from this systems to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Paper copy of file folders and trays.

Retrievability:

Filed alphabetically by name.

Safeguards:

Records are located in lockable metal file cabinets, or lockable desks, or in metal file cabinets in secured rooms or secured premises with access limited to those whose official duties require access.

Retention and disposal:

Retained 2 years after property is accounted for.

System manager(s) and address:

Chief, Supply Operations Division, MAR-313, Maritime Administration, 400 7th Street, SW., Washington, DC 20590. Administrative Services Office, United States Merchant Marine Academy, Kings Point, NY 11024. Director, National Maritime Research Center, United States Merchant Marine Academy, Kings Point, NY 11024. Chief, Division of Reserve Fleet, MAR-612, Maritime Administration, 400 7th St, SW., Washington, DC 20590. Superintendent, James River Reserve Fleet, Drawer “C”, Fort Eustis, Virginia 23604; Superintendent, Beaumont Reserve Fleet, PO Box 6355, Beaumont, Texas 77705; Superintendent, Suisun Bay Reserve Fleet, PO Box 318, Benicia, California 94510.

Notification procedure:

Division of General and International Law, Office of the Chief Counsel, MAR-220, Maritime Administration, 400 7th Street, SW., Washington, DC 20590.

Record access procedures:

Same as “Notification procedure.”

Contesting record procedures:

Same as “Notification procedure.”

Record source categories:

Subject individual. Those authorized by the individual to furnish information. Book cards. Supply person providing the equipment.

Exemptions claimed for the system:

None.

DOT/MARAD 9

System name:

Records of Cash Receipts.

Security classification:

Unclassified, sensitive.

System location:

Director, Office of Accounting, MAR-330, Maritime Administration, 400 7th Street, SW., Washington, DC 20590.

Categories of individuals covered by the system:

Individuals paying for goods or services, reimbursing overpayments, or otherwise delivering cash to the Department.

Categories of records in the system:

Individual's name, the goods or services purchased, amount, date, check number, division or office, bank deposit, treasury deposit number.

Authority for maintenance of the system:

46 app U.S.C. 1114.

Purpose(s):

System for individuals paying for goods and or services, reimbursement of overpayments, delivery of cash to the Department.

Routine uses of records maintained in the system, including categories of users and the purposes of such uses:

See Prefatory Statement of General Routine Uses.

Disclosure to consumer reporting agencies:

None.

Policies and practices for storing, retrieving, accessing, retaining, and disposing of records in the system:

Storage:

Manual and machine-readable.

Retrievability:

Name and/or account or case number.

Safeguards:

Records are located in lockable metal file cabinets or in secured premises with access limited to those whose official duties require access.

Retention and disposal:

Permanently maintained.

System manager(s) and address:

Director, Office of Accounting, MAR-330, MARAD, 400 7th St., SW., Washington, DC 20590.

Notification procedure:

Division of General and International Law, MAR-221, Office of Chief Counsel, Maritime Administration, 400 7th Street, SW., Washington, DC 20590.

Record access procedures:

Same as Notification Procedure.

Contesting record procedures:

Same as Notification Procedure.

Record source categories:

Subject individual. Those authorized by the individual to furnish information.

Exemptions claimed for system:

None.

DOT/MARAD 10

System name:

Employee's Personnel Files Not Covered by Notices of Other Agencies.

Security classification:

Unclassified, sensitive.

System location:

Director, Office of Personnel, Maritime Administration, MAR-360, 400 7th Street, SW., Washington, DC 20590.

Categories of individuals covered by the system:

Current and former employees.

Categories of records in the system:

All personnel records in MARAD which are subject to the Privacy Act but are not covered in the notices of systems of records published by the Office of Personnel Management, Merit Systems Protection Board, or Equal Employment Opportunity Commission. The records of this system may include, but are not limited to: Employee Development; Incentive Awards; Employee Relations; Grievance Records; Medical; Career Management Program; Ship Personnel; Employee Overseas Assignments; Minority Group Statistics Program; Work Performance and Appraisal Records; including supervisory records which have been disclosed; Re-Employment and Priority Placement Programs; Within-Grade Denials (Reconsideration File); and, Automated Employee Information System.

Authority for maintenance of the system:

46 App U.S.C. 1111.

Purpose(s):

To provide information to officials or labor organizations reorganized under the Civil Service Reform Act when relevant and necessary to their duties of exclusive representation concerning personnel policies, practices, and matters affecting work conditions.

Routine uses of records maintained in the system, including categories of users and the purposes of such uses:

See Prefatory Statement of General Routine Uses.

Disclosure to consumer reporting agencies:

None.

Policies and practices for storing, retrieving, accessing, retaining, and disposing of records in the system:

Storage:

Manual and machine-readable.

Retrievability:

Filed by name and/or social security number.

Safeguards:

Records are located in lockable metal file cabinets or in secured rooms or secured premises with access limited to those whose official duties require access.

Retention and disposal:

Retained according to Unit's Records Control Schedule. Records are kept until employee retires and then 90 days after retirement records are sent to OPM and/or records center. If employees transfer to another government agency, the records are transferred to that government agency.

System manager(s) and address:

Director, Office of Personnel, Maritime Administration, MAR-360, 400 7th Street, SW, Washington, DC 20590.

Notification procedure:

Division of General and International Law, MAR-221, Office of Chief Counsel, Maritime Administration, 400 7th Street, SW, Washington, DC 20590.

Record access procedures:

Same as “Notification procedure.”

Contesting record procedures:

Same as “Notification procedure.”

Record source categories:

Subject individual and those authorized by the individual to furnish information. Others involved in references of the individual. Physicians. Employee's supervisor.

Exemptions claimed for the system:

None.

DOT/MARAD 11

System name:

Biographical Files.

Security classification:

Unclassified, sensitive.

System location:

Office of Public Affairs, Maritime Administration, MAR-240, 400 7th Street, SW, Washington, DC 20590.

Categories of individuals covered by the system:

Key present and former Maritime Administration personnel, and members of Advisory Board to the United States Merchant Marine Academy.

Categories of records in the system:

Biographical information, which may include date and place of birth; education; military service; present position; employment history; field of research; publications; inventions and patents; awards and honors; memberships and affiliations; present and past residences; telephone numbers; names, ages, and addresses of family members; hobbies and outside interests; and photograph of individual.

Authority for maintenance of the system:

46 App U.S.C. 1114.

Purpose(s):

Use in connection with written articles, oral interviews, speaking engagements, retirement and obituary notices, and other purposes of public information.

Routine uses of records maintained in the system, including categories of users and the purposes of such uses:

Distributed to the press, other government agencies, and the general public. See Prefatory Statement of General Routine Uses.

Disclosure to consumer reporting agencies:

None.

Policies and practices for storing, retrieving, accessing, retaining, and disposing of records in the system:

Storage:

Paper records in file folders or notebooks.

Retrievability:

By name alphabetically or by position or work unit.

Safeguards:

Records are located in locked metal file cabinets or locked rooms during non-business hours.

Retention and disposal:

Record retention and disposal is in accord with operating unit's Records Control Schedule. Dispose of 2 years after separation of the subject official.

System manager(s) and address:

Public Affairs Officer, MAR-240, Maritime Administration, 400 7th Street, SW, Washington, DC 20590.

Notification procedure:

Division of General and International Law, MAR-221, Office of the Chief Counsel, Maritime Administration, 400 7th Street, SW, Washington, DC 20590.

Record access procedures:

Same as “Notification Procedure.”

Contesting record procedures:

Same as “Notification Procedure.”

Record source categories:

The individual. Other sources such as news releases, articles and publications relating to the subject individuals.

Exemptions claimed for the system:

None.

DOT/MARAD 12

System name:

Applications to United States Merchant Marine Academy (USMMA).

System classification:

Unclassified, sensitive.

System location:

Office of Admissions, United States Merchant Marine Academy, Kings Point, NY 11204.

Categories of individuals covered by the system:

Applicants for admission to the Academy.

Categories of records in the system:

Name; address; name of nominating Congressman and congressional district; social security number; citizenship; sex; marital status; scholastic background; names of relatives who attended the Academy; high school record; personality record (compiled by high school authorities); seaman's experience; military service data; and biographical sketch. (Form: KP 2-65).

Authority for maintenance of the system:

46 App U.S.C. 1295b.

Purpose(s):

Determine admissions to the Academy.

Routine uses of records maintained in the system, including categories of users and the purposes of such uses:

Advise Member of Congress or other nominating authority of the outcome of an individual's candidacy. See Prefatory Statement of General Routine Uses.

Disclosure to consumer reporting agencies:

None.

Policies and practices for storing, retrieving, accessing, retaining, and disposing of records in the system:

Storage:

Manual and automated.

Retrievability:

Filed alphabetically by last name.

Safeguards:

Access to and use of these records is limited to those persons whose official duties require such access. Personnel screening is employed to prevent unauthorized disclosure.

Retention and disposal:

If admitted, the application becomes part of the Midshipman's Personnel Record for permanent retention. The file is transferred to the Federal Records Center after 5 years. If not admitted, it is retained for one year and destroyed.

System manager(s) and address:

Director, Office of Admissions, United States Merchant Marine Academy, Kings Point, NY 11204.

Notification procedure:

Division of General and International Law, MAR-221. Office of the Chief Counsel, Maritime Administration, 400 7th Street, SW, Washington, DC 20590.

Record access procedures:

Same as “Notification procedure.”

Contesting record procedures:

Same as “Notification procedure.”

Record source categories:

Subject individual, the individual's high school officials, references, and those authorized by the individual to furnish information.

Exemptions claimed for the system:

Pursuant to 5 U.S.C. 552a(k)(5), this system is exempt from portions of the act.

DOT/MARAD 13

System name:

Cadet Files, State Maritime Academies, “SIPSAM”.

Security classification:

Unclassified, sensitive.

System location:

Office of Maritime Labor and Training, Maritime Administration, MAR-240, 400 7th Street, SW, Washington, DC 20590.

Categories of individuals covered by the system:

Current and former cadets enrolled in the Student Incentive Payments, SIP, Program at the State Maritime Academies.

Categories of records in the system:

Name; service number; date of change in pay; re-enrollment or reinstatement; dis-enrollment; date of graduation; and service obligation. (Forms: MA-1005, MA-850 and MA-890).

Authority for maintenance of the system:

Merchant Marine Act, 1936 (as amended) Title XIII B Maritime Education and Training (46 App. U.S.C. 1295c).

Purpose(s):

Monitor the service, employment and academic obligations of the SIP recipients.

Routine uses of records maintained in the system, including categories of users and the purposes of such uses:

See Prefatory Statement of General Routine Uses.

Disclosure to consumer reporting agencies:

None.

Policies and practices for storing, retrieving, accessing, retaining, and disposing of records in the system:

Storage:

Paper records in file folders.

Retrievability:

Filed alphabetically by last name.

Safeguards:

Records are located in lockable file cabinets or in metal file cabinets in secured rooms or secured premises with access limited to those whose official duties require access.

Retention and disposal:

The records are retained until six years after graduation and then destroyed.

System manager(s) and address:

Director, Office of Labor and Training, Maritime Administration, MAR-250, 400 7th Street, SW, Washington, DC 20590.

Notification procedure:

Division of General and International Law, Office of the Chief Counsel, MAR-221, Maritime Administration, 400 7th Street, SW, Washington, DC 20590.

Record access procedures:

Same as “Notification Procedure.”

Contesting record procedures:

Same as “Notification Procedure.”

Record source categories:

The subject student. State Merchant Marine Academies. Those authorized by the student to furnish information.

Exemptions claimed for the system:

None.

DOT/MARAD 14

System name:

Citizenship Statements and Affidavits.

Security classification:

Unclassified, sensitive.

System location:

For bidders on surplus vessels: Division of Ship Disposals and Foreign Transfers, MAR-630, Maritime Administration, 400 7th Street, SW, Washington, DC 20590. For all other purposes: Office of Chief Counsel, MAR-220, Maritime Administration, 400 7th Street, SW, Washington, DC 20590.

Categories of individuals covered by the system:

Officers and shareholders of non-personal applicants and individual applicants.

Categories of records in the system:

Name; date and place of birth; nationality, and naturalization data.

Authority for maintenance of the system:

46 App U.S.C. 802, 803, 808, 1114 and 50 app U.S.C. 1744.

Purpose(s):

Keep track of officers and shareholders of non-personal applicants and individual applicants.

Routine uses of records maintained in the system, including categories of users and the purposes of such uses:

See Prefatory Statement of General Routine Uses.

Disclosure to consumer reporting agencies:

Disclosures pursuant to 5 U.S.C. 552a(b)(12): Disclosures may be made from this systems to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Paper records in file folders.

Retrievability:

Filed alphabetically by applicant's name, name of individual, or vessel name.

Safeguards:

Records are located in lockable metal file cabinets or in metal file cabinets in secured rooms or secured premises with access limited to those whose official duties require access.

Retention and disposal:

The records are transferred to the Federal Records Center after five years where they are retained for twenty years or the time period of the ship mortgage, whichever is longer.

System manager(s) and address:

Chief, Division of Ship Disposals and Foreign Transfers, MAR-630, and Office of the Chief Counsel, MAR-220, Maritime Administration, 400 7th Street, SW, Washington, DC 20590.

Notification procedure:

Division of General and International Law, Office of the Chief Counsel, MAR-221, Maritime Administration, 400 7th Street, SW, Washington, DC 20590.

Record access procedures:

Same as “Notification Procedure.”

Contesting record procedures:

Same as “Notification Procedure.”

Record source categories:

Subject applicant and individual. Those authorized by the foregoing to furnish information.

Exemptions claimed for the system:

None.

DOT/MARAD 15

System name:

General Agent's Protection and Indemnity and Second Seaman's Insurance: WSA and NSA.

Security classification:

Unclassified, sensitive.

System location:

Office of Marine Insurance, Maritime Administration, MAR-575, 400 7th Street, SW, Washington, DC 20590.

Categories of individuals covered by the system:

Individuals (e.g., seamen, passengers, stevedores) filing claims against general agents for death, disability, loss of personal effects, detention and repatriation and property damage.

Categories of records in the system:

Claimant's name; address; mariner's document number; sea service record; disciplinary records; selective service classification; names of parents; marriage and divorce data; social security number; alien registration and citizenship data; medical information; next-of-kin; wages per month; birth date; witness statements; investigator's report; names of counsel; and executors and administrators of estates (Forms: MA-574, MA-570, MA-269, MA-26 and 270).

Authority for maintenance of the system:

46 app U.S.C. 1101, 1114, 191-1205 and 50 app U.S.C. 1744.

Purpose(s):

Evaluate filed claims, negotiate settlements, award money, contest or initiate lawsuits; and arrange for proper medical treatment by establishing seaman's eligibility for acceptance under regulations of Public Health Service, United States Department of Health and Human Services, or other appropriate medical facilities.

Routine uses of records maintained in the system, including categories of users and the purposes of such uses:

See Prefatory Statement of General Routine Uses.

Disclosure for consumer reporting agencies:

None.

Policies and practices for storing, retrieving, accessing, retaining, and disposing of records in the system:

Storage:

Paper records in file folders.

Retrievability:

Filed alphabetically by seaman's name and vessel's name.

Safeguards:

Records are located in lockable metal file cabinets or in metal file cabinets in secured rooms or secured premises with access limited to those whose official duties require access.

Retention and disposal:

The records are transferred to the Federal Records Center after one year where they are retained indefinitely.

System manager(s) and address:

Director, Office of Marine Insurance, Maritime Administration, MAR-575, 400 7th Street, SW, Washington, DC 20590.

Notification procedure:

Division of General and International Law, MAR-221, Office of the Chief Counsel, Maritime Administration, 400 7th Street, SW, Washington, DC 20590.

Record access procedures:

Same as Notification Procedure.

Contesting record procedures:

Same as Notification Procedure.

Record source categories:

Subject individual. The individual's attorney. Adjusters, investigators. Attorneys. Office of Marine Insurance. Witnesses. The Marine Index Bureau. Those authorized by the individual to furnish information.

Exemptions claimed for the system:

None.

DOT/MARAD 16

System name:

Marine Training School Registrants.

Security classification:

Unclassified, sensitive.

System location:

Maritime Administration regional offices: Eastern—26 Federal Plaza, New York, N.Y. 10007; Central—No. 2 Canal Street, New Orleans, LA 70130; Western—211 Main Street, RM 1112, San Francisco, CA 94105; and Great Lakes—2300 E. Devon Avenue, Des Plaines, IL 60018.

Categories of individuals covered by the system:

Each seafarer enrolling in an agency training course.

Categories of records in the system:

Name; address; position title; owner's document number; social security number; certificate number; sponsoring organization; course completed; date of course completion; course grade; date of birth; and telephone number (Forms: MA-1005 and 1006).

Authority for maintenance of the system:

46 app U.S.C. 1114, 1295b, 1295c, 1295d, and 1295g.

Purpose(s):

Verification of attendance and performance.

Routine uses of records maintained in the system, including categories of users and the purposes of such uses:

See Prefatory Statement of General Routine Uses.

Disclosure to consumer reporting agencies:

None.

Policies and practices for storing, retrieving, accessing, retaining, and disposing of records in the system:

Storage:

Paper records in file folders.

Retrievability:

Filed alphabetically by student's name.

Safeguards:

Records are located in lockable metal file cabinets or in metal file cabinets in secured rooms or secured premises with access limited to those whose duties require access.

Retention and disposal:

The records are transferred to the Federal Records Center one year after graduation or termination and disposed of 60 years after date of enrollment.

System manager(s) and address:

Training Facility Registrar in region where the training was taken; see System Location.

Notification procedure:

Division of General and International Law, MAR-221, Office of the Chief Counsel, Maritime Administration, 400 7th Street, SW, Washington, DC 20590.

Record access procedures:

Same as “Notification Procedure.”

Contesting record procedures:

Same as “Notification Procedure.”

Record source categories:

The student. The training instructors. Those authorized by the individual to furnish information.

Exemptions claimed for the system:

None.

DOT/MARAD 17

System name:

Waivers of Liability to Board Reserve Fleet Vessels and Other Craft Located at United States Merchant Marine Academy.

Security classification:

Unclassified, sensitive.

System location:

Beaumont Reserve Fleet, PO Box 6355, Beaumont, Texas 77705; James River Reserve Fleet, Drawer “C”, Fort Eustis, Virginia 23604; and Suisun Bay Reserve Fleet, PO Box 318, Benicia, California 94510; United States Merchant Marine Academy, Kings Point, Long Island, New York 11024-1699.

Categories of individuals covered by the system:

All individuals boarding Reserve Fleet vessels.

Categories of records in the system:

Name, affiliation, date, and signature (Form: MA-118).

Authority for maintenance of the system:

46 app U.S.C. 1295b, 1295g, and 50 app U.S.C. 1744.

Purpose(s):

Limit Governments liability for any damage suffered by certain persons aboard RRF/NDRF ships.

Routine uses of records maintained in the system, including categories of users and the purposes of such uses:

See Prefatory Statement of General Routine Uses.

Disclosure of consumer reporting agencies:

None.

Policies and practices for storing, retrieving, accessing, retaining, and disposing of records in the system:

Storage:

Paper records in file folders.

Retrievability:

Filed alphabetically by name.

Safeguards:

Records are located in lockable metal file cabinets or metal file cabinets in secured rooms or in secured premises with access limited to those whose official duties require access.

Retention and disposal:

Records are maintained for three years and then destroyed.

SYSTEM MANAGER(S) AND ADDRESS:

Superintendent of Respective Reserve Fleets; and United States Merchant Marine Academy, Kings Point, New York 11024.

Notification procedure:

Division of General and International Law, Office of the Chief Counsel, MAR-221, Maritime Administration, 400 7th Street, SW, Washington, DC 20590.

Record access procedures:

Same as Notification Procedure.

Contesting record procedures:

Same as Notification Procedure.

Record source categories:

Subject individual. Those authorized by the individual to furnish information.

Exemptions claimed for the system:

None.

DOT/MARAD 18

System name:

National Defense Executive Reserve.

Security classification:

Unclassified, sensitive.

System location:

Division of National Security Plans, MAR-620, Maritime Administration, 400 7th Street, SW, Washington, DC 20590.

Categories of individuals covered by the system:

Nominees and members of the National Defense Executive Reserve.

Categories of records in the system:

Name; home address; photograph; brief career history; names of close relatives; marital status; previous Government experience; previous residences; current and recent employment; citizenship; social security number; business and residence telephone numbers; security clearance; statement of understanding; request for appointment; appointment affidavits; secrecy agreement; sex; date and place of birth; education; and professional and other memberships.

Authority for maintenance of the system:

46 app U.S.C. 1295e, 1295g and 1126-1.

Purpose(s):

Transferring data to the Federal Preparedness Agency pursuant to E.O. 11179.

Routine uses of records maintained in the system, including categories of users and the purposes of such uses:

See Prefatory Statement of General Routine Uses.

Disclosure to consumer reporting agencies:

None.

Policies and practices for storing, retrieving, accessing, retaining, and disposing of records in the system:

Storage:

Paper records in file folders.

Retrievability:

Alphabetically by last name.

Safeguards:

Records are located in lockable metal file cabinets or in metal file cabinets in secured rooms or secured premises with access limited to those whose official duties require access.

Retention and disposal:

Retained until one year after individual's appointment is terminated or until death and then discarded.

System manager(s) and address:

Chief, Division of National Security Plans, MAR-620, Maritime Administration, same as above address.

Notification procedure:

Division of General and International Law, Office of the Chief Counsel, MAR-221, Maritime Administration, 400 7th Street, SW, Washington, DC 20590.

Record access procedures:

Same as “Notification Procedure.”

Contesting record procedures:

Same as “Notification Procedure.”

Record source categories:

The individual. Those authorized by the individual to furnish information. The investigator performing personal and security investigation. Sources contacted by the investigator.

Exemptions claimed for the system:

None.

DOT/MARAD 20

System name:

Seamen's Awards for Service, Valor, etc.

Security classification:

Unclassified, sensitive.

System location:

Office of Maritime Labor and Training, MAR-250, Maritime Administration, 400 7th Street, SW, Washington, DC 20590.

Categories of individuals covered by the system:

Seamen given awards for service, valor, etc.

Categories of records in the system:

Name; address; mariner's document number; social security number; and names of ships.

Authority for maintenance of the system:

46 App. U.S.C. 2001-2007.

Purpose(s):

Provide information to the seamen and family members upon request.

Routine uses of records maintained in the system, including categories of users and the purposes of such uses:

See Prefatory Statement of General Routine Uses.

Disclosure to consumer reporting agencies:

None.

Policies and practices for storing, retrieving, accessing, retaining, and disposing of records in the system:

Storage:

Records are stored in paper copy in file folders and on magnetic tape.

Retrievability:

Files are maintained alphabetically by name of seaman.

Safeguards:

Records are located in lockable metal file cabinets or in metal file cabinets in secured rooms or secured premises with access limited to those whose official duties require access.

Retention and disposal:

Paper records containing letters of commendation, name of seamen, address, name of vessel and mariner's document number are transferred to the Federal Records Center immediately, where they are retained for 75 years.

System manager(s) and address:

Director, Office of Maritime Labor and Training, MAR-250, Maritime Administration, 400 7th Street, SW, Washington, DC 20590.

Notification procedure:

Division of General and International Law, Office of the Chief Counsel, MAR-221, Maritime Administration, 400 7th Street, SW, Washington, DC 20590.

Record access procedures:

Same as Notification procedure.

Contesting record procedures:

Same as Notification procedure.

Record source categories:

Subject individual. The individual's co-workers. Witnesses to incidents. Those authorized by the individual to furnish information.

Exemptions claimed for the system:

None.

DOT/MARAD 21

System name:

Seaman's Employment Analysis Records.

Security classification:

Unclassified, sensitive.

System location:

Department of Transportation Computer Center, SVC-172, 400 7th Street, SW, Washington, DC 20590.

Categories of individuals covered by the system:

Merchant seamen who sailed the previous calendar year.

Categories of records in the system:

Social security number; date of birth; records of United States Coast Guard issued documents; voyage employment information (e.g., ship and date signed on); and maritime schools attended.

Authority for maintenance of the system:

46 app U.S.C. 1295g.

Purpose(s):

To ensure an adequate supply of American mariners.

Routine uses of records maintained in the system, including categories of users and the purposes of such uses:

See Prefatory Statement of General Routine Uses.

Disclosure to consumer reporting agencies:

None.

Policies and practices for storing, retrieving, accessing, retaining, and disposing of records in the system:

Storage:

Records are stored on computer disks.

Retrievability:

Filed by social security number.

Safeguards:

In addition to technical securities, the records are located in secured rooms or premises with access limited to those whose official duties require access.

Retention and disposal:

Refreshed and maintained only for current available calendar year.

System manager(s) and address:

Director, Office of Maritime Labor and Training, Maritime Administration, MAR-250, 400 7th Street, SW, Washington, DC 20590.

Notification procedure:

Division of General and International Law, MAR-221, Office of the Chief Counsel, Maritime Administration, 400 7th Street, SW, Washington, DC 20590.

Record access procedures:

Same as “Notification procedure.”

Contesting record procedures:

Same as “Notification procedure.”

Record source categories:

United States Coast Guard.

Exemption claimed for the system:

None.

DOT/MARAD 22

System name:

Seaman's Unclaimed Wages (Vietnam Conflict).

Security classification:

Unclassified, sensitive.

System location:

Division of Accounting Operations, MAR-330, Maritime Administration, 400 7th Street, SW, Washington, DC 20590.

Categories of individuals covered by the system:

Seamen owed wages for service aboard Government vessels operated by general agents.

Categories of records in the system:

Name; social security number; employing general agent; and wages due and owing.

Authority for maintenance of the system:

46 app U.S.C. 1114(B), 1241a, and 50 app U.S.C. 1291(a).

Purpose(s):

Reporting wages owed.

Routine uses of records maintained in the system, including categories of users and the purposes of such uses:

See Prefatory Statement of General Routine Uses.

Disclosure to consumer reporting agencies:

None.

Policies and practices for storing, retrieving, accessing, retaining, and disposing of records in the system:

Storage:

Paper records in file folders.

Retrievability:

Paper records are filed alphabetically by name and by social security number.

Safeguards:

Paper records are secured in lockable metal file cabinets. Records are located in secured areas with access limited to those whose official duties require access.

Retention and disposal:

Retained until such time as claim is resolved or wages are disbursed.

System manager(s) and address:

Chief, Division of Accounting Operations, MAR-330, Maritime Administration, 400 7th Street, SW, Washington, DC 20590.

Notification procedure:

Division of General and International Law, Office of the Chief Counsel, MAR-221, Maritime Administration, 400 7th Street, SW, Washington, DC 20590.

Record access procedures:

Same as “Notification procedure.”

Contesting record procedures:

Same as “Notification procedure.”

Record source categories:

The general agents.

Exemptions claimed for the system:

None.

DOT/MARAD 24

System name:

USMMA Non-Appropriated Fund Employees.

Security classification:

Unclassified, sensitive.

System location:

Office of the Commandant of Midshipmen; Office of the Director of Athletics; Office of the General Manager, Ship's Service; Officer's Club; Junior Officer's Mess; Petty Officers Club; Fiscal Control Office; and Department of Administrative Services and Procurement, all at United States Merchant Marine Academy, Kings Point, N.Y. 11024.

Categories of individuals covered by the system:

All current and former employees of non-appropriated fund activities since 1970.

Categories of records in the system:

Name; telephone number; social security number; address; date of birth; height; weight; birthplace; employment history; special qualifications; education summary; references; personnel actions showing positions held and salary paid; insurance coverage; and letters of commendation or reprimand.

Authority for maintenance of the system:

46 app U.S.C. 1295g.

Purpose(s):

Track information on non-appropriated fund employees.

Routine uses of records maintained in the system, including categories of users and the purposes of such uses:

See Prefatory Statement of General Routine Uses.

Disclosure to consumer reporting agencies:

Disclosures pursuant to 5 U.S.C. 552a(b)(12):

Disclosures may be made from this systems to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Paper records in file folders.

Retrievability:

Alphabetically by employee's name.

Safeguards:

Records are located in lockable metal file cabinets in secured rooms or secured premises with access limited to those whose official duties require access.

Retention and disposal:

Records are retained indefinitely.

System manager(s) and address:

Commandant of Midshipmen; Director of Athletics; General Manager, Ship's Service; President, Officer's Club; Manager, Junior Officers Mess; President, Petty Officers Club; Head, Department of Budget and Accounts; and Head, Department of Administrative Services and Procurement, all at United States Merchant Marine Academy, Kings Point, N.Y. 11024.

Notification procedure:

Division of General and International Law, MAR-221, Office of the Chief Counsel, Maritime Administration, 400 7th Street, SW, Washington, DC 20590.

Record access procedures:

Same as “Notification procedure.”

Contesting record procedures:

Same as “Notification Procedure.”

Record source categories:

Subject employee. Those authorized by the employee to furnish information. Past employers and references. The employee's supervisor.

Exemptions claimed for the system:

Pursuant to 5 U.S.C. 552a(k)(5), this system is exempt from portions of the act.

DOT/MARAD 25

System name:

USMMA Graduates.

Security classification:

Unclassified, sensitive.

System location:

Office of External Affairs, United States Merchant Marine Academy, Kings Point, NY 11024.

Categories of individuals covered by the system:

All graduates of USMMA, since 1942, and some parents of graduates.

Categories of records in the system:

Name; address (home and business); vocation; class year; social security number; employee's name and address; years of maritime service, at sea and ashore; military service; maritime licenses; post-graduate education; honors and awards; and union affiliation. Graduate registration for job-placement also contains graduate's preferred salary and job location.

Authority for maintenance of the system:

46 app U.S.C. 1295g.

Purpose(s):

Make employment referrals, to compile statistical reports for Congress on the professional progress of the graduates, and to mail alumni publications, notices, and announcements. The users are the Director, Office of External Affairs and his immediate administrative staff, prospective employers, Congress and its Members, the United States Merchant Marine Academy Alumni Association, Inc., the United States Merchant Marine Academy Foundation, Inc. and the commercial contractor providing automated services for the United States Merchant Marine Academy Foundation, Inc.

Routine uses of records maintained in the system, including categories of users and the purposes of such uses:

The database is used for communication with alumni (e.g., magazine, homecoming, etc), placement opportunities for alumni, fundraising records, and congressional districts. See Prefatory Statement of General Routine Uses.

Disclosure to consumer reporting agencies:

None.

Policies and practices for storing, retrieving, accessing, retaining, and disposing of records in the system:

Storage:

Paper records in file folders and basic information are on magnetic tape.

Retrievability:

Alphabetically by name, and by social security number.

Safeguards:

Records are located in lockable metal file cabinets or in metal file cabinets in secured rooms or secured premises with access limited to those whose official duties require access. Records on tape also are subject to physical securities, including those maintained by contract.

Retention and disposal:

The records are kept indefinitely.

System manager(s) and address:

Director, Office of External Affairs, United States Merchant Marine Academy, Kings Point, N.Y. 10024.

Notification procedure:

Division of General and International Law, MAR-221, Office of the Chief Counsel, Maritime Administration, 400 7th Street, SW, Washington, DC 20590.

Record access procedures:

Same as “Notification procedure.”

Contesting record procedures:

Same as “Notification procedure.”

Record source categories:

A questionnaire voluntarily returned by graduates every few years. Graduates asking to be registered for job-placement. Families of graduates. Public and private employment of graduates. Persons nominating graduates for alumni awards. United States Merchant Marine Academy Alumni Association, Inc. Published articles naming graduates.

Exemptions claimed for the system:

None.

DOT/MARAD 26

System name:

USMMA Midshipmen Deposit Account Records.

Security classification:

Unclassified, sensitive.

System location:

Department of Budgets and Accounts, United States Merchant Marine Academy, Kings Point, NY 11024.

Categories of individuals covered by the system:

All current midshipmen.

Categories of records in the system:

Name, social security number, and all midshipmen activity fee deposits to the Academy.

Authority for maintenance of the system:

46 app U.S.C. 1295g.

Purpose(s):

Track activity fee deposits to the Academy.

Routine uses of records maintained in the system, including categories of users and the purposes of such uses:

See Prefatory Statement of General Routine Uses.

Disclosure to consumer reporting agencies:

None.

Policies and practices for storing, retrieving, accessing, retaining, and disposing of records in the system:

Storage:

Paper records in file folders.

Retrievability:

Filed by class year and then alphabetically by name.

Safeguards:

Records are located in lockable metal file cabinets or in metal file cabinets in secured rooms or in secured premises with access limited to those whose official duties require access.

Retention and disposal:

Maintained for one year after graduation or separation, and then destroyed.

System manager(s) and address:

Assistant Head, Department of Budgets and Accounts, United States Merchant Marine Academy, Kings Point, NY 11024.

Notification procedure:

Division of General and International Law, MAR-221, Office of the Chief Counsel, Maritime Administration, 400 7th Street, SW, Washington, DC 20590.

Record access procedures:

Same as “Notification Procedure.”

Contesting record procedures:

Same as “Notification Procedure.”

Record source categories:

Midshipmen. Those authorized by midshipman to furnish information. Department of Budgets and Accounts personnel.

Exemptions claimed for the system:

None.

DOT/MARAD 27

System name:

USMMA Midshipman Grade Transcripts.

Security classification:

Unclassified, sensitive.

System location:

Registrar's Office, United States Merchant Marine Academy, Kings Point, NY 11024.

Categories of individuals covered by the system:

All present and past midshipmen.

Categories of records in the system:

Name; social security numbers; courses taken; grades received; and cumulative average.

Authority for maintenance of the system:

46 app U.S.C. 1295g.

Purpose(s):

Record academic status of past and present midshipmen.

Routine uses of records maintained in the system, including categories of users and the purposes of such uses:

Sent to other schools or employers when requested by the midshipman. See Prefatory Statement of General Routine Uses.

Disclosure to consumer reporting agencies:

None.

Policies and practices for storing, retrieving, accessing, retaining, and disposing of records in the system:

Storage:

Paper records in file folders, paper records in file drawers, microfilm records, and magnetic tape.

Retrievability:

Alphabetically by midshipman's name.

Safeguards:

Records are located in lockable metal file cabinets in secured rooms or secured premises with access limited to those whose official duties require access.

Retention and disposal:

Transfer to Federal Records Center five years after graduation. Destroy sixty years after graduation.

System manager(s) and address:

Registrar, United States Merchant Marine Academy, Kings Point, N.Y. 10024.

Notification procedure:

Division of General and International Law, MAR-221, Office of the Chief Counsel, Maritime Administration, 400 7th Street, SW, Washington, DC 20590.

Record access procedures:

Same as “Notification Procedure.”

Contesting record procedures:

Same as “Notification Procedure.”

Record source categories:

The midshipman. Those authorized by the midshipman to furnish information. Faculty. Registrar's staff.

Exemptions claimed for the system:

None.

DOT/MARAD 28

System name:

USMMA Midshipman Medical Files.

Security classification:

Unclassified, sensitive.

System location:

Medical Department, United States Merchant Marine Academy, Kings Point, NY 11024.

Categories of individuals covered by the system:

All midshipmen.

Categories of records in the system:

Complete medical history prior to and during enrollment at the Academy.

Authority for maintenance of the system:

46 app U.S.C. 1295g.

Purpose(s):

Maintain health of midshipmen.

Routine uses of records maintained in the system, including categories of users and the purposes of such uses:

See Prefatory Statement of General Routine Uses.

Disclosure to consumer reporting agencies:

None.

Policies and practices for storing, retrieving, accessing, retaining, and disposing of records in the system:

Storage:

Paper records in file folders.

Retrievability:

Filed alphabetically by midshipman's name.

Safeguards:

Records are located in lockable metal file cabinets or in metal file cabinets in secured rooms or in secured premises with access limited to those whose official duties require access.

Retention and disposal:

Radiographic file salvage five years after graduation. All other documents combine within MA-18 Midshipmen Personnel Records after graduation. If not appointed as Midshipman, the record is retained for one year and destroyed.

System manager(s) and address:

Medical Officer, United States Merchant Marine Academy, Kings Point, N.Y. 11024.

Notification procedure:

Division of General and International Law, MAR-221, Office of the Chief Counsel, Maritime Administration, 400 7th Street, SW, Washington, DC 20590.

Record access procedures:

Same as Notification procedure.

Contesting record procedures:

Same as Notification procedure.

Record source categories:

Subject applicant or midshipman. Those authorized by foregoing to furnish information. Individual's physician. Academy medical officers. Contract medical personnel. Private and other medical personnel.

Exemptions claimed for the system:

Pursuant to 5 U.S.C. 552a(k)(5), this system is exempt from portions of the act.

DOT/MARAD 29

System name:

USMMA Midshipman Personnel Records.

Security classification:

Unclassified, sensitive.

System location:

Office of the Commandant of Midshipman, United States Merchant Marine Academy, Kings Point, NY 11024.

Categories of individuals covered by the system:

All current and former midshipmen since inception of the Academy in 1942. Also, all cadet corps personnel from 1938 to 1942.

Categories of records in the system:

Nominations to United States Merchant Marine Academy; College Board Scores; high school transcript; name; address; social security number; parent's name and address and occupation; relatives who attended USMMA; number of brothers and sisters; medical report; height; weight; color of hair; color of eyes; complexion; commendations; record of disciplinary cases; resignation notice; graduation certification; and report of deficiencies.

Authority for maintenance of the system:

46 app U.S.C. 1295g.

Purpose(s):

Record personnel matters on USMMA midshipmen.

Routine uses of records maintained in the system, including categories of users and the purposes of such uses:

See Prefatory Statement of General Routine Uses.

Disclosure to consumer reporting agencies:

Disclosures pursuant to 5 U.S.C. 552a(b)(12): Disclosures may be made from this systems to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Paper records in file folders.

Retrievability:

Alphabetically by midshipman's name.

Safeguards:

Records are located in lockable metal file cabinets or in metal file cabinets in secured rooms or in secured premises with access limited to those whose official duties require access.

Retention and disposal:

Retained on site for five years after graduation, then disposed of in accordance with the unit's record control schedule.

System manager(s) and address:

Commandant of Midshipman, United States Merchant Marine Academy, Kings Point, NY 11024.

Notification procedure:

Division of General and International Law, MAR-221, Office of the Chief Counsel, Maritime Administration, 400 7th Street, SW, Washington, DC 20590.

Record access procedures:

Same as “Notification procedure.”

Contesting record procedures:

Same as “Notification procedure.”

Record source categories:

The subject midshipman. Faculty administrators and midshipman corps officers who provide copies to the midshipman. Former employers, teachers, and school authorities, and references. Government or private physicians. United States Navy Security Officers. Those authorized by the midshipman to furnish the information.

Exemptions claimed for the system:

Pursuant to 5 U.S.C. 552a(k)(5), this system is exempt from portions of the act.

DOT/MARAD 30

System name:

Commitment Agreements.

Security classification:

Unclassified, sensitive.

System location:

Maritime Administration, Academies Program Officer, Office of Maritime Labor, Training & Safety, MAR-250, 400 Seventh Street, SW, Washington, DC 20590.

Categories of individuals covered by the system:

Students, graduates of United States Merchant Marine Academy and State maritime academies.

Categories of records in the system:

Files containing information of students, graduates of United States Merchant Marine Academy and State maritime academies. Information may contain addresses, social security numbers, and medical information.

Authority for maintenance of the system:

46 App. U.S.C. 1295b(e).

Purposes(s):

Determine if a student or graduate of the United States Merchant Marine Academy, USMMA, or subsidized student or graduate of a State maritime academy has a waivable/deferrable situation that prevents him/her from fulfilling the requirements for their service obligation contract.

Routine uses of records maintained in the system, including categories of users and the purposes of such uses:

See Prefatory Notice of General Routine Uses.

Disclosure to consumer reporting agencies:

None.

Policies and practices for storing, retrieving, accessing, retaining, and disposing of records in the system:

Storage:

File information is on computer with hard copy back up material in metal cabinets in a secured room.

Retrievability:

Name.

Safeguards:

Files are retrievable only through information known to the Academy Program Officer or other persons authorized to perform data input tasks.

Retention and disposal:

Files held until completion of eight-year service obligation period or as determined by the Maritime Administration.

System manager(s) and address:

Maritime Administration, Academies Program Officer, Office of Maritime Labor, Training & Safety, 400 Seventh Street, SW, Rm. 7302, Washington, DC 20590.

Notification Procedure:

Same as “System manager.”

Record access procedures:

Same as “System manager.”

Contesting record procedures:

Same as “System manager.”

Record source categories:

Students, graduates of the United States Merchant Marine Academy and State maritime academies.

Exemptions claimed for the system:

None.

DOT/NHTSA 401

System name:

Docket System.

Security classification:

Unclassified, sensitive.

System location:

Department of Transportation, National Highway Traffic Safety Administration, NHTSA, Office of Information Resource Management, Technical Information Services, NAD-40, 400 7th Street, SW, Room 5111, Washington, DC 20590.

Categories of individuals covered by the system:

Individuals who have commented on notices of NHTSA appearing in the Federal Register. Authors of reports that are added to the docket as background information.

Categories of records in the system:

Summary of the nature of the comment or the report, date written and filed, author affiliation.

Authority for maintenance of the system:

49 CFR Part 7 7.45, and Part 7, App.F.

Purpose(s):

Gather information for use in the NHTSA Reference Docket

Routine uses of records maintained in the system, including categories of users and the purposes of such uses:

To gather information on responses to rules promulgated by NHTSA. Users are both NHTSA staff members and public. Other uses include searching for background data on standards, determining areas for further research, and preparation for litigation. See Prefatory Statement of General Routine Uses.

Disclosure to consumer reporting agencies:

None

Policies and practices for storing, retrieving, accessing, retaining, and disposing of records in the system:

Storage:

Manual file.

Retrievability:

By individual name.

Safeguards:

Records are maintained in a Technical Reference Library.

Retention and disposal:

Indefinitely held.

System manager(s) and address:

Office of Information Resource Management, Technical Information Services, Department of Transportation, National Highway Traffic Safety Administration, NAD-40, Room 5111, 400 7th Street, SW., Washington, DC 20590.

Notification procedure:

Same as “System manager.”

Record access procedures:

Same as “System manager.”

Contesting record procedures:

Same as “System manager.”

Record source categories:

From letters freely sent to NHTSA by the public; publications used by engineers in writing standards.

Exemptions claimed for the system:

None.

DOT/NHTSA 402

System name:

Highway Safety Literature Personal Author File.

Security classification:

Unclassified, sensitive.

System location:

Department of Transportation, National Highway Traffic Safety Administration, NHTSA, Transportation Research Board, 2101 Constitution Ave., NW., Washington, DC 20418.

Categories of individuals covered by the system:

Writers of technical articles and reports who have authored publications selected for inclusion in the Highway Safety Literature database.

Categories of records in the system:

Bibliographic information giving title of article, book, or paper written; journal or other publication in which it appears; date of publication; abstract. The file is similar in nature to the card catalog of a library.

Authority for maintenance of the system:

5 U.S.C. 301, 49 U.S.C. 322.

Purpose(s):

Gather technical articles and reports for inclusion in NHTSA's Highway Safety Literature catalog.

Routine uses of records maintained in the system, including categories of users and the purposes of such uses:

Users are principally NHTSA staff members and their contractors who require literature searches prior to performing research. See Prefatory Statement of General Routine Uses.

Disclosure to consumer reporting agencies:

None.

Policies and practices for storing, retrieving, accessing, retaining, and disposing of records in the system:

Storage:

Magnetic tape.

Retrievability:

By individual name.

Safeguards:

Records are stored in file cabinets.

Retention and disposal:

Records are maintained indefinitely.

System manager(s) and address:

Office of Information Resource Management, Technical Information Services, Department of Transportation, National Highway Traffic Safety Administration, NAD-40, 400 7th Street, SW., Room 5111, Washington, DC 20590.

Notification procedure:

Same as “System manager.”

Record access procedures:

Same as “System manager.”

Contesting record procedures:

Same as “System manager.”

Record source categories:

Publications related to highway safety.

Exemptions claimed for system:

None.

DOT/NHTSA 411

System name:

General Public Correspondence System.

Security classification:

Unclassified, sensitive.

System location:

Department of Transportation, National Highway Traffic Safety Administration, NHTSA, Office of the Executive Secretariat, NOA-10, 400 7th Street, SW., Room 5221, Washington, DC 20590.

Categories of individuals covered by the system:

Individuals who have requested information or advice from the Agency.

Categories of records in the system:

Correspondence with individuals who have requested information or advice on promoting devices.

Authority for maintenance of the system:

5 U.S.C. 301, 49 U.S.C. 322.

Purpose (s):

Provide agency with background information on number of issues, reports, etc., and/or who seek guidance from NHTSA.

Routine uses of records maintained in the system, including categories of users and the purposes of such uses:

Reference purposes. See Prefatory Statement of General Routine Uses.

Disclosure to consumer reporting agencies:

None.

Policies and practices for storing, retrieving, accessing, retaining, and disposing of records in the system:

Storage:

In file folders.

Retrievability:

By individual name.

Safeguards:

Conserva-Files; locked when not in use.

Retention and disposal:

Records are retained for one year and are then discarded.

System manager(s) and address:

Department of Transportation, National Highway Traffic Safety Administration, Office of the Executive Secretary, NOA-10, 400 7th Street, SW., Washington, DC 20590.

Notification procedure:

Same as “System manager.”

Record access procedures:

Same as “System manager.”

Contesting record procedures:

Same as “System manager.”

Record source categories:

Individuals.

Exemptions claimed for the system:

None.

DOT/NHTSA 413

System name:

Odometer Fraud Data Base Files.

Security classification:

Unclassified, sensitive.

System location:

Department of Transportation, National Highway Traffic Safety Adm., NHTSA, Safety Assurance (NSA-01), Odometer Fraud Staff (NSA-20), 400 Seventh Street, SW., Room 5321, Washington, DC 20590

Categories of individuals covered by the system:

Suspects, defendants, witnesses, informants, automobile dealers, and victims of odometer fraud.

Categories of records in the system:

Information on suspects, defendants, witnesses, informants, motor vehicles, automobile dealers, victims and other related data obtained through Federal grand jury subpoenas. Information may contain addresses, dates of birth, financial data, criminal history records, business records, and numerous other data obtained through Federal grand jury subpoenas.

Purposes(s):

To gather information to be used in allegations of odometer fraud.

Routine uses of records maintained in the system, including categories of users and the purposes of such uses:

Files are maintained for use in criminal investigations and to support criminal prosecutions by the United States Department of Justice. Data are released also to authorized State and Federal law enforcement agencies and personnel and to victims under 42 U.S.C. 10606(b)(7). See Prefatory Statement of General Routine Uses.

Disclosure to consumer reporting agencies:

None.

Policies and practices for storing, retrieving, accessing, retaining, and disposing of records in the system:

Storage:

File folder storage and in an electronic database.

Retrievability:

By individual name, dealer name, complainant name, case number and vehicle identification number.

Safeguards:

Locked files and restricted electronic access. Files are regularly used only by members of the Odometer Fraud Staff.

Retention and disposal:

Retained for five years after case is closed, then destroyed.

System manager(s) and address:

Department of Transportation, National Highway Traffic Safety Administration, Attn: Chief, Odometer Fraud Staff, 400 Seventh Street, SW., Room 6208, Washington, DC 20590.

Notification procedure:

Same as “System manager.”

Record access procedures:

Same as “System manager.”

Contesting record procedures:

Same as “System manager.”

Record source categories:

Victims, automobile dealers, banks, State motor vehicle departments, State and Federal law enforcement agencies, and other sources used during the course of criminal investigations.

Exemptions claimed for the system:

None.

DOT/NHTSA 415

System name:

Office of Defects Investigation/Defects Information System, ODI/DIMS.

Security classification:

Unclassified, sensitive.

System location:

Department of Transportation, National Highway Traffic Safety Administration, NHTSA, Office of Defects Investigation, NSA-01, 400 7th Street, SW., Room 2403, Washington, DC 20590.

Categories of individuals covered by the system:

Vehicle owners.

Categories of records in the system:

Vehicle identification, vehicle problem.

Authority for maintenance of the system:

Purpose(s):

To gather information/evidence in the conduct of alleged defective vehicles or vehicle equipment.

Routine uses of records maintained in the system, including categories of users and the purposes of such uses:

Check complaints about vehicle defects to spot trends, resulting in investigations of the vehicle model. See Prefatory Statement of General Routine Uses.

Disclosure to consumer reporting agencies:

None.

Policies and practices for storing, retrieving, accessing, retaining, and disposing of records in the system:

Storage:

Disc pack and paper file.

Retrievability:

Identification number for each vehicle owner.

Safeguards:

Coded entry numbers.

Retention and disposal:

Eight years or indefinite.

System manager(s) and address:

Chief, Special Projects Staff, Department of Transportation, National Highway Traffic Safety Administration, NHTSA, Office of Defects Investigation, NSA-10, 400 7th Street, SW., Room 5326, Washington, DC 20590.

Notification procedure:

Department of Transportation, National Highway Traffic Safety Administration, NHTSA, Director, Office of Information Resource Management, Technical Information Services, NAD-40, 400 7th St., SW., Room 5111, Washington, DC 20590.

Record access procedures:

Same as “Notification procedure”.

Contesting record procedures:

Same as “Notification procedure”.

Record source categories:

General public, State highway offices, insurance companies, vehicle manufacturers.

Exemptions claimed for the system:

None.

DOT/NHTSA 417

System name:

National Driver Register, NDR.

Security classification:

Unclassified, sensitive.

System location:

Department of Transportation, National Highway Traffic Safety Administration, NHTSA, Office of Research and Traffic Records, Driver and Traffic Records Division, NTS-24, 400 7th Street, SW., Room 6124, Washington, DC 20590.

Categories of individuals covered by the system:

Persons who have had their driver's license denied, withdrawn, revoked or suspended for cause, or who have been convicted of certain services traffic violations as reported by State/Territorial driver licensing authorities.

Categories of records in the system:

NDR records include: The reporting jurisdiction, the subject's full name, other names used, date of birth, driver license number and/or social security number (if used by the reporting jurisdiction), sex, height, weight, eye color, the reason for withdrawal, the date of the withdrawal, and the date eligible for restoration of driving privilege or the date license was actually restored. Frequently the physical data are not provided by the reporting agency.

Purpose(s):

To provide information regarding individuals who have had their driver licenses revoked, suspended or otherwise denied for cause, or who have been convicted of certain traffic violations, etc.

Routine uses of records maintained in the system, including categories of users and the purposes of such uses:

Provide identification of drivers who have had their licenses withdrawn, suspended, revoked or otherwise denied for cause, or who have been convicted of certain traffic violations, in response to inquiries from State or Federal driver licensing officials. See Prefatory Statement of General routine Uses.

Disclosure to consumer reporting agencies:

None.

Policies and Practices for storing, retrieving, accessing, retaining, and disposing of records in the system:

Storage:

The NDR master file is maintained on disk storage. Source data received as manual input (i.e. forms, letters) are converted to disk storage. Source data received on magnetic tape are converted into printed listings. All source data are batch filed.

Retrievability:

The master file is indexed by surname and refined by program application using screening criteria such as given names, date of birth and physical characteristics.

Safeguards:

The data files are maintained in a building under surveillance by a 24-hour guard force. In addition, the spaces in which the files are maintained are equipped with lockable doors, which are locked when vacated. All NDR employees are briefed on NDR security requirements and their responsibilities.

Retention and disposal:

Records of actions that have been canceled or rescinded are purged from the file upon receipt of notification from the reporting jurisdiction. Other records are retained for seven or five years depending on the reason for withdrawal of the individual's license. Withdrawals for drunk driving, hit and run, fatal accident, felony and misrepresentation are retained for seven years. Records of “habitual offenders” as stipulated by certain states are retained indefinitely, unless otherwise requested by the reporting state. All other master file records are retained for five years. Magnetic tape records are erased by degaussing, using 86db degaussing equipment, prior to disposing of the tapes. Shredding destroys paper source data reports of withdrawal.

System manager(s) and address:

Chief, National Driver Register, National Highway Traffic Safety Administration, NTS-24, Department of Transportation, Room 6124, Washington, DC 20590.

Notification procedure: Same as “System manager.”

Record access procedures:

Same as “System manager.”

Contesting record procedures;

Same as “System manager.”

Record source categories:

Driver licensing administrators of the States, and the District of Columbia, or the agencies within the jurisdictions responsible for such records.

Exemptions claimed for the system:

None.

DOT/NHTSA 422

System name:

Temporary Exemption Petitions.

Security classification:

Unclassified, sensitive.

System location:

Department of Transportation, National Highway Traffic Safety Administration, NHTSA, Office of Chief Counsel, NCC-01, 400 7th Street, SW., Room 5219, Washington, DC 20590.

Categories of individuals covered by the system:

Petitioners (commercial entities) seeking exemption from Federal motor vehicle safety standards.

Categories of records in the system:

Income statement and balance sheets, production information.

Authority for maintenance of the system:

49 U.S.C. 30113.

Purpose(s):

Gather information regarding exemptions and possible penalties on Federal motor vehicle safety standards.

Disclosure to consumer reporting agencies:

None.

Routine uses of records maintained in the system, including categories of users and the purposes of such uses:

For consultation by attorneys while file is active; copies in public docket. See Prefatory Statement of General Routine Uses.

Policies and practices for storing, retrieving, accessing, retaining, and disposing of records in the system:

Storage:

Office files.

Retrievability:

Temporary exemptions; filed by corporation's names.

Safeguards:

Available only to the System manager and his secretary.

Retention and disposal:

Permanent retention.

System manager(s) and address:

Senior Staff Attorney, Department of Transportation, National Highway Traffic Safety Administration, Office of Chief Counsel, NCC-01, 400 7th Street, SW., Washington, DC 20590.

Notification procedure:

Department of Transportation, National Highway Traffic Safety Administration, Office of Chief Counsel, NCC-01, 400 7th Street, SW., Room 5219, Washington, DC 20590.

Record access procedures:

Same as “Notification procedure.”

Contesting record procedures:

Same as “Notification procedure.”

Record source categories:

Petitioners.

Exemptions claimed for the system:

None.

DOT/NHTSA 431

System name:

Civil Penalty Enforcement Files.

Security classification:

Unclassified, sensitive.

System location:

Department of Transportation, National Highway Traffic Safety Administration, Office of the Chief Counsel, NCC-01, 400 7th Street, SW., Room 5219, Washington, DC 20590.

Categories of individuals covered by the system:

Persons against whom civil penalties are sought or contemplated for violations of NHTSA-administered statutes.

Categories of records in the system:

Investigatory records of alleged violations.

Authority for maintenance of the system:

49 U.S.C. 30165.

Purpose(s):

Gather information for use by agency in possible civil suits for penalty violations.

Routine uses of records maintained in the system, including categories of users and the purposes of such uses:

See Prefatory Statement of General Routine uses.

Disclosure to consumer reporting agencies:

None.

Policies and practices for storing, retrieving, accessing, retaining, and disposing of records in the system:

Storage:

Office files.

Retrievability:

Files in CIR numerical order.

Safeguards:

Available only to the System Manager and his secretary.

Retention and disposal:

Records are retained indefinitely.

System manager(s) and address:

Senior Staff Attorney, Department of Transportation, National Highway Traffic Safety Administration, Office of Chief Counsel, NCC-01, 400 7th Street, SW., Washington, DC 20590.

Notification procedure:

Department of Transportation, National Highway Traffic Safety Administration, Office of Chief Counsel, NCC-01, 400 7th Street, SW., Room 5219, Washington, DC 20590.

Record access procedures:

Same as “Notification procedure.”

Contesting record procedures:

Same as “Notification procedure.”

Record source categories:

NHTSA investigations and tests.

Exemptions claimed for the system:

None.

DOT/NHTSA 436

System name:

Contract Grievance Records.

Security classification:

Unclassified, sensitive.

System location:

Department of Transportation, National Highway Traffic Safety Administration, NHTSA, Office of Human Resources, NAD-20, 400 7th Street, SW., Room 5306, Washington, DC 20590.

Categories of individuals covered by the system:

Employees in the non-professional exclusive unit covered by the NHTSA/AFGE contract of March 5, 1974.

Categories of records in the system:

Information or documents relating to a decision by the Administration or an arbitrator affecting an individual.

Purpose(s):

To substantiate or deny allegations relating to employee grievances.

Routine uses of records maintained in the system, including categories of users and the purposes of such uses:

To respond to the Federal Labor Relation Authority in connection with an Unfair Labor Practice Procedure or to respond to the appeal of an arbitration award. See Prefatory Statement of General Routine Uses.

Disclosure to consumer reporting agencies:

None.

Policies and practices for storing, retrieving, accessing, retaining, and disposing of records in the system:

Storage:

Maintained in file folders and index cards.

Retrievability:

Retrieved by names of grievant(s).

Safeguards:

Access limited to those with official “need to know.” Personnel screening is employed to prevent unauthorized disclosure.

Retention and disposal:

The records are maintained up to 3 years and then retired to the Washington National Records Center.

System manager(s) and address:

Director, Office of Human Resources, Department of Transportation, National Highway Traffic Safety Administration, NAD-20, 400 7th Street, SW., Room 5306, Washington, DC 20590.

Notification procedure:

Same as “System manager.”

Record access procedures:

Same as “System manager.”

Contesting record procedures:

Same as “System manager.”

Record source categories:

Individual to who record pertains and/or representative; agency officials; employees; witnesses; official documents; etc.

Exemptions claimed for the system:

None.

DOT/NHTSA 463

System name:

Motor Vehicle Importation Information, MVII.

Security classification:

Unclassified, sensitive.

System location:

Department of Transportation, National Highway Traffic Safety Administration, Office of Vehicle Safety Compliance, NSA-32, 400 7th Street, SW., Washington, DC 20590.

Categories of individuals covered by the system:

Importers or declarants of imported motor vehicles and motor vehicles equipment, both private and commercial.

Categories of records in the system:

Forms HS-7, declaration on motor vehicles and motor vehicle equipment subject to Federal Motor Vehicle Safety Standards. Customs reports of declarations and inspections. Records relating to refusal of entry or penalties, and in some instances law enforcement and court records in alleged fraud cases.

Purpose(s):

Gather information on importation compliance of motor vehicle and motor vehicle equipment.

Routine uses of records maintained in the system, including categories of users and the purposes of such uses:

Records may be released to the Environmental Protection Agency for compliance with the Clean Air Act and to the United States Customs Service for import requirements. Released to State divisions of motor vehicles for state purposes and to law enforcement agencies in alleged fraud cases. See Prefatory Statement of General Routine Uses.

Disclosure to consumer reporting agencies:

None.

Policies and practices for storing, retrieving, accessing, retaining, and disposing of records in the system:

Storage:

Paper forms and computer disc tapes.

Retrievability:

By name of importer or declarant, addressee(s) vehicle or vehicle identification, customs district and entry number, and port of entry.

Safeguards:

Disc or tape may be accessed only by discrete identification code known to the System Manager and staff. Hard paper copies are maintained in locked cabinets.

Retention and disposal:

Hard paper copy is retained one year if no official claims are lodged against importer or declarant. Disc and tapes retained for period of United States Customs Service statute of limitations before erasure.

System manager(s) and address:

Chief, Verification Division, Office of Vehicle Safety Compliance, National Highway Traffic Safety Administration, NSA-32, Department of Transportation, 400 7th Street, SW., Washington, DC 20590.

Notification procedure:

Same as “System manager.”

Record access procedures:

Same as “System manager.”

Contesting record procedures:

Same as “System manager.”

Record source categories:

Forms executed by importers or declarants for the NHTSA, United States Customs Service, and the Environmental Protection Agency.

Exemptions claimed for the system:

None.

DOT/OST 003

System name:

Allegations of Infringement of United States Patents.

Security classification:

Unclassified, sensitive.

System location:

Office of the Secretary of Transportation, Office of the General Counsel, 400 7th Street, SW., Room 10102, Washington, DC 20590.

Categories of individuals covered by the system:

Individuals who believe that an agency of the Department of Transportation is infringing a United States patent owned by the individual. Categories of records in the system: Copies of correspondence alleging that agencies of the Department of Transportation have infringed, or are infringing, United States patents owned by the originators of the correspondence. Copies of replies by the Department Patent Counsel to the originator of the allegation. Copies of correspondence forwarding the allegation to the particular Department agency accused for their comment; their replies to Patent Counsel. Copies of correspondence between the Department of Transportation and the Department of Justice concerning the allegations.

Categories of records in the system:

Copies of correspondence alleging that agencies of the Department of Transportation have infringed, or are infringing, United States patents owned by the originators of the correspondence. Copies of replies by the Department Patent Counsel to the originator of the allegation. Copies of correspondence forwarding the allegation to the particular Department agency accused for their comment; their replies to Patent Counsel. Copies of correspondence between the Department of Transportation and the Department of Justice concerning the allegations.

Authority for maintenance of the system:

28 U.S.C. 1498.

Purpose(s):

Document allegations that agencies of the Department of Transportation have infringed, or are infringing, United States patents.

Routine uses of records maintained in the system, including categories of users and the purposes of such uses:

Used as a record of allegations and Patent Counsel's actions thereon. See Prefatory Statement of General Routine Uses.

Disclosure to consumer reporting agencies:

None.

Policies and practices for storing, retrieving, accessing, retaining, and disposing of records in the system:

Storage:

File folders stored in file cabinets.

Retrievability:

Indexed individually by name in alphabetical sequence.

Safeguards:

Records are disclosed only to individuals with established legal interest or legal “need to know.”

Retention and disposal:

Transfer to Federal Records Center two years after close of file; destroy 25 years after close of file.

System manager(s) and address:

Mailing address: Patent Counsel, C-15, United States Department of Transportation, and Washington, DC 20590. Office Location: 400 7th Street, SW., Room 10102.

Notification procedure:

Same as “System manager.”

Record access procedures:

Same as “System manager.”

Contesting record procedures:

Same as “System Manager.”

Record source categories:

Patent owners.

Exemptions claimed for the system:

None.

DOT/OST 004

System name:

Board for Correction of Military Records, BCMR.

Security classification:

Unclassified, sensitive.

System location:

Department of Transportation, DOT, Office of the Secretary, OST, Office of the General Counsel, 400 7th Street, SW., Room 4100, Washington, DC 20590.

Categories of individuals covered by the system:

Military personnel requesting the Board for Correction of Military Records to correct their military records.

Categories of records in the system:

Copies of actions of the General Counsel acting under delegated authority approving or disapproving BCMR cases.

Authority for maintenance of the system:

10 U.S.C. 1552.

Purpose(s):

Used as a record of the General Counsel's action in individual BCMR cases.

Routine uses of records maintained in the system, including categories of users and the purposes of such uses:

See Prefatory Statement of General Routine Uses.

Policies and practices for storing, retrieving, accessing, retaining, and disposing of records in the system:

Storage:

File folders stored in file cabinets (Conserv-a-File).

Retrievability:

Indexed individually by name in alphabetical sequence.

Safeguards:

Files are kept in the office of the Assistant General Counsel. Requests are referred to the Executive Secretary, BCMR.

Retention and disposal:

Retained indefinitely for precedential purposes.

System manager(s) and address:

Mailing Address: Assistant General Counsel for Environmental, Civil Rights and General Law, C-10, United States Department of Transportation, Washington, DC 20590. Office Location: 400 7th Street, SW., Room 10102.

Notification procedure:

Contact “System manager.”

Record access procedures:

Contact “System manager.”

Contesting record procedures:

Same as “Record access procedure.”

Record source categories:

Official agency records; hearings, documentary material from outside the agency.

Exemptions claimed for the system:

None.

DOT/OST 012

System name:

Files Relating to Personnel Hearings.

Security classification:

Unclassified, sensitive.

System location:

Department of Transportation, DOT, Office of the Secretary, OST, Office of the General Counsel, 400 7th Street, SW., Room 10102, Washington, DC 20590.

Categories of individuals covered by the system:

Certain employees of the Office of the Secretary who have availed themselves of the opportunity for a hearing in certain personnel matters.

Categories of individuals covered by the system:

Certain employees of the Office of the Secretary who have availed themselves of the opportunity for a hearing in certain personnel matters.

Categories of records in the system:

Notices of proposed adverse actions, answers of employees, notices of decisions, and supporting material.

Authority for maintenance of the system:

5 U.S.C. 1215, 1216, 7503(c), 7513(e), 7521, and 7543(e).

Purpose(s):

A record of the legal services performed and reference material for future cases.

Routine uses of records maintained in the system, including categories of users and the purposes of such uses:

Used by agency management in the preparation and conduct of administrative hearings. See Prefatory Statement of General Routine Uses.

Disclosure to consumer reporting agencies:

None.

Policies and practices for storing, retrieving, accessing, retaining, and disposing of records in the system:

Storage:

File folders stored in file cabinets (Conserv-a-File).

Retrievability:

Indexed individually by name in alphabetical sequence.

Safeguards:

Files are kept in the office of the Assistant General Counsel.

Retention and disposal:

Retire in 3 years; destroy in 6 years.

System manager(s) and address:

Mailing Address: Assistant General Counsel for Environmental, Civil Rights and General Law, C-10, United States Department of Transportation, Washington, DC 20590. Office Location: 400 7th Street, SW., Room 10102.

Notification procedure:

Apply to System manager.

Record access procedures:

Apply to System manager.

Contesting record procedures:

Same as “Record access procedure.”

Record source categories:

Official agency records; hearings; documentary material from outside the agency.

Exemptions claimed for the system:

None.

DOT/OST 016

System name:

General Investigations Record System.

Security classification:

Unclassified (law enforcement sensitive).

System location:

TASC Security Operations, SVC-150, Department of Transportation, DOT, 400 7th Street, SW., Washington, DC 20590.

Categories of individuals covered by the system:

DOT employees and contractors.

Categories of records in the system:

Incident reports covering occurrences relating to the security of DOT personnel and headquarters buildings.

Authority for maintenance of the system:

5 U.S.C. 301; 49 U.S.C. 322.

Purpose(s):

To maintain computerized records covering the security of DOT personnel and headquarters buildings. To develop proper responses to patterns of incidents.

Routine uses of records maintained in the system, including categories of users and the purposes of such uses:

See Prefatory Statement of General Routine Uses; 5 and 9 do not apply.

Disclosure to consumer reporting agencies:

Disclosures pursuant to 5 U.S.C. 552a(b)(12): Disclosures may be made from this systems to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Records are stored in file folders. Paper records in case folders in manual filing system.

Retrievability:

By name or incident title.

Safeguards:

Files are maintained in a locked room with appropriate access controls. Access to the files is restricted to authorized personnel on a “need-to-know” basis. With appropriate access controls.

Retention and disposal:

Records older than 5 years are deleted.

System manager(s) and address:

Principal, TASC Security Operations, SVC-150, 400 7th Street, SW., Washington, DC 20590.

Notification procedure:

Same as “System manager.”

Record access procedures:

Same as “System manager.”

Contesting record procedures:

Same as “Record access procedure.”

Record source categories:

These records contain information obtained from interviews; review of records and other authorized techniques.

Exemptions claimed for the system:

Investigative data compiled for law enforcement purposes may be exempt from the access provisions pursuant to 5 U.S.C. 552a (j)(2), (k)(1) or (2).

DOT/OST 019

System name:

Individual Personal Interests in Intellectual Property.

Security classification:

Unclassified, sensitive.

System location:

Department of Transportation, DOT, Office of the Secretary, OST, Office of the General Counsel, 400 7th Street, SW., Room 10102, Washington, DC 20590.

Categories of individuals covered by the system:

Inventors employed by or having contractual relationships with the Department of Transportation and other Government agencies.

Categories of records in the system:

Invention disclosures, Government Patents Branch cases, patent applications, issued patents, and license agreement files.

Authority for maintenance of the system:

49 U.S.C. 322.

Purpose(s):

Used by Patent Counsel and staff as a record of determination of rights in inventions, determination of novelty and patent ability, determination of patent coverage, and allocation of rights in issued patents.

Routine uses of records maintained in the system, including categories of users and the purposes of such uses:

See Prefatory Statement of General Routine Uses.

Disclosure to consumer reporting agencies:

None.

Policies and practices for storing, retrieving, accessing, retaining, and disposing of records in the system:

Storage:

File folders stored in file cabinets.

Retrievability:

Indexed individually by name in alphabetical sequence.

Safeguards:

Records are disclosed only to individuals who have legal interest in the records or legal “need to know.”

Retention and disposal:

Transfer to Federal Records Center two years after close of file; destroy 25 years after close of file.

System manager(s) and address:

Mailing Address: Patent Counsel, C-15, United States Department of Transportation, and Washington, DC 20590. Office Location: 400 7th Street, SW., Room 10102.

Notification procedure:

Apply to “System manager.”

Record access procedures:

Apply to “System manager.”

Contesting record procedures:

Same as “Record access procedures”

Record source categories:

Individual inventors, technical evaluators, and United States Patent and Trademark Office.

Exemptions claimed for the system:

None.

DOT/OST 035

System name:

Personnel Security Record System.

Security classification:

Unclassified, sensitive.

System location:

Department of Transportation, Transportation Administrative Service Center, Security Operations, SVC-150, 400 7th Street, SW., Washington, DC 20590.

Categories of individuals covered by the system:

DOT applicants, employees, former employees, contractors, and detailees to DOT from other Federal agencies.

Categories of records in the system:

Records of personnel security processing, personal data on investigative and employment forms completed by the individual, reports of investigations, records of security and suitability determinations, records of access authorizations granted, documentation of security briefings/debriefings received, record of security violations by the individual.

Authority for maintenance of the system:

5 U.S.C. 301; 49 U.S.C. 322.

Purpose(s):

To make suitability determinations for employment or retention in government service, assignment to sensitive duty positions and access to classified information.

Routine uses of records maintained in the system, including categories of users and the purposes of such uses:

Used by Departmental personnel security representatives, including contractor personnel, for making security determinations and granting access authorizations, by Departmental personnel management officials for making suitability determinations, by representatives of other Federal agencies with which the individual is seeking employment, and by Federal agencies conducting official inquiries to the extent that the information is relevant and necessary to the requesting agency's inquiry, and by Departmental officials, to the extent necessary, to identify the individual to sources from whom information is requested for any of the foregoing purposes to inform the source of the nature and purpose of the request and to indicate the type of information requested. See Prefatory Statement of General Routine Uses.

Disclosure to consumer reporting agencies:

Disclosures pursuant to 5 U.S.C. 552a(b)(12):

Disclosures may be made from this systems to “consumer reporting agencies” (collecting on behalf of the United States Govt.) as defined in the Fair Credit Reporting Act (15 U.S.C. 1681a(f)) or the Federal Claims Collection Act of 1982 (31 U.S.C. 3701(a)(3)).

Policies and practices for storing, retrieving, accessing, retaining, and disposing of records in the system:

Storage:

Completed forms and typed pages in individual folders in a manual filing system, and on a manual system control cards.

Retrievability:

By name.

Safeguards:

Stored in locked room with proprietary lock or in approved security safe. Access limited to authorized staff members.

Retention and disposal:

Retained in accordance with General Records Schedule 18. Authorized destruction done by secure means used for classified materials.

System manager(s) and address:

Principal, TASC Security Operations, SVC-150, Department of Transportation, 400 7th Street, SW., Washington, DC 20590.

Notification procedure:

Same as System manager.

Record access procedures:

Same as System manager. However, information compiled solely for the purpose of determining suitability, eligibility, or qualification for Federal civilian employment or access to classified information may be exempted from the access provisions pursuant to 5 U.S.C. 552a(k)(5).

Contesting record procedures:

Same as “System manager.”

Record source categories:

Investigative sources contacted in personnel security investigations, National Agency Check and Written Inquiry and similar investigations; investigative reports reviewed at other Government agencies; personal history statements, employment applications and other data provided by the individual and/or other agencies.

Exemptions claimed for the system:

Information compiled solely for the purpose of determining suitability, eligibility, or qualification for federal civilian employment or access to classified information may be exempted from the access provisions pursuant to 5 U.S.C. 552a(k)(1) and/or (5).

DOT/OST 037

System name:

Records relating to Applications for Senate Confirmation of Proposed Executive Appointments to the Department of Transportation.

Security classification:

Unclassified, sensitive.

System location:

Department of Transportation, DOT, Office of the Secretary, OST, Office of the Assistant General Counsel for Environmental, Civil Rights and General Law, 400 7th Street, SW., Room 10102, Washington, DC 20590.

Categories of individuals covered by the system:

Individuals nominated for top executive positions of the Department of Transportation.

Categories of records in the system:

Financial data and biographical data.

Authority for maintenance of the system:

5 U.S.C. App. 101, Executive Order 12731, and regulations of the Office of Government Ethics.

Purpose(s):

Data submitted to the General Counsel as reviewing official by subject individual for use by the Senate Commerce Committee to determine if there would be a conflict of interest, or the appearance of a conflict of interest, in subject's appointment to the Department of Transportation.

Disclosure to consumer reporting agencies:

None.

Routine uses of records maintained in the system, including categories of users and the purposes of such uses:

See Prefatory Statement of General Routine Uses.

Policies and practices for storing, retrieving, accessing, retaining, and disposing of records in the system:

Storage:

Legal sized documents located in locked safe.

Retrievability:

Individual names filed alphabetically.

Safeguards:

Physical security consists of filing records in safe; data released to Senate Commerce Committee and authorized officials only of the Department.

Retention and disposal:

Records are retained for 6 years then destroyed.

System manager(s) and address:

Mailing Address: Deputy General Counsel, C-2, United States Department of Transportation, and Washington, DC 20590. Office Location: 400 7th Street, SW., Room 10428.

Notification procedure:

Inquiries may be addressed to the Deputy General Counsel at the address above, either in person or in writing. If written the individual must provide a notarized signature.

Record access procedures:

Access to records requires the individual to contact in person or write the Deputy General Counsel.

Contesting record procedures:

Contest of a record is also through the Deputy General Counsel.

Record source categories:

Subject individual provides Documents.

Exemptions claimed for the system:

None.

DOT/OST 041

System name:

Correspondence Control Mail, CCM.

Security classification:

Unclassified, sensitive.

System location:

Department of Transportation, Office of the Secretary, OST, Executive Secretariat, 400 7th Street, SW., Washington, DC 20590.

Categories of individuals covered by the system:

Individuals who write, or are referred in writing by a second party, to the Secretary, Deputy Secretary, Deputy Under Secretary, and their immediate offices. Individuals who are the subject of an action requiring approval or action by one of the forenamed, such as appeal actions, training, awards, foreign travel, promotions, selections, grievances, and discipline.

Categories of records in the system:

Correspondence submitted by, or on behalf of, an individual, including resumes, letters of reference, etc. Responses to such correspondence. Staff recommendations on actions requiring approval or action by one of the forenamed.

Authority for maintenance of the system:

49 CFR 1.23(j).

Purpose(s):

The purpose of the system is to provide history of correspondence addressed to and signed by the Secretary and Deputy Secretary of Transportation.

Routine uses of records maintained in the system, including categories of users and the purposes of such uses:

Referral to the appropriate action office within or outside the Department for preparation of a response. Referral to the appropriate agency for actions involving matters of law or regulation beyond the responsibility of the Department, such as the Civil Service Commission for employee appeals, the Department of Justice in matters of law enforcement, etc. See Prefatory Statement of General Routine Uses.

Disclosure to consumer reporting agencies:

None.

Policies and practices for storing, retrieving, accessing, retaining, and disposing of records in the system:

Storage:

Computer disc and—selectively—on microfilm for all records since 1/1/74. In hard copy for all records prior to 1/1/74.

Retrievability:

Indexed by name of correspondent, referring individual, and subject category (e.g., “employment” for applicants) from 1/1/74 on. Indexed by name of correspondent prior to 1/1/74.

Safeguards:

Computer microfilm records, and remote reader terminals, which permit random access to the system records, are locked after office hours. During office hours computer is accessible only through terminals operated by, and under the surveillance of, authorized employees of the Executive Secretary.

Retention and disposal:

Hard-copy records for 1967-1969 and duplicate microfilms for 1974-1989 are in the custody of National Archives and Records Administration, NARA. Microfilm Records from 1990 and following are retained in the Departmental headquarters building. Records are retired to NARA on a space-needed basis.

System manager(s) and address:

Department of Transportation, DOT, Office of the Secretary, OST, Executive Secretariat, 400 7th Street, SW., Washington, DC 20590.

Notification procedure:

Inquiries should be directed to the System Manager. Helpful information, in addition to the individual's name, includes date(s), subject matter, and addressee(s) of the incoming correspondence, and date(s) and author(s) of the response(s).

Record access procedures:

Contact System Manager for information on procedures for gaining access to records.

Contesting record procedures:

Contact System Manager for information on procedures for contesting records. Appeals should be directed to the Secretary of Transportation, if request for Modification or deletion is denied.

Record source categories:

Correspondence from individual, his representative or sponsor. Responses to incoming correspondence. Related material provided for background as appropriate.

Exemptions claimed for the system:

None.

DOT/OST 045

System name:

Unsolicited Contract or Research and Development Proposals Embodying Claims of Proprietary Rights.

Security classification:

Unclassified, sensitive.

System location:

Department of Transportation, DOT, Office of the Secretary, OST, Office of the General Counsel, 400 7th Street, SW., Room 10102, Washington, DC 20590.

Categories of individuals covered by the system:

Individuals who believe they have original and innovative ideas in the field of transportation.

Categories of records in the system:

Copies of descriptions of proposed innovations or inventions and methods of carrying out the proposal. Evaluations by Patent Counsel of the adequacy and propriety of restrictive markings on the proposals and correspondence of the Patent Counsel pertaining thereto.

Authority for maintenance of the system:

49 U.S.C. 322.

Purpose(s):

Used as a record of Patent Counsel's action in individual unsolicited proposal cases.

Routine uses of records maintained in the system, including categories of users and the purposes of such uses:

See Prefatory Statement of General Routine Uses.

Policies and practices for storing, retrieving, accessing, retaining, and disposing of records in the system:

Storage:

File folders stored in file cabinets (Conserv-a-File).

Retrievability:

Indexed individually by name and subject in alphabetical sequence.

Safeguards:

Records are disclosed only in accordance with the terms of restrictive markings agreed upon between submitter and DOT.

Retention and disposal:

Transfer to storage when three years old; Destroy after six years.

System manager(s) and address:

Mailing Address: Patent Counsel, C-15, United States Department of Transportation, Washington, DC 20590. Office Location: 400 7th Street, SW., Room 10102.

Notification procedure:

Apply to “System manager.”

Record access procedures:

Apply to “System manager.”

Contesting record procedures:

Same as “Record access procedure.”

Record source categories:

Forwarded by individual or by the DOT office to whom unsolicited proposal was addressed.

Exemptions claimed for the system:

None.

DOT/OST 046

System name:

Visit Control Records System.

Security classification:

Unclassified, sensitive.

System location:

Department of Transportation, Transportation Administrative Service Center (TASC), Security Operations, SVC-150, 400 7th Street, SW., Room 10401, Washington, DC 20590.

Categories of individuals covered by the system:

DOT employees, Industrial Security contractor employees, non-employee visitors to DOT facilities during security hours.

Categories of records in the system:

Record of clearance certification (level, date granted and basis) on employees to visit facilities or attend meetings involving classified information. Record of security clearance data for visitors to DOT facility from other agencies and from contractors. Record of individuals other than employees who are authorized access to DOT facilities during security hours.

Authority for maintenance of the system:

5 U.S.C. 301; 49 U.S.C. 322.

Purpose(s):

Maintain a record of clearances for individuals attending classified meetings.

Routine uses of records maintained in the system, including categories of users and the purposes of such uses:

Confirming to the proper authorities the security clearance for individuals requiring access to classified information; identifying individuals authorized to be present in DOT facilities. See Prefatory Statement of General Routine Uses.

Disclosure to consumer reporting agencies:

None.

Policies and practices for storing, retrieving, accessing, retaining, and disposing of records in the system:

Storage:

Stored in an alarm-secured area in a locked Lek-Triever file.

Retrievability:

By name.

Safeguards:

Stored in locked room with proprietary lock, available only to authorized staff members.

Retention and disposal:

Maintained until expiration of visit, then destroyed.

System manager(s) and address:

Principal, TASC Security Operations, SVC-150, Department of Transportation, 400 7th Street, SW., Washington, DC 20590.

Notification procedure:

Same as “System manager.”

Record access procedures:

Same as “System manager.”

Contesting record procedures:

Same as “System manager.”

Record source categories:

Security clearance information furnished by personnel security officers. Visit data furnished by individual.

Exemptions claimed for the system:

None.

DOT/OST 056

System name:

Garnishment Files.

Security classification:

Unclassified, sensitive.

System location:

Department of Transportation, DOT, Office of the Secretary, OST, Office of the General Counsel, Office of the Assistant General Counsel for Environmental, Civil Rights and General Law, 400 7th Street, SW., Room 10102, Washington, DC 20590 and Office of the Chief Counsel of employing DOT agency.

Categories of individuals covered by the system:

Employees of the, DOT, including members of the Coast Guard, whose pay is sought to be attached under section 459 of the Social Security Act, 42 U.S.C. 659, for alimony or child support, or under 5 U.S.C. 5520a, for commercial debt.

Categories of records in the system:

Correspondence and court orders, and copies thereof, concerning attachment of employees' pay.

Authority for maintenance of the system:

42 U.S.C. 659; 5 U.S.C. 5520a.

Purpose(s):

Used as record of garnishments and Garnishment Attorney's action thereon.

Routine uses of records maintained in the system, including categories of users and the purposes of such uses:

See Prefatory Statement of General Routine Uses.

Disclosure to consumer reporting agencies:

None.

Policies and practices for storing, retrieving, accessing, retaining, and disposing of records in the system:

Storage:

File folders stored in the Garnishment Attorney's office.

Retrievability:

Indexed individually by name in alphabetical order.

Safeguards:

Records are disclosed only to individuals with established legal interest or legal “need to know.”

Retention and disposal:

Retained for as long as the attachment of pay continues and thereafter as needed for precedential value.

System manager(s) and address:

Mailing Address: Garnishment Attorney, C-10, United States Department of Transportation, Washington, DC 20590. Office Location: 400 7th Street, SW., Room 10102.

Notification procedure:

Apply to “System manager.”

Record access procedures:

Apply to “System manager.”

Contesting record procedures:

Apply to “System manager.”

Record source categories:

Data are obtained from state courts and agencies, private attorneys, custodians of children of DOT employees, and federal pay records.

Exemptions claimed for the system:

None.

DOT/OST 057

System name:

Honors Attorney Recruitment Files, DOT/OST.

Security classification:

Unclassified, sensitive.

System location:

Department of Transportation, DOT, Office of the Secretary, OST, Office of the General Counsel, 400 7th Street, SW., Room 10428, Washington, DC 20590.

Categories of individuals covered by the system:

Third-year law students and recent law school graduates.

Categories of records in the system:

Resumes, transcripts, copies of Personnel Form 171. Authority for maintenance of the system: 49 U.S.C. 323.

Purposes:

Used by General Counsel, Chief Counsels, and their staffs in filling job vacancies for attorneys.

Routine uses of records maintained in the system, including categories of users and the purposes of such uses:

See Prefatory Statement of General Routine Uses.

Policies and practices for storing, retrieving, accessing, retaining, and disposing of records in the system:

Storage:

File folders in file cabinets.

Retrievability:

Indexed individually by name in alphabetical order.

Safeguards:

Records are disclosed only to individuals who have legal interests in the records or a legal need-to-know.

Retention and disposal:

Retained at system location for 5 years, then destroyed.

System manager(s) and address:

Mailing Address: Special Assistant to the General Counsel, C-4, United States Department of Transportation, Washington, DC 20590. Office Location: 400 7th Street, SW., Room 10428.

Notification procedure:

Contact the “System manager.”

Record access procedures:

Contact the “System manager.”

Contesting record procedures:

Same as “Record access procedure.”

Record source categories:

Law students, recent law school graduates, General Counsel, Chief Counsels and their staffs.

Exemptions claimed for the system:

None.

DOT/OST 059

System name:

Files of the Board for Correction of Military Records, BCMR, for the Coast Guard.

Security classification:

Unclassified, sensitive.

System location:

Department of Transportation, DOT, Office of the Secretary, OST, Office of the General Counsel, Board for Correction of Military Records, 400 7th Street, SW., Room 4100, Washington, DC 20590.

Categories of individuals covered by the system:

Individuals who have filed applications for relief before the Board.

Categories of records in the system:

Applications and related documents, Board decisions, and official military records of applicants.

Authority for maintenance of the system:

10 U.S.C. 1552.

Purpose:

Used by the Chairman, the Board, the Executive Secretary, and Staff in determining whether to grant relief to applicants.

Routine uses of records maintained in the system, including categories of users and the purposes of such uses:

Used by the Coast Guard in presenting its views to the Board concerning pending cases. Also used by applicant and his representative. Used by the General Counsel and his/her staff in determining whether to approve decisions of the Board. See Prefatory Statement of General Routine Uses.

Policies and practices for storing, retrieving, accessing, retaining, and disposing of records in the system:

Storage:

File folders stored in file cabinets.

Retrievability:

Indexed individually by name in one of two alphabetical sequences representing pending and closed cases. Also indexed by docket number. Pending cases filed by docket number; closed cases filed alphabetically.

Safeguards:

Records are disclosed only to the applicant, his representative, interested members of Congress, and the Coast Guard.

Retention and disposal:

Transfer of official military record of individual separated from service to Federal Records Center when case closed; transfer of official military record of Active or Reserve member to Coast Guard Headquarters when case closed; retention of application file in all cases.

System manager(s) and address:

Mailing Address: Executive Secretary, Board for the Correction of Military Records, C-60, United States Department of Transportation, Washington, DC 20590. Office Location: 400 7th Street, SW., Room 4100.

Notification procedure:

Apply to “System manager.”

Record access procedures:

Apply to “System manager.”

Contesting record procedures:

Same as “Record access procedure.”

Record source categories:

United States Coast Guard, Veterans Administration, individual applicants.

Exemptions claimed for the system:

None.

DOT/OST 100

System name:

Investigative Record System.

Security classification:

Unclassified—sensitive.

System location:

Office of Inspector General, DOT/OST, 400 Seventh Street, SW., Washington, DC 20590. OIG Regional Offices in Baltimore, MD; Atlanta, GA; Chicago, IL; Fort Worth, TX; San Francisco, CA; and New York, NY; and Federal Records Center (FRC), Washington, DC.

Categories of individuals covered by the system:

Present and former DOT employees, DOT contractors and employees as well as grantees, sub-grantees, contractors, subcontractors and their employees and recipients of DOT monies, and other individuals or incidents subject to investigation within the purview of the Inspector General Act.

Categories of records in the system:

Results of investigations and inquiries conducted by Inspector General, OST; reports of investigations conducted by other departmental, Federal, state, and local investigative agencies which relate to the mission and function of the Inspector General; reports and indices relating to “hotline” complaints; and investigative case index card files.

Authority for maintenance of the system:

Inspector General Act of 1978, 5 U.S.C. App.

Purpose(s):

Document the administration of investigations and inquiries conducted under of the Inspector General Act of 1978.

Routine uses of records maintained in the system, including categories of users and the purposes of such uses:

The information contained in the Investigative Records System is collected and maintained in the administration of the Inspector General Act of 1978 (Pub. L. 95-452) to investigate, prevent, and detect fraud and abuse in departmental programs and operations. Material gathered is used for prosecutive, civil, or administrative actions. These records may be disseminated, depending on jurisdiction to: DOT Officials in the administration of their responsibilities; other Federal, State, local, or foreign agencies or administrations, having interest or jurisdiction in the matter. See also Prefatory Statement of General Routine Uses.

Disclosure to consumer reporting agencies:

None.

Policies and practices for storing, retrieving, accessing, retaining, and disposing of records in the system:

Storage:

Paper records in case folders in manual filing system and on index cards.

Retrievability:

By name or incident title.

Safeguards:

Investigative files and case index files are maintained in several spaces with appropriate access controls. Access to investigative files is restricted to authorized personnel on a “need to know” basis.

Retention and disposal:

Investigative material is destroyed by secure means used for classified materials. Central OIG investigative files are maintained in OIG Headquarters, from where the files are transferred to the FRC Washington, DC, at prescribed intervals and destroyed in accordance with the following schedule:

Lead Cases. Case files and temporary contents are destroyed 180 days after transmittal of the investigative report and permanent case documents to the case control office.

Official Case Folders. Official Investigative Case Folders are maintained for a period of 2 years in OIG Headquarters upon completion of legal or administrative action and transferred to the FRC Washington, DC, where they are held and destroyed 10 years from the date of receipt by FRC Washington, DC.

Investigative and Hotline Indices. Destroyed 20 years after date of creation.

OIG Hotline Files. Transferred to FRC Washington, DC, 2 years after completion of legal or administrative action. Destroyed 10 years from date of receipt by FRC Washington, DC.

General Investigative and Hotline Files. Retained in OIG Headquarters and Field Offices. Destroyed when 5 years old.

System manager(s) and address:

Assistant Inspector General for Investigations, JI-1, Office of Inspector General, Department of Transportation, 400 Seventh Street, SW., Room 9210, Washington, DC 20590.

Notification procedure:

Same as “System manager.”

Record access procedures:

Same as “System manager.”

Contesting record procedures:

Same as “System manager.”

Record source categories:

These records contain information obtained from interviews, review of records and other authorized investigative techniques.

Exemptions claimed for the system:

Investigative data compiled for law enforcement purposes may be exempt from the access provisions pursuant to 5 U.S.C. 552a (j)(2), (k)(1), or (k)(2).

DOT/OST 101

System name:

Transportation Inspector General Reporting System, TIGR.

Security classification:

Unclassified, sensitive.

System location:

Office of Inspector General, DOT/OST, 400 Seventh Street, SW., Washington, DC 20590

Categories of individuals covered by the system:

All active employees of the OIG, with history data on previous employees maintained for 2 years. Present and former DOT employees, DOT contractors and employees as well as grantees, subgrantees, contractors, subcontractors and their employees and recipients of DOT monies, and other individuals or incidents subject to investigation within the purview of the Inspector General Act.

Categories of records in the system:

Individual's current position and employment status, assignments, travel, experience, training, with the following personal data: Name, social security account number, date of birth, service computation date, career status, address, assigned station, job series, education, grade, minority status, and personnel transaction date. Investigative information consists of investigation targets' name and social security account number, organization name, type of investigation, offense data, source of referral data and action taken.

Authority for maintenance of the system:

Inspector General Act of 1978, 5 U.S.C. App.

Purpose(s):

The purpose of the system is to provide individuals with a need to know with specific information related to (1) time and attendance of employees; (2) workload status reports; (3) security clearance alerts; (4) travel information, etc.

Routine uses of records maintained in the system, including categories of users and the purposes of such uses:

(1) Security clearance notification alerts may be provided to an examined activity in advance of visits by OIG personnel if information to be examined requires a secret clearance or above; (2) time and attendance reports will be used to track temporary duty travel frequency and duration, to categorize indirect time for periodic reports, and to accrue staff hour data on assigned projects; (3) planned annual leave reporting will be used by various managers for workload planning and travel scheduling; (4) assignments information and workload status information will be used by managers to control audits and investigations, and to maximize effectiveness of staff resources; (5) miscellaneous personnel information will be used by staff managers to determine training needs, promotional eligibility, education and background, and professional organization participation; (6) information will be used to produce resource management reports; (7) travel information will be used by managers to control temporary duty travel, travel costs and issuances of travel orders; and (8) investigative information is collected and maintained in the administration of the Inspector General Act of 1978 (Pub. L. 95-452) to investigate, prevent, and detect fraud and abuse in departmental programs and operations. Material gathered is used for investigative case management. See also Prefatory Statement of General Routine Uses.

Disclosure to consumer reporting agencies:

None.

Policies and practices for storing, retrieving, accessing, retaining, and disposing of records in the system:

Storage:

Active reports on magnetic disk, with backup active records and inactive records maintained on magnetic tape.

Retrievability:

Records will be retrievable through employee social security number, by name, or incident title, with selected records having certain secondary keys consisting of certain other data elements, listed in the “Categories of Records in the System.”

Safeguards:

(1) Records will be maintained in a private library not accessible by any unauthorized user; (2) authorized user identification codes will be tied to multiple password system to afford additional protection; (3) any attempt to bypass the password protection system will result in “Log-Off” from the system or denial of access to data if access to system is authorized; (4) physical access to system documentation, hardcopy printouts, personal data files, and terminals will be restricted to authorized personnel by maintaining a secure environment in the headquarters office; (5) access to data will be restricted to those who require it in the performance of their official duties and the individual who is the subject of the record (or authorized representative); and (6) tape files will be maintained in an environmentally secure vault area when not in use.

Retention and disposal:

Records will be maintained for 2 years after they become inactive. All inactive records will be maintained on magnetic tape within the computer center and will be afforded the same safeguards as active records. Machine-resident records will be destroyed at the end of the 2-year period. Hard copy records will be retained until the records are replaced or become obsolete.

System manager(s) and address:

Director of Information Resource Management, JM-10, Office of Inspector General, Department of Transportation, 400 7th Street, SW., Room 7117, Washington, DC 20590.

Notification procedure:

Same as “System manager.”

Record access procedures:

Same as “System manager.”

Contesting record procedures:

Same as “System manager.”

Record source categories:

(1) Official personnel folder; (2) other personnel documents; (3) activity supervisors; (4) individual applications and forms; and (5) information obtained from interviews, review of records and other authorized investigative techniques.

Exemptions claimed for the system:

Investigative data compiled for law enforcement purposes may be exempt from the access provisions pursuant to 5 U.S.C. 552a(j)(2), (k)(l), or (k)(2).

DOT/RSPA 02

System name:

National Defense Executive Reserve, NDER, File.

Security Classification:

Unclassified, sensitive.

System location:

Some records are held only in the Office of Emergency Transportation while others are held at various locations in the custody of officials in the several regions, as indicated in the paragraph labeled “Categories of records” below. Holdings of the Regional Directors-designate and Deputy Directors-designate are partial duplications of the Regional Emergency Transportation Coordinator, RETCO, files and may be accessed through the applicable RETCO. The RETCO and the Regional Emergency Transportation Representative, RETREP, for each region may be contacted directly at the addresses shown below. The Regional Director-designate and Deputy Director-designate for each region may be contacted by addressing mail in care of the RETCO for that region at the address shown in the following list: Regions 1 and 2, First Coast Guard District, 408 Atlantic Avenue, Boston, MA 02110. Region 3, Federal Highway Administration, 10 South Harvard Street, Suite 4000, Baltimore, MD 21201. Region 4, Federal Aviation Administration Southern Region, PO Box 20636, Atlanta, GA 30320. Region 5, Federal Highway Administration, 19900 Governors Drive, Suite 301 Olympia fields, IL 60461 Region 6, Federal Aviation Administration Southwest Region, 2601 Meacham Blvd., Ft. Worth, TX 76137-4298. Region 7, Federal Highway Administration, P.O. Box 419715, Kansas City, MO 64141. Region 8, Federal Highway Administration, 555 Zang Street, Room 400, Denver, CO 80225. Region 9, Pacific Area United States Coast Guard, Coast Guard Island, Alameda, CA 94501. Region 10, 13th Coast Guard District, Federal Bldg., Rm. 3590, 915 Second Ave., Seattle, WA 98174Alaska Region, Federal Aviation Administration Alaskan Region, 222 W 7th Ave., #14, Anchorage, AK 99513. Emergency Facilities Liaison Officer, FAA Records Center, West King Street and South Maple Avenue, Martinsburg, WV 25401.

Categories of individuals covered by the system:

Upper, middle, and lower management members of the transportation industry, university professors, lawyers, labor leaders, and businessmen who are candidates for membership in NDER, active members of NDER, or who are former members whose membership has been terminated by death, resignation or involuntary release, and emeritus members.

Categories of records in the system:

Personnel and security forms completed by individuals consisting of applications, statements of understanding by employers, security and identification data from individuals, certificates of appointment and reappointment and a personal data sheet for each Reservist which presents a summary of pertinent data including a photograph.

Authority for maintenance of the system:

Defense Production Act of 1950 and Executive Order 11179.

Purpose(s):

This is a government-wide program to recruit and train a cadre of volunteer executives from the private sector to serve in key Federal management positions during periods of national defense emergencies.

Routine uses of records maintained in the system, including categories of users and the purposes of such uses:

Internal personnel management of the NDER for the Department of Transportation, which includes staff action and exchange of data with the Office of the Director, Federal Emergency Management Agency, who is responsible for the entire National Defense Executive Reserve Program. These records are available to the Secretary, any Secretarial Officer, Head of an Operating Administration, or their designated subordinates who require access in the pursuit of their duties, to the Director and staff of OET, and the RETCOs and their staff.

Disclosure to consumer reporting agencies:

None.

Policies and practices for storing, retrieving, accessing, retaining, and disposing of records in the system:

Storage:

Individual records are maintained in a manual system in a locked file room consisting of a filing jacket with the individual's name tabbed and containing all papers pertaining to him or her, except the following, which are maintained as stated. Mailing lists are maintained using a personal computer.

Retrievability:

Indexed alphabetically by name. Retrieved manually.

Safeguards:

Maintained in metal file containers or other standard office equipment.

Retention and disposal:

Held for five years from date of separation and then destroyed.

System manager(s) and address:

Research and Special Programs Administration (DPB-30), Director of Emergency Transportation, Department of Transportation (Room 8330), Washington, DC 20590.

Notification procedure:

Inquiries may be addressed to any of the offices and officials listed under “System locations”. Individuals requesting such information must sign the request personally and include in the text of the request suitable identification. Alternatively, personal visits to the above locations with presentation of suitable identification will enable individual to learn of and have access to his or her record.

Record access procedures:

Individual may secure or obtain information on procedures for gaining access to records by (1) referral to the information sheet issued to him or (2) addressing a written query to the offices cited under ‘System location’ above (except the Emergency Facilities Liaison Officer, FAA Records Center, West King Street and South Maple Avenue, Martinsburg, WV 25401, which maintains duplicate files in storage only) or (3) presenting himself or herself in person to those offices.

Contesting record procedures:

Same as “Record access procedures.”

Record source categories:

Personal data submitted by the individual; data from his or her employer; recommendations for the system: Investigative data compiled for law enforcement purposes may be exempt from access pursuant to 5 U.S.C. 552a (j)(2), (k)(1), or (k)(2). From colleagues; mailing data from existing distribution system.

Exemptions claimed for the system:

None.

DOT/RSPA 04

System name:

Transportation Research Activities Information Service, TRAIS.

Security Classification:

Unclassified, Sensitive

System location:

Department of Transportation, DOT, Research & Special Programs Administration, RSPA, Transportation Systems Center, TSC, Kendall Square, Cambridge, MA 02142.

Categories of individuals covered by the system:

Program/Project Managers and research investigators.

Categories of records in the system:

Notification of Technical Research and Development.

Authority for maintenance of the system:

49 U.S.C. 112(d)(3).

Purpose(s):

To maintain information concerning on-going and completed research and development accomplishments.

Routine uses of records maintained in the system, including categories of users and the purposes of such uses:

Information on on-going and completed research and development accomplishments. See Prefatory Statement of General Routine Uses.

Disclosure to consumer reporting agencies:

None.

Policies and practices for storing, retrieving, accessing, retaining, and disposing of records in the system:

Storage:

Computer disc storage and magnetic tape.

Retrievability:

Retrievable by keywords and unique accession number assigned by Data Base Administrator; batch process or on-line interaction.

Safeguards:

Physical security—user identification and passwords.

Retention and disposal:

Up to three-year retention and then tape is reused which destroys previous data.

System manager(s) and address:

Chief, Transportation Research Activity Information Services Branch, TST-25.1, Department of Transportation, Office of the Secretary, 400 7th Street, SW., Washington, DC 20590.

Notification procedure:

Same as “System manager.”

Record access procedures:

Same as “System manager.”

Contesting record procedures:

Same as “System manager.”

Record source categories:

Contract Awards from Contracting Offices, Publication of Technical Report.

Exemptions claimed for the system:

None.

DOT/RSPA 05

System name:

Transportation Research Information Service On Line, TRIS-On-Line.

Security Classification:

Unclassified, Sensitive.

System location:

Department of Transportation, DOT, Office of the Secretary, OST, System physically located at the: Battelle Laboratories, Columbus, OH.

Categories of individuals covered by the system:

Program/Project Managers and authors of reports.

Categories of records in the system:

Notification of technical research and technical reports.

Authority for maintenance of the system:

49 U.S.C. 112(d)(3).

Purpose(s):

To maintain information concerning on-going and completed research and development accomplishments.

Routine uses of records maintained in the system, including categories of users and the purposes of such uses:

Information on on-going and completed research and development accomplishments. See Prefatory Statement of General Routine Uses.

Disclosure to consumer reporting agencies:

None.

Policies and practices for storing, retrieving, accessing, retaining, and disposing of records in the system:

Storage:

Computer disc storage and magnetic tape.

Retrievability:

Retrievable by keywords and accession number assigned by Data Base Administrator, batch or on-line interaction.

Safeguards:

Physical security—User identification keywords and passwords.

Retention and disposal:

Up to five-year accessibility, tape goes to archival storage.

System manager(s) and address:

Chief, Transportation Research Information Services Branch, TST-25.1, Department of Transportation, Office of the Secretary, 400 7th Street, SW., Washington, DC 20590.

Notification procedure:

Same as “System manager.”

Record access procedures:

Same as “System manager.”

Contesting record procedures:

Same as “System manager.”

Record source categories:

Contract awards received from Contracting Offices, Publication of Technical Reports.

Exemptions claimed for the system:

None.

DOT/RSPA 06

System name:

Emergency Alerting Schedules.

Security classification:

Unclassified, sensitive.

System location:

These records are located in the national headquarters of the Offices of the Secretary; the heads of operating administrations, regional offices of the Regional Emergency Transportation Coordinators, the Regional Administrators, Directors and Commanders of the operating administrations and in headquarters of operating administrations divisions, district commands, and other field offices of the Department.

Categories of individuals covered by the system:

Professional and clerical employees and military members of the United States Government, Directors—designate and Deputy Directors—designate and members of the National Defense Executive Reserve who have been given emergency billet assignments within the Department of Transportation Emergency Structure.

Categories of records in the system:

The Alerting Charts and Schedules show names and office and home telephone numbers of individuals in calling sequence and are listed by national headquarters and by regional offices; also contain similar listings designed for management convenience within DOT and the operating elements.

Authority for maintenance of the system:

DOT Order 1910.2C, dated May 1980.

Purpose(s):

A team of individuals who can carry out the essential functions of the Department of Transportation if the need arises.

Routine uses of records maintained in the system, including categories of users and the purposes of such uses:

For identification of individuals required to ensure viability of DOT in the immediate preattack—transattack—postattack period of a national defense emergency. Available to the Secretarial Officers, heads of operating administrations or designated subordinates (national and regional) and to individuals listed. See Prefatory Statement of General Routine Uses.

Disclosure to consumer reporting agencies:

None.

Policies and practices for storing, retrieving, accessing, retaining, and disposing of records in the system:

Storage:

Publication is maintained in stock, in listings in each office of record, and in standard filing equipment in locked file rooms.

Retrievability:

Manually by position listing.

Safeguards:

Metal file containers or other standard office equipment secured in a locked file room during office duty hours.

Retention and disposal:

Retained until republished then destroyed.

System manager(s) and address:

Director of Emergency Transportation, DET-1, Department of Transportation, Research and Special Programs Administration, 400 7th Street, SW., Washington, DC 20590.

Notification procedure:

Inquiries may be addressed to any of the offices listed under “System Locations.” Individuals requesting such information must sign the request and include suitable identification. Alternatively, personal visits to the above locations with presentation of the above credentials will enable individual to learn of and have access to his or her record.

Record access procedures:

Individual may secure or obtain information on procedures for gaining access to records by (1) referral to the information sheet issued to him or (2) addressing a written query to the offices cited under System Location, (except the Facility Manager, FAA Records Center, West King Street and South Maple Avenue, Martinsburg, WV 25401, who maintains duplicate files in storage only) or (3) presenting himself to those offices.

Contesting record procedures:

Same as “Record access procedures.”

Record source categories:

Office or Agency of employment.

Exemptions claimed for the system:

None.

DOT/RSPA 08

System name:

Technical Pipeline Safety Committees for Natural Gas and Hazardous Liquid.

Security Classification:

Unclassfied, sensitive.

System location:

Department of Transportation, DOT, Research and Special Programs Administration, Office of Pipeline Safety, 400 7th Street, SW., Room 2335, Washington, DC 20590.

Categories of individuals covered by the system:

Members of Technical Pipeline Safety Standards Committee. Members of Technical Hazardous Liquid Pipeline Safety Standards Committee. Intermittent consultants.

Categories of records in the system:

Biographical data in support of member’s nomination.

Letters announcing member's appointment/reappointment. Personnel Actions.

Authority for maintenance of the system:

49 CFR Parts 190 through 195

Purpose(s):

To provide a guiding group to ensure that the interests of all pipeline stakeholders are represented, for providing a forum for discussing program plans and activities of the Office of Pipeline Safety.

Routine uses of records maintained in the system, including categories of users and the purposes of such uses:

General reference purposes for support functions.

See Prefatory Statement of General Routine Uses.

Disclosure to consumer reporting agencies:

None.

Policies and practices for storing, retrieving, accessing, retaining, and disposing of records in the system:

Storage:

In file folders.

Retrievability:

Alphabetically by name within subject area.

Safeguards:

Room locked after hours, most information is public knowledge.

Retention and disposal:

Kept indefinitely.

System manager(s) and address:

Advisory Committee Executive Director, Department of Transportation, Office of Pipeline Safety, 400 7th Street, SW., Washington, DC 20590.

Notification procedure:

Address inquiries to System manager including individual's name.

Record access procedures:

Information may be obtained from the System manager.

Contesting record procedures:

Same as for Access above.

Record source categories:

Biographical Information (DOT Form F 1120.1) Travel Vouchers (SF 1012). Certificate of Consultant's Services. Press Releases. Administrative Correspondence/Memorandums.

Exemptions claimed for the system:

None.

DOT/RSPA 09

System name:

Hazardous Materials Incident Telephonic Report System.

Security classification:

Sensitive.

System location:

United States Department of Transportation, The John A. Volpe National Transportation Systems Center Kendall Square, Cambridge, MA 02142

Categories of individuals covered by the system:

Individuals included in the system are those making telephonic reports, either as a private citizen or as a representative of the company involved, to the National Response Center, NRC, operated by the USCG or to the EPA or to the USCG Office of Marine Safety, Security & Environmental Protection, OMSSEP, of certain releases of hazardous materials. The system may also contain information on individuals affected by reported incidents.

Categories of records in the system:

Records of telephonic reports of incidents involving the release of hazardous materials or environmental pollutants received by the NRC acting on behalf of the Research and Special Programs Administration, RSPA, the USCG, and/or the EPA, or made by or to the EPA or the OMSSEP USCG.

Authority for maintenance of the system:

49 CFR 191.5 and 195.52.

Purpose(s):

To provide early notification of hazardous liquid and natural gas pipeline releases.

Routine uses of records maintained in the system, including categories of users and the purposes of such uses:

To disclose pertinent information to Federal, state, and local governmental agencies responsible for responding to incidents involving the release of hazardous materials to assist in efforts to protect life, health, safety, and environmental conditions; to enforce related Federal, state, and local regulations; or to evaluate or develop regulatory programs. To disseminate information on the transportation of hazardous materials to industrial, commercial, educational, scientific, research, or private entities to assess trends, risks, consequences, or other potentialities associated with the release of hazardous materials during transportation, or to analyze factors affecting hazardous materials incidents. To disseminate information to the public media for use in informing the public of issues related to the transportation of hazardous materials. The general routine uses in the prefatory statement apply to these records.

Disclosure to consumer reporting agencies:

None.

Policies and practices for storing, retrieving, accessing, retaining, and disposing of records in the system:

Storage:

These records are maintained on magnetic media.

Retrievability:

Records are retrievable by all entered fields including the names of individuals included in the record.

Safeguards:

Access to all computer files is controlled through user-name/password access procedures. The computer on which data is recorded is maintained in an access-controlled room in an access-controlled building.

Retention and disposal:

Records are retained permanently on magnetic disk or tape.

System manager(s) and address:

For records collected by the Office of Hazardous Materials Transportation, RSPA, pursuant to 49 CFR 171.15: Information Systems Manager, Office of Hazardous Materials Transportation, DHM-63, Research and Special Programs Administration, United States Department of Transportation, Washington, DC 20590.

For records collected by the Office of Pipeline Safety, RSPA, pursuant to 49 CFR 191.5, 49 CFR 195.52, 49 CFR 192.612, and 49 CFR 195.413: Information Resources Manager, Office of Pipeline Safety, DPS-21, Research and Special Programs Administration, United States Department of Transportation, Washington, DC 20590.

Notification procedure:

Inquiries should be directed to the appropriate system manager at the given address.

Record access procedures:

Contact the appropriate system manager at the given address for information on procedures for gaining access to records.

Contesting record procedures:

Same as record access procedures.

Record source categories:

Information in this system of records is provided by the individuals covered by this system; companies; Federal, state, and local governmental agencies; and other entities reporting releases of hazardous materials that occurred during transportation or that affect the environment.

Exemptions claimed for the system:

None.

DOT/RSPA 10

System name:

Hazardous Materials Incident Written Report System.

Security Classification:

Unclassified, Sensitive.

System location:

United States Department of Transportation, Research and Special Programs Administration, 400 Seventh Street, SW., Washington, DC, 20590, United States Department of Transportation, The John A. Volpe National Transportation Systems Center, Kendall Square, Cambridge, MA 02142.

Categories of individuals covered by the system:

Individuals included in the system are those affected by releases of hazardous materials during transportation (including transportation by pipeline) whose names and other personal information may have been included in narrative descriptions of the incident.

Categories of records in the system:

Records of incidents involving the release of hazardous materials during transportation (including transportation by pipeline) submitted by the carrier pursuant to 49 CFR 171.16, 191.9, 191.15, 195.54, and 195.58.

Authority for maintenance of the system:

49 CFR 191.9 through 191.27 and 195.54, 195.55.

Purpose(s):

To provide written reports for hazardous liquid and natural gas pipeline releases, and annual reports for natural gas pipeline operator total mileage and description of operator's system.

Routine uses of records maintained in the system, including categories of users and the purposes of such uses:

To disclose pertinent information to Federal, state, and local governmental agencies responsible for oversight of incidents involving the release of hazardous materials to assist in efforts to protect life, health, and safety; to enforce related Federal, state, and local regulations; or to evaluate or develop regulatory programs. To disseminate information on the transportation of hazardous materials to industrial, commercial, educational, scientific, research, or private entities to assess trends, risks, consequences, or other potentialities associated with the release of hazardous materials during transportation, or to analyze factors affecting hazardous materials incidents. To disseminate information to the public media for use in informing the public of issues related to the transportation of hazardous materials. The general routine uses in the prefatory statement apply to these records.

Disclosure to consumer reporting agencies:

None.

Policies and practices for storing, retrieving, accessing, retaining, and disposing of records in the system:

Storage:

These records are maintained on magnetic disk. Duplicate paper, microfilm or electronic image copies are also retained by RSPA in file cabinets.

Retrievability:

Computer records are retrievable by all entered fields including the name of individuals included in the record. Paper, microfilm, and electronic image copies are not retrievable by individual name or other personal identifier except through use of the search capabilities of the computer records.

Safeguards:

Access to all computer and electronic images are controlled through user-name/password access procedures. The computer on which data is recorded is maintained in an access-controlled room in an access-controlled building. Paper and microfilm copies are stored in a room locked during non-duty hours.

Retention and disposal:

Records are retained permanently on magnetic disk or tape. Paper or microfilm copies are also retained permanently.

System manager(s) and address:

For records collected by the Office of Hazardous Materials Transportation, RSPA, pursuant to 49 CFR 171.16: Information Systems Manager, Office of Hazardous Materials Transportation, DHM-63, Research and Special Programs Administration, United States Department of Transportation, Washington, DC 20590. For records collected by the Office of Pipeline Safety, RSPA, pursuant to 49 CFR 191.9, 191.15, 195.54, or 195.58: Information Resources Manager, Office of Pipeline Safety, DPS-21, Research and Special Programs Administration, United States Department of Transportation, Washington, DC 20590.

Notification procedure:

Inquiries should be directed to the appropriate system manager at the given address.

Record access procedures:

Contact the appropriate system manager at the given address for information on procedures for gaining access to records.

Contesting record procedures:

Same as “Record access procedures.”

Record source categories:

Information in this system of records is provided by individuals acting on behalf of the carriers that experience releases of hazardous materials during transportation (including transportation by pipeline).

Exemptions claimed for the system:

None.

DOT/RSPA 11

System name:

Hazardous Materials Information Requests System.

Security Classification:

Unclassified, Sensitive.

System location:

United States Department of Transportation, Research and Special Programs Administration, 400 Seventh Street, SW., Washington, DC 20590; United States Department of Transportation, The John A. Volpe National Transportation Systems Center, Kendall Square, Cambridge, MA 02142.

Categories of individuals covered by the system:

Individuals included in the system are those requesting information from the Hazardous Materials Information Systems, HMIS, or requesting the Research and Special Programs Administration, RSPA, publication, North American Emergency Response Guidebook.

Categories of records in the system:

Records of requests for information from governmental, commercial, or public media entities, or from private citizens.

Authority for maintenance of the system:

49 CFR Parts 191.9 through 191.27 and 195.54, 195.55.

Purpose(s):

To provide written reports for hazardous liquid and natural gas pipeline releases, and annual reports for natural gas pipeline operator total mileage and description of operator's system.

Routine uses of records maintained in the system, including categories of users and the purposes of such uses:

To respond to requests for information maintained on the hazardous Materials Information System; to control the handling of such responses; and to provide statistical information on the offices' responsibility for responding to such requests. To disseminate information concerning the availability of the North American Emergency Response Guidebook or revisions to it to interested parties in order to ensure that users of the Guidebook have the most current available guidance information. The general routine uses in the prefatory statement apply to these records.

Policies and practices for storing, retrieving, accessing, retaining, and disposing of records in the system: Storage:

These records are maintained on magnetic disk. Duplicate paper copies of recent reports are retained by RSPA offices in file folders.

Retrievability:

Computer records are retrievable by all entered fields including the names of individuals included in the record. Paper copies are not retrievable by individual name or other personal identifier except through use of the search capabilities of the computer records.

Safeguards:

Access to all computer files is controlled through user-name/password access procedures, which limit access to the files to authorized agency personnel and to contract personnel whose duties directly involve the creation and use of these files. The computer on which data is recorded is maintained in an access-controlled room in an access-controlled building. Paper copies are stored in a room locked during non-duty hours.

Retention and disposal:

Records are retained permanently on magnetic disk or tape. Paper copies are retained according to need in a room locked during non-duty hours, and disposed of as appropriate.

System manager(s) and address:

For records maintained by the Office of Hazardous Materials Transportation, RSPA: Information Systems Manager, Office of Hazardous Materials Transportation, DHM-63, Research and Special Programs Administration, United States Department of Transportation, Washington, DC 20590.

For records maintained by the Office of Pipeline Safety, RSPA: Information Resources Manager, Office of Pipeline Safety, DPS-21, Research and Special Programs Administration, United States Department of Transportation, Washington, DC 20590.

Notification procedure:

Inquiries should be directed to the appropriate system manager at the given address.

Record access procedures:

Contact the appropriate system manager at the given address for information on procedures for gaining access to records.

Contesting record procedures:

Same as record access procedures.

Record source categories:

Information in this system of records is provided by individuals, companies, and other entities requesting information from the HMIS or copies of the Emergency Response Guidebook.

Exemptions claimed for the system:

None.

DOT/SLS 151

System name:

Claimants Under Federal Tort Claims Act.

Security classification:

None.

System location:

Office of the Chief Counsel, Saint Lawrence Seaway Development Corporation, 400 Seventh Street, SW., Room 5424, Washington, DC 20590.

Categories of individuals covered by the system:

All individuals presenting claims for damages to personal property, or personal injuries, or death resulting in connection with Corporation activities, other than claims by Federal Government employees under Federal Employees' Compensation Act (5 U.S.C. 8102).

Categories of records in the system:

Claim documents on which are recorded name, address, age and marital status of claimants and details of claims, documented evidence relevant to the claims provided by claimants, and relevant, internal Corporation investigation documents.

Authority for maintenance of the system:

5 U.S.C. 301; 28 U.S.C. 2675 and 33 U.S.C. 5984(a)(4).

Purpose(s):

Information will be used in evaluating claims. Routine uses of records maintained in the system, including categories of users and the purposes of such uses:

Used by Chief Counsel and other Federal government officials to determine allowability of claims. See Prefatory Statement of General Routine Uses.

Disclosure to consumer reporting agencies:

None.

Policies and practices for storing, retrieving, accessing, retaining, and disposing of records in the system:

Storage:

File folders.

Retrievability:

Records are retrieved by name.

Safeguards:

Records are kept in locked file cabinets and are accessible only to the Chief Counsel and persons authorized by him.

Retention and disposal:

Records are retained indefinitely since they are not extensive and are used for reference.

System manager(s) and address:

Chief Counsel, Saint Lawrence Seaway Development Corporation, 400 Seventh Street, SW., Room 5424, Washington, DC 20590.

Notification procedures:

An individual may inquire, in writing, to the system manager.

Record access procedures:

An individual may gain access to his/her records by written request to:

Chief Counsel, Saint Lawrence Seaway Development Corporation, PO Box 44090, Washington, DC 20026-4090.

Contesting record procedures:

Contest of these records will be directed to the following: Director, Office of Finance, Saint Lawrence Seaway Development Corporation, PO Box 520, Massena, NY 13662-0520.

Record source categories:

Information is obtained directly from claimants on Standard Form 95 and supporting documentation provided by claimants and relevant, internal Corporation investigation documents.

Exemptions claimed for the system:

None.

DOT/SLS 152

System name:

Data Automation Program Records.

Security classification:

Unclassified, sensitive.

System location:

Saint Lawrence Seaway Development Corporation, Office of Finance, PO Box 520, 180 Andrews Street, Massena, N.Y. 13662-0520.

Categories of individuals covered by the system:

Employees and consultants.

Categories of records in the system:

Payroll and leave records, work measurement records, and travel vouchers.

Authority for maintenance of the system:

5 U.S.C. 301, 44 U.S.C. 3101, 33 U.S.C. 984(a)(4).

Purpose(s):

This system integrates leave, payroll, work measurement, and travel Voucher records.

Routine uses of records maintained in the system, including categories of users and the purpose of such uses:

1. Payroll and voucher disbursement: GAO audits. 2. To the Office of Child Support Enforcement, Administration for Children and Families, Department of Health and Human Services Federal Parent Locator System, FPLS, and Federal Tax Offset System for use in locating individuals and identifying their income sources to establish paternity, Establish and modify orders of support and for enforcement action. 3. To the Office of Child Support Enforcement for release to the Social Security Administration for verifying social security Numbers in connection with the operation of the FPLS by the Office of Child Support Enforcement. 4. To Office of Child Support Enforcement for release to the Department of the Treasury for purposes of administering the Earned Income Tax Credit Program (Section 32, Internal Revenue Code of 1986) and verifying a claim with respect to employment in a tax return. 5. See Prefatory Statement of General Routine Uses.

Disclosure to consumer reporting agencies:

Disclosures pursuant to 5 U.S.C. 552a(b)(12). Disclosures may be made from this system to ‘consumer reporting agencies’ (collecting on Behalf of the United States Government) as defined in the Fair Credit Reporting Act (15 U.S.C. 1681a(f)) or the Federal Claims Collection Act of 1982 (31 U.S.C. 3701(a)(3)).

Policies and practices for storing, retrieving, accessing, retaining, and disposing of records in the system:

Storage:

Magnetic tape reels, diskettes, microfilm cassettes and supporting documents.

Retrievability:

Records are retrieved by name and social security number.

Safeguards:

Records are kept in locked file cabinets or locked rooms accessible to Appropriate supervisor, his/her immediate assistants and secretary.

Retention and disposal:

Records are retained in accordance with General Accounting Office and National Archives and Records Administration requirements. System manager(s) and address: Director of Finance, Saint Lawrence Seaway Development Corporation, PO Box 520, 180 Andrews Street, Massena, N.Y. 13662-0520.

Notification procedure:

Individuals may inquire, in writing, to the System manager.

Record access procedures:

Individuals may gain access to his/her records by submitting a written request to the system manager.

Contesting record procedures:

Contest of these records should be directed to the system manager.

Record source categories:

Information contained in this system would come from Saint Lawrence Seaway Development Corporation records.

Exemptions claimed for the system:

None.

DOT/TSC 700

System name:

Automated Management Information System.

System location:

Department of Transportation, DOT, Volpe National Transportation Systems Center, Volpe, Computer Center, DTS-23, 55 Broadway, Cambridge, MA 02142-1093.

Security classification:

Unclassified, sensitive.

Categories of individuals covered by the system:

All Volpe employees.

Categories of records in the system:

Contains job related information associated with the following applications: ADP services, property management, rocurement requests, contract information, travel information, program and related job plans, space utilization, and other pertinent management information.

Authority for maintenance of the system:

49 U.S.C 328, Volpe Center Working Capital Fund; 5 U.S.C 301.

Purpose(s):

For computer facility planning; budget analysis; procurement tracking; contract administration; property control.

Routine uses of records maintained in the system, including categories of users and the purposes of such uses:

The general purposes of this system are intended for internal management and control, including: Computer facility planning. ADP cost distribution. Budget and planning analysis. Procurement tracking. Procurement statistics and analysis. Information of travel incurred. Contract administration. Control of property. Control of building space. See Prefatory Statement of General Routine Uses.

Disclosure to consumer reporting agencies:

None.

Policies and practices for storing, retrieving, accessing, retaining, and disposing of records in the system:

Storage:

Magnetic tape and disk.

Retrievability:

Indexed by employees name, project number, procurement number, contract number, travel number, work plan budget number.

Safeguards:

Access to the systems and their associated data bank is available through the utilization of the unique project and programmer numbers, and the passwords known only by the authorized custodians. Access to reports is controlled by the Reports Distribution function of the Administrative Directorate on a need-to-know basis. For normal working requirements, the reports are distributed to the functional areas responsible for the data generation. Access to the computer room and its associated areas where data and reports are stored is delineated in the Volpe ADP Facility Document on Safeguards and Controls.

Retention and disposal:

The systems are permanent unless replaced. The data banks, for the most part, are related to fiscal year activity.

Subsequent to the fiscal year, the data banks become either part of the history file of the system or are maintained by themselves for historical reasons.

Data records are deleted from the data banks on an as-required basis, and subsequently are eliminated from associated reports.

Reports used as daily working papers are retained only until updated reports are produced and then the old reports are discarded. Official closing reports corresponding to month-end and fiscal-year-end periods are retained for longer periods and are not subject to any disposal procedure.

System manager(s) and address:

Chief, Computer Center, DTS-23, Department of Transportation, Volpe National Transportation Systems Center, 55 Broadway, Cambridge, MA 02142-1093.

Notification procedures:

Information may be obtained from the System manager.

Record access procedures:

Requests from individuals should be addressed to the System manager. An individual may gain access to his/her data by written request.

Contesting record procedures:

Contest of this data will be made to the System Manager. If administrative resolvement is not satisfactory to the individual, appeals may be filed in writing with the Secretary of Transportation addressed to the General Counsel as follows: Department of Transportation, Office of the Secretary, Office of the General Counsel, 400 7th Street, SW., Washington, DC 20590.

Record source categories:

Employee, Personnel Office, Communications Office, Security Office.

Exemptions claimed for the system:

None.

DOT/TSC 702

System Name:

Legal Counsel Information Files.

Security classification:

Unclassified, sensitive.

System Location:

Department of Transportation, DOT, Volpe National Transportation Systems Center, Volpe, Office of Chief Counsel, DTS-14, 55 Broadway, Cambridge, MA 02142-1093.

Categories of individuals covered by the system:

Present and former Volpe employees.

Categories of records in the system:

Counseling records relating to Standards of Conduct, post-employment restrictions, or other legal matters involving individual employee(s); individual claims; grievances, personnel actions and related litigation; and employee confidential financial disclosure reports.

Authority for maintenance of the system:

49 U.S.C. 328, Volpe Center Working Capital Fund; 28 U.S.C. 1346; 28 U.S.C. ch. 171; 5 U.S.C. ch. 77, 5 U.S.C. ch. 71; 42 U.S.C. 2000e-16; 29 CFR part 1614; 5 U.S.C. App. 4.

Purpose(s):

To promote compliance with Standards of Conduct, conflict of interest, and other laws, and to enable legal counsel render consistent legal advice.

Routine uses of records maintained in the system, including categories of users and the purposes of such uses:

The records and the information they contain may be used for internal management and control, to promote compliance with Standards of Conduct, conflict of interest, and other laws, and to enable legal counsel to render consistent advice in legal matters.

See Prefatory Statement of General Routine Uses.

Disclosure to consumer reporting agencies:

None.

Policies and practices for storing, retrieving, accessing, retaining, and disposing of records in the system:

Storage:

Records are maintained in paper record folders.

Retrievability:

Indexed by employee's name and/or by subject matter.

Safeguards:

Records are maintained in locked file cabinets and secure safe.

Retention and disposal:

As prescribed in applicable record retention schedules.

System manager and address:

Chief Counsel, DTS-14, Volpe National Transportation Systems Center, Research and Special Programs Administration, United States Department of Transportation, 55 Broadway, Cambridge, MA 02142-1093.

Notification procedures:

Information may be obtained from the System manager.

Record access procedures:

Requests from individuals should be addressed to the System manager.

An individual may gain access to his/her records by written request.

Contesting record procedures:

An individual may seek to contest information contained in his/her records by written request made to the System Manager. If administrative resolution is not satisfactory to the individual, appeals may be filed in writing with the Secretary of Transportation addressed to the General Counsel as follows: Department of Transportation, Office of the Secretary, Office of the General Counsel, 400 7th Street, SW., Washington, DC 20590.

Record source categories:

Information contained in this system of records is provided by employees, Supervisors, Legal Office, Personnel Office and various Federal administrative agencies.

Exemptions claimed for the system:

None.

DOT/TSC 703

System Name:

Occupational Safety and Health Reporting System.

Security classification:

Unclassified, sensitive.

System Location:

Department of Transportation, DOT, Volpe National Transportation Systems Center, Volpe, Human Resources Management Division, DTS-84, 55 Broadway, Cambridge, MA 02142-1093.

Categories of individuals covered by the system:

Volpe employees, in-house contractor personnel and visitors who have suffered work-related occupational illnesses, injuries or are involved in Government property accidents.

Categories of records in the system:

Federal Occupational Injuries and Illnesses Survey form. DOT Accident/Injury Reports, DOT forms 3902.1 through 8. Department of Labor, Office of Workers Compensation Programs, OWCP, for payment of medical bills and worker compensation, as applicable.

Authority for maintenance of the system:

49 U.S.C. 328, Volpe Center Working Capital Fund; Executive Order 12196, Occupational Safety and Health Program for Federal Employees, dated 2/27/80; 5 U.S.C. 7902.

Purpose(s):

For accident prevention.

Routine uses of records maintained in the system, including categories of users and the purposes of such uses:

The general purposes of these records are intended for internal management and control, and also for accident prevention.

The routine uses of the Department of Labor forms are for (1) submission to doctors and medical institutions rendering services to individuals and (2) to the Office of Workers Compensation Programs, Department of Labor, for payment of medical bills and worker compensation, applicable. See Prefatory Statement of General Routine Uses.

Disclosure to consumer reporting agencies:

None.

Policies and practices for storing, retrieving, accessing, retaining, and disposing of records in the system:

Storage:

Forms, computerized database, and other paper records.

Retrievability:

Indexed by individual's name.

Safeguards:

Records are maintained in locked file cabinets and folders are stamped For Official Accident Prevention Use Only.

Retention and disposal:

Records are retained for five years and then destroyed by shredding.

System manager and address:

Chief, Engineering and Operations Branch, DTS-874, Department of Transportation, Volpe National Transportation Systems Center, 55 Broadway, Cambridge, MA 02142-1093.

Notification procedures:

Information may be obtained from the System manager.

Record access procedures:

Requests from individuals should be addressed to the System manager. An individual may gain access to his/her records by written request.

Contesting record procedures:

Contest of this data will be made to the System Manager. If administrative resolution is not satisfactory to the individual, appeals may be filed in writing with the Secretary of Transportation addressed to the General Counsel as follows: Department of Transportation, Office of the Secretary, Office of the General Counsel, 400 7th Street, SW., Washington, DC 20590.

Record source categories:

Documents provided by the individual concerned and immediate supervisor.

Exemptions claimed for the system:

None.

DOT/TSC 704

System Name:

Stand-By Personnel Information.

Security classification:

Unclassified, sensitive.

System Location:

Department of Transportation, DOT, Volpe National Transportation Systems Center, Volpe, Financial Management Division, Budget Branch, DTS-821, 55 Broadway, Cambridge, MA 02142-1093.

Categories of individuals covered by the system:

Volpe technical directorate personnel currently not fully assigned to authorized projects.

Categories of records in the system:

Employee work project status.

Authority for maintenance of the system:

49 U.S.C. 328, Volpe Center Working Capital Fund; 5 U.S.C. 301.

Purpose(s):

For administrative reference and scheduling of projects, budgeting, and overhead classification.

Routine uses of records maintained in the system, including categories of users and the purposes of such uses:

The general purposes of these files are intended for internal management and control, including administrative reference and scheduling of work projects, budgeting and overhead classification. See Prefatory Statement of General Routine Uses.

Disclosure to consumer reporting agencies:

None.

Policies and practices for storing, retrieving, accessing, retaining, and disposing of records in the system:

Storage:

Electronic Files in Excel format.

Retrievability:

Stored as spreadsheet identified by pay period ending date.

Safeguards:

Records are maintained in password protected files with access limited to Budget Branch PCs.

Retention and disposal:

Files are maintained for one (1) additional year following completion of current fiscal year. Files are then deleted.

System manager(s) and address:

Chief, Budget Branch, DTS-821, Department of Transportation, Volpe National Transportation Systems Center, 55 Broadway, Cambridge, MA 02142-1093.

Notification procedures:

Information may be obtained from the System manager.

Record access procedures:

Requests from individuals should be addressed to the System manager. An individual may gain access to his/her records by written request.

Contesting record procedures:

Contest of this data will be made to the System manager. If administrative resolution is not satisfactory to the individual, appeals may be filed in writing with the Secretary of Transportation addressed to the General Counsel as follows: Department of Transportation, Office of the Secretary, Office of the General Counsel, 400 7th Street, SW., Washington, DC 20590.

Record source categories:

Supervisor.

Exemptions claimed for the system:

None.

DOT/TSC 707

System name:

Labor Distribution System.

Security classification:

Unclassified, sensitive.

System location:

Department of Transportation, DOT, Volpe National Transportation Systems Center (Volpe), Financial Management Division, Accounting Branch, DTS-823, 55 Broadway, Cambridge, MA 02142-1093.

Categories of individuals covered by the system:

All Volpe employees.

Categories of records in the system:

Contains information delineating the time and charges, including fringe and project overhead, that Volpe employees worked. The main association of the time and charges is with employee job assignment.

Authority for maintenance of the system:

49 U.S.C. 328, Volpe Center Working Capital Fund; 5 U.S.C. 301.

Purpose(s):

For administrative reference, cost management, and labor assignments and expenditures.

Routine uses of records maintained in the system, including categories of users and the purposes of such uses:

The general purposes of this system are intended for internal management and control, including:

Administrative reference.

Cost management.

Labor assignments and expenditures as they relate to both the project and the employee.

Reconciliation of Payroll and Labor system data.

See Prefatory Statement of General Routine Uses.

Disclosure to consumer reporting agencies:

Disclosures pursuant to 5 U.S.C. 552a(b) (12): Disclosures may be made from this system to consumer reporting agencies (collecting on behalf of the United States Govt.) as defined in the Fair Credit Reporting Act (15 U.S.C. 1681a(f)) or the Federal Claims Collection Act of 1982 (31 USC 3701 (a) (3)).

Policies and practices for storing, retrieving, accessing, retaining, and disposing of records in the system:

Storage:

Excel spreadsheets, magnetic tape and disk.

Retrievability:

System data is indexed by employee's number (Social Security Number) and Work Plan Budget, WPB, number within Project Plan Agreement, PPA, number.

Labor Distribution Forms (Excel spreadsheets) are indexed by Volpe Center organization code (DTS #) and SSN.

Safeguards:

Access to the system and its associated database is available through the utilization of the unique project and programmer numbers, and the passwords known only by the authorized custodians. Access to reports is controlled by the Reports Distribution function of the Administrative Directorate on a need-to-know basis. For normal working requirements, the reports are distributed to the functional areas responsible for the data generation. Month-end management reports do not contain SSN data.

Access to the computer room and its associated areas where data and reports are stored is delineated in the Volpe ADP Facility Document on Safeguards and Controls.

Retention and disposal:

The system is permanent unless replaced. The database is related to fiscal year activity. Subsequent to the fiscal year, the database becomes part of the system's history file. Data records are deleted from the database on an as required basis, and subsequently are eliminated from associated reports. Any record deleted from database must have zero dollars associated with it and must be authorized by System Manager, with the reason documented in writing. Reports used as daily working papers are retained only until updated reports are produced and then the old reports are discarded. All reports containing SSN data are shredded. Official record copy reports are subject to retirement in accordance with General Records Schedules, GRS.

System manager(s) and address:

Chief, Accounting Branch, DTS-823, Department of Transportation, Volpe National Transportation Systems Center, 55 Broadway, Cambridge, MA 02142-1093.

Notification procedures:

Information may be obtained through the Chief, Accounting Branch, DTS-823 at the address under System Location.

Record access procedures:

Requests from individuals should be addressed to the System manager.

Contesting record procedures:

An individual may gain access to his/her data by written request. Contest of this data will be made to the System manager. If administrative resolution is not satisfactory to the individual, appeals may be filed in writing with the Secretary of Transportation addressed to the General Counsel as follows:

Department of Transportation, Office of the Secretary, Office of the General Counsel, 400 7th Street, SW., Washington, DC 20590.

Record source categories:

Volpe form entitled Labor Distribution Form.

Exemptions claimed for this system:

None.

DOT/TSC 712

System name:

Automated Personnel/Communications/Security System.

Security classification:

Unclassified, sensitive.

System location:

Department of Transportation, DOT, Volpe National Transportation Systems Center (Volpe), Computer Center, DTS-23, 55 Broadway, Cambridge, MA 02142-1093

Categories of individuals covered by the system:

All Volpe employees and tenants from other government agencies and on-site contractors.

Categories of records in the system:

Contains the pertinent information for activities involved with Personnel, Communications, and Security. Contains photographs of Volpe Center employees.

Contains information about an individual relating to:

Social security number.

Salary.

Birth date.

Veteran preference.

Tenure.

Handicap.

Grade.

Marital status.

Service computation date.

Home address and telephone number.

Volpe location including building and telephone number.

Security clearance level and date granted.

CSC title and classification code.

Competitive level.

Parking info—vehicle registration and description.

Authority for maintenance of the system:

49 U.S.C. 328, Volpe Center Working Capital Fund; 5 U.S.C. 301.

Purpose(s):

For administrative reference, and as a source for management information for producing summary statistics and registers in support of personnel, communications, and security functions.

Routine uses of records maintained in the system, including categories of users and the purposes of such uses:

The general purposes of this system are intended for internal management and control, including:

Administrative reference.

Source for management information for producing summary statistics and registers in support of the Personnel, Communications and Security functions.

Source for Volpe Center Intranet information.

See Prefatory Statement of General Routine Uses.

Disclosure to consumer reporting agencies:

Disclosures pursuant to 5 U.S.C. 552a(b) (12): Disclosures may be made from this systems to consumer reporting agencies (collecting on behalf of the United States Govt.) as defined in the Fair Credit Reporting Act (15 U.S.C. 1681a(f)) or the Federal Claims Collection Act of 1982 (31 U.S.C. 3701 (a) (3)).

Policies and practices for storing, retrieving, accessing, retaining, and disposing of records in the system:

Storage:

Magnetic tape and disk.

Hard copy files (letter size and 5 x 8 cards).

Volpe Center Intranet.

Retrievability:

Indexed by employee's number, employee's name.

Safeguards:

Access to the systems and their associated databases and files is available through the utilization of the unique project and programmer numbers, and the passwords known only by the authorized custodians.

Access to reports is controlled by the Reports Distribution function of the Administrative Directorate on a need-to-know basis. For normal working requirements, the reports are distributed to the functional areas responsible for the data generation. Access to the computer room and its associated areas where data and reports are stored is delineated in the Volpe ADP Facility Document on Safeguards and Controls.

Retention and disposal:

The systems are permanent unless replaced. The databases are related to both fiscal year and calendar year activity. Subsequent to the appropriate period, the databases become either part of the history file of the system or are maintained by themselves for historical reasons. Data records are deleted from the databases on an as-required basis, and subsequently are eliminated from associated reports. Reports used as daily working papers are retained only until updated reports are produced and then the old reports are discarded. Official closing reports corresponding to month-end, fiscal-year-end and calendar year-end periods are retained for longer periods and are not subject to any rigid disposal procedure.

System manager(s) and address:

Chief, Administrative Services Branch, DTS-872, Department of Transportation, Volpe National Transportation Systems Center, 55 Broadway, Cambridge, MA 02142-1093.

Notification procedures:

Information may be obtained through the Chief, Administrative Services Branch from the: Department of Transportation, Volpe National Transportation Systems Center, Chief, Computer Center, DTS-23, 55 Broadway, Cambridge, MA 02142-1093.

Record access procedures:

Requests from individuals should be addressed to the System manager.

Contesting record procedures:

An individual may gain access to his/her records by written request. Contest of this data will be made to the System Manager. If administrative resolution is not satisfactory to the individual, appeals may be filed in writing with the Secretary of Transportation addressed to the General Counsel as follows: Department of Transportation, Office of the Secretary, Office of the General Counsel, 400 7th Street, SW., Washington, DC 20590.

Record source categories:

Employee, Personnel Office, Communications Office, Security Office.

Exemptions claimed for the system:

None.

DOT/TSC 714

System Name:

Health Unit Employee Medical Records.

Security classification:

Unclassified, sensitive.

System Location:

Department of Transportation, DOT, Volpe National Transportation Systems Center, Volpe, Human Resources Management Division, DTS-84, Health Unit/Building 1, 9th Floor, 55 Broadway, Cambridge, MA 02142-1093.

Categories of individuals covered by the system:

Volpe employees, tenant organization employees, and support service contractor personnel.

Categories of records in the system:

Individual Health Record Cards.

Individual Health Record Case Files.

Register of Visits.

Laser Eye Tests.

Pre-employment Physical Examinations, Health Justification Placement Records.

Authority for maintenance of the system:

49 U.S.C. 328, Volpe Center Working Capital Fund; Executive Order 12196, Occupational Safety and Health Program for Federal Employees, dated 2/27/80; 5 U.S.C. 7901.

Purpose(s):

To maintain a medical history of any person who receives services from the Health Unit.

Routine uses of records maintained in the system, including categories of users and the purposes of such uses:

The general purposes of these Federal and tenant records are to maintain a medical history of any Volpe employee, including contractor personnel, who receives services from the Health Unit; ensure applicants for licenses to drive Government vehicles meet physical requirements; and lasers are not adversely affecting employee's eyes. The routine uses of these records are to respond to requests from other Doctors, Universities and Insurance Companies, and to submit medical reports to the Department of Labor, Office of Employees Compensation, to meet requirements of the Occupational Safety and Health Act of 1970 and DOT/Volpe Safety Program. See Prefatory Statement of General Routine Uses.

Disclosure to consumer reporting agencies:

None.

Policies and practices for storing, retrieving, accessing, retaining, and disposing of records in the system:

Storage:

Cards, forms, logs and other paper records.

Retrievability:

Indexed by employee's name and social security number.

Safeguards:

Records are maintained in locked file cabinets and room secured when no one is there. Information from records is provided only with consent of employee.

Retention and disposal:

In accordance with GRS No.1: Individual Health Record Cards are maintained until separation and sent to St. Louis. Individual Health Record Case Files are maintained until separation. They are then sent to St. Louis. Registers of visits maintained until 2 years after last date in log or register. Upon termination of employment with Volpe, latest Laser Eye Tests and Government Driver's Tests records are combined with Health Record Case Files and disposed of as part of these files. Pre-employment Physical Examinations, Health Justification Placement Records, and Disability Retirement Examination become part of the official personnel folder, OPF, upon separation, and are transferred to the NPRS, St. Louis, MO, 30 days after separation, where they are disposed of in accordance with GRS. No. 1, Item 1.

System manager(s) and address:

Chief, Human Resources Management Division, DTS-84, Department of Transportation, Volpe National Transportation Systems Center, 55 Broadway, Cambridge, MA 02142-1093.

Notification procedures:

Information may be obtained through the Chief, Human Resources Management Division, from the resident physician or nurse, Volpe Health Unit.

Record access procedures:

Requests from individuals should be addressed to the System Manager.

Contesting record procedures:

An individual may gain access to his/her records by written request. Contest of this data will be made to the System Manager. If administrative resolution is not satisfactory to the individual, appeals may be filed in writing with the Secretary of Transportation addressed to the General Counsel as follows: Department of Transportation, Office of the Secretary, Office of the General Counsel, 400 7th Street, SW., Washington, DC 20590.

Record source categories:

Employee; Health Unit Doctor/Nurse; Volpe Safety Officer.

Exemptions claimed for the system:

None.

Deletions—system number/name | Reason for deleting
DOT/OST 006 (Confidential Statement of Employment and Financial Interests) | Covered under OGE/GOVT-2.
DOT/OST 008 (Departmental Advisory Committee Files, DOT/OST) | Not retrievable by name or personal identifier.
DOT/OST 011 (Discrimination Complaint Investigative Files) | Covered under EEOC/GOVT-1.
DOT/OST 013 (Employee Management Convenience Files) | Covered under OPM/GOVT-1 and OPM/GOVT-2.
DOT/OST 014 (Employment Applications Files) | Covered under OPM/GOVT-5.
DOT/OST 028 (Personnel Convenience Files) | Covered under OPM/GOVT-1.
DOT/OST 043 (Telephone Directory and Locator System) | Covered under DOT/ALL 11.
DOT/OST 063 (Civil Rights Case Tracking System) | Covered under EEOC/GOVT-1.
DOT/OST 032 (Management Operating Records System) | Covered under OPM/GOVT-1 and GSA/GOVT-3.
DOT/ALL 002 (Safety Management Information System) | No longer maintained.
DOT/ALL 004 (Station Message Detail Recording) | Covered under DOT/ALL 011.
DOT/FAA 810 (Discrimination Complaint Files) | Covered under EEOC/GOVT-1.
DOT/FAA 814 (Equal Employment Opportunity Minority/Female Statistical Reporting System) | Covered under OPM/GOVT-7.
DOT/FAA 820 (Pending Legislation (Employee's) Private Relief & Public/Private Laws (Employee's) Private Relief | No longer maintained.
DOT/FAA 843 (World Home Address System) | No longer maintained.
DOT/FAA 839 (Printing Branch Distribution System) | FAA no longer maintains.
DOT/CG 561 (Port Safety Reporting System Individual Violation Histories) | No longer maintained.
DOT/CG 587 (Investigation of Marine Safety Laws or Regulations) | No longer maintained.
DOT/CG 516 (Coast Guard Military Discrimination Complaints System | No longer maintained.
DOT/CG 517 (Complaints of Discrimination System) | No longer maintained.
DOT/MARAD 007 (Litigation, Claims and Administrative Proceeding Records) | No longer maintained.
DOT/MARAD 019 (Non-Attorney Practitioner Applications and Section 807 Reports) | No longer maintained.
DOT/NHTSA 403 (Active Contract Run) | No longer maintained.
DOT/NHTSA 423 (Vendor Edit Table Listing (employees)) | Covered under GSA/GOVT-4.
DOT/NHTSA 424 (Offerors Mailing List) | No longer maintained.
DOT/NHTSA 432 (EEO Counseling Program and Discrimination Complaint File) | Covered by EEOC/GOVT-1.
DOT/NHTSA 435 (Investigations and Security) | No longer maintained.
DOT/NHTSA 451 (Medical Records and Research Data) | Covered under OPM/GOVT-10.
DOT/NHTSA 455 (Debt Complaint File) | No longer maintained.
DOT/NHTSA 457 (Reference Files B Medical Records) | Covered under OPM/GOVT 10.
DOT/NHTSA 458 (Investigations of Alleged Misconduct or Conflict of Interest) | Covered under DOT/OST 100.
DOT/NHTSA 466 (NHTSA Employee Travel Advance and Expense File) | Covered under GSA/GOVT-3.
DOT/NHTSA 471 (National Driver Advisory Committee B Membership/Nominee File) | No longer maintained.
DOT/FTA 175 (Personnel Convenience Files) | Covered under OPM/GOVT-1 and OPM/GOVT-2.
DOT/FTA 178 (Minority Recruitment File) | Covered under OPM/GOVT-5.
DOT/FTA 180 (Occupational Safety and Health Accident Reporting System) | Covered under DOL/GOVT-1.
DOT/FTA 190 (Employee Travel Records) | Covered under GSA/GOVT-4.
DOT/FTA 191 (Travel Advance File) | Covered under GSA/GOVT-3.
DOT/FTA 195 (Confidential Statements of Employment and Financial Interests) | Covered under OGE/GOVT-2.
DOT/FTA 196 (Office of Technical Assistance and Safety (TTS) Mailing List | No longer maintained.
DOT/FRA 104 (Statement of Employment and Financial Interest) | Covered under OGE/GOVT-2.
DOT/FRA 105 (Employee Travel Records) | Covered under GSA/GOVT-4.
DOT/FRA 112 (Personnel & Pay Management Information System) | Covered under DOT/ALL-7, DOT/ALL-11, and OPM/GOVT-1.
DOT/FRA 113 (Regional Personnel Convenience Files) | Covered under OPM/GOVT-1 and OPM/GOVT-2.
DOT/FRA 114 (Transportation Test Center Employee Service Record File) | No longer maintained.
DOT/FRA 115 (Travel Advance Records) | Covered under GSA/GOVT-4.
DOT/FRA 132 (Office of Safety Individual Enforcement Case File) | Covered under DOT/FRA-130.
DOT/TSC 701 (Employee Travel Records) | Covered under GSA/GOVT-4.
DOT/TSC 708 (Combined Federal Campaign Information) | Covered under DOT/ALL-11.
DOT/TSC 709 (Minority Information Files) | Covered under OPM/GOVT-1, OPM/GOVT-2 and OPM/GOVT-5.
DOT/TSC 715 (Bi-Weekly Personnel Status Report) | Covered under OPM/GOVT-1.
DOT/RSPA-003 (Security Management Records) | Covered under DOT/OST 035.
Routine Use (DOT General Routine Use #8) | Covered under Exemption (b)(1) of the Privacy Act.

Dated: March 31, 2000.
Vanester M. Williams,
Privacy Act Coordinator, Department of Transportation.

[FR Doc. 00-8505 Filed 4-10-00; 8:45 am]

BILLING CODE 4910-62-P